DEPARTMENT OF HOUSING AND URBAN DEVELOPMENT

[Docket Nos. FR-4950-FA-15, FR-5030-FA-32, FR-5100-FA-14]

Announcement of Funding Awards for the Continuum of Care Program Fiscal Years 2005, 2006 and 2007

AGENCY: Office of the Assistant Secretary for Community Planning and Development, HUD.

ACTION: Notice of funding awards.

SUMMARY: In accordance with section 102(a)(4)(C) of the Department of Housing and Urban Development Reform Act of 1989, this announcement notifies the public of past funding decisions made by the Department in a competition for funding under the 2005, 2006 and 2007 Notices of Funding Availability (NOFAs) for the Homeless Assistance Grants program. This announcement contains the names of the awardees and the amounts of the awards made available. Federal Register notices on these actions were not published at the time; however, the public was advised of these grant selections since they were posted on HUD's Web site. The postings contained listings of the selected applicants including descriptions of the projects.

FOR FURTHER INFORMATION CONTACT: Ann M. Oliva, Director, Office of Special Needs Assistance Programs, Office of Community Planning and Development, 451 Seventh Street, SW., Room 7262, Washington, DC 20410-7000; telephone (202) 708-4300 (this is not a toll-free number). Hearing- and speech-impaired persons may access this number via TTY by calling the Federal Relay Service toll-free at (800) 877-8339. For general information on this and other HUD programs, call Community Connections at (800) 998-9999 or visit the HUD Web site at http://www.hud.gov.

SUPPLEMENTARY INFORMATION: HUD's Homeless Assistance Grants provide Federal support to one of the nation's most vulnerable populations while working to reduce overall homelessness and end chronic homelessness. Competitive Homeless Assistance Grants include the Supportive Housing Program, Shelter Plus Care, and the Section 8 Moderate Rehabilitation Single Room Occupancy Program, which are distributed through a competitive process called the Continuum of Care (CoC) in which Federal funding is driven by local decision-making. The CoC system is a community-based process that provides a coordinated housing and service delivery system that enables communities to plan for and provide a comprehensive response to homeless individuals and families. It is an inclusive process that is coordinated with non-profit organizations, State and local government agencies, service providers, private foundations, faith-based organizations, law enforcement, local businesses, and homeless or formerly homeless persons.

In 2005, HUD awarded 4,954 competitive Homeless Assistance Grants totaling $1,181,911,241. In 2006, 5,288 grants were awarded totaling $1,204,857,682. In 2007, 5,911 grants were awarded totaling $1,327,573,959. This notice provides details regarding the funded organizations and fulfills a required grants management action. All applications were reviewed and rated on the basis of selections criteria contained in each corresponding NOFA.

The competition was announced in the Federal Register on March 21, 2005 (70 FR 14273) for the Fiscal Year 2005 competition, March 8, 2006 (71 FR 12055) for the Fiscal Year 2006 competition and March 13, 2007 (72 FR 11742) for the Fiscal Year 2007 competition.

In accordance with section 102(a)(4)(C) of the Department of Housing and Urban Development Reform Act of 1989 (103 Stat. 1987, 42 U.S.C. 3545), the Department is publishing the details of these funding grant announcements in Appendix A.

Dated: September 12, 2008.
Susan D. Peppler,
Assistant Secretary for Community Planning and Development.

Appendix A
Recipient | State | Amount
Fiscal Year 2005 Funding Awards for the Continuum of Care Program
Alaskan AIDS Assistance Association | AK | $103,425
Anchorage Community Mental Health Services, Inc | AK | 850,026
Anchorage Housing Initiatives, Inc | AK | 81,886
Behavioral Health Services of Mat-Su, Inc | AK | 175,304
Covenant House Alaska | AK | 245,729
Interior Alaska Center for Non-Violent Living | AK | 32,824
Municipality of Anchorage | AK | 296,714
Rural Alaska Community Action Program | AK | 498,642
State of Alaska | AK | 230,220
The LeeShore Center | AK | 73,791
Yukon-Kuskokwim Health Corporation | AK | 50,966
AIDS Alabama, Inc | AL | 594,766
Aletheia House | AL | 423,563
Birmingham Health Care, Inc | AL | 626,320
City of Huntsville | AL | 248,520
First Light, Inc | AL | 82,379
Homeless Coalition of the Gulf Coast, Inc | AL | 2,327,641
Jefferson County Housing Authority | AL | 3,131,520
Jefferson-Blount-St. Clair Mental Health/Mental Retardation Authority | AL | 243,791
Lighthouse Counseling Center, Inc | AL | 372,520
Mental Health Center North Central Alabama, Inc | AL | 258,839
Mid-Alabama Chapter of the Alabama Coalition of Citizens with Disabilities | AL | 26,460
Montgomery Area Family Violence Program, Inc | AL | 303,259
Montgomery Area Mental Health Authority | AL | 527,827
Pathways | AL | 128,182
Safeplace, Inc | AL | 520,531
State of Alabama | AL | 213,204
The Cooperative Downtown Ministries | AL | 552,708
The Housing Authority of the City of Huntsville, Alabama | AL | 237,720
The Salvation Army A Georgia Corporation | AL | 78,800
The Salvation Army, A Georgia Corporation | AL | 159,973
The Tuscaloosa Housing Authority | AL | 117,300
The Volunteer & Information Center Inc | AL | 70,327
University of Alabama at Birmingham | AL | 480,944
YWCA of Central Alabama | AL | 368,165
Arkansas Department of Human Services | AR | 1,242,168
Arkansas Supportive Housing Network, Inc | AR | 647,081
Bethlehem House, Inc | AR | 21,600
Black Community Developers, Inc | AR | 80,611
Counseling Associates, Inc | AR | 200,000
Health Resources of Arkansas, Inc | AR | 48,866
Housing Authority of the City of Fayetteville, AR | AR | 172,800
Little Rock Community Mental Health Center | AR | 81,529
Serenity, Inc | AR | 117,564
Seven Hills Homeless Center | AR | 151,040
Women and Children First | AR | 90,390
Arizona Behavioral Health Corporation (ABC) | AZ | 7,289,193
Arizona Department of Housing | AZ | 8,450,930
Chicanos Por La Causa | AZ | 101,737
Chrysalis Shelter for Victims of Domestic Violence Inc | AZ | 24,269
City of Phoenix Community Services | AZ | 3,531,965
City of Tucson | AZ | 1,601,194
CODAC Behavioral Health Services, Inc | AZ | 595,666
Community Bridges, Inc | AZ | 344,610
Community Information & Referral, Inc | AZ | 400,921
Information & Referral Services | AZ | 181,089
La Frontera Center, Inc | AZ | 422,709
Mesa Community Action Network, Inc | AZ | 58,878
Old Pueblo Community Foundation | AZ | 218,022
Pima County | AZ | 1,908,526
PREHAB of Arizona, Inc | AZ | 510,688
Primavera Foundation, Inc | AZ | 103,306
Save the Family Foundation of Arizona | AZ | 623,138
Sojourner Center | AZ | 417,763
Southern Arizona AIDS Foundation | AZ | 83,323
Southwest Behavioral Health Services, Inc | AZ | 205,977
The EXCEL Group | AZ | 133,488
The Salvation Army | AZ | 45,360
Travelers Aid Society of Tucson, Inc | AZ | 112,487
Tumbleweed Center for Youth Development | AZ | 214,429
UMOM New Day Centers | AZ | 267,710
United States Veterans Initiative | AZ | 496,557
Women in New Recovery | AZ | 46,862
YWCA of Maricopa County | AZ | 201,671
1736 Family Crisis Center | CA | 521,824
A Community of Friends | CA | 265,253
Affordable Housing Associates | CA | 36,665
Alliance Against Family Violence and Sexual Assault | CA | 80,647
American Family Housing | CA | 401,625
Antelope Valley Domestic Violence Council | CA | 143,912
Asian Pacific Women's Center, Inc | CA | 149,380
Beacon Housing, Inc | CA | 76,192
Berkeley Food and Housing Project | CA | 633,235
Bethany Services, dba, Bakersfield Homeless Center | CA | 269,408
Beyond Shelter | CA | 141,912
Bill Wilson Center | CA | 847,121
Bonita House, Inc | CA | 33,080
Bridge Focus, Inc | CA | 99,225
BUCKELEW PROGRAMS | CA | 563,586
Building Opportunities for Self-Sufficiency (BOSS) | CA | 2,099,720
California Council for Veterans Affairs, Inc | CA | 136,216
Catholic Charities | CA | 33,333
Catholic Charities CYO | CA | 398,604
Catholic Charities of Los Angeles, Inc | CA | 246,326
Center for Human Rights and Constitutional Law, Inc | CA | 134,944
Center for Human Services | CA | 230,984
Center Point, Inc | CA | 516,457
Central City Lutheran Mission | CA | 117,327
Charities Housing Development Corporation of Santa Clara County | CA | 96,793
Children's Services International | CA | 165,886
City and County of San Francisco | CA | 14,574,774
City of Berkeley | CA | 2,069,520
City of Davis | CA | 106,752
City of Fremont | CA | 269,790
City of Glendale, CA/Glendale Housing Authority | CA | 1,559,492
City of Long Beach | CA | 3,836,893
City of Oakland | CA | 2,329,732
City of Oceanside | CA | 293,406
City of Oxnard | CA | 737,264
City of Pasadena | CA | 963,198
City of Pomona | CA | 162,154
City of Santa Monica Housing Authority | CA | 3,488,952
City of Woodland | CA | 175,151
Clinical Sierra Vista Inc | CA | 227,240
Coachella Valley Housing Coalition | CA | 2,936,640
Coalition of Homeless Services Providers | CA | 141,750
Colette's Children Home | CA | 815,262
Committee on the Shelterless | CA | 181,411
Community Action Partnership of Sonoma County | CA | 147,624
Community Awareness & Treatment Services, Inc | CA | 348,153
Community Development Commission of Mendocino County | CA | 1,121,916
Community Housing and Shelter Services | CA | 277,980
Community Housing Partnership | CA | 157,491
Community Resource Center | CA | 110,000
Community Support Network | CA | 86,596
Community Technology Alliance | CA | 303,716
Compass Community Services | CA | 295,007
Contra Costa Health Services | CA | 515,225
CORA (Community Overcoming Relationship Abuse) | CA | 225,375
County of Alameda | CA | 9,712,324
County of Los Angeles | CA | 934,615
County of Napa | CA | 143,389
County of Orange | CA | 287,906
County of Riverside | CA | 5,147,519
County of Sacramento | CA | 12,336,810
County of San Diego | CA | 3,238,546
County of Santa Cruz | CA | 232,576
County of Ventura | CA | 381,071
County of Ventura Human Services Agency | CA | 80,299
Covenant House California | CA | 128,499
Cupertino Community Services | CA | 82,533
Domestic Violence Solutions for Santa Barbara County | CA | 76,220
Emergency Housing Consortium of Santa Clara County | CA | 3,005,215
Episcopal Community Services | CA | 1,063,890
Fairfield Suisun Community Action Council, Inc | CA | 183,750
Families In Transition of Santa Cruz County, Inc | CA | 366,344
Family Supportive Housing (Concern for the Poor) | CA | 197,077
Filipino American Service Group, Inc | CA | 190,449
Foothill Family Shelter, Inc | CA | 34,125
Frazee Community Center | CA | 26,250
Fred Finch Children's Home | CA | 1,346,296
Fresno County Economic Opportunities Commission | CA | 285,042
Glenn County Human Resource Agency | CA | 31,500
Goodwill Industries of the Greater East Bay, Inc | CA | 859,669
Gramercy Housing Group | CA | 210,961
Greater Bakersfield Legal Assistance, Inc. (GBLA) | CA | 120,080
Greater Richmond Interfaith Program | CA | 354,409
Harbor Interfaith Services, Inc | CA | 127,673
Homes for Life Foundation | CA | 410,637
Homeward Bound of Marin | CA | 560,737
Housing Authority County of Stanislaus | CA | 1,195,872
Housing Authority of Contra Costa County | CA | 3,045,396
Housing Authority of the City of Calexico | CA | 158,531
Housing Authority of the City of Los Angeles | CA | 14,168,940
Housing Authority of the City of Napa | CA | 125,786
Housing Authority of the City of Santa Barbara | CA | 590,184
Housing Authority of the County of Butte | CA | 122,040
Housing Authority of the County of Los Angeles | CA | 7,920,612
Housing Authority of the County of Marin | CA | 770,940
Housing Authority of the County of Monterey | CA | 367,868
Housing Authority of the County of San Mateo | CA | 4,064,236
Housing Authority of the County of Santa Clara | CA | 2,749,828
Housing Authority of the County of Santa Cruz | CA | 117,800
Housing Authority, City of Pomona | CA | 714,144
Human Options, Inc | CA | 66,830
Inland Behavioral and Health Services, Inc | CA | 367,063
Inland Counties Legal Services, Inc | CA | 115,184
Inland Temporary Homes | CA | 266,977
InnVision the Way Home | CA | 1,407,844
Interfaith Shelter Network, Inc | CA | 84,894
Interim, Inc | CA | 276,339
Interval House | CA | 152,640
Jewish Family Service of Los Angeles (JFS) | CA | 180,498
Jewish Family Service of San Diego | CA | 759,982
JWCH Institute, Inc | CA | 308,999
L.A. Family Housing Corporation | CA | 719,323
Larkin Street Youth Services | CA | 54,090
LifeLong Medical Care | CA | 539,398
Lompoc Housing Assistance Corporation | CA | 86,440
Los Angeles Homeless Services Authority (LAHSA) | CA | 19,488,666
Los Angeles Youth Network | CA | 40,529
Lutheran Social Services of Northern California | CA | 53,747
Many Mansions | CA | 161,512
Marin Abused Women's Services | CA | 120,182
Marjaree Mason Center | CA | 65,482
Mary Lind Foundation | CA | 442,318
Mendocino County | CA | 328,129
Mental Health Association of San Mateo County | CA | 112,801
Merced County Community Action Board | CA | 162,330
Merced County Department of Mental Health | CA | 403,623
Mercy House Transitional Living Centers, Inc | CA | 249,424
New Directions, Inc | CA | 574,641
New Economics for Women | CA | 155,254
New Hope Village, Inc | CA | 66,675
Next Door Solutions to Domestic Violence | CA | 157,500
North County Interfaith Council | CA | 167,629
OC Partnership | CA | 866,125
OPCC (formerly Ocean Park Community Center) | CA | 305,939
Orange Coast Interfaith Shelter | CA | 1,400,000
Orange County Association for Mental Health | CA | 342,030
Orange County Housing Authority | CA | 4,584,864
Pacific Clinics | CA | 952,750
Pajaro Valley Shelter Services | CA | 13,623
PATH (People Assisting the Homeless) | CA | 423,966
Penny Lane Centers | CA | 174,971
Phoenix Programs, Inc | CA | 690,875
Placer County Health and Human Services-Adult System of Care | CA | 293,282
Placer Women's Center | CA | 212,298
Poor and the Homeless Tehama County Coalition | CA | 219,503
Poverello House | CA | 354,169
Progress Foundation | CA | 356,205
Project Understanding | CA | 53,642
Rainbow Services, Ltd | CA | 255,012
Resources for Community Development | CA | 241,393
Resources for Independent Living, Inc | CA | 221,372
Rubicon Programs Inc | CA | 2,189,553
Saddleback Community Outreach | CA | 78,615
Saint John of God Health Care Services | CA | 311,960
Saint Joseph Center | CA | 47,247
Samaritan House | CA | 105,000
San Diego Housing Commission | CA | 814,176
San Diego Youth & Community Services | CA | 87,571
San Francisco Ministries Housing Corporation | CA | 70,749
San Joaquin County | CA | 4,516,739
San Jose Cathedral Foundation | CA | 141,600
San Luis Obispo County | CA | 473,981
San Luis Obispo NonProfit Housing Corporation | CA | 374,241
Santa Barbara Community Housing Corp | CA | 99,444
Santa Barbara County | CA | 396,564
Santa Clara Unified School District | CA | 200,534
Santa Cruz Community Counseling Center, Inc | CA | 41,540
Serra Ancillary Care Corporation dba The Serra Project | CA | 614,213
Service League of San Mateo County | CA | 44,996
Service Outreach Motivation Empowerment (SOME) | CA | 16,000
Shelter Network of San Mateo County | CA | 542,246
SHELTER, Inc. of Contra Costa County | CA | 1,500,001
SHIELDS for Families, Inc | CA | 90,396
Single Room Occupancy Housing Corporation | CA | 741,721
Solano County Health and Social Services | CA | 403,023
Sonoma County Community Development Commission | CA | 956,538
South Bay Community Services | CA | 193,664
South Central Health & Rehabilitation Programs | CA | 224,760
Southern California Alcohol & Drug Programs, Inc | CA | 355,944
St. Claire's Home, Inc | CA | 148,770
St. Vincent de Paul Society of San Francisco | CA | 132,545
St. Vincent de Paul Village, Inc | CA | 4,124,015
STAND! Against Domestic Violence | CA | 242,544
Stanislaus Community Assistance Project | CA | 556,399
Step Up on Second, Inc | CA | 125,856
Stop Homelessness in the Rio Hondo Area, Inc | CA | 165,207
Su Casa Domestic Abuse Network | CA | 52,463
Swords To Plowshares—A Veterans Rights Organization | CA | 486,958
TACHS (The Association For Community Housing Solutions) | CA | 73,500
Tarzana Treatment Centers, Inc | CA | 188,132
Testimonial Community Love Center | CA | 136,888
The Ark of Refuge, Inc | CA | 208,502
The John Henry Foundation | CA | 151,200
The Lord's Fellowship | CA | 41,832
The Los Angeles Gay and Lesbian Community Services Center | CA | 377,262
The Salvation Army | CA | 475,563
The Salvation Army, A California Corporation | CA | 2,756,139
The Unity Care Group | CA | 335,206
Transition House | CA | 116,915
Transitional Living and Community Support, Inc | CA | 802,481
Turning Point Foundation | CA | 346,895
Turning Point of Central California, Inc | CA | 248,175
United Christian Centers | CA | 46,527
United Friends of the Children | CA | 294,355
United States Veterans Initiative | CA | 289,796
United Way of Tulare County | CA | 89,022
Upward Bound House | CA | 281,424
Venice Community Housing Corporation | CA | 81,170
Venice Family Clinic | CA | 284,843
Veterans First | CA | 501,296
Veterans Transitional Center | CA | 194,525
Victor Valley Domestic Violence, Inc | CA | 829,137
Vietnam Veterans of California Veterans | CA | 265,807
Vietnam Veterans of California, Inc | CA | 252,296
Vietnam Veterans of San Diego (VVSD) | CA | 202,850
Volunteers of America | CA | 301,164
Weingart Center Association, Inc | CA | 485,238
Whiteside Manor, Inc | CA | 876,006
WomanHaven, Inc | CA | 169,865
Women's Center—High Desert, Inc | CA | 113,132
Women's Daytime Drop-In Center | CA | 68,975
Women's Transitional Living Center, Inc. (WTLC) | CA | 287,000
YMCA of Metropolitan Los Angeles | CA | 177,487
YMCA of San Diego County | CA | 178,739
Yolo Community Care Continuum | CA | 83,333
Young Women's Christian Association of Central Orange County | CA | 189,658
Young Women's Christian Association of San Diego County | CA | 553,475
YWCA of Sonoma County | CA | 52,500
Bridgeway | CO | 15,146
Catholic Charities of Colorado Springs, Inc | CO | 74,212
Colorado Coalition for the Homeless | CO | 3,403,331
Colorado Department of Human Services | CO | 2,339,028
Colorado Springs Housing Authority | CO | 93,756
Community Housing Services, Inc | CO | 943,077
Del Norte Neighborhood Development Corporation | CO | 690,000
Denver Department of Human Services | CO | 1,963,744
Grand Valley Catholic Outreach, Inc | CO | 189,310
Greeley Center for Independence, Inc | CO | 163,911
Housing Solutions for the Southwest | CO | 57,024
Larimer Center for Mental Health | CO | 109,653
Partners In Housing, Inc | CO | 626,378
Posada, Inc | CO | 249,900
The Salvation Army, A California Corporation | CO | 271,150
Volunteers of America Colorado Branch | CO | 1,174,603
Alliance for Living | CT | 73,932
American Red Cross Middlesex Central CT Chapter | CT | 133,000
Bethsaida Community, Inc | CT | 87,528
Christian Community Action, Inc | CT | 200,025
Chrysalis Center, Inc | CT | 207,745
City of Bridgeport | CT | 473,178
Community Health Resources | CT | 107,184
Community Renewal Team | CT | 207,118
Community Renewal Team, Inc | CT | 1,090,423
Connecticut Coalition to End Homelessness, Inc | CT | 218,000
Connecticut Women's Consortium, Inc | CT | 171,113
CREDO Housing Development Corporation Inc | CT | 112,717
Emerge, Inc | CT | 44,890
Family and Children's Agency | CT | 146,177
Friendship Service Center of New Britain, Inc | CT | 720,037
Hall-Brooke Behavioral Health Services | CT | 800,394
Housing Authority of Manchester | CT | 469,920
Housing Authority of the City of Waterbury | CT | 195,900
Housing Authority, City of Danbury | CT | 119,040
Immaculate Conception Shelter & Housing Corporation | CT | 685,703
Interfaith Housing Association | CT | 48,513
Killingly Housing Authority | CT | 113,520
Laurel House, Inc | CT | 38,499
Liberty Community Services, Inc | CT | 292,500
LMG Programs, Inc | CT | 179,626
Mercy Housing and Shelter Corporation | CT | 241,190
MICAH HOUSING, INC | CT | 73,501
Mid Fairfield AIDS Project, Inc | CT | 120,000
Mutual Housing Association of Southwestern | CT | 165,900
Mutual Housing Association of Southwestern Connecticut, Inc | CT | 186,000
My Sisters' Place, Inc | CT | 250,000
New Opportunities, Inc | CT | 749,568
Norwalk Emergency Shelter, Inc | CT | 47,830
Shelter for the Homeless, Inc | CT | 84,051
South Park Inn, Inc | CT | 284,288
St. Luke's Community Services, Inc | CT | 398,717
St. Vincent DePaul Society of Bristol, Inc | CT | 348,849
State of Connecticut | CT | 6,535,261
State of Connecticut Department of Mental Health and Addiction Services | CT | 676,992
Thames River Community Service, Inc | CT | 195,984
Thames Valley Council for Community Action, Inc. (TVCCA) | CT | 655,247
The Connection Fund | CT | 8,500
The Salvation Army | CT | 73,150
United Way of Eastern Fairfield County | CT | 39,999
United Way of Norwalk and Wilton | CT | 114,306
United Way of Stamford | CT | 50,000
Windham Regional Community Council | CT | 273,914
Women's Center of Southeastern Connecticut | CT | 50,584
Youth Continuum, Inc | CT | 301,568
Catholic Charities of the Archdiocese of Washington | DC | 168,641
Coalition for the Homeless | DC | 171,453
Community Connections | DC | 205,039
Community Family Life Services, Incorporated | DC | 504,966
DC Office of Revenue Analysis | DC | 3,425,436
District of Columbia. Department of Health | DC | 505,260
Families Forward, Inc | DC | 430,270
Hannah House, Inc | DC | 30,136
House of Ruth | DC | 1,072,606
Sasha Bruce Youthwork, Inc | DC | 386,279
SOME (So Others Might Eat) | DC | 938,946
The Community Partnership for the Prevention of Homelessness | DC | 7,068,019
Transitional Housing Corporation | DC | 127,385
Connections Community Support Programs, Inc | DE | 928,654
SBM Housing, Inc | DE | 70,540
State of Delaware | DE | 1,562,557
The Ministry of Caring, Inc | DE | 1,676,700
Young Women's Christian Association of New Castle County, Delaware | DE | 323,967
2-1-1 Brevard, Inc | FL | 76,751
2-1-1 Tampa Bay Cares, Inc | FL | 172,454
Adopt-A-Family of the Palm Beaches, Inc | FL | 207,813
Agency for Community Treatment Services, Inc | FL | 1,570,432
Aid to Victims of Domestic Abuse, Inc | FL | 134,725
AIDS Coalition of Volusia/Flagler, Inc | FL | 238,776
Alachua County Housing Authority | FL | 80,569
Alpha,“A Beginning”, Inc | FL | 69,888
Boley Cennters for Behavioral Health Care, Inc | FL | 762,582
Bridgeway Center, Inc | FL | 577,107
Brookwood Florida—Central, Inc | FL | 98,430
Broward County Board of County Commissioners | FL | 4,451,429
Broward County Housing Authority | FL | 1,059,432
Carrfour Supportive Housing | FL | 409,479
CASA (Community Action Stops Abuse) | FL | 242,031
Catholic Charities of the Archdiocese of Miami, Inc | FL | 180,000
Children's Home Society of Florida, Inc | FL | 127,620
Citrus County Board of County Commissioners | FL | 271,740
City of Bradenton | FL | 287,700
City of Gainesville | FL | 205,316
Clara White Mission, Inc | FL | 132,040
Coalition for the Homeless of Pasco County, Inc | FL | 19,950
Coalition for the Hungry and Homeless of Brevard County, Inc | FL | 527,652
Collier County Board of County Commissioners | FL | 622,521
Community Connections of Jacksonville, Inc | FL | 907,557
Covenant House Florida | FL | 183,729
Crosswinds Youth Services, Inc | FL | 87,536
Directions for Mental Health, Inc | FL | 356,438
Domestic Abuse Council, Inc | FL | 257,008
Early Childhood Resources, Inc | FL | 132,108
Emergency Services and Homeless Coalition of St. Johns County, Inc | FL | 152,400
EscaRosa Coalition on the Homeless | FL | 113,687
Family Renew Community, Inc | FL | 72,025
Florida Housing Corporation | FL | 593,133
Florida Keys Outreach Coalition, Inc | FL | 175,879
Friends of Highlands Village, Inc | FL | 242,960
Goodwill of North Florida | FL | 374,473
Gulfcoast Legal Services, Inc | FL | 28,954
Gulfstream Goodwill Industries, Inc | FL | 372,845
Highlands County Coalition for the Homeless, Inc | FL | 42,000
Homeless Coalition of Hillsborough Co | FL | 515,510
Homeless Coalition of Polk County, Inc | FL | 116,531
Homeless Emergency Project, Inc | FL | 107,651
Homeless Services Network of Central Florida, Inc | FL | 3,815,558
HOPE Family Services, Inc | FL | 135,360
Housing & Community Dev. Division | FL | 533,520
Housing Partnership, Inc | FL | 57,224
I.M. Sulzbacher Center for the Homeless, Inc | FL | 539,109
Indian River County Board of County Commissioners | FL | 471,880
Lakeview Center, Inc | FL | 570,095
Lee County Board of County Commissioners | FL | 1,890,017
LifeStream Behavioral Center, Inc | FL | 124,320
Loaves and Fishes Soup Kitchen, Inc | FL | 248,672
Mental Health Care, Inc | FL | 1,669,758
Mental Health Resource Center, Inc | FL | 251,639
Miami-Dade County | FL | 21,068,899
Mid-Florida Homeless Coalition, Inc | FL | 78,143
Monroe Association for Retarded Citizens | FL | 102,269
New Life Outreach Ministry, Inc | FL | 143,586
Oakwood Center of the Palm Beaches, Inc | FL | 778,071
Operation PAR, Inc | FL | 100,452
Palm Beach County Board of County Commissioners | FL | 438,254
Peaceful Paths Domestic Abuse Network, Inc | FL | 123,280
River Region Human Services, Inc | FL | 491,358
Serenity House of Volusia, Inc | FL | 301,194
Suncoast Center for Community Mental Health, Inc | FL | 147,731
Talbot House Ministries of Lakeland, Inc | FL | 303,300
Tallahassee Coalition for the Homeless, Inc | FL | 978,995
The Center for Information & Crisis Services | FL | 134,441
The Lord's Place, Inc | FL | 466,007
The Salvation Army, a Georgia Corporation | FL | 1,416,304
Tri-County Human Services, Inc. (TCHS) | FL | 74,779
United Way of Marion County | FL | 62,160
United Way of Northeast Florida | FL | 64,374
Volunteers of America of Florida, Inc | FL | 2,214,566
Volusia/Flagler County Coalition for the Homeless, Inc | FL | 225,138
Westcare Gulfcoast Florida, Inc | FL | 273,000
YWCA of Palm Beach County | FL | 225,195
YWCA of Tampa Bay | FL | 176,237
Achor Center, Inc | GA | 373,585
Action Ministries, Inc | GA | 825,025
Advantage Behavioral Health Systems | GA | 166,591
Alternate Life Paths Program, Inc | GA | 48,572
Atlanta Enterprise Center, Inc | GA | 190,955
Augusta-Richmond County | GA | 181,027
Board of Commissioners of Fulton County, Georgia | GA | 1,060,438
Buckhead Christian Ministry | GA | 80,000
Calvary Refuge, Inc | GA | 203,326
Chatham-Savannah Authority for the Homeless | GA | 402,725
Citizens Against Violence, Inc | GA | 265,764
CITY OF SAVANNAH | GA | 253,836
Cobb County Community Services Board | GA | 105,000
Community Advanced Practice Nurses, Inc | GA | 103,979
CSRA Economic Opportunity Authority, Inc | GA | 119,081
Decatur Cooperative Ministry, Inc | GA | 44,243
Douglass County Continuum of Care Coalition, Inc | GA | 452,679
Economic Opportunity for Savannah-Chatham County Area, Inc | GA | 220,500
Families First, Inc | GA | 172,493
Furniture Bank of Metro Atlanta | GA | 70,010
GA Coalition Against Domestic Violence | GA | 182,142
Genesis Shelter, Inc | GA | 136,500
Georgia Housing and Finance Authority | GA | 6,225,408
Georgia Law Center on Homelessness & Poverty Inc | GA | 294,000
Goodwill Industries of Middle Georgia, Inc | GA | 348,401
Greenbriar Children's Center, Inc | GA | 398,424
Gwinnett Housing Resource Partnership, Inc. dba: The IMPACT! Group | GA | 220,343
HODAC, Inc | GA | 42,891
Hope House, Inc | GA | 58,842
House of Grace | GA | 129,529
House of T.I.M.E., Inc | GA | 347,079
Housing Authority of Savannah | GA | 940,200
Housing Initiative of North Fulton | GA | 23,646
Initiative for Affordable Housing, Inc | GA | 320,938
Jerusalem House, Inc | GA | 193,704
Jewish Family & Career Services, Inc | GA | 157,729
Loaves & Fishes Ministries of Macon, Inc | GA | 97,429
Lowndes Associated Ministries to People, Inc | GA | 286,841
Macon Bibb County Economic Opportunity Council, Inc | GA | 194,250
Maranatha Outreach, Inc | GA | 60,178
Marietta Housing Authority | GA | 433,176
Mary Hall Freedom House, Inc | GA | 285,341
Metro Atlanta Task Force for the Homeless, Inc | GA | 338,100
New Horizons Community Service Board | GA | 45,122
Nicholas House, Inc | GA | 36,141
Open Door Community House, Inc | GA | 267,745
Our Common Welfare, Incorporated | GA | 158,033
Our House, Inc | GA | 47,235
Phoenix Alliance, Inc | GA | 58,371
Progressive Redevelopment, Inc | GA | 563,246
Rainbow Village Inc | GA | 451,789
S.H.A.R.E. House INC | GA | 126,526
Saint Joseph's Mercy Care Services, Inc | GA | 36,823
Samaritan House of Atlanta, Inc | GA | 73,255
St. Jude's Recovery Center | GA | 1,064,098
Stewart Community Home, Inc | GA | 285,620
The Center for Family Resources | GA | 814,234
The Extension, Inc | GA | 104,654
The Young Adult Guidance Center, Inc | GA | 154,396
Travelers Aid Metropolitan Atlanta, Inc | GA | 111,477
Travelers Aid of Metropolitan Atlanta, Inc | GA | 154,298
Unified Government of Athens-Clarke County | GA | 289,166
Union Mission | GA | 385,313
Zion Keepers, Inc | GA | 100,093
Guam Housing & Urban Renewal Authority | GU | 682,563
Child and Family Service | HI | 84,488
City and County of Honolulu | HI | 2,450,900
Hale Kipa, Inc | HI | 200,000
Maui Economic Concerns of the Community, Inc | HI | 204,899
Mental Health Kokua | HI | 870,274
State of Hawaii | HI | 787,996
Steadfast Housing Development Corporation | HI | 715,143
The Salvation Army a California Corporation | HI | 637,366
Area Substance Abuse Council/New Directions | IA | 104,223
Cedar Valley Friends of the Family | IA | 254,249
Center for Siouxland | IA | 208,230
City of Des Moines | IA | 1,726,919
City of Sioux City | IA | 113,452
Community Action Agency of Siouxland | IA | 137,241
Community Corrections Improvement Association | IA | 400,000
Community Housing Initiatives, Inc | IA | 511,198
Crittenton Center | IA | 184,527
Family Resources, Inc | IA | 114,699
Hawkeye Area Community Action Program, Inc | IA | 1,080,215
Hillcrest Family Services | IA | 71,540
John Lewis Coffee Shop, Inc | IA | 867,000
Northern Lights Alliance for the Homeless | IA | 192,764
Opening Doors | IA | 42,222
Project Concern, Inc | IA | 31,570
Shelter House Community Shelter and Transition Services | IA | 448,318
Youth and Shelter Services, Inc | IA | 318,127
YWCA Clinton | IA | 49,232
Boise City Housing Authority | ID | 668,058
Idaho Housing and Finance Association | ID | 1,828,931
The Society of St. Vincent de Paul in the City of Coeru d'Alene | ID | 187,929
Women's and Children's Alliance | ID | 119,123
Abundant Faith Ministry | IL | 48,825
Affordable Housing Preservation Foundation—51st Street Y | IL | 155,106
AIDS Foundation of Chicago | IL | 1,028,952
Anna Bixby Women's Center | IL | 141,445
Apna Ghar, Inc. (Our Home) | IL | 124,785
B.C.M.W. Community Services | IL | 19,597
Beacon Therapeutic Diagnostic Treatment Center | IL | 1,083,562
Bethel Community Facility | IL | 491,846
Bethel New Life, Inc | IL | 666,693
Bridge Communities, Inc | IL | 107,289
C.E.F.S. Economic Opportunity Corporation | IL | 199,675
Casa Central Social Service Corporation | IL | 846,265
Catholic Charities of the Archdiocese of Chicago | IL | 2,925,856
Catholic Charities, Diocese of Joliet | IL | 2,078,614
CDBG Operations Corporation | IL | 579,814
CEDA Northwest Self-Help Center, Inc | IL | 159,394
Chestnut Health Systems | IL | 904,559
Chicago Abused Women Coalition | IL | 26,329
Chicago Christian Industrial League | IL | 1,707,999
Chicago Department of Human Services | IL | 5,990,383
Chicago House and Social Service Agency | IL | 45,123
Circle Urban Ministries | IL | 396,875
City of Bloomington | IL | 429,724
City of Chicago | IL | 6,053,063
City of Rockford | IL | 799,745
City of Urbana | IL | 358,554
Community Crisis Center | IL | 95,116
Community Mental Health Council, Inc | IL | 301,792
Community Supportive Living Systems Inc | IL | 203,150
Connections for the Homeless | IL | 533,478
Cornerstone Community Outreach | IL | 211,242
Cornerstone Services, Inc | IL | 1,723,853
Deborah's Place | IL | 1,083,251
Dove, Inc | IL | 548,425
DuPage County Community Services | IL | 239,217
DuPage County Health Department | IL | 567,718
DuPage P.A.D.S., Inc | IL | 318,054
Ecker Center for Mental Health | IL | 163,030
Embarras River Basin Agency, Inc | IL | 404,567
Family Counseling Center | IL | 186,248
Family Rescue, Inc | IL | 676,487
Featherfist | IL | 1,525,777
Fellowship Housing Corporation | IL | 100,120
Fifth Street Renaissance | IL | 24,150
Goldie's Place | IL | 67,736
Good Samaritan Ministries, A Project of Carbondale Interchurch Council | IL | 74,397
Healthcare Alternative Systems, Inc | IL | 214,748
Heartland Health Outreach | IL | 2,570,116
Heartland Human Care Services, Inc | IL | 3,036,451
Helping Hands of Springfield, Inc | IL | 115,332
Home of the Sparrow, Inc | IL | 724,428
Hope Haven of DeKalb County, Inc | IL | 193,645
Hope of East Central IL | IL | 76,434
Housing Authority of the County of Cook | IL | 474,612
Housing Opportunities for Women, Inc | IL | 198,368
Housing Options for the Mentally Ill in Evanston, Inc | IL | 220,860
Hoyleton Youth and Family Services | IL | 82,723
Hull House Association | IL | 389,026
Human Resources Development Institute, Inc. (HRDI) | IL | 469,909
Inspiration Corporation | IL | 646,931
Interdependent Living Solutions Center, Inc | IL | 156,332
Interfaith Council for the Homeless | IL | 312,241
Interfaith House, Inc | IL | 400,593
Interfaith Housing Development Corporation of Chicago | IL | 85,890
Iroquois-Kankakee Regional Office of Education #32 | IL | 64,017
Jewish Federation of Metropolitan Chicago | IL | 163,104
Kane County, Illinois | IL | 169,853
Lake County | IL | 735,054
Lakefront Supportive Housing | IL | 1,020,980
Lakeview Shelter, Inc | IL | 192,658
Land of Lincoln Legal Assistance | IL | 47,584
Lazarus House | IL | 117,090
M.E.R.C.Y. Communities, Inc | IL | 167,923
Madison County Government | IL | 437,820
Matthew House Inc | IL | 137,592
McDermott Center dba/Haymarket Center | IL | 64,471
McHenry County PADS, Inc | IL | 105,000
Mental Health Center of Champaign County Inc | IL | 43,043
NCO Youth & Family Services | IL | 200,124
New Moms, Inc | IL | 253,698
New Phoenix Assistance Center | IL | 837,789
Northwestern Memorial Hospital | IL | 721,248
PADS Crisis Services | IL | 449,295
PADS to HOPE | IL | 183,665
Peoria Housing Authority | IL | 126,000
Pioneer Center of McHenry County | IL | 488,283
Pioneer Civic Services | IL | 112,912
Prairie State Legal Services, Inc | IL | 68,780
Project NOW, Inc. CAA | IL | 383,534
Public Action to Deliver Shelter, Inc | IL | 234,302
Renaissance Social Services, Inc | IL | 143,388
Residents for Effective Shelter Transitions (REST) | IL | 464,962
Saint Clair County | IL | 514,209
Sarah's Circle | IL | 68,250
Single Room Housing Assistance Corporation | IL | 908,537
South Side Office of Concern | IL | 22,442
South Surburban Family Shelter | IL | 281,957
Southern Illinois Coalition for the Homeless | IL | 58,975
Southwest Women Working Together | IL | 1,984,140
St. Leonard's Ministries | IL | 47,250
Stopping Women Abuse Now | IL | 70,000
Teen Living Programs, Inc | IL | 194,377
The Center of Concern | IL | 127,434
The Community & Economic Dev. Association of Cook Cty | IL | 260,883
The Employment Project | IL | 123,537
The Inner Voice, Inc | IL | 1,032,367
The Larkin Center | IL | 297,425
The Night Ministry | IL | 74,260
The Renaissance Collaborative, Inc | IL | 184,451
The Salvation Army | IL | 219,854
Thresholds | IL | 1,609,080
Together We Cope | IL | 624,185
Trinity Services, Inc | IL | 250,000
Unity Parenting & Counseling | IL | 949,290
West Englewood United Organization | IL | 210,118
Western Illinois Regional Council—Community Action Agency | IL | 54,907
WilPower, Inc | IL | 205,206
WINGS Program, Inc | IL | 134,568
World Relief DuPage | IL | 128,780
YMCA of Metropolitan Chicago | IL | 456,805
Young Women's Christian Association | IL | 464,713
Your Family Resource Connection | IL | 139,640
Youth Service Bureau | IL | 91,899
Youth Services Network | IL | 250,569
YWCA of Peoria, IL | IL | 484,265
Amethyst House Inc | IN | 174,109
Blue River Services, Inc | IN | 220,500
Bridges Community Services, Inc | IN | 514,957
City of Anderson Indiana | IN | 306,951
City of Evansville | IN | 549,587
City of Gary d/b/a Edgewater Systems | IN | 357,068
City of Gary d/b/a Gary Commission for Women | IN | 276,133
City of Indianapolis | IN | 4,180,354
City of South Bend | IN | 142,632
CMHC, Inc | IN | 671,388
Evansville Goodwill Industries, Inc | IN | 220,133
Family & Children's Center Counseling and Development Services, Inc | IN | 31,688
Fort Wayne Women's Bureau, Inc | IN | 179,550
Genesis Outreach, Inc | IN | 126,000
Hope House, Inc | IN | 133,679
Housing Opportunities, Inc | IN | 1,181,050
Indiana Coalition on Housing and Homeless Issues | IN | 1,092,000
Indiana Housing Finance Authority | IN | 1,640,340
Lafayette Transitional Housing Center, Inc | IN | 312,559
LifeSpring, Inc | IN | 706,712
Margret Alexander C.H.I.L.D. Center, Inc | IN | 52,499
Martha's House, Inc | IN | 267,586
Middle Way House, Inc | IN | 513,280
St. Elizabeth's Regional Maternity Center | IN | 561,695
State of Indiana | IN | 308,808
The Center for the Homeless, Inc | IN | 176,195
The Center for Women and Families, Inc | IN | 446,290
Young Women's Christian Association of St. Joseph County | IN | 67,199
City of Topeka | KS | 1,189,632
City of Wichita Housing Authority | KS | 718,488
COMCARE of Sedgwick County | KS | 552,082
Cowley County Safe Homes, Inc | KS | 395,743
Inter-Faith Ministries Wichita, Inc | KS | 251,038
Kansas Legal Services | KS | 190,608
Plumb Place Inc | KS | 263,564
SAFEHOME, Inc | KS | 113,003
The Salina Housing Authority | KS | 370,800
The Salvation Army | KS | 546,284
Unified Government of Wyandotte Co./KCKS | KS | 344,890
United Methodist Urban Ministry of Wichita, Inc | KS | 298,790
USD 500 Kansas City Kansas Public Schools | KS | 45,320
Wichita Children's Home | KS | 101,219
Bellewood Presbyterian Home for Children | KY | 420,830
Choices, Inc | KY | 70,602
Chrysalis House, Inc | KY | 302,489
Commonwealth of Kentucky | KY | 5,681,687
Community Action Council for Lexington-Fayette, Bourbon, Harrison & Nicholas | KY | 64,409
Home of the Innocents | KY | 173,847
Hope Center, Inc | KY | 269,334
House of Ruth, Inc | KY | 275,388
Independent Living Options, Inc | KY | 250,102
Lexington-Fayette Urban County Housing Authority | KY | 184,272
Louisville/Jefferson County Metro Government | KY | 66,012
Louisville-Jefferson County Metro Government | KY | 1,224,226
New Beginnings, Bluegrass, Inc | KY | 53,492
Schizophrenia Foundation, KY, Inc. dba Wellspring | KY | 479,407
Seven Counties Services, Inc | KY | 163,060
Society of St. Vincent de Paul, Council of Louisville, Inc | KY | 275,877
The Salvation Army, a Georgia Corporation | KY | 119,999
Transitions, Incorporated | KY | 481,820
Volunteers of America of KY, Inc | KY | 535,657
Wayside Christian Mission | KY | 158,630
Welcome House of Northern Kentucky, Inc | KY | 469,110
Acadiana Outreach Center, Inc | LA | 56,025
Caddo Parish School Board | LA | 89,237
Catholic Charities Archdiocese of New Orleans, Inc | LA | 314,497
City of Baton Rouge & Parish of East Baton Rouge | LA | 1,661,410
City of New Orleans | LA | 429,492
Community Directions, Inc | LA | 341,839
Community Support Programs, Inc | LA | 642,186
Council On Alcoholism and Drug Abuse of NW Louisiana | LA | 250,000
Covenant House New Orleans | LA | 266,791
Eastern Louisiana Mental Health System | LA | 157,791
Faith House, Inc | LA | 135,996
Grace House of New Orleans, Inc | LA | 191,362
Gulf Coast Teaching Family Services | LA | 140,985
Gulf Coast Teaching Family Services, Inc | LA | 305,073
Hope House of Central Louisiana | LA | 193,784
Housing Authority, City of Bossier City, LA | LA | 208,680
Housing Authority, City of Sulphur, LA | LA | 117,312
Jefferson Parish Department of Community Development | LA | 267,216
Jefferson Parish Human Services Authority | LA | 277,473
Lafayette Catholic Service Center, Inc | LA | 351,377
Louisiana Association for the Education of Homeless Children/Youth | LA | 62,093
Louisiana Department of Health and Hospitals | LA | 869,520
Metropolitan Battered Women's Program, Inc | LA | 113,344
Monroe Area Guidance Center | LA | 80,210
NAMI New Orleans | LA | 153,421
Northlake Community Development Corporation | LA | 178,000
Our House, Inc | LA | 56,583
Philadelphia Center | LA | 176,400
Providence House | LA | 247,091
Region VI Office of Mental Health | LA | 205,758
Responsibility House, Inc | LA | 338,051
Saint Tammany Parish Government | LA | 92,461
Shreveport SRO, Inc | LA | 435,768
Southeast Louisiana Hospital | LA | 311,823
Southeast Spouse Abuse Program | LA | 231,272
Southeastern Louisiana University | LA | 148,109
Southwestern Louisiana Homeless Coalition, Inc | LA | 178,508
St. Francis Foundation, Inc | LA | 21,000
St. Mary Community Action Agency, Inc | LA | 136,158
START Corporation | LA | 385,774
State of Louisiana, Department of Health and Hospitals | LA | 99,584
The Church of the Holy Cross—Episcopal | LA | 35,641
The Church United For Community Development | LA | 154,744
The Wellspring Alliance for Families, Inc | LA | 277,730
Unity for the Homeless, Inc | LA | 7,634,885
Vernon Community Action Council, Inc | LA | 70,092
Volunteer Center Southwest Louisiana | LA | 116,484
Volunteers of America of Greater New Orleans | LA | 995,234
Volunteers of America of Greater New Orleans, Inc | LA | 632,166
Volunteers of America of North Louisiana | LA | 582,661
Volunteers of America, Greater Baton Rouge | LA | 135,184
Volunteers of America, Greater Baton Rouge, Inc | LA | 412,703
Women Outreaching Women, Inc | LA | 84,714
YWCA of Northwest Louisiana, Inc | LA | 96,394
Action Inc | MA | 276,331
Advocates, Inc | MA | 313,464
Barnstable Housing Authority | MA | 396,084
Berkshire Community Action Council, Inc | MA | 180,480
Brockton Housing Authority | MA | 536,130
Brookline Community Mental Health Center | MA | 191,463
Cambridge Housing Authority | MA | 363,096
CASPAR, Inc | MA | 231,524
Catholic Social Services of Fall River, Inc | MA | 165,909
Central Massachusetts Housing Alliance, Inc | MA | 2,312,112
Citizens for Affordable Housing in Newton Development Organization, Inc | MA | 12,616
City of Boston | MA | 18,855,665
City of Cambridge, Massachusetts | MA | 2,375,036
City of Fall River | MA | 429,264
City of Haverhill | MA | 250,690
City of Lawrence | MA | 91,286
City of Lowell, Massachusetts | MA | 819,921
City of New Bedford | MA | 993,645
City of Northampton | MA | 1,167,738
City of Quincy | MA | 754,090
City of Springfield | MA | 1,489,514
City of Worcester, MA | MA | 1,886,750
Commonwealth of Massachusetts | MA | 8,121,839
Community Counseling of Bristol County | MA | 228,863
Community Healthlink, Inc | MA | 610,909
Construct, Inc | MA | 41,200
Domus Incorporated | MA | 171,360
Emmaus Inc | MA | 169,642
Family Life Support Center, Inc | MA | 136,492
Housing Assistance Corporation | MA | 267,496
Housing For All Corporation | MA | 44,200
Legal Services for Cape, Plymouth & Islands, Inc | MA | 24,937
Lynn Housing Authority & Neighborhood Dev | MA | 1,213,465
Lynn Shelter Association | MA | 207,283
Mainstream Housing/Turning Point Inc | MA | 280,745
Massachusetts Department of Mental Health | MA | 186,480
North Shore Community Action Programs, Inc | MA | 142,311
Quincy Housing Authority | MA | 813,024
Shelter, Inc | MA | 837,325
Somerville Homeless Coalition, Inc | MA | 615,989
South Middlesex Legal Services, Inc | MA | 48,507
South Middlesex Opportunity Council (SMOC) | MA | 79,128
South Shore Housing Development Corporation | MA | 125,125
Steppingstone, Inc | MA | 329,091
The Psychological Center, Inc | MA | 138,734
The Second Step, Inc | MA | 502,870
Transition House | MA | 14,073
Tri-City Community Action Program, Inc | MA | 183,961
Tri-City Family Housing, Inc | MA | 109,060
Twin Cities Community Development Corporation | MA | 91,018
Veteran Hospice Homestead, Inc | MA | 30,218
Veteran's Northeast Outreach Center, Inc | MA | 135,828
Wayside Youth & Family Supportive Network, Inc | MA | 233,872
Advocate for Homeless Families, Inc | MD | 24,008
Allegany County HRDC, Inc | MD | 127,057
Anne Arundel County, Maryland | MD | 869,743
Associated Catholic Charities | MD | 375,074
Baltimore City | MD | 13,253,072
Baltimore County | MD | 204,375
Baltimore County, Maryland | MD | 776,360
Baltimore Mental Health Systems, Inc | MD | 1,989,701
Board of County Commissioners of Calvert County, Maryland | MD | 18,252
Catholic Charities of the Archdiocese of Washington | MD | 235,903
Catholic Charities of Washington, DC | MD | 110,638
City of Frederick | MD | 201,433
City of Gaithersburg | MD | 128,247
Community Assistance Network, Inc. (CAN) | MD | 509,488
Crossroads Community, Inc | MD | 140,737
Friends for Neighborhood Progress, Inc | MD | 21,570
Garrett County Community Action Committee, Inc | MD | 211,822
Harford County, Maryland | MD | 396,180
Heartly House, Inc | MD | 35,074
Housing Opportunities Commission | MD | 2,862,760
Howard County Mental Health Authority | MD | 82,968
Howard County, Maryland | MD | 426,829
Human Services Developmental Corporation, Inc | MD | 73,310
Human Svcs. Programs of Carroll County, Inc | MD | 193,320
JHP, Inc | MD | 88,161
Laurel Advocacy & Referral Services, Inc | MD | 229,004
Maryland Department of Health and Mental Hygiene | MD | 2,052,060
Maryland Dept. of Health and Mental Hygiene | MD | 625,548
Mid Shore Mental Health Systems, Inc | MD | 60,591
Montgomery Avenue Women's Center | MD | 138,853
Montgomery County Coalition for the Homeless | MD | 1,944,991
National Center for Children and Families (NCCF) | MD | 623,191
Nehemiah House, Inc | MD | 57,295
Prince Georges County Governement | MD | 1,378,907
Rehabilitation Systems, Incorporated | MD | 489,016
Somerset County Health Department | MD | 659,269
St. Mary's County Housing Authority | MD | 397,435
United Communities Against Poverty Inc. (UCAP) | MD | 502,677
Volunteers of America Chesapeake, Inc | MD | 225,114
Washington County Comm. Action Council, Inc | MD | 191,192
Washington County Dept. of Social Services | MD | 45,839
YMCA of Cumberland, MD | MD | 345,018
YWCA of the Greater Baltimore Area | MD | 173,250
Avesta Housing Development Corporation | ME | 304,266
Battered Women's Project | ME | 27,252
Bread of Life Ministries | ME | 462,000
City of Bangor, Maine | ME | 679,239
City of Portland | ME | 271,557
Community Concepts, Incorporated | ME | 41,289
Community Housing of Maine, Inc | ME | 39,270
Ingraham-Randall Place | ME | 82,357
Kennebec Valley Mental Health Center | ME | 32,839
Maine State Housing Authority | ME | 121,640
MAPS/My Choice | ME | 71,355
New Beginnings, Inc | ME | 167,117
OHHI | ME | 32,550
Portland West, Inc | ME | 70,652
State of Maine | ME | 5,002,388
York County Shelters Program, Inc | ME | 493,630
YWCA of Greater Portland | ME | 130,179
Allegan County Resource Development Committee, Inc | MI | 84,800
American National Red Cross | MI | 59,039
Ann Arbor Housing Commission | MI | 751,008
Avalon Housing, Inc. (Avalon Nonprofit Housing Corporation) | MI | 169,868
Bay Area Women's Center | MI | 106,488
Branch County Coalition Aganist Domestic Violence | MI | 35,122
Capital Area Community Services, Inc | MI | 200,600
CareGivers | MI | 756,140
Cass Community Social Services, Inc | MI | 108,743
Center for Women in Transition | MI | 233,288
Charter County of Wayne | MI | 1,419,318
City of Detriot | MI | 4,715,436
City of Lansing | MI | 369,973
City of Melvindale | MI | 749,400
Coalition on Temporary Shelter | MI | 927,056
Community Action Agency | MI | 340,484
Community Housing Network, Inc | MI | 551,142
Community Housing Network, Inc | MI | 1,158,168
Community Mental Health Authority of Clinton, Eaton, and Ingham Counties | MI | 49,875
Community Mental Health Services of Muskegon County | MI | 40,640
Community Rebuilders | MI | 1,111,725
County of Kent, Michigan | MI | 1,221,960
County of Ottawa | MI | 211,036
Creative Housing Resources, Inc | MI | 335,548
Detroit Central City CMH, Inc | MI | 990,567
Detroit Rescue Mission Ministries | MI | 2,456,912
Dwelling Place of Grand Rapids, Inc | MI | 228,650
EightCAP, Inc | MI | 56,687
Florence Crittenten Services | MI | 54,750
Freedom House | MI | 287,891
Genesis Non-Profit Housing Corporation | MI | 58,800
Good Samaritan Ministries | MI | 394,110
Goodwill Industries of Northern Michigan, Inc | MI | 32,000
Grand Rapids Housing Commission | MI | 462,919
Haven of Rest Ministries Inc | MI | 345,328
Heartside Nonprofit Housing Corporation | MI | 63,000
Heritage H.O.M.E.'s, Inc | MI | 22,333
Housing Resources, Inc. (HRI) | MI | 309,260
Housing Services for Eaton County | MI | 197,007
Human Development Commission | MI | 239,014
Inner City Christian Federation | MI | 38,810
Kalamazoo Community Mental Health and Substance Abuse Services | MI | 550,826
Lansing Housing Commission | MI | 229,824
Lenawee Emergency & Affordable Housing Corporation | MI | 89,511
Lighthouse of Oakland County, Inc | MI | 294,509
Lutheran Social Services of Michigan | MI | 38,600
Lutheran Social Services of Wisconsin & Upper Michigan, Inc | MI | 192,097
Mariners Inn | MI | 532,589
Metro Housing Partnership Inc | MI | 2,364,439
Michigan Ability Partners | MI | 442,868
Michigan Department of Community Health | MI | 4,846,644
Michigan Department of Human Services | MI | 2,820,277
Neighborhood Legal Services Michigan | MI | 853,435
Peckham, Inc | MI | 146,877
POWER Inc | MI | 165,991
Sacred Heart Rehabilitation Center, Inc | MI | 194,214
Saginaw Housing Comission | MI | 1,012,888
SIREN/Eaton Shelter, Inc | MI | 276,400
SOS Community Services | MI | 2,259,083
Southwest Michigan Community Action Agency | MI | 62,464
State of Michigan | MI | 1,265,970
Summit Pointe | MI | 71,333
The Salvation Army | MI | 831,749
The Salvation Army—Eastern Michigan Division | MI | 518,125
Training and Treatment Innovations, Inc | MI | 315,554
Travelers Aid Society of Metropolitan Detroit | MI | 2,290,707
United Community Housing Coalition | MI | 632,613
Wayne Metropolitan Community Action Agency | MI | 1,569,683
West Michigan Therapy, Inc | MI | 296,169
Women Empowering Women | MI | 177,880
Word Foundation Agape House | MI | 105,000
YWCA of Grand Rapids | MI | 386,578
Alliance Housing Incorporated | MN | 206,557
American Indian Community Development Corporation | MN | 162,222
American Indian Community Housing Organization | MN | 40,954
Amherst H. Wilder Foundation | MN | 1,160,504
Arrowhead Economic Opportunity Agency | MN | 51,143
Arrowhead Economic Opportunity Agency, Inc | MN | 46,284
Bemidji Housing and Redevelopment Authority | MN | 126,780
Bi-County Community Action Programs, Inc | MN | 12,917
Breaking Free, Inc | MN | 90,000
Catholic Charities of the Archdiocese of St. Paul and Minneapolis | MN | 514,133
Central Community Housing Trust | MN | 313,808
Churches United for the Homeless | MN | 92,610
Dakota County | MN | 395,767
Dakota County Community Development Agency | MN | 116,868
Elim Transitional Housing, Inc | MN | 87,488
Emma Norton Services | MN | 207,463
Face to Face Health and Counseling Services, Inc | MN | 103,671
Freeport West, Inc | MN | 726,827
Grant County | MN | 46,980
Hennepin County | MN | 1,644,977
Housing & Redevelopment Authority of St. Cloud | MN | 194,976
Housing & Redevelopment Authority In & For the City of Wilmar, MN | MN | 78,900
Housing & Redevelopment Authority of Duluth, MN | MN | 132,132
Housing and Redevelopment Authority of Koochiching County | MN | 25,020
Housing and Redevelopment Authority of the City of St. Paul | MN | 361,920
Housing Authority of St. Louis Park | MN | 781,260
Housing Coalition of the St. Cloud Area | MN | 440,578
Human Development Center | MN | 232,732
Human Services Inc., in Washington County | MN | 41,874
KOOTASCA Community Action | MN | 31,971
Lakes & Pines Community Action Council, Inc | MN | 21,000
Life House, Inc | MN | 49,668
Listening Ear Crisis Center Project, Inc | MN | 56,961
Lutheran Social Service of Minnesota | MN | 119,465
Lutheran Social Services of MN | MN | 32,272
Mental Health Resources, Inc | MN | 520,640
Metropolitan Council | MN | 1,797,444
Minnesota Assistance Council for Veterans | MN | 57,929
Minnesota Assistance Council for Veterans (MACV) | MN | 28,003
Model Cities of St. Paul | MN | 141,383
Motivation Education & Training, Inc | MN | 330,517
New Foundations, Inc | MN | 298,090
New Pathways, Inc | MN | 105,265
Northwestern Mental Health Center, Inc | MN | 60,000
Olmstead County (MN) Housing and Redevelopment Authority | MN | 124,800
Olmsted County | MN | 132,300
Our Savior's Lutheran Church | MN | 139,811
People Incorporated | MN | 264,576
Perspectives, Inc | MN | 342,673
Pillsbury United Communities | MN | 561,263
Plymouth Church Neighborhood Foundation | MN | 267,946
Project for Pride in Living, Inc | MN | 184,920
Range Mental Health Center, Inc | MN | 79,350
Range Transitional Housing, Inc | MN | 583,026
RESOURCE, Inc | MN | 571,623
RS Eden | MN | 45,486
Scott County | MN | 88,884
Scott-Carver—Dakota CAP Agency | MN | 109,856
Simpson Housing Services, Inc | MN | 88,722
Southern Minnesota Regional Legal Services, Inc | MN | 79,168
Southwestern Minnesota Opportunity Council, Inc | MN | 190,176
St. Paul Urban League | MN | 26,137
Steele County Transitional Housing, Inc | MN | 22,942
The Bridge for Runaway Youth, Inc | MN | 241,406
The Family Place | MN | 53,209
The Salvation Army | MN | 477,206
The Salvation Army, Illinois Corporartion | MN | 177,503
The Salvation Army, Illinois Corporation | MN | 353,095
The Salvation Army, Illinois Corporation (Booth Brown House) | MN | 401,040
Theresa Living Center | MN | 139,562
Three Rivers Community Action, Inc | MN | 333,642
Violence Intervention Project, Inc | MN | 24,147
Virginia Housing & Redevelopment Authority | MN | 406,392
WEDCH, Inc. LLC | MN | 35,006
Women's Advocates, Inc | MN | 72,030
Women's Transitional Housing Coalition, Inc | MN | 129,783
Young Women's Christian Association of St. Paul, MN | MN | 80,585
YWCA of Duluth | MN | 16,800
Zion Originated Outreach Ministry | MN | 86,704
Benilde Hall | MO | 100,380
Budget and Financial Management Assistance | MO | 121,666
Catholic Charitites of Kansas City—St. Joseph, Inc | MO | 90,835
City of Kansas City Missouri | MO | 535,004
City of St. Joseph | MO | 47,170
City of St. Louis | MO | 6,924,584
Community LINC | MO | 110,058
Community Services League | MO | 56,497
Economic Security Corporation of Southwest Area | MO | 171,129
Family Self-Help Center | MO | 29,804
Housing Authority of Kansas City, Missouri | MO | 532,440
Housing Authority of Springfield | MO | 101,292
Housing Authority of the City of Columbia, Missouri | MO | 286,860
Mental Health Association of the Heartland | MO | 64,099
Mid America Assistance Coalition | MO | 43,358
Missouri Association for Social Welfare | MO | 133,980
Missouri Department of Mental Health | MO | 4,300,884
Ozarks Area Community Action Corporation | MO | 26,655
Phoenix Programs, Inc | MO | 71,122
reStart Inc | MO | 226,333
Rose Brooks Center, Inc | MO | 203,610
SAVE, Inc | MO | 493,624
Sheffield Place | MO | 163,079
St. Louis County | MO | 1,101,078
Swope Health Services | MO | 205,110
The Kansas City Metropolitan Lutheran Ministry | MO | 213,515
The Kitchen, Inc | MO | 422,750
The Salvation Army | MO | 264,549
The Salvation Army an Illinois Corporation | MO | 232,321
Truman Medical Center, Inc | MO | 513,246
Back Bay Mission, Inc | MS | 271,681
Bolivar County Community Action Agency, Inc | MS | 469,832
Catholic Charities, Inc | MS | 169,048
City of Natchez | MS | 328,177
Gulf Coast Women's Center for Nonviolence, Inc | MS | 100,520
Hinds County Human Resource Agency | MS | 118,650
Mental Health Association of South Mississippi | MS | 267,985
Multi-County Community Service Agency, Inc. (MCCSA) | MS | 350,000
New Dimensions Development Foundation | MS | 159,238
New Life for Women, Inc | MS | 200,000
Recovery House, Inc | MS | 108,728
Stewpot Community Services | MS | 49,392
The University of Southern Mississippi | MS | 336,000
District 7 Human Resources Development Council (HRDC) | MT | 63,000
District IV Human Resources Development Council | MT | 16,800
God's Love Inc | MT | 150,470
Helena Housing Authority | MT | 153,552
Human Resource Council, District XII | MT | 90,958
Missoula County | MT | 162,580
Missoula Housing Authority | MT | 445,320
Montana Department of Commerce, Housing Division | MT | 478,200
Mountain Home Montana, Inc, | MT | 76,798
Northwest Montana Human Resources, Inc | MT | 35,769
Proverllo Center, Inc | MT | 37,467
Public Housing Authority of Butte | MT | 83,844
Sanders County Coalition For Families | MT | 56,964
State of Montana | MT | 66,980
Supporters of Abuse Free Environments (S.A.F.E), Inc | MT | 35,700
The Samaritan House, Inc | MT | 63,000
Affordable Housing Coalition of Asheville Buncombe County | NC | 260,360
Alcohol and Drug Services of Guilford, Inc | NC | 46,048
Allied Churches of Alamance County, Inc | NC | 96,000
Brunswick Family Assistance Agency, Inc | NC | 42,080
CenterPoint Human Services | NC | 311,102
Christians United Outreach Center | NC | 114,022
Chrysalis Foundation for Mental Health, Inc | NC | 56,088
City of Winston-Salem | NC | 764,872
Cleveland County Abuse Prevention Council, Inc | NC | 153,248
Coastal Horizons Center, Inc | NC | 79,017
Community Alternatives for Supportive Abodes (CASA) | NC | 796,496
Community Link, Programs of Travelers Aid | NC | 238,912
Community Link, Programs of Travelers Aid | NC | 459,666
Cumberland County, NC | NC | 231,922
Cumberland Interfaith Hospitality Network | NC | 257,628
Familiy Service of the Piedmont | NC | 47,293
First Fruit Ministries | NC | 120,716
Gaston County Interfaith Hospitality Network, Inc | NC | 38,850
Good Shepherd Ministries | NC | 56,073
Greensboro Housing Authority | NC | 226,584
Greensboro Urban Ministry, Inc | NC | 78,750
Hope Haven, Inc | NC | 499,367
Hospitality House of Asheville, Inc | NC | 182,886
Hospitality House of the Boone Area, Inc | NC | 31,928
Housing Authority of the City of Wilmington | NC | 114,288
Housing for New Hope, Inc | NC | 154,039
Inter-Faith council for Social Service | NC | 19,032
Life on Life's Terms, Inc | NC | 43,890
Love Center for Community Enhancement | NC | 132,500
Mary's House, Inc | NC | 135,982
Mecklenburg County Area MH, DD, & SA Authority | NC | 1,037,483
Mecklenburg County Health Department | NC | 145,136
Mountain Youth Resources, Inc | NC | 209,351
Neuse Center for MH/DD/SAS | NC | 221,148
Next Step Ministries, Inc | NC | 37,800
North Carolina Housing Coalition Inc | NC | 30,287
North Carolina Housing Coalition, Inc | NC | 89,817
OPC Mental Health, Developmental Disabilities and Substance Abuse | NC | 195,636
Open Door Ministries of High Point, Inc | NC | 54,062
Opposing Abuse with Service, Information and Shelter | NC | 91,350
Passage Home, Inc | NC | 220,616
Pathways Services, Inc | NC | 175,440
Piedmont Behavioral Healthcare | NC | 271,200
S.L.I.D.E.S., Inc | NC | 17,414
Saint Peter's Homes, Inc | NC | 33,333
Sandhills Community Action Program, Inc | NC | 268,452
Sanford Housing Authority | NC | 295,920
The Christian Counseling and Wellness Group, Inc | NC | 588,007
The New Reidsville Housing Authority | NC | 213,300
The Salvation Army, A Georgia Corporation | NC | 343,527
The Servant Center, Inc | NC | 59,481
Tideland Mental Health Center MH/DD/SAS | NC | 174,024
United Community Ministries | NC | 88,200
V J Ministerial Transitional Homes | NC | 167,244
VGFW Area Mental Health Authority | NC | 413,904
Volunteers of America of the Carolinas, Inc | NC | 86,997
W.A.W.Y. Community Action, Inc | NC | 106,703
Wake County Human Services | NC | 1,292,538
Western Highlands A Local Management Entitiy | NC | 221,856
With Friends, Inc | NC | 199,374
Community Violence Intervention Center | ND | 94,772
Fargo Housing & Redevelopment Authority | ND | 568,836
North Dakota Department of Commerce | ND | 162,216
Society of St. Vincent de Paul | ND | 15,277
Women's Alliance, Inc | ND | 37,600
YWCA Cass Clay | ND | 213,519
Blue Valley Community Action, Inc | NE | 24,677
Care Corps, Inc | NE | 238,935
Catholic Charities of the Archdiocese of Omaha, Inc | NE | 213,234
Catholic Social Services | NE | 93,683
CEDARS Youth Services | NE | 130,707
CenterPointe, Inc | NE | 630,885
Central Nebraska Community Services, Inc | NE | 320,949
Cirrus House, Inc | NE | 91,688
City of Omaha | NE | 745,882
Community Action Partnership of Mid-Nebraska | NE | 116,361
Community Alliance Rehabilitation Services | NE | 196,430
Goldenrod Hills Community Action Council, Inc | NE | 27,171
Heartland Family Service | NE | 619,295
Iowa Institute for Community Alliances | NE | 243,075
Lincoln Action Program | NE | 449,539
Panhandle Partnership for Health and Human Services | NE | 31,896
St. Monica's | NE | 140,456
Stephen Center, Inc | NE | 52,238
The Salvation Army | NE | 343,607
Behavorial Health & Developmental Serv. of Strafford County, Inc | NH | 229,681
Families in Transition | NH | 132,001
Greater Nashua Council on Alcoholism, Inc | NH | 60,083
Harbor Homes, Inc | NH | 1,243,547
Helping Hands Outreach Ministries, Inc | NH | 135,660
Marguerite's Place, Inc | NH | 58,481
My Friend's Place | NH | 54,240
Northern New Hampshire Mental Health and Developmental Services | NH | 132,011
Southern New Hampshire Services, Inc | NH | 140,392
State of New Hampshire | NH | 2,138,999
The Way Home | NH | 281,635
West Central Services, Inc | NH | 66,038
AAH of Bergen County Inc | NJ | 189,841
Advance Housing, Inc | NJ | 1,050,530
AIDS Coalition of Southern NJ | NJ | 57,331
Alternatives, Inc | NJ | 352,723
Babyland Family Services, Inc | NJ | 117,600
Burlington County Action Program | NJ | 14,172
Camden County Council on Economic Opportunity, Inc | NJ | 745,955
Career Opportunity Development, Inc | NJ | 336,000
Caring For Kids Exchange Club Family Center | NJ | 42,423
Catholic Charities Diocese of Trenton | NJ | 136,584
Catholic Charities of the Archdiocese of Newark | NJ | 160,000
Catholic Charities of the Archiocese of Newark | NJ | 165,497
Catholic Charities, Diocese of Camden | NJ | 29,500
Catholic Charities, Diocese of Metuchen | NJ | 247,661
Catholic Charities, Diocese of Trenton | NJ | 63,497
Center for Family Services | NJ | 97,800
City of East Orange | NJ | 1,029,384
City of Trenton | NJ | 1,762,580
Collaborative Support Program of New Jersey PHA NJ880 | NJ | 318,240
Collaborative Support Programs of New Jersey PHA NJ880 | NJ | 120,360
Collaborative Support Programs of NJ PHA NJ880 | NJ | 308,700
Collaborative Supportive Programs of New Jersey PHA NJ880 | NJ | 421,260
Community Housing in Partnership, Inc. (CHIP) | NJ | 1,225,440
Counseling and Referral Services of Ocean, Inc | NJ | 472,830
County of Cumberland | NJ | 202,800
County of Monmouth | NJ | 509,724
County of Union | NJ | 3,726,466
Dooley House Inc | NJ | 250,000
Easter Seals New Jersey | NJ | 450,975
Easter Seals of New Jersey, Inc | NJ | 63,473
Easter Seals Society of New Jersey, Inc | NJ | 36,368
Essex Business Training Institute | NJ | 388,500
Family Service | NJ | 42,000
Hispanic Multi-Purpose Service Center | NJ | 83,804
Homeless Soulutions Inc | NJ | 680,663
Interfaith Homeless Outreach Council | NJ | 27,148
Isaiah House, Inc | NJ | 674,005
Jersey Battered Women's Services, Inc | NJ | 198,137
LADACIN Network, Inc | NJ | 28,348
Mental Health Association of Morris County | NJ | 60,060
Middlesex Interfaith Partners with the Homeless MIPH | NJ | 174,110
Mother/Child Residential Services, Inc | NJ | 35,438
New Jersey Department of Community Affairs | NJ | 517,772
New Jersey Department of Military and Veterans Affairs | NJ | 354,313
New Jersey Housing and Mortage Finance Agency | NJ | 37,000
New Jersey Housing and Mortgage Finance Agency | NJ | 79,457
Newark Emergency Services for Families Inc | NJ | 165,306
NJ Home, Inc | NJ | 249,200
North Hudson Community Action Corporation | NJ | 424,888
O.C.E.A.N., Inc | NJ | 789,044
Ocean's Harbor House, Inc | NJ | 52,500
Our Lady of Lourdes Health Foundation | NJ | 256,069
Passaic County Department of Human Services | NJ | 924,982
Paterson Coaliton for Housing, Inc | NJ | 358,740
Positive Health Care, Incorporated | NJ | 978,850
Project Live, Inc | NJ | 805,923
Respond, Inc | NJ | 64,459
Saint Joseph's Home | NJ | 558,534
Salem County Inter-Agency Council of Human Services | NJ | 137,550
Shelter Our Sisters | NJ | 42,022
South Jersey Behav. Health Resources, Inc | NJ | 99,178
St. Philip's Ministry of the UMC | NJ | 90,825
Strengthen Our Sisters | NJ | 233,334
The Apostles' House | NJ | 295,989
The Doe Fund, Inc | NJ | 1,239,270
The House of Faith, Inc | NJ | 293,475
The Lester A. Drenk Behavioral Health Center | NJ | 89,520
The Salvation Army | NJ | 279,000
The United Way of Hudson County | NJ | 1,179,019
Transitional Housing Services, Inc | NJ | 66,183
Triple C Housing, Inc | NJ | 109,916
Urban Renewal Corporation | NJ | 80,770
Urban Youth Development Corporation | NJ | 1,062,588
Vantage Health System, Inc | NJ | 347,189
Vetgroup, Inc | NJ | 55,999
Volunteers of America Delaware Valley, Inc | NJ | 1,019,016
WomenRising, Inc | NJ | 644,269
Albuquerque Health Care for the Homeless, Inc | NM | 135,267
Albuquerque Mental Health Housing Coalition, Inc | NM | 165,141
Barrett Foundation, Inc | NM | 121,227
Cas Milagro | NM | 246,750
Catholic Charities | NM | 636,890
City of Albuquerque | NM | 2,172,163
City of Santa Fe | NM | 1,028,664
Dream Tree Project, Inc | NM | 234,410
El Refugio Inc | NM | 198,450
Hacienda del Sol | NM | 367,602
Human Rights Advocacy, Inc | NM | 405,961
Saint Elizabeth Shelter | NM | 189,598
Socorro County Housing Authority | NM | 295,980
South Western Advocates 4 Kids | NM | 317,414
St. Martin's Hospitality Center | NM | 115,500
Transitional Living Services, Inc | NM | 381,300
Women's Community Association | NM | 42,097
Carson City Human Services | NV | 101,580
Center for Independent Living | NV | 609,062
Churchill County Social Services | NV | 83,615
Douglas County | NV | 120,000
EOB Community Action Partnership | NV | 313,668
HELP Las Vegas Housing Corporation II | NV | 887,342
Northern Nevada Adult Mental Health Services | NV | 421,272
Northern Nevada Community Housing Resource Board | NV | 51,955
ReStart Inc | NV | 612,036
ReStart, Inc | NV | 69,400
Rural Clinics Community Mental Health Centers | NV | 216,804
St. Vincent HELP Inc | NV | 265,279
State of Nevada | NV | 1,396,416
The Salvation Army, A California Corporation | NV | 1,289,849
United States Veterans Initiative | NV | 623,618
Washoe County | NV | 286,080
163rd Street Improvement Council, Inc | NY | 297,675
Adirondack Vets House, Inc | NY | 75,417
Albany Housing Authority | NY | 433,044
Albany Housing Coalition, Inc | NY | 349,944
Anchor House, Inc | NY | 240,648
Argus Community, Inc | NY | 1,171,701
Auburn Housing Authority | NY | 141,600
B.A.S.I.C.S. Inc | NY | 353,208
Bailey House, Inc | NY | 1,258,600
Bethesda House of Schenectady, Inc | NY | 276,948
Binghamton Housing Authority | NY | 398,400
Bowery Residents' Committee, Inc | NY | 2,377,296
Brooklyn Bureau of Community Service | NY | 724,598
Catholic Charities Diocese of Rockville Centre | NY | 708,880
Catholic Charities of the Roman | NY | 464,752
Cattaraugus Community Action, Inc | NY | 94,315
Cayuga/Seneca Community Action Agenct, Inc | NY | 105,867
Cazenovia Recovery Systems, Inc | NY | 625,618
CDCLI Housing Development Fund Corporation, Inc | NY | 57,007
Center for Urban Community Service, Inc | NY | 1,809,176
Church Avenue Merchants Block Association, Inc. (CAMBA) | NY | 166,666
Circulo de la Hispanidad, Inc | NY | 495,527
City Mission Society, Inc | NY | 664,830
City of Mount Vernon Dept. of Planning & Community Development | NY | 689,684
City of Schenectady | NY | 145,800
Coalition for the Homeless, Inc | NY | 367,554
Columbia Opportunities | NY | 29,094
Common Ground Community IV HDFC | NY | 141,382
Community Access, Inc | NY | 809,950
Community Housing Innovations, Inc | NY | 477,911
Community Living Associates Program, Inc | NY | 287,115
Corporation for AIDS Research, Education and Services, Inc | NY | 29,400
Corporation for AIDS Research, Education and Services, Inc. (CARES, Inc.) | NY | 84,667
Council on Alcoholism & Drug Abuse of Sullivan County, Inc | NY | 223,287
Covenant House New York/Under 21, Inc | NY | 2,748,085
Crystal Run Village, Inc | NY | 1,094,756
Damon House New York, Inc | NY | 262,479
Durham Memorial AME Zion Church/OPERATION H.O.P.E | NY | 138,390
Dutchess County | NY | 645,263
El Regreso Foundation | NY | 253,855
Equinox, Inc | NY | 161,335
Erie County Department of Mental Health | NY | 6,672,139
Family Nurturing Center of Central New York, Inc | NY | 209,700
Family of Woodstock, Inc | NY | 91,667
Family Service League of Suffolk County, Inc | NY | 184,684
Federation Employment and Guidance Service, Inc | NY | 3,567,540
Federation Employment and Guidance Service, Inc | NY | 494,795
Federation of Organizations | NY | 281,447
Fountain House Inc | NY | 144,712
Gerard Place Housing Development Fund Company, Inc | NY | 283,357
Glens Falls Housing Authority | NY | 436,320
Goddard Riverside Community Center | NY | 433,034
Greyston Health Services | NY | 251,112
HELP Social Service Corporation | NY | 1,338,679
HELP Suffok, Inc | NY | 127,897
HELP-Equity Homes, Inc | NY | 497,744
Helping Hands Unlimited, Inc | NY | 160,454
Heritage Health and Housing, Inc | NY | 845,382
Homeless Action Committee, Inc | NY | 79,747
Homeless and Travelers Aid Society of the Capital District, Inc | NY | 246,273
Homespace Corporation | NY | 266,626
Housing and Solutions, Inc | NY | 695,029
Housing Council in the Monroe County Area, Inc | NY | 61,677
Housing Options Made Easy, Inc | NY | 105,475
Institute for Community Living, Inc | NY | 2,432,353
Jefferson County Department of Social Services | NY | 588,060
Jewish Board of Family and Children's Services, Inc | NY | 830,789
Joseph's House & Shelter, Inc | NY | 116,984
Kenmore Housing Development Funding Corporation | NY | 781,153
Legal Aid Society of Northeastern New York | NY | 63,772
Legal Services of the Hudson Valley | NY | 52,753
Lenox Hill Neighborhood House, Inc | NY | 283,845
Liberty Resources, Inc | NY | 190,065
Lower Eastside Service Center, Inc | NY | 493,334
Lutheran Social Services of Metropolitan New York | NY | 1,005,900
Mental Health Association of Nassau | NY | 410,955
Mental Health Association of NYC, Inc | NY | 869,154
Metropolitan Council on Jewish Poverty | NY | 99,942
Minority Task Force on AIDS | NY | 518,078
Mohawk Opportunities, Inc | NY | 244,392
MTI Residential Services, Inc. (formerly known as Multi Talents) | NY | 556,933
Nassau County Coalition Against Domestic Violence | NY | 448,437
Nassau/Suffolk Law Services Committee, Inc | NY | 302,852
Neighborhood Coalition for Shelter, Inc | NY | 240,287
Neighborhood Legal Services, Inc | NY | 443,989
New State Office of Mental Health | NY | 133,320
New York State Office Mental Health | NY | 166,656
New York State Office of Mental Health | NY | 5,622,091
NYC Department of Housing Preservation and Development | NY | 16,425,120
NYS Office of Alcoholism & Substance Abuse Services | NY | 439,584
NYS Office of Alcoholism and Substance Abuse Services | NY | 717,828
NYS Office of Alcoholism and Substance Abuse Services (OASAS) | NY | 4,892,448
Oneida County Department of Mental Health | NY | 474,965
Oneida County Workforce Development | NY | 79,800
Options for Community Living, Inc | NY | 985,662
Palladia, Inc | NY | 2,956,091
Paradise Opportunities, Inc | NY | 149,058
Pathways to Housing, Inc | NY | 1,675,127
Phase: Piggy Back, Inc | NY | 443,065
Pibly Residential Programs, Inc | NY | 463,234
Plattsburgh Housing Authority | NY | 152,700
Postgraduate Center for Mental Health | NY | 945,354
Praxis Housing Iniatives, Inc | NY | 795,229
Project for Psychiatric Outreach to the Homeless, Inc. (PPOH) | NY | 438,140
Project Hospitality, Inc | NY | 370,558
Project Renewal, Inc | NY | 1,798,031
Putnam County Department of Social Services | NY | 151,082
Regional Economic Community Action Program, Inc | NY | 65,810
Rehabilitation Support Services | NY | 266,455
Rochester Housing Authority | NY | 2,241,696
Rockland County Dept. of Community Development | NY | 707,157
Rural Opportunities, Inc | NY | 65,450
Safe Inc., of Schenectady | NY | 48,267
Safe Space NYC, Inc | NY | 225,610
Samaritan Village, Inc | NY | 526,459
Saratoga County Rural Preservation Company | NY | 43,997
Schenectady Community Action Program, Inc | NY | 497,715
Services for the Underserved Mental Health Services, Inc | NY | 2,392,573
Society of Saint Vincent de Paul, Diocesan Council of Rockville Centre | NY | 150,084
Spiritus Christi Prison Outreach Inc., Men's Residency Program | NY | 52,500
State of New York | NY | 1,731,120
Steuben Churchpeople Against Poverty, Inc | NY | 199,284
Steuben County | NY | 330,216
Suburban Housing Development and Research, Inc | NY | 1,080,790
Syracuse Brick House, Inc | NY | 1,187,860
Syracuse Housing Authority | NY | 1,954,140
The Bridge Inc | NY | 1,257,740
The Doe Fund, Inc | NY | 3,013,781
The Lantern Group, Inc | NY | 630,000
The Mental Health Association of Columbia-Greene Counties, Inc | NY | 197,387
The Municipal Housing Authority for the City of Yonkers | NY | 1,444,015
The Salvation Army | NY | 1,336,144
The Spanish Action League of Onodaga County, Inc | NY | 99,740
The YMCA of Greater New York | NY | 570,505
Tompkins Community Action | NY | 143,459
Troy Housing Authority | NY | 548,232
Ulster County Department of Social Services | NY | 69,195
United Bronx Parents, Inc | NY | 419,529
United Cerebral Palsy and Handicapped Persons Association of the Utica Area, Inc | NY | 562,442
Unity House of Cayuga County, Inc | NY | 67,500
Unity House of Troy, Inc | NY | 483,531
Urban Justice Center | NY | 252,398
Urban Pathways | NY | 174,675
Urban Resource Institute | NY | 250,295
Veritas Therapeutic Community, Inc | NY | 372,258
Vocational Instruction Project Community Services | NY | 278,855
Wayne County Action Program, Inc | NY | 22,258
Westchester County Department of Community Mental Health | NY | 6,343,620
Westchester County Department of Social Services | NY | 758,910
WestHELP, Inc | NY | 240,000
Weston United Community Renewal | NY | 224,910
Women in Need, Inc | NY | 1,272,280
YWCA of Binhamton/Broome County | NY | 517,373
YWCA of Syracuse & Onondaga County | NY | 492,767
YWCA of the Tonawandos and Niagara Frontier, Inc | NY | 120,348
YWCA of Troy-Cohoes | NY | 75,000
ACCESS, Inc | OH | 355,270
AIDS Taskforce of Greater Cleveland | OH | 75,654
AIDS Volunteers of Cincinnati | OH | 56,700
Akron Metropolitan Housing Authority | OH | 920,412
Allen Metropolitan Housing Authority | OH | 633,000
Alliance for Children & Families | OH | 378,924
Athens Metropolitan Housing Authority | OH | 769,620
Battered Women's Shelter | OH | 612,686
Caracole, Inc | OH | 479,999
Catholic Charities Diocese of Toledo | OH | 268,192
Center for Independent Living Options, Inc | OH | 167,187
City of Cincinnati, Dept. of Community Development & Planning | OH | 4,039,476
City of Springfield | OH | 92,172
Cleveland Housing Network, Inc | OH | 38,678
Coleman Professional Services | OH | 184,024
Colombiana Metropolitan Housing Authority | OH | 514,800
Columbus Metropolitan Housing Authority | OH | 3,200,304
Community Housing Network, Inc | OH | 717,155
Community Legal Aid Services, Inc | OH | 52,793
Community Services of Stark County, Inc | OH | 266,665
Community Shelter Board | OH | 42,772
Continue Life Inc | OH | 212,973
Crisis Intervention Center of Stark County, Inc | OH | 150,500
Cuyahoga County Dept. of Health & Human Services | OH | 12,678,636
Cuyahoga Metropolitan Housing Authority (CMHA) | OH | 949,418
Daybreak, Inc | OH | 188,769
East Side Catholic Center and Shelter, Inc | OH | 187,749
Emerald Development & Economic Network (EDEN), Inc | OH | 2,445,877
Family & Community Services, Inc | OH | 115,392
Family Outreach Community United Services, Inc. (FOCUS) | OH | 1,121,287
First Step Home, Inc | OH | 161,067
FreeStore/FoodBank, Inc | OH | 349,345
Friends of the Homeless, Inc | OH | 260,680
Geauga Community Board of Mental Health Drug & Alcohol Services | OH | 89,232
Greene Metropolitan Housing Authority | OH | 127,140
H.M. Life Opportunity Services | OH | 204,200
Hamilton County Department of Job and Family Services | OH | 244,418
Harbor House/300 Beds, Inc | OH | 278,490
Hitchcock Center for Women, Inc | OH | 512,244
Hocking Metropolitan Housing Authority | OH | 442,560
Humility of Mary Housing Development Corporation | OH | 229,871
ICAN, Inc | OH | 269,580
Info Line, Inc | OH | 479,390
Ironton-Lawrence County Area Community Action | OH | 101,333
Jefferson County Community Action Council, Inc | OH | 138,432
Joseph House, Inc | OH | 215,320
Joseph's Home Inc | OH | 273,056
Know Metropolitan Housing Authority | OH | 433,980
Lakewood Christian Service Center | OH | 82,796
Legacy III, Inc | OH | 133,012
Lighthouse Youth Services, Inc | OH | 353,172
Lorain Metropolitan Housing Authority | OH | 519,444
Lucas County T.A.S.C., Inc | OH | 117,606
Lutheran Metropolitan Ministry | OH | 50,157
M.R.M.T.O.A.P., Inc | OH | 32,555
Maryhaven | OH | 105,000
Medina Metropolitan Housing Authority | OH | 897,000
Mental Health Services for Homeless Persons, Inc. (MHS) | OH | 2,215,428
Mental Heath & Recovery Board of Union County | OH | 220,083
Mercy Manor, Inc | OH | 320,539
Meridian Services, Inc | OH | 113,302
Miami Valley Housing Opportunities, Inc | OH | 351,865
Multi-Development Services of Stark County | OH | 289,610
National Church Residences | OH | 250,092
Neighborhood Properties, Incorporated | OH | 1,360,418
New Housing Opportunities, Inc | OH | 733,866
New Life Community | OH | 111,287
North Coast Community Homes | OH | 544,986
Ohio Valley Goodwill Industries Rehabilitation Center, Inc | OH | 564,523
Over-the-Rhine Housing Network | OH | 112,074
PLACES, Inc | OH | 1,377,727
Potential Development Program, Inc | OH | 44,275
Shelterhouse Volunteer Group, Inc | OH | 985,671
St. Vincent Hotel, Inc | OH | 393,820
Stark Metropolitan Housing Authority | OH | 175,572
State of Ohio Department of Development | OH | 199,404
Tender Mercies, Inc | OH | 898,473
The City of Dayton Dept. of Planning & Community Development | OH | 2,103,564
The Mental Health, Drug and Alcohol Services Board | OH | 40,348
The Other Place | OH | 596,052
The Salvation Army | OH | 1,230,739
Tom Geiger Guest House, Inc | OH | 256,760
Turning Point Counseling Services | OH | 90,941
Tuscarawas Metropolitan Housing Authority | OH | 262,440
United Way of the Greater Dayton Area | OH | 137,899
Volunteers of America of Northeast and North Central Ohio, Inc | OH | 326,122
WSOS Community Action Commission, Inc | OH | 1,609,352
YMCA of Greater Cleveland | OH | 342,158
Young Women's Christian Association of Youngstown, Ohio | OH | 289,564
Young Women's Christian Association, Inc | OH | 41,570
YWCA of Dayton | OH | 405,799
Central Oklahoma Community Action | OK | 209,098
City of Oklahoma City | OK | 887,222
Community Service Council of Greater Tulsa | OK | 129,113
Eagle Ridge Institute, Inc. dba/Eagle Ridge Family Treatment Center | OK | 183,539
Food & Shelter for Friends | OK | 52,706
Great Plains Improvement Foundation, Inc | OK | 62,015
KI BOIS Community Action Foundation, Inc | OK | 119,402
Legal Aid Services of Oklahoma, Inc | OK | 111,920
Mental Health Association in Tulsa, Inc | OK | 206,573
Norman Housing Authority | OK | 66,264
Northeast Oklahoma Community Action Agency, Inc | OK | 32,819
Oklahoma Mental Health Council d/b/a Red Rock Behavioral Health | OK | 162,175
State of Oklahoma | OK | 146,796
The Salvation Army, A Georgia Corporation | OK | 110,431
The Salvation Army, A Georgia Corporation for The Salvation Army | OK | 98,201
United Way of Ponca City, Inc | OK | 109,584
Volunteers of America of Oklahoma, Inc | OK | 206,269
Bradley-Angle House | OR | 71,273
Cascadia Behavioral HealthCare, Inc | OR | 823,947
Central City Concern | OR | 723,602
Central Oregon Community Action Agency Network | OR | 296,759
City of Portland | OR | 881,278
Clackamas County Social Services | OR | 228,400
Community Action Organization | OR | 165,219
Community Works, Inc | OR | 119,700
Housing Authority of Portland | OR | 409,104
Lane County, Oregon | OR | 1,565,295
Mid-Willamette Valley Community Action Agency, Inc | OR | 414,778
Multnomah County | OR | 2,039,642
Neighborhood House, Inc | OR | 276,771
Northwest Human Services | OR | 235,026
Oregon Housing and Community Services | OR | 1,414,832
Portland Impact, Inc | OR | 115,737
Rogue Valley Council of Governments | OR | 133,665
Shangri-La Corporation | OR | 37,800
Southwestern Oregon Community Action Committee, Inc | OR | 47,085
St. Vincent de Paul Society of Lane County, Inc | OR | 471,956
The Inn—Home for Boys | OR | 241,295
The Salvation Army | OR | 39,375
The Salvation Army, A California Corporation | OR | 125,769
Transition Projects, Inc | OR | 243,041
Washington County Department of Housing Services | OR | 487,975
1260 Housing Development Corporation | PA | 579,121
Access-York, Inc | PA | 444,150
AchieveAbility | PA | 239,400
Adams County Housing Authority | PA | 119,237
Allegheny County Department of Human Services | PA | 2,767,913
Allied Services Foundation | PA | 169,872
American Red Cross Lower Bucks County Chapter | PA | 80,905
American Rescue Workers, Inc. Hollidaysburg Corps | PA | 350,381
Armstrong County Community Action Agency | PA | 354,925
Asociacion De Puertorriquenos En Marcha, Inc. (APM) | PA | 199,616
Bell Socialization Services, Inc | PA | 104,473
Berks County Women in Crisis | PA | 84,000
Bethesda Project | PA | 513,511
Borough of State College | PA | 32,760
Bucks County | PA | 108,797
Bucks County Housing Group, Inc | PA | 160,407
Bucks County Office of Employment and Training, Inc | PA | 110,158
Butler County Community Action & Development | PA | 161,013
Butler County Drug and Alcohol Program | PA | 163,364
Calcutta House, Inc | PA | 201,213
Carson Valley School | PA | 784,411
Catherine McAuley Center | PA | 227,400
Catholic Social Services Diocese of Scranton, Inc | PA | 141,825
Catholic Social Services of Delaware County/Archdiocese of Philadelphia | PA | 200,011
Centre County Youth Service Bureau | PA | 158,610
Citizens Against Physical, Sexual and Emotional Abuse, Inc | PA | 275,078
City Mission—Living Stones, Inc | PA | 491,875
City of Philadelphia | PA | 6,694,770
Comhar, Inc | PA | 1,662,362
Commission on Economic Opportunity | PA | 1,076,422
Committee for Dignity & Fairness for the Homeless Housing Dev. Inc | PA | 788,975
Community Action Agency of Delaware County, Inc | PA | 817,200
Community Action Committee of the Lehigh Valley | PA | 25,348
Community Action Partnership of Mercer County (CAPMC) | PA | 154,494
Community Action Southwest | PA | 36,228
Community Alliance and Reinvestment Endeavor, Inc. (C.A.R.E.) | PA | 117,377
Community Basics, Inc | PA | 349,333
Community Housing Services | PA | 385,139
Community Intervention Center | PA | 275,993
Connect, Inc | PA | 119,669
Council on Chemical Abuse | PA | 320,476
County of Chester | PA | 206,687
County of Delaware | PA | 362,520
County of Erie DHS MH/MR | PA | 1,560,487
County of Franklin | PA | 279,803
County of Greene | PA | 306,497
County of Indiana | PA | 45,289
County of Washington | PA | 1,086,960
County of York | PA | 122,064
Crisis Shelter of Lawrence County | PA | 249,362
Delaware County Housing Authority | PA | 878,520
DELTA Housing, Inc | PA | 84,067
Domestic Abuse Project of Delaware County, Inc | PA | 146,907
Drueding Center/Project Rainbow | PA | 2,529,232
DuBois Housing Authority | PA | 139,428
Easy Does It, Inc | PA | 144,529
Family and Community Services of Delaware County | PA | 112,445
Family Planning Council | PA | 245,952
Family Services of Montgomery County | PA | 181,692
Fayette County Community Action Agency, Inc | PA | 273,108
Hedwig House, Inc | PA | 181,201
Home Nursing Agency Community Services | PA | 669,318
Horizon House, Inc | PA | 3,600,853
Housing Authority of Centre County | PA | 57,504
Housing Authority of the City of Lancaster | PA | 114,816
Housing Authority of the County of Beaver | PA | 55,693
Housing Authority of the County of Butler | PA | 467,091
Housing Authority of the County of Cumberland | PA | 312,480
Housing Development Corporation of NEPA | PA | 499,882
Impact Services Corporation | PA | 1,007,681
Indian Valley Housing Corporation | PA | 334,809
Indian Valley Opportunity Center | PA | 32,000
Indiana County Community Action Program, Inc | PA | 80,802
Laurel House | PA | 84,000
Lehigh County Conference of Churches | PA | 336,472
Mental Health Association of Southeastern Pennsylvania | PA | 510,687
Montgomery County Community Action Development Commission | PA | 59,216
Montgomery County, PA-Office MH/MR/DA/BH | PA | 410,040
Neighborhood Services | PA | 218,640
Opportunity House | PA | 587,309
Overington House, Inc | PA | 254,142
Partners in Neighborhood Rev. Inc | PA | 110,449
Penn Foundation, Inc | PA | 72,888
Penndel Mental Health Center, Inc | PA | 71,671
People's Emergency Center | PA | 1,849,764
Philadelphia Housing Authority | PA | 271,392
Prince of Peace Center | PA | 304,141
Resource for Human Development, Inc | PA | 639,291
Resources for Human Development, Inc | PA | 1,261,382
The Cielo Group, Inc | PA | 782,390
The Lighthouse Foundation | PA | 39,274
The Salvation Army | PA | 301,702
The Salvation Army, a New York Corp. Eastern PA & DE Div | PA | 181,125
The Salvation Army, a New York Corporation | PA | 822,329
Travelers Aid Society of Philadelphia | PA | 384,074
Turning Point Interfaith Mission | PA | 600,112
United Neighborhood Centers | PA | 617,036
Valley Youth House Committee, Inc | PA | 1,462,469
Victim Outreach Intervention Center | PA | 87,178
Volunteers of America | PA | 1,003,143
Volunteers of America Delaware Valley, Inc | PA | 405,953
Warren-Forest Counties Economic Opportunity Council | PA | 318,113
Westmoreland Human Opportunities, Inc | PA | 458,000
Women Against Abuse, Inc | PA | 409,042
Women's Resource Center, Inc | PA | 133,679
YMCA of Reading and Berks County | PA | 295,708
YMCA of York and York County | PA | 266,964
YWCA of Greater Harrisburg | PA | 96,200
Administration for Families and Children, Department of the Family | PR | 436,911
Amigos Padre Damian Foundation/Coalition of the Continued Support of Guay | PR | 600,071
Casa del Peregrno Aguadilla, Inc | PR | 74,761
Coalicion Criolla De Cuidado Continuo A Personas Sin Hogar | PR | 37,706
Corp. La Fondita de Jesus | PR | 938,708
Corporacion de Servicios de Salud y Mediana Avanzada (COSSMA) | PR | 491,268
Estancia Corazon, Inc | PR | 286,739
Funacion Chana & Samuel Levis, Inc | PR | 258,761
Fundacion Chana & Samuel Levis, Inc | PR | 1,969,701
Fundacion de Desarrollo Communal de P.R. Inc. (FUNDESCO) | PR | 1,177,989
Fundacion De Desarrollo Comunal De P.R., Inc | PR | 290,289
Hogar Del buen Pastor | PR | 237,609
La Perla De Grand Percio | PR | 356,213
La Tierra Prometida, Inc | PR | 454,704
Lucha Contra El Sida, Inc | PR | 77,086
Municipality of Cayey | PR | 455,370
Municipality of San Juan | PR | 929,153
Municipality of Vega Baja | PR | 460,251
Puerto Rico Commonwealth Dept of Housing | PR | 2,178,000
Rhode Island Housing Mortage & Finance Corp | RI | 2,821,399
The Providence Center | RI | 41,134
Any Length Recovery, Inc | SC | 57,204
Charleston County Human Services Commission | SC | 208,108
Charleston Orphan House Inc. d/b/a Carolina Youth Development Center | SC | 237,589
Crisis Ministries | SC | 460,371
Florence Crittenton Programs of South Carolina | SC | 201,768
Greenville Area Interfaith Hospitality Network (GAIHN) | SC | 21,776
Home Alliance, Inc | SC | 325,460
Homes of Hope, Inc | SC | 55,866
Lighthouse Ministries | SC | 60,294
MEG's House Shelter for Abused Women and Children | SC | 109,334
Myrtle Beach Housing Authority | SC | 188,280
North Charleston Community Interfaith Shelter d/b/a Good Neighbor Center | SC | 106,890
Pee Dee Community Action Agency | SC | 179,098
Pee Dee Community Action Partnership | SC | 49,002
Project Care | SC | 166,667
Rosewood House of Recovery, Inc | SC | 235,573
SC Department of Mental Health | SC | 1,149,144
Spartanburg County | SC | 160,165
Sunbelt Human Advancement Resources, Inc.—SHARE | SC | 643,990
The Samaritan House Inc | SC | 203,627
The Women's Shelter | SC | 249,215
Trinity Housing Corporation | SC | 479,567
United Way of Kershaw County | SC | 166,200
Upstate Homeless Coalition of South Carolina | SC | 1,161,441
Wateree Community Actions, Inc | SC | 121,150
Williamsburg Enterprise Community Commission, Inc. (WECC) | SC | 127,190
Cornerstone Rescue Mission | SD | 641,114
Development for the Disabled, Inc | SD | 300,308
Sioux Falls Housing & Redevelopment Commission | SD | 110,808
Wall Street Mission d/b/a Goodwill Industries | SD | 53,432
AGAPE Child & Family Services, Inc | TN | 193,040
Alpha Omega Veterans Services, Inc | TN | 709,952
Associated Catholic Charities, Inc | TN | 1,377,271
Behavioral Health Initiatives, Inc | TN | 78,750
Buffalo Valley, Inc | TN | 1,612,914
Campus For Human Development | TN | 31,348
Carey Counseling Services, Inc | TN | 195,588
Catholic Charities of East Tennessee | TN | 63,840
Catholic Charities of East Tennessee, Inc | TN | 165,204
Chattanooga Church Ministries, Inc | TN | 185,701
Chattanooga Housing Authority | TN | 480,360
Child & Family Tennessee | TN | 88,899
City of Chattanooga | TN | 164,220
Cocaine & Alcohol Awareness Program | TN | 168,749
Council for Alcohol & Drug Abuse Services, Inc | TN | 252,893
Damascus Road, Inc | TN | 158,537
Fairview Housing Management Corporation | TN | 121,197
Fayette Cares, Inc | TN | 76,739
Fentress County | TN | 130,440
Fortwood Center, Inc | TN | 138,649
Frontier Health, Inc | TN | 228,924
Genesis House, Inc | TN | 62,649
J.W. Willams Community Center dba Women's Oasis of Memphis | TN | 239,117
Jackson Area Council on Alcoholism and Drug Dependency | TN | 145,300
Jackson Housing Authority | TN | 60,149
Kingsport Housing & Redevelopment Authority | TN | 195,480
Knoxville-Knox County Action Committee | TN | 243,630
Legal Aid of East Tennessee, Inc | TN | 33,826
Marshall County | TN | 62,760
Memphis Family Shelter, Inc | TN | 197,886
Metropolitan Development & Housing Agency | TN | 1,739,108
Metropolitan Inter-Faith Association, Inc | TN | 651,289
Murfreesboro Housing Authority | TN | 278,748
Nashville CARES | TN | 58,165
Operation Stand Down Nashville, Inc | TN | 50,000
Park Center | TN | 124,080
Partners for the Homeless | TN | 37,572
Professional Care Services of West TN, Inc | TN | 18,959
QUINCO Community Mental Health Center, Inc | TN | 98,595
Renewal House, Inc | TN | 29,307
S.A.V.E. (Survivors Against Violent Environments) | TN | 107,466
Shelby County Government | TN | 285,818
Street Works | TN | 89,418
Synergy Treatment Centers, Inc | TN | 44,722
The Salvation Army, a Georgia Corporation | TN | 592,840
The University of Tennessee | TN | 138,895
The University of Tennessee Health Science Center | TN | 105,738
Town of Crossville Housing Authority | TN | 236,880
Urban Housing Solutions | TN | 684,122
Welcome Home Ministries | TN | 188,966
Whitehaven Southwest Mental Health Center | TN | 120,712
Women's Resource and Rape Assistance Program | TN | 85,973
YWCA of Nashville and Middle Tennessee | TN | 46,566
ABC Behavioral Health, L.L.C | TX | 431,662
Abilene Hope Haven, Inc | TX | 371,154
AIDS Foundation Houston, Inc. (AFH) | TX | 1,097,342
AIDS Services of North Texas, Inc | TX | 237,734
All Church Home for Children | TX | 113,922
Arlington Life Shelter | TX | 108,755
Austin Texas County Mental Health Mental Retardation Center | TX | 348,007
Austin Travis County MHMR Center | TX | 78,533
Bay Area Turning Point, Inc | TX | 268,305
Brighter Tomorrows, Inc | TX | 176,360
Buckner Children and Family Services, Inc | TX | 35,016
Career and Recovery Resources, Inc | TX | 117,113
Caritas of Austin | TX | 706,910
Catholic Charities of the Archdiocese of Galveston-Houston | TX | 56,466
Central Dallas Food Pantry d/b/a Central Dallas Ministries | TX | 982,458
Central Texas Council of Governments | TX | 345,248
City of Amarillo | TX | 754,000
City of Dallas | TX | 2,544,287
City of El Paso, Texas | TX | 53,545
City of Longview | TX | 231,924
City of San Antonio | TX | 5,477,622
City of Texarkana, Texas | TX | 18,769
Coalition for the Homeless Houston/Harris County | TX | 185,491
Coastal Bend Alcohol & Drug Rehabilitation Center dba Charlie's Place | TX | 142,569
Collin County Mental Health Mental Retardation Center d/b/a LifePath System | TX | 334,944
Community Council of Greater Dallas | TX | 63,611
Community Enrichment Center, Inc | TX | 236,543
Compassion Ministries of Waco, Inc | TX | 161,276
Corpus Christi Metro Ministries, Inc | TX | 160,255
Covenant House Texas | TX | 394,932
Dallas Jewish Coalition, Inc. dba Vogel Alcove Childcare Center for the Homeless | TX | 166,441
Dallas Metrocare Services | TX | 1,808,760
Day Nursery of Abilene, Inc | TX | 136,028
Dental Health for Arlington, Inc | TX | 29,370
Dental Health Programs, Inc. dba Community Dental Care | TX | 146,633
Denton County Mental Health Mental Retardation Center | TX | 264,318
DePelchin Children's Center | TX | 509,589
El Paso Coalition for the Homeless | TX | 107,902
El Paso MHMR | TX | 203,982
Families Under Urban and Social Attack, Inc | TX | 120,750
Family Gateway, Inc | TX | 589,175
Family Services of Southeast Texas, Inc | TX | 150,977
Fort Bend County Women's Center | TX | 651,092
Goodwill Industries of South Texas, Inc | TX | 176,099
Harmony House, Inc | TX | 492,043
Harris County | TX | 3,102,876
HELP Development Corporation | TX | 439,457
Hope's Door | TX | 137,010
Housing Authority—City of Fort Worth | TX | 2,914,164
Housing Authority of the City of El Paso (HACEP) | TX | 425,700
Housing Crisis Center | TX | 473,453
Houston Area Women's Center | TX | 687,514
La Posada Home, Inc | TX | 89,027
Lazarus House Initiative, Inc | TX | 86,223
Legal Aid of Northwest Texas | TX | 167,612
LifeNet Community Behavioral Healthcare | TX | 903,118
Longview Wellness Center, Inc | TX | 372,677
Mental Health Mental Retardation Authority of Harris County | TX | 592,418
Mental Health Mental Retardation of Nueces County | TX | 150,577
Mental Health Retardation of Tarrant County | TX | 87,635
Montgomery County Homeless Coalition | TX | 292,623
Montrose Counseling Center, Inc | TX | 132,611
New Beginning Center, Inc | TX | 188,949
Northwest Assistance Ministries | TX | 491,562
Opportunity Center for the Homeless | TX | 124,908
Perpetual Help Home | TX | 308,982
Port Cities Rescue Mission Ministries | TX | 46,601
Presbysterian Night Shelter | TX | 1,081,801
Promise House, Inc | TX | 219,538
Push-Up Foundations, Inc | TX | 104,559
PWA Coalition of Dallas, Inc. d/b/a AIDS Services of Dallas | TX | 574,390
Rainbow Days, Inc | TX | 257,237
Randy Sams Outreach Shelter | TX | 89,568
Riverside General Hospital | TX | 409,568
Sabine Valley Center | TX | 28,865
SEARCH, Inc | TX | 1,689,424
Shared Housing Center | TX | 90,510
Some Other Place, Inc | TX | 111,888
South East Texas Regional Planning Commission | TX | 23,008
Star of Hope Mission | TX | 1,487,794
Tarrant County | TX | 3,098,902
Tarrant County ACCESS for the Homeless | TX | 149,806
Texas Inmate Services, Inc | TX | 109,469
The Bridge Over Troubled Waters, Inc | TX | 919,894
The Family Place | TX | 976,567
The Gulf Coast Center | TX | 314,061
The Housing Authority of the City of Arlington, Texas | TX | 439,087
The Housing Authority of the City of Austin | TX | 295,632
The Housing Authority of Travis County | TX | 375,408
The Salvation Army, a Georgia Corporation | TX | 1,086,467
The Salvation Army, A Georgia Corporation—Dallas | TX | 146,466
The Salvation Army, A Georgia Corporation—Houston | TX | 349,188
The Women's Home | TX | 126,717
Travis County Domestic Violence & Sexual Assault Survival Center dba SafePlace | TX | 826,440
Triangle AIDS Network | TX | 90,852
Twin City Mission, Inc | TX | 510,226
United States Veterans Initiative | TX | 149,951
United Way of South Texas | TX | 102,375
Volunteers of America Texas, Inc | TX | 212,069
Wellsprings, Inc | TX | 180,974
Wesley Community Center | TX | 134,971
Youth and Family Alliance, Inc. DBA LifeWorks | TX | 363,828
Bear River Association of Governments | UT | 48,383
Community Action Services | UT | 228,653
Davis Family Support Center Inc. DBA Family Connection Center | UT | 247,700
DCCAV-Safe Harbor Shelter and Crisis Center | UT | 74,808
Family Support Center | UT | 201,208
Four Corners Community Behavioral Health, Inc | UT | 156,499
Friends of the Coalition | UT | 55,125
Homeless Veterans Fellowship | UT | 138,288
Housing Assistance Management Enterprise | UT | 587,382
Housing Authority of Salt Lake City | UT | 429,694
Housing Authority of the County of Salt Lake | UT | 1,095,300
Housing Authority of Utah County | UT | 66,960
Iron County Care and Share | UT | 105,221
Mountainlands Community Housing Trust | UT | 72,000
Provo City Housing Authority | UT | 120,528
Salt Lake Community Action Program | UT | 237,418
The Erin Kimball Memorial Foundation, Inc | UT | 107,157
The Road Home | UT | 222,417
Uintah Basin Association of Governments | UT | 58,760
Utah Department of Community and Economic Development | UT | 149,445
Utah Department of Community and Economic Development (DCED) | UT | 34,608
Utah Nonprofit Housing Corporation | UT | 313,797
Valley Mental Health, Inc | UT | 442,442
Volunteers of America | UT | 237,391
Accomack-Northampton Planning District Commission | VA | 21,391
Alexandria Community Services Board | VA | 259,607
Arlington County Government | VA | 149,452
Arlington Street People's Assistance Network | VA | 194,986
Arlington-Alexandria Coalition for the Homeless | VA | 139,440
Avalon: A Center for Women and Children | VA | 64,454
Barrett Haven, Inc | VA | 144,913
CANDII, Inc | VA | 776,843
Christian Relief Services Charities, Inc | VA | 413,285
Christian Relief Services of Virginia, Inc | VA | 508,570
City of Portsmouth | VA | 396,145
City of Richmond, Dept. of Social Services | VA | 891,960
City of Roanoke, VA | VA | 274,385
City of Suffolk, Virginia | VA | 18,703
Commonwealth of Virginia | VA | 60,855
Community Alternatives Management Group, Inc | VA | 557,020
Community Housing Partners Corporation | VA | 347,627
Community Residences, Inc | VA | 244,468
Council of Community Services | VA | 72,938
County of Loudoun | VA | 168,339
Danville Redevelopment & Housing Authority | VA | 107,850
Eastern Shore Community Services Board | VA | 46,683
Emergency Shelter, Inc | VA | 783,317
Fairfax County Department of Family Services | VA | 1,108,688
Fairfax County Department of Housing and Community Development | VA | 984,180
Fairfax-Falls Church Community Services Board | VA | 253,332
ForKids, Inc | VA | 516,248
Hampton-Newport News Community Services Board | VA | 312,028
Harrisonburg Redevelopment & Housing Authority | VA | 42,000
Hilliard House | VA | 262,917
Homestretch, Inc | VA | 146,700
Homeward | VA | 26,745
Kurdish Human Rights Watch, Inc | VA | 426,357
LINK of Hampton Roads, Inc | VA | 314,709
Lutheran Social Services NCA, NOVACO | VA | 111,492
Lynchburg Community Action Group, Inc | VA | 137,241
Mountain Shelter, Inc | VA | 251,458
New Hope Housing, Inc | VA | 277,894
Norfolk Community Services Board | VA | 71,531
Northwestern Community Services | VA | 256,563
Oasis Commission on Social Ministry of Portsmouth/Chesapeake | VA | 250,069
Pathway Homes, Inc | VA | 157,788
People Incorporated of Southwest Virginia | VA | 284,257
Portsmouth Area Resources Coalition, Inc | VA | 276,283
Portsmouth Volunteers for the Homeless, Inc | VA | 55,650
Prince William County Department of Social Services | VA | 600,683
PRS, Inc | VA | 168,450
Rappahannock Refuge, Inc | VA | 57,918
Region Ten Community Services Board | VA | 143,946
Rush Lifetime Homes | VA | 63,000
Saint Columba Ecumenical Ministries | VA | 130,179
Samaritan House, Inc | VA | 152,321
Sheltered Homes of Alexandria | VA | 167,036
South River Development Corporation | VA | 107,513
St. Joseph's Villa | VA | 427,750
The Daily Planet | VA | 586,351
The Planning Council | VA | 104,623
The Salvation Army, A Georgia Corporation | VA | 110,414
The Salvation Army, A Georgia Corporation for Petersburg | VA | 106,213
The Urban League of Greater Richmond | VA | 70,350
Thomas Jefferson Planning District Commission | VA | 71,070
Transitions Family Violence Services | VA | 137,854
TRUST, Roanoke Valley Trouble Center Inc | VA | 53,859
United Community Ministries | VA | 134,732
United Way Greater Richmond & Petersburg | VA | 32,424
Virginia Beach Community Dev. Corporation | VA | 448,412
Virginia Supportive Housing | VA | 1,136,400
Volunteers of America Chesapeake, Inc | VA | 54,075
YWCA of South Hampton Roads | VA | 38,516
Methodist Tranining & Outreach Center, Inc | VI | 187,110
Addison County Community Action Group | VT | 145,046
Burlington Housing Authority | VT | 78,120
Champlain Valley Office of Economic Opportunity | VT | 222,440
Northwestern Counseling & Support Services | VT | 122,136
The Howard Center for Human Services | VT | 381,219
Vermont Department of Health—Division of Mental Health | VT | 30,000
Vermont State Housing Authority VT901 | VT | 924,814
AIDS Housing of Washington | WA | 387,192
Archdiocesan Housing Authority | WA | 504,738
Auburn Youth Resources—Severson House | WA | 123,287
Bellingham/Whatcom County Housing Authorities | WA | 916,956
Benton Franklin Community Action Committee | WA | 123,116
Blue Mountain Action Council | WA | 139,322
Catholic Community Services | WA | 140,086
Child Care Resources | WA | 529,095
Children's Home Society of Washington | WA | 56,642
City of Bremerton | WA | 166,908
City of Seattle | WA | 6,924,274
City of Spokane | WA | 2,077,647
Columbia River Mental Health Services | WA | 148,505
Community Action Center | WA | 19,152
Community Psychiatric Clinic | WA | 423,329
Compass Health | WA | 230,991
Council for the Homeless | WA | 24,938
CYS | WA | 149,624
Development Association of the Goodwill Baptist Chruch | WA | 28,597
El Centro de la Raza | WA | 17,603
Family Support Center | WA | 54,810
Fremont Public Association | WA | 158,620
Friends of Youth | WA | 123,062
HopeSource | WA | 45,400
Housing Authority for the City of Bremerton | WA | 132,450
Housing Authority of Snohomish County | WA | 1,987,380
Housing Authority of the City of Seattle | WA | 9,896
Housing Authority of the City of Vancouver | WA | 114,585
Housing Authority of Thurston County | WA | 133,921
Housing Hope | WA | 167,402
Joint City of Republic-Ferry County Housing Authority | WA | 36,316
Kent Youth and Family Services | WA | 38,135
King County | WA | 6,840,559
Klickitat Skamania Development Council | WA | 108,095
Lewis County | WA | 106,775
Low Income Housing Institute | WA | 522,030
Mary Witt/The Compass Center | WA | 26,285
Mental Health Northwest | WA | 89,396
Multi-Service Center | WA | 26,725
Next Step Housing (formerly Clean House Association) | WA | 46,835
Northwest Youth Services | WA | 377,338
Olympic Community Action Programs | WA | 135,599
Opportunity Council | WA | 224,998
Pierce County | WA | 2,499,562
Seattle Vietnam Veterans Leadership Program | WA | 23,580
Serenity House of Clallam County | WA | 638,683
Share | WA | 61,267
Skagit County Community Action Agency | WA | 50,054
Snohomish County | WA | 942,045
Spokane County | WA | 28,860
Spokane Neighborhood Action Programs | WA | 264,796
Sun Community Service | WA | 35,466
The Curch Council of Greater Seattle | WA | 57,278
The Salvation Army | WA | 69,191
The Salvation Army, A California Corporation | WA | 331,828
Triumph Treatment Services | WA | 158,792
United Indians of All Tribes Foundation | WA | 343,565
Wa. State Department of Community, Trade and Economic Development | WA | 280,062
Yakima County Board of County Commissioners | WA | 81,747
Yakima County for the Homeless | WA | 106,399
YouthCare | WA | 257,459
YW Housing | WA | 256,467
YWCA of Seattle-King County-Snohomish County | WA | 634,250
ADVPCAP, Inc | WI | 465,010
CAP Services, Inc | WI | 105,025
Catherine Marian Housing, Inc | WI | 55,053
Center for Veterans Issues, Inc | WI | 415,911
Center for Veterans Issues, Ltd | WI | 132,805
Central Wisconsin Community Action Council, Inc | WI | 256,902
City of Appleton | WI | 176,577
City of Madison | WI | 111,374
City of Waukesha Housing Authority | WI | 112,555
Community Action, Inc. of Rock and Walworth Counties | WI | 64,722
Community Action, Inc. of Rock and Walworth Counties | WI | 137,839
Community Advocates, Inc | WI | 84,000
Community Relations—Social Development Commission | WI | 260,169
Couleecap, Inc | WI | 609,042
Dane County Human Services | WI | 405,588
Family Service of Racine | WI | 84,671
Family Services of Northeast Wisconsin, Inc | WI | 156,988
Forward Service Corporation | WI | 393,741
Greater Milwaukee Chapter, American Red Cross | WI | 163,901
Guest House of Milwaukee, Inc | WI | 180,454
Health Care for the Homeless of Milwaukee | WI | 49,000
Hebron House of Hospitality, Inc | WI | 116,535
Homeward Bound/Homeless Assistance Leadership Organization, Inc | WI | 241,717
Housing Initiatives Inc | WI | 121,042
InterFaith Hospitality Network of the Madison Area | WI | 54,996
Kenosha Human Development Services, Inc | WI | 261,711
Lakeshore CAP, Inc | WI | 117,663
Legal Action of Wisconsin, Inc | WI | 191,836
Matt Talbot Recovery Center, Incorporated | WI | 235,625
Meta House, Inc | WI | 36,114
Milwaukee County Behavorial Health Division | WI | 2,316,636
Milwaukee County Department of Health and Human Services | WI | 573,627
My Home, Your Home, Inc | WI | 183,547
North Central Community Action Program, Inc | WI | 114,988
Northwest Wisconsin Community Services Agency, Inc | WI | 52,605
Porchlight, Inc | WI | 505,771
Racine Vocational Ministry, Inc | WI | 30,388
Sojurner Truth House, Inc | WI | 40,923
St. Catherine Residence | WI | 144,380
Starting Points, Inc | WI | 499,864
State of Wisconsin | WI | 522,911
Tellurian UCAN, Inc | WI | 1,056,175
The Salvation Army | WI | 80,693
Transitional Living Services, Inc | WI | 144,672
Walker's Point Youth and Family Center | WI | 20,273
West Central Wisconsin Community Action Agency, Inc | WI | 427,009
Western Dairyland Economic: Opportunity Council, Inc | WI | 264,926
YWCA of Greater Milwaukee | WI | 82,970
YWCA of La Crossee, Wisconsin, d/b/a YWCA of the Coulee Region | WI | 72,643
Cabell-Huntington Coalition for the Homeless | WV | 331,938
Caritas House, Inc | WV | 470,990
City of Charleston | WV | 567,800
Clarksburg Housing Authority | WV | 437,100
Community Networks, Inc | WV | 230,268
Greater Wheeling Coalition for the Homeless, Inc | WV | 135,797
Southwestern Community Action Council, Inc | WV | 424,913
Telamon Corporation | WV | 28,071
The Huntington West Virginia Housing Authority | WV | 490,018
Westbrook Health Services, Inc | WV | 65,256
Worthington Mental Health Services | WV | 301,920
Young Women's Christian Association of Charleston, WV Inc | WV | 446,396
Council of Community Services, Inc | WY | 61,016
Total | 1,181,911,241
Fiscal Year 2006 Funding Awards for the Continuum of Care Program
Alaskan AIDS Assistance Association | AK | 103,425
Anchorage Community Mental Health Services, Inc | AK | 850,029
Anchorage Housing Initiatives, Inc | AK | 81,886
Covenant House Alaska | AK | 245,629
Interior Alaska Center for Non-Violent Living | AK | 32,824
Municipality of Anchorage | AK | 296,714
Rural Alaska Community Action Program | AK | 498,642
St. Vincent de Paul Society Diocesan Council Southwest Alaska | AK | 52,700
State of Alaska | AK | 428,884
The LeeShore Center | AK | 73,791
Valley Residential Services, Inc | AK | 175,303
Yukon-Kuskokwim Health Corporation | AK | 50,966
AIDS Alabama, Inc | AL | 594,766
Alabama Coalition Against Domestic Violence | AL | 128,638
Aletheia House | AL | 423,563
Birmingham Health Care, Inc | AL | 626,320
Birmingham Independent Living Center | AL | 26,460
City of Gadsden | AL | 29,297
Crisis Service of North Alabama | AL | 56,393
Faith Crusade Ministries, Inc | AL | 126,871
First Light, Inc | AL | 250,115
Homeless Coalition of the Gulf Coast, Inc | AL | 2,221,175
Interfaith Mission Service, Inc | AL | 105,017
Jefferson County Housing Authority | AL | 3,158,124
Jefferson-Blount-St. Clair Mental Health/Mental Retardation Authority | AL | 234,751
Lighthouse Counseling Center, Inc | AL | 659,320
Montgomery Area Family Violence Program, Inc | AL | 303,258
Montgomery Area Mental Health Authority, Inc | AL | 694,024
Pathways | AL | 128,182
Safeplace, Inc | AL | 520,531
State of Alabama | AL | 217,440
The Cooperative Downtown Ministries | AL | 266,925
The Housing Authority of the City of Huntsville, Alabama | AL | 258,504
The Salvation Army | AL | 159,973
The Salvation Army, A Gerogia Corporation | AL | 78,800
The Tuscaloosa Housing Authority | AL | 141,300
University of Alabama at Birmingham | AL | 488,516
Volunteer & Information Center, Inc | AL | 70,327
YWCA Central Alabama | AL | 535,900
Arkansas Supportive Housing Network, Inc | AR | 991,325
Bethlehem House, Inc | AR | 21,600
Black Community Developers, Inc | AR | 110,125
Committee Against Spouse Abuse | AR | 34,643
Counseling Associates, Inc | AR | 200,000
Department of Health and Human Services (Arkansas) | AR | 828,456
Health Resources of Arkansas | AR | 188,026
Little Rock Community Mental Health Center | AR | 81,529
Our House, Inc | AR | 162,568
Second Genesis, Inc | AR | 173,035
Women and Children First: The Center Against Family Violence | AR | 90,390
Area Agency on Aging, Region One | AZ | 250,374
Arizona Behavioral Health Corporation | AZ | 7,291,736
Arizona Department of Housing | AZ | 8,476,575
Catholic Charities Community Services | AZ | 24,039
Chicanos Por La Causa, Inc | AZ | 101,735
Chrysalis Shelter for Victims of Domestic Violence, Inc | AZ | 24,269
City of Tucson | AZ | 1,634,937
CODAC Behavioral Health Services, Inc | AZ | 166,510
Community Bridges, Inc | AZ | 344,610
Community Information & Referral, Inc | AZ | 577,673
COPE Behavioral Services, Inc | AZ | 431,676
HomeBase Youth Services | AZ | 333,370
Homeward Bound | AZ | 340,011
Information & Referral Services, Inc | AZ | 181,089
La Frontera Center, Inc | AZ | 422,709
Labor's Community Service Agency | AZ | 279,594
Mesa Community Action Network, Inc | AZ | 58,878
META Services, Inc | AZ | 971,973
Native American Connections | AZ | 289,221
Old Pueblo Community Foundation | AZ | 218,022
Phoenix Shanti Group, Inc | AZ | 34,600
Pima County | AZ | 1,908,524
PREHAB of Arizona, Inc | AZ | 510,688
Save the Family Foundation of Arizona | AZ | 623,138
Sojourner Center | AZ | 417,763
Southern Arizona AIDS Foundation | AZ | 171,106
Southwest Behavioral Health Services | AZ | 205,977
The EXCEL Group | AZ | 133,488
The Primavera Foundation, Inc | AZ | 103,306
The Salvation Army | AZ | 120,960
Travelers Aid Society of Tucson, Inc | AZ | 112,486
Tumbleweed Center for Youth Development | AZ | 970,856
UMOM New Day Centers, Inc | AZ | 267,710
United States Veterans Initiative | AZ | 496,557
Women in New Recovery | AZ | 46,862
YWCA of Maricopa County | AZ | 201,671
1736 Family Crisis Center | CA | 521,823
A Community of Friends | CA | 440,253
Affordable Housing Associates | CA | 36,665
Alliance Against Family Violence and Sexual Assault | CA | 57,881
Alpha Project for the Homeless | CA | 1,150,037
Alternative Services | CA | 150,000
American Family Housing | CA | 260,600
Anaheim Supportive Housing for Senior Adults, Inc | CA | 278,040
Antelope Valley Domestic Violence Council | CA | 143,911
Beacon Housing, Inc | CA | 76,192
Berkeley Food and Housing Project | CA | 633,235
Bethany Services dba Bakersfield Homeless Center | CA | 446,289
Beyond Shelter | CA | 141,911
Bill Wilson Center | CA | 847,121
Bonita House, Inc | CA | 33,080
Bridge Focus, Inc | CA | 99,225
Buckelew Programs | CA | 669,905
Building Opportunities for Self-Sufficiency | CA | 2,099,720
California Council for Veterans Affairs, Inc | CA | 136,216
Catholic Charities CYO of the Archdiocese of San Francisco | CA | 250,891
Catholic Charities of Santa Clara County | CA | 938,272
Catholic Charities of Los Angeles, Inc | CA | 246,325
Catholic Charities of the Diocese of Santa Rosa | CA | 79,999
Center for Human Rights & Constitutional Law, Inc | CA | 134,943
Center Point, Incorporated | CA | 516,457
Central City Lutheran Mission | CA | 76,794
Central Community Development Center, Incorporated | CA | 1,491,084
Children's Services International | CA | 165,886
Church of Glad Tidings | CA | 30,300
City and County of San Francisco | CA | 16,638,278
City of Berkeley | CA | 2,098,644
City of Davis | CA | 106,752
City of Fremont | CA | 269,790
City of Long Beach | CA | 4,549,913
City of Oxnard | CA | 187,464
City of Pomona | CA | 924,538
City of Santa Monica | CA | 1,737,504
City of Woodland | CA | 175,151
Clinica Sierra Vista, Inc | CA | 319,590
Colette's Children's Home, Inc | CA | 313,469
Committee on the Shelterless | CA | 197,411
Community Action Agency of Butte County, Inc | CA | 53,947
Community Action Partnership of Kern | CA | 233,624
Community Action Partnership of Sonoma County | CA | 147,624
Community Awareness & Treatment Services, Inc | CA | 348,153
Community Development Commission of Mendocino County | CA | 1,129,392
Community Housing and Shelter Services of Stanislaus County | CA | 299,999
Community Housing Partnership | CA | 157,490
Community Support Network | CA | 96,217
Community Technology Alliance | CA | 303,716
Compass Community Service | CA | 295,006
Contra Costa Health Services | CA | 673,266
CORA (Community Overcoming Relationship Abuse) | CA | 225,375
Council of Orange County Society of St. Vincent de Paul | CA | 839,325
County of Alameda | CA | 7,868,644
County of Los Angeles Dept. of Children and Family Services | CA | 934,615
County of Napa | CA | 143,389
County of Riverside | CA | 5,511,122
County of Sacramento | CA | 12,104,368
County of San Diego | CA | 2,859,605
County of San Diego, Dept. of Housing and Community Development | CA | 108,913
County of Santa Cruz | CA | 232,576
County of Ventura Human Services Agency | CA | 266,361
County of Ventura, Human Services Agency | CA | 195,009
Covenant House California | CA | 128,499
Cupertino Community Services | CA | 82,533
Domestic Violence Solution for Santa Barbara County | CA | 76,219
Emergency Housing Consortium of Santa Clara County | CA | 2,049,832
Episcopal Community Services | CA | 995,703
Fairfield-Suisun Community Action Council, Incorporated | CA | 183,750
Families in Transition of Santa Cruz County, Inc | CA | 366,344
Family Supportive Housing, Inc | CA | 197,077
Filipino American Service Group, Inc | CA | 190,449
Foothill Family Shelter, Incorporated | CA | 34,125
Frazee Community Center | CA | 26,250
Fred Finch Children's Home | CA | 649,863
Fresno County Economic Opportunities Commission | CA | 1,111,792
Fullerton Interfaith Emergency Service, Inc | CA | 252,000
Goodwill Industries of the Greater Eastbay | CA | 859,669
Gramercy Housing Group | CA | 210,961
Greater Bakersfield Legal Assistance, Inc. (GBLA) | CA | 120,080
Greater Richmond Interfaith Program (GRIP) | CA | 105,306
Harbor Interfaith Services, Inc | CA | 127,673
Homes for Life Foundation | CA | 409,657
Homeward Bound of Marin | CA | 560,737
Housing Authority of Contra Costa County | CA | 3,008,220
Housing Authority of the City of Fresno | CA | 132,612
Housing Authority of the City of Los Angeles | CA | 10,902,396
Housing Authority of the City of Napa | CA | 152,676
Housing Authority of the City of Santa Barbara | CA | 590,184
Housing Authority of the County of Los Angeles | CA | 4,542,888
Housing Authority of the County of Marin | CA | 778,488
Housing Authority of the County of Monterey | CA | 367,867
Housing Authority of the County of San Mateo | CA | 3,129,293
Housing Authority of the County of Santa Clara | CA | 2,733,784
Housing Authority of the County of Santa Cruz | CA | 118,520
Housing Authority of the County of Stanislaus | CA | 1,228,534
Housing for Independent People, Inc | CA | 133,333
Humboldt Bay Housing Development Corporation | CA | 119,700
Humboldt County Health and Human Services | CA | 82,353
Inland Behavioral and Health Services, Incorporated | CA | 367,063
Inland Temporary Homes, Incorporated | CA | 128,173
InnVision the Way Home | CA | 1,512,186
InterFaith Shelter Network, Incorporated | CA | 84,894
Interim, Incorporated | CA | 139,291
Jewish Family Service of Los Angeles | CA | 180,498
JWCH Institute, Inc | CA | 308,999
Kings United Way | CA | 103,624
L. A. Family Housing Corporation | CA | 719,323
LifeLong Medical Care | CA | 539,398
Lompoc Housing & Community Development Corporation | CA | 86,440
Los Angeles Homeless Services Authority | CA | 19,924,784
Los Angeles Youth Network | CA | 40,529
Lutheran Social Services of Northern California | CA | 53,747
Madera County Community Action Agency | CA | 525,322
Many Mansions | CA | 222,461
Marin Abused Women's Services | CA | 120,182
Marjaree Mason Center, Inc | CA | 196,446
Mary Lind Foundation | CA | 442,317
Mendocino County | CA | 328,129
Mental Health Association of San Mateo County | CA | 112,801
Mercy House Transitional Living Centers, Inc | CA | 188,000
New Directions, Inc | CA | 574,640
New Economics for Women | CA | 155,254
New Hope Village, Incorporated | CA | 66,675
Next Door Solutions to Domestic Violence | CA | 157,500
North Coast Substance Abuse Council | CA | 219,454
North County Interfaith Council, Inc | CA | 893,990
Northern Valley Catholic Social Services, Inc | CA | 273,288
Ocean Park Community Center | CA | 305,938
Orange County Housing Authority | CA | 5,727,996
Pacific Clinics | CA | 952,750
Pajaro Valley Shelter Services | CA | 13,623
Pasadena Community Development Commission | CA | 1,516,554
PATH (People Assisting the Homeless) | CA | 423,966
Penny Lane Centers | CA | 174,970
Phoenix Programs Incorporated | CA | 152,935
Phoenix Programs, Inc | CA | 484,411
Placer County Health and Human Services—Adult System of Care | CA | 293,282
Placer Women's Center dba PEACE for Families | CA | 212,298
Poverello House | CA | 708,338
Project Understanding | CA | 53,642
Rainbow Services, Ltd | CA | 255,012
Regional Task Force on the Homeless Inc | CA | 342,979
Resources for Community Development | CA | 918,024
Resources for Independent Living, Inc | CA | 97,876
Restoration Village Treatment Center | CA | 199,999
Rubicon Programs, Inc | CA | 2,189,553
Saddleback Community Outreach | CA | 245,364
Samaritan House | CA | 105,000
San Diego Housing Commission | CA | 1,160,628
San Diego Youth & Community Services | CA | 87,571
San Francisco Network Ministries Housing Corporation | CA | 70,749
San Joaquin County | CA | 4,128,266
San Jose Cathedral Foundation | CA | 141,600
San Luis Obispo County | CA | 848,221
Santa Barbara Community Housing Corporation | CA | 99,444
Santa Barbara County | CA | 396,562
Santa Clara Unified School District | CA | 200,534
Santa Cruz Community Counseling Center, Inc | CA | 41,540
Serra Ancillary Care Corporation dba The Serra Project | CA | 614,213
Service League of San Mateo County | CA | 44,996
Serving People In Need, Inc | CA | 209,600
Shelter Network of San Mateo County | CA | 1,408,154
Shelter Outreach Plus | CA | 115,999
SHELTER, Inc. of Contra Costa County | CA | 1,500,001
SHIELDS for Families, Inc | CA | 90,395
Single Room Occupancy (SRO) Housing Corporation | CA | 741,721
Solano County Health and Social Services | CA | 512,948
Sonoma County Community Development Commission | CA | 721,601
South Central Health & Rehabilitation Programs | CA | 224,760
Southern California Alcohol & Drug Programs, Inc | CA | 736,288
Spirit of Woman of California, Inc | CA | 385,562
St. Joseph Center | CA | 47,246
St. Vincent de Paul Society of San Francisco | CA | 132,544
St. Vincent de Paul Village, Incorporated | CA | 4,124,014
STAND! Against Domestic Violence | CA | 242,544
Stanislaus Community Assistance Project | CA | 658,575
Step Up On Second, Inc | CA | 125,856
Stop Homelessness in the Rio Hondo Area, Inc | CA | 165,207
Su Casa Domestic Abuse Network | CA | 52,463
Swords To Plowshares—A Veterans Rights Organization | CA | 486,958
Tarzana Treatment Centers, Inc | CA | 188,132
Testimonial Community Love Center | CA | 136,888
The Ark of Refuge, Inc | CA | 208,502
The Association for Community Housing Solutions (TACHS) | CA | 73,500
The City of Glendale, CA/Glendale Housing Authority | CA | 1,560,829
The City of Oakland | CA | 3,026,166
The Eli Home, Inc | CA | 522,576
The Los Angeles Gay and Lesbian Community Service Center | CA | 377,255
The Salvation Army, A California Corporation | CA | 3,056,133
The SalvationArmy, A California Corporation | CA | 102,008
The Unity Care Group | CA | 121,840
Thomas House Temporary Shelter | CA | 88,784
Toby's House Maternity Home | CA | 254,352
Transition House | CA | 116,915
Transitional Living and Community Support, Inc | CA | 947,250
Turning Point Foundation | CA | 276,073
Turning Point of Central California, Inc | CA | 496,332
United Christian Centers of the Greater Sacramento Area | CA | 46,527
United Friends of the Children | CA | 294,355
United States Veterans Initiative | CA | 289,795
United States Veterans Initiative Incorporated | CA | 224,075
United Way of Ventura County | CA | 86,961
Upward Bound House | CA | 281,424
Vallejo Lord's Felloship A/G | CA | 41,832
Venice Community Housing Corporation | CA | 81,170
Venice Family Clinic | CA | 284,842
Ventura County | CA | 153,360
Veterans First | CA | 823,330
Veterans Transition Center | CA | 194,525
Vietnam Veterans of California | CA | 434,995
Vietnam Veterans of California, Incorporated | CA | 83,107
Vietnam Veterans of San Diego (VVSD) | CA | 202,850
Volunteers of America | CA | 301,164
Weingart Center Association | CA | 485,238
Whiteside Manor, Incorporated | CA | 876,006
WISEPlace | CA | 201,187
WomanHaven, Inc | CA | 169,865
Women's Center—High Desert, Inc | CA | 113,132
Women's Daytime Drop-In-Center | CA | 68,975
Women's Transitional Living Center, Inc. (WTLC) | CA | 121,890
YMCA of Metropolitan Los Angeles | CA | 177,487
YMCA of San Diego County | CA | 178,739
Yolo Community Care Continuum | CA | 83,333
Young Women's Christian Association of San Diego County | CA | 553,475
YWCA of Sonoma County | CA | 52,500
Aurora Comprehensive Community Mental Health Center | CO | 111,300
Catholic Charities and Community Services of the Archdiocese of Denver | CO | 186,690
City of Colorado Springs | CO | 158,760
Colorado Coalition for the Homeless | CO | 4,339,180
Colorado Department of Human Services | CO | 2,615,575
Community Housing Services, Inc | CO | 943,077
Denver Department of Human Services | CO | 1,997,077
Family Tree, Inc | CO | 80,085
Grand Valley Catholic Outreach | CO | 298,435
Greccio Housing Unlimited | CO | 200,000
Housing Authority of the City of Boulder, bda Boulder Housing Partners | CO | 852,684
North Range Behavioral Health | CO | 109,543
Partners In Housing, Inc | CO | 487,432
Pikes Peak United Way | CO | 110,000
Posada, Inc | CO | 249,900
The Salvation Army | CO | 178,000
Third Way Center, Inc | CO | 116,538
Volunteers of America Colorado Branch | CO | 162,398
Alliance for Living | CT | 138,851
American Red Cross Middlesex Central CT Chapter | CT | 133,000
Applied Behavioral Rehabilitation Institute, Inc. (ABRI) | CT | 103,615
Association of Religious Communities | CT | 23,045
Bethsaida Community, Inc | CT | 174,512
Catholic Charities of Fairfield City | CT | 372,973
Christian Community Action, Inc | CT | 210,026
City of Bridgeport | CT | 468,508
Community Health Resources | CT | 107,184
Community Renewal Team, Inc | CT | 1,297,541
Connecticut Coalition to End Homelessness | CT | 50,000
Connecticut Women's Consortium, Inc | CT | 171,113
Emerge, Inc | CT | 44,890
Family and Children's Agency | CT | 146,176
Friendship Service Center of New Britain, Inc | CT | 434,924
Hal-Brooks Behavioral Health Services | CT | 680,736
Hall-Brooke Behaviorial Health Services | CT | 309,029
Harbor Health Services, Inc | CT | 86,165
Housing Authority City of Norwalk | CT | 152,880
Housing Authority of the City of Waterbury | CT | 1,268,556
Housing Authority, City of Danbury | CT | 107,040
Immaculate Conception Shelter & Housing Corporation | CT | 491,859
Inter Community Health Group Inc | CT | 220,137
Interfaith Housing Association of Westport/Weston, Inc | CT | 49,017
Laurel House, Inc | CT | 39,019
Liberation Programs, Inc | CT | 179,626
Liberty Community Services, Inc | CT | 1,341,963
Mercy Housing and Shelter Corporation | CT | 241,190
Micah Housing, Inc | CT | 150,561
Mid Fairfield AIDS Project, Inc | CT | 120,000
Mutual Housing Association of Southwestern Connecticut, Inc | CT | 165,900
My Sister's Place | CT | 250,000
New Opportunities, Inc | CT | 39,285
Norwalk Emergency Shelter, Inc | CT | 47,830
Prudence Crandall Center, Inc | CT | 294,576
Putnam Housing Authority | CT | 234,000
Shelter for the Homeless | CT | 84,051
South Park Inn, Inc | CT | 284,288
St. Luke's Community Services, Inc | CT | 398,716
St. Vincent DePaul Society of Bristol, Inc | CT | 348,849
State of Connecticut | CT | 8,572,568
State of Connecticut Department of Mental Health & Addiction Services | CT | 395,424
Thames River Community Service Inc | CT | 195,983
The Salvation Army | CT | 73,150
The Thames Valley Council for Community Action, Inc | CT | 655,247
Torrington Community Housing Corporation | CT | 95,737
United Way of Norwalk and Wilton | CT | 114,306
United Way of Eastern Fairfield County | CT | 39,999
United Way of Stamford | CT | 50,000
Windham Regional Community Council | CT | 274,077
Women's Center of Southeastern Connecticut, Inc | CT | 50,584
Youth Continuum | CT | 301,568
YWCA of the Hartford Region, Inc | CT | 166,667
Catholic Charities of the Archdiocese of Washington | DC | 168,641
Coalition for the Homeless | DC | 171,453
Community Connections | DC | 205,039
Community Family Life Services, Incorporated | DC | 253,447
D. C. Department of Health | DC | 506,136
D.C. Office of Revenue Analysis | DC | 3,418,476
Families Forward, Inc | DC | 430,270
Hannah House, Inc | DC | 148,115
House of Ruth | DC | 1,072,606
Sasha Bruce Youthwork, Inc | DC | 386,279
SOME (So Others Might Eat) | DC | 938,946
The Community Partnership for the Prevention of Homelessness | DC | 8,504,516
Transitional Housing Corporation | DC | 127,385
Connections Community Support Programs, Inc. (CSP) | DE | 566,073
Gateway House, Inc. (formerly :SBM Housing, Inc.) | DE | 67,334
State of Delaware | DE | 1,562,557
The Ministry of Caring, Inc | DE | 1,966,662
West End Neighborhood House, Inc | DE | 249,833
YWCA Delaware Inc | DE | 323,967
2-1-1 Brevard, Inc | FL | 76,751
2-1-1 Tampa Bay Cares, Inc | FL | 172,454
Adopt-A-Family of the Palm Beaches, Inc | FL | 207,812
Agency for Community Treatment Services, Inc | FL | 701,253
Aid to Victims of Domestic Abuse, Inc | FL | 106,540
AIDS Coalition of Volusia/Flagler, Inc | FL | 227,743
Alachua County Housing Authority | FL | 80,569
ALPHA A Beginning, Inc | FL | 69,888
Alpha House of Tampa, Inc | FL | 229,051
Big Bend Homeless Coalition, Inc | FL | 76,231
Boley Centers, Inc. f/k/a Boley Centers for Behavioral Health Care, Inc | FL | 547,624
Brideway Center, Inc | FL | 577,107
Brookwood Florida-Central, Inc | FL | 98,430
Broward County Board of County Commissioners | FL | 5,427,224
Broward County Housing Authority | FL | 1,060,776
Carrfour Supportive Housing | FL | 409,479
CASA (Community Action Stops Abuse) Inc | FL | 241,031
Catholic Charities Diocese of St. Petersburg, Inc | FL | 253,303
Catholic Charities of the Archdiocese of Miami, Inc | FL | 179,917
Children's Home Society of Florida, Inc | FL | 127,620
City of Gainesville | FL | 205,312
Clara White Mission, Inc | FL | 132,039
Coalition for the Hungry and Homeless of Brevard County, Inc | FL | 674,570
Collier County Board of County Commissioners | FL | 35,816
Community Connections of Jacksonville, Inc | FL | 907,557
Covenant House Florida | FL | 183,729
Crosswinds Youth Services, Inc | FL | 87,536
Directions for Mental Health, Inc | FL | 356,438
Domestic Abuse Council, Inc | FL | 256,260
Emergency Services and Homeless Coalition of St. Johns County, Inc | FL | 152,400
Escarosa Coalition on the Homeless | FL | 113,686
Family Renew Community, Inc | FL | 72,025
Florida Housing Corporation | FL | 593,143
Florida Keys Outreach Coalition, Inc | FL | 175,879
Gateway Community Services | FL | 116,432
Goodwill of North Florida | FL | 324,055
Gulfstream Goodwill Industries, Inc | FL | 774,955
Homeless and Hunger Coalition of Northwest Florida | FL | 47,482
Homeless Coalition of Hillsborough County, Inc | FL | 65,510
Homeless Coalition of Polk County, Inc | FL | 116,531
Homeless Emergency Project, Inc | FL | 168,502
Homeless Services Network of Central Florida, Inc | FL | 1,215,792
Housing Partnership, Inc | FL | 57,223
I.M. Sulzbacher Center for the Homeless, Inc | FL | 233,188
Indian River County Board of County Commissioners | FL | 279,081
Lake County Board of County Commissioners | FL | 372,420
Lakeview Center, Inc | FL | 570,094
Lee County Board of County Commissioners | FL | 1,936,114
LifePath Solutions, Inc | FL | 132,107
Loaves and Fishes Soup Kitchen, Inc | FL | 248,672
Mental Health Care, Inc | FL | 199,500
Mental Health Resource Center, Inc | FL | 251,638
Miami-Dade County | FL | 22,735,951
Mid-Florida Homeless Coalition, Inc | FL | 78,143
Monroe Association for Retarded Citizens, Inc | FL | 102,268
New Life Outreach Ministry, Inc | FL | 143,586
Oakwood Center of the Palm Beaches, Inc | FL | 381,304
Operation Hope, Inc | FL | 207,068
Operation PAR, Inc | FL | 100,452
Palm Beach County Board of County Commissioners | FL | 438,254
Peace River Center for Personal Development, Inc | FL | 182,749
Peaceful Paths Domestic Abuse Network, Inc | FL | 123,280
Plant City Housing Authority | FL | 1,571,880
Project Return, Inc | FL | 153,956
Punta Gorda Housing Authority | FL | 93,900
Religious Community Services, Inc | FL | 110,054
River Region Human Services, Inc | FL | 557,531
Serenity House of Volusia, Inc | FL | 301,193
St. Lucie County Board of County Commissioners | FL | 312,660
Suncoast Partnership to End Homelessness, Inc | FL | 37,698
Talbot House Ministries of Lakeland, Inc | FL | 303,299
The Center for Information & Crisis Services | FL | 134,441
The Emergency Services and Homeless Coalition of Jacksonville, Inc | FL | 511,449
The Lord's Place, Inc | FL | 466,007
The Salvation Army, A Georgia Corporation | FL | 1,830,505
The Spring of Tampa Bay, Inc | FL | 177,557
The YWCA of Palm Beach County | FL | 225,195
Tri-Country Human Services, Inc | FL | 149,709
United Way of Marion County | FL | 62,160
Volunteers of America of Florida, Inc | FL | 2,347,181
Volusia/Flagler County Coalition for the Homeless, Inc | FL | 54,566
WestCare GulfCoast, Florida, Inc | FL | 273,000
YWCA of Tampa Bay | FL | 176,237
Achor Center, Inc | GA | 373,585
Action Ministries, Inc | GA | 551,632
Advantage Behavioral Health Systems | GA | 166,590
Alternate Life Paths Program, Inc | GA | 48,572
Asian American Resource Center | GA | 157,408
Atlanta Enterprise Center, Inc | GA | 249,325
Board of Commissioners of Fulton County, Georgia | GA | 1,060,438
Buckhead Christian Ministry | GA | 80,000
Calvary Refuge, Inc | GA | 203,326
Chatham-Savannah Authority for the Homeless | GA | 402,725
Citizens Against Violence, Inc | GA | 265,464
City of Augusta | GA | 181,027
City of Savannah | GA | 253,836
Cobb Community Collaborative, Inc | GA | 30,000
Community Advanced Practice Nurses, Inc | GA | 103,979
CSRA Economic Opportunity Authority, Inc | GA | 119,081
Economic Opportunity for Savannah-Chatham County Area, Inc | GA | 220,500
Families First, Inc | GA | 172,493
First Monumental Faith Community Outreach Center, Inc | GA | 117,302
Fulfilling God's Assignments Ministries c/o The Light Homeless Shelter | GA | 150,000
Furniture Bank of Metro Atlanta | GA | 70,010
Genesis Shelter, Inc | GA | 136,500
Georgia Coalition Against Domestic Violence | GA | 342,584
Georgia Housing and Finance Authority | GA | 8,597,328
Georgia Law Center on Homelessness & Poverty Inc | GA | 294,000
Goodwill Industries of Middle Georgia, Inc | GA | 348,039
Greenbriar Children's Center, Inc | GA | 398,424
Gwinnett Housing Resource Partnership | GA | 588,199
HODAC, Inc | GA | 42,891
Hope House, Inc | GA | 58,842
House of Grace, Inc | GA | 129,529
House of T.I.M.E., Inc | GA | 212,736
Housing Authority of Savannah | GA | 940,200
Housing Initiative of North Fulton | GA | 23,646
Initiative for Affordable Housing, Inc | GA | 320,938
Jerusalem House, Inc | GA | 193,704
Jewish Family & Career Services, Inc | GA | 157,729
Loaves and Fishes Ministry of Macon, Inc | GA | 97,429
Lowndes Associated Ministries to People, Inc | GA | 286,488
Macon-Bibb Economic Opportunity Council, Inc | GA | 194,250
Maranatha Outreach, Inc | GA | 60,178
Marietta Housing Authority | GA | 202,548
Mary Hall Freedom House, Inc | GA | 285,341
Metro Atlanta Task Force for the Homeless | GA | 338,100
New Horizons Community Service Board | GA | 45,122
Nicholas House, Inc | GA | 36,141
Open Door Community House, Inc | GA | 267,745
Our Common Welfare, Inc | GA | 158,033
Our House, Inc | GA | 47,235
Progressive Redevelopment, Inc | GA | 607,336
S.H.A.R.E. House, Inc | GA | 126,526
Saint Joseph's Mercy Care Services, Inc | GA | 36,823
Samaritan House of Atlanta, Inc | GA | 73,255
St. Jude's Recovery Center, Inc | GA | 1,064,098
Stewart Community Home, Inc | GA | 66,123
The Center for Family Resources | GA | 814,233
The Extension, Inc | GA | 104,654
The Young Adult Guidance Center, Inc | GA | 154,396
Travelers Aid of Metropolitan Atlanta, Inc | GA | 628,230
Trinity Community Ministries, Inc | GA | 108,917
Unified Government of Athens-Clark County | GA | 317,311
Union Mission, Inc | GA | 385,311
Zion Keepers, Inc | GA | 38,970
Guam Housing & Urban Renewal Authority | GU | 372,182
Child and Family Service | HI | 84,488
City and County of Honolulu | HI | 2,211,680
Gregory House Programs | HI | 358,400
Hale Kipa, Inc | HI | 136,000
Legal Aid Society of Hawai | HI | 64,669
Maui Economic Concerns of the Community, Incorporated | HI | 137,962
Mental Health Kokua | HI | 870,273
State of Hawaii | HI | 875,436
Steadfast Housing Development Corporation | HI | 162,164
The Salvation Army ATS | HI | 287,906
United States Veterans Initiative | HI | 341,263
Area Substance Abuse Council dba New Directions | IA | 104,223
Cedar Valley Friends of the Family | IA | 254,249
Center For Siouxland | IA | 208,230
City of Des Moines | IA | 2,271,166
City of Dubuque | IA | 536,520
City of Sioux City | IA | 113,452
Community Action Agency of Siouxland | IA | 137,239
Community Housing Initiatives, Inc | IA | 511,198
Critttenton Center | IA | 184,527
Family Resources, Inc | IA | 77,150
Hawkeye Area Community Action Program, Inc | IA | 680,001
Hillcrest Family Services | IA | 71,540
Humility of Mary Housing, Inc | IA | 37,549
John Lewis Coffee Shop, Inc | IA | 867,000
Opening Doors | IA | 42,221
Operation Empower | IA | 157,657
Project Concern, Inc | IA | 31,570
Shelter House Community Shelter and Transitional Services | IA | 448,318
The Salvation Army | IA | 148,666
Youth and Shelter Services, Inc | IA | 318,127
YWCA Clinton | IA | 49,232
Ada County Housing Authority | ID | 598,116
Boise City Housing Authority | ID | 90,869
Idaho Housing and Finance Association | ID | 2,260,689
Women's and Children's Alliance | ID | 119,123
Abundant Faith Ministry | IL | 13,892
AIDS Foundation of Chicago | IL | 1,028,951
Alliance to End Homelessness in Suburban Cook County | IL | 255,976
Anna Bixby Women's Center | IL | 141,445
Apna Ghar, Inc. (Our Home) | IL | 124,785
B.C.M.W. Community Services | IL | 19,597
Beacon Therapeutic School Inc., d/b/a Beacon Therapeutic Diagnostic/Treatment | IL | 1,083,562
Bethany Place | IL | 149,641
Bethel New Life, Inc | IL | 569,709
Brand New Beginnings, Inc | IL | 223,125
Bridge Communities, Inc | IL | 107,289
C.E.F.S Economic Opportunity Corporation | IL | 333,025
Carver Community Action Agency | IL | 104,141
Casa Central Social Services Corporation | IL | 846,265
Cathedral Shelter of Chicago | IL | 57,930
Catholic Charities of the Archdiocese of Chicago | IL | 2,878,948
Catholic Charities of the Archdiocese of Chicago, Lake County Services | IL | 260,857
Catholic Charities, Diocese of Joliet | IL | 2,200,048
CDBG Operations Corporation | IL | 110,000
CEDA Bloom-Rich Community Development Association | IL | 231,678
CEDA Northwest Self-Help Center, Inc | IL | 314,267
Champaign County Regional Planning Commission | IL | 318,717
Chesnut Health Systems, Inc | IL | 851,912
Chestnut Health Systems | IL | 265,564
Chicago Abused Women Coalition | IL | 26,328
Chicago Department of Human Services | IL | 11,272,505
Chicago House and Social Service Agency | IL | 45,122
Circle Urban Ministries | IL | 396,874
City of Bloomington | IL | 524,445
City of Chicago | IL | 1,656,070
City of Rockford | IL | 1,309,211
City of Urbana | IL | 206,454
Community & Economic Development Association of Cook County, Inc | IL | 260,883
Community Care Options | IL | 477,060
Community Crisis Center | IL | 95,116
Community Mental Health Council, Inc | IL | 426,086
Community Supportive Living Systems | IL | 203,150
Comprehensive Mental Health Center | IL | 100,000
Connections for the Homeless, Inc | IL | 359,134
Cornerstone Community Outreach | IL | 211,241
Cornerstone Services, Inc | IL | 1,724,340
Deborah's Place | IL | 1,083,251
Decatur Housing Authority | IL | 114,204
Dove, Inc | IL | 548,840
DuPage County Community Services | IL | 237,217
DuPage County Health Department | IL | 567,717
DuPage P.A.D.S., Inc | IL | 319,934
Ecker Center for Mental Health | IL | 163,030
Embarras River Basin Agency, Inc | IL | 404,567
Family Counseling Center, Incorporated | IL | 172,329
Family Rescue, Inc | IL | 611,859
Featherfist | IL | 1,670,019
Fellowship Housing Corporation | IL | 100,120
Fifth Street Renaissance | IL | 59,083
Goldie's Place | IL | 67,735
Good Samaritan House of Granite City, Inc | IL | 151,557
Good Samaritan Ministries, A Project of Carbondale Interchurch Council | IL | 74,397
Goodwill Industries of Central Illinois, Inc | IL | 167,696
Healthcare Alternative Systems, Inc | IL | 214,748
Heartland Hearth Outreach, Inc | IL | 2,570,114
Heartland Human Care Services, Inc | IL | 2,721,462
Helping Hands of Springfield, Inc | IL | 115,332
Home of the Sparrow, Inc | IL | 124,252
Hope Haven of DeKalb County, Inc | IL | 193,643
HOPE of East Central IL | IL | 76,434
Housing Authority of the County of Cook | IL | 550,512
Housing Authority of the County of DeKalb | IL | 359,964
Housing Opportunities for Women, Inc | IL | 198,368
Hull House Association | IL | 389,026
Human Service Center | IL | 131,597
Illinois Valley Economic Development Corporation | IL | 103,084
Inspiration Corporation | IL | 770,466
Interdependent Living Solutions Center, Inc | IL | 156,332
Interfaith Council for the Homeless | IL | 312,241
Interfaith House, Inc | IL | 400,593
Interfaith Housing Development Corporation of Chicago | IL | 85,890
I-Plus | IL | 44,139
Iroquois-Kankakee Regional Office of Education #32 | IL | 64,017
Jewish Federation of Metropolitan Chicago | IL | 163,103
Kane County Development and Resource Management Department | IL | 109,853
LaGrange Area Transitional Housing Corp | IL | 30,187
Lake County | IL | 458,871
Lakeview Shelter, Inc | IL | 192,657
Land of Lincoln Legal Assistance Foundation, Incorporated | IL | 47,544
Lazarus House | IL | 54,331
M.E.R.C.Y. Communities, Inc | IL | 167,923
Madison County Government | IL | 303,660
Matthew House, Inc | IL | 137,592
McDermott Center | IL | 64,474
McHenry County PADS, Inc | IL | 105,000
MCS Community Services | IL | 101,250
Mental Health Center of Campaign County, Inc | IL | 43,043
Mercy Housing Lakefront | IL | 854,564
Ministers United Against Human Suffering | IL | 100,000
NCO Youth & Family Services | IL | 200,124
Near West Side Community Development Corp | IL | 195,562
New Moms | IL | 253,696
New Phoenix Assistance Center | IL | 837,789
Northwestern Memorial Hospital | IL | 721,248
PADS to HOPE, Inc | IL | 183,665
Peoria Housing Authority | IL | 128,880
Pioneer Center of McHenry County | IL | 488,284
Pioneer Civic Services, Inc | IL | 112,911
Prairie State Legal Services | IL | 68,780
Project NOW, Incorporated | IL | 383,533
Public Action to Deliver Shelter, Inc | IL | 357,802
Renaissance Social Services, Inc | IL | 143,388
Residents of Effective Shelter Transitions | IL | 464,962
Roseland Christian Health Ministries | IL | 4,255,800
Sarah's Circle | IL | 68,250
Shields Township | IL | 449,280
Single Room Housing Assistance Corporation | IL | 908,537
South Side Office of Concern | IL | 14,962
South Suburban Family Shelter | IL | 281,957
South Suburban PADS | IL | 279,475
Southern Illinois Coalition F/T Homeless | IL | 141,732
St. Clair County | IL | 753,488
St. Leonard's Ministries | IL | 47,250
Stopping Woman Abuse Now | IL | 70,000
Teen Living Program, Inc | IL | 194,376
The Center for Prevention of Abuse | IL | 172,759
The Center of Concern | IL | 127,434
The Inner Voice, Inc | IL | 1,032,366
The Larkin Center | IL | 297,425
The Night Ministry | IL | 74,260
The Renaissance Collaborative, Inc | IL | 184,451
The Thresholds | IL | 797,945
The Women's Center, Incorporated | IL | 50,170
Thresholds | IL | 1,499,432
Transitional Living Services | IL | 47,245
Trinity Services, Inc | IL | 250,000
Unity Parenting and Counseling, Inc | IL | 949,288
West Englewood United Organization | IL | 210,118
Western Egyptian Economic Opportunity Council, Incorporated | IL | 49,826
Western Illinois Regional Council—Community Action Agency | IL | 54,907
WilPower, Inc | IL | 453,170
WINGS Program, Inc | IL | 300,081
World Relief DuPage | IL | 128,780
YMCA of Metropolitan Chicago | IL | 979,973
Young Women's Christian Association | IL | 464,713
Your Family Resource Connection | IL | 135,489
Youth Service Bureau | IL | 91,899
Youth Services Network | IL | 250,566
YWCA Evanston/North Shore | IL | 70,652
YWCA Peoria, IL | IL | 484,264
AIDS Ministries AIDS Assist of North Indiana Inc | IN | 103,140
City of Evansville, Indiana | IN | 576,275
City of Indianapolis | IN | 4,280,947
City of South Bend | IN | 167,052
Community Mental Health Center | IN | 213,820
Council on Domestic Abuse, Inc | IN | 87,743
CRWorks, Inc | IN | 140,836
Evansville Goodwill Industries, Inc | IN | 220,133
Family & Children's Center Counseling and Development Services | IN | 31,687
Family Crisis Shelter, Inc | IN | 60,558
Hope House, Inc | IN | 198,568
Kosciusko County Shelter for Abuse, Inc | IN | 39,435
Lafayette Transitional Housing Center, Inc | IN | 73,893
LifeSpring, Inc | IN | 51,135
Madison Center, Inc | IN | 54,950
Muncie Community Schools | IN | 63,000
Open Door Community Services, Inc | IN | 102,137
Salvation Army | IN | 158,247
South Central Community Mental Health Centers, Inc | IN | 253,931
State of Indiana | IN | 281,676
The Center for the Homeless, Inc | IN | 165,694
The Stepping Stone Shelter for Women, Incorporated | IN | 183,456
Vincent House, Inc | IN | 52,944
Young Women's Christian Association of Fort Wayne, Inc | IN | 165,817
YWCA of St. Joseph Co | IN | 120,130
Archdiocese of Kansas City in Kansas—Catholic Charities | KS | 59,048
Area Mental Health Center | KS | 232,528
City of Topeka, Kansas | KS | 1,225,596
City of Wichita Housing Authority | KS | 832,152
Community Action, Inc | KS | 343,101
County of Johnson | KS | 149,280
Faith House, Inc | KS | 157,395
Housing & Credit Counseling, Inc | KS | 129,150
Hutchison Housing Authority | KS | 394,980
Inter-Faith Ministries Wichita, Inc | KS | 138,197
Kansas Legal Services | KS | 190,608
Marshall County Community Resource and Education Center | KS | 118,233
Mental Health Association of the Heartland | KS | 286,761
South Central Mental Health Counseling Center | KS | 74,503
The City of Leavenworth | KS | 746,400
The Salvation Army | KS | 715,543
TLC for Children and Families, Inc | KS | 97,274
United Methodist Urban Ministry of Wichita, Inc | KS | 140,615
Wichita Children's Home | KS | 101,218
Bellewood Presbyterian Home for Children | KY | 264,981
Bluegrass Regional Mental Health—Mental Retardation Board, Inc | KY | 165,213
Chrysalis House, Inc | KY | 302,488
Coalition for the Homeless, Inc | KY | 122,311
Community Action Council for Lexington-Fayette, Bourbon, Harrison | KY | 64,409
Daniel Pitino Shelter, Inc | KY | 266,039
Family Health Centers, Inc | KY | 255,147
Father Maloney's Boys' Haven, Inc | KY | 333,334
Hope Center, Inc | KY | 436,001
Interlink Counseling Services, Inc | KY | 83,102
Jefferson Street Baptist Center, Inc | KY | 150,632
Kentucky Housing Corporation | KY | 5,942,954
Lexington-Fayette Urban County Housing Authority | KY | 191,928
Louisville/Jefferson County Metro Government | KY | 208,522
Louisville-Jefferson County Metro Government | KY | 1,331,277
New Beginnings, Bluegrass, Inc | KY | 53,492
New Directions Housing Corporation | KY | 174,738
Schizophrenia Foundation, KY, Inc. (dba Wellspring) | KY | 42,000
Seven Counties Services, Inc | KY | 163,059
The Center for Women and Families, Inc | KY | 99,750
The Salvation Army, A Georgia Corporation | KY | 119,999
Transitions, Inc | KY | 481,818
Volunteers of America of Kentucky, Inc | KY | 1,148,121
Wayside Christian Mission | KY | 370,542
Welcome House of Northern Kentucky, Inc | KY | 469,109
Acadiana C.A.R.E.S | LA | 372,575
Acadiana Outreach Center, Inc | LA | 266,809
Caddo Parish School Board | LA | 89,237
Calcasieu Parish Housing Department | LA | 191,501
Catholic Charities Archdiocese of New Orleans | LA | 314,496
Central Louisiana Coalition to Prevent Homelessness | LA | 58,246
City of Baton Rouge & Parish of East Baton Rouge | LA | 1,383,068
City of New Orleans—Neighborhood 1 | LA | 604,536
Community Support Programs, Inc | LA | 642,185
Council on Alcoholism and Drug Abuse of Northwest Louisiana | LA | 250,000
Covenant House New Orleans | LA | 222,448
Elisha Ministries dba Supportive Housing of Northeast Louisiana | LA | 83,469
Grace House of New Orleans | LA | 191,362
Gulf Coast Teaching Family Service Inc | LA | 405,226
Gulf Coast Teaching Family Services | LA | 140,985
Hammond Housing Authority | LA | 178,000
Hope House of Central Louisiana, Inc | LA | 135,538
Jefferson Parish | LA | 375,480
Jefferson Parish Human Services Authority | LA | 277,473
LAEHCY—Louisiana Association for the Education of Homeless Children/Youth | LA | 62,092
Lafayette Catholic Service Centers, Inc | LA | 320,500
Louisiana Department of Health and Hospitals | LA | 1,221,876
Metropolitan Battered Women's Program, Inc | LA | 113,344
Monroe Area Guidance Center | LA | 80,209
NAMI New Orleans | LA | 153,421
Our Father's Arms | LA | 149,738
Our House, Inc | LA | 56,583
Philadelphia Center | LA | 176,400
Providence House | LA | 247,090
Responsibillity House, Inc | LA | 338,051
Shreveport SRO, Inc. dba Centerpoint | LA | 435,766
Southeast Louisiana Hospital | LA | 478,320
Southeast Spouse Abuse Program | LA | 231,272
Southeastern Louisiana University | LA | 148,109
Southwestern LA Homeless Coalition, Inc | LA | 170,951
St. Francis Foundation, Inc | LA | 21,000
St. Mary Association of Community Action, Inc | LA | 136,158
St. Tammany Parish Government | LA | 92,460
Start Corporation | LA | 497,221
State of Louisiana, Department of Health and Hospitals | LA | 99,584
The Church of the Holy Cross—Episcopal | LA | 35,641
The Wellspring Alliance for Families, Inc | LA | 487,834
UNITY for Greater New Orleans, Inc | LA | 7,441,308
Vernon Community Action Council, Inc | LA | 70,092
Volunteer Center Southwest Louisiana | LA | 116,483
Volunteers of America of Greater New Orleans | LA | 676,508
Volunteers of America of Greater New Orleans, Inc | LA | 995,234
Volunteers of America of North LA | LA | 359,304
Volunteers of America of North Louisiana | LA | 345,614
Volunteers of America, Greater Baton Rouge | LA | 135,184
Volunteers of America, Greater Baton Rouge Inc | LA | 173,105
Women Outreaching Women | LA | 85,711
YWCA of Northwest Louisiana, Inc | LA | 96,394
Action Inc | MA | 120,120
Advocates, Inc | MA | 645,731
Barnstable Housing Authority | MA | 368,184
Berkshire Community Action Council, Inc | MA | 232,680
Brockton Coalition for the Homeless, Inc | MA | 542,676
Brookline Community Mental Health Center | MA | 191,463
Brookline Housing Authority | MA | 197,520
Cambridge Housing Authority | MA | 410,616
CASPAR, Inc | MA | 385,112
Catholic Charities Bureau of the Archdiocese of Boston | MA | 50,972
Catholic Social Services of Fall River, Inc | MA | 177,521
Central Massachusetts Housing Alliance, Inc | MA | 2,425,123
Citizens for Affordable Housing in Newton Development Organization, Inc | MA | 12,616
City of Boston | MA | 18,283,216
City of Cambridge | MA | 2,340,792
City of Fall River | MA | 890,342
City of Haverhill | MA | 250,725
City of Lawrence | MA | 93,081
City of Lowell | MA | 819,919
City of New Bedford | MA | 1,078,797
City of Northampton | MA | 1,322,763
City of Quincy, Massachusetts | MA | 926,735
City of Springfield | MA | 1,606,918
City of Taunton | MA | 91,649
City of Worcester | MA | 1,896,468
Commonwealth of Massachusetts | MA | 8,438,333
Community Counseling of Bristol County, Inc | MA | 320,483
Community Healthlink Inc | MA | 610,909
Construct, Inc | MA | 41,200
Emmaus Inc | MA | 169,642
Family Life Support Center | MA | 136,482
Housing Assistance Corporation | MA | 267,742
Housing Families Inc | MA | 70,140
Housing For All Corporation | MA | 44,200
Lynn Housing Authority & Neighborhood Development | MA | 1,435,337
Lynn Shelter Association | MA | 207,284
Mainstream Housing Department/Turning Point Inc | MA | 280,745
Massachusetts Dept. of Mental Health | MA | 191,280
North Shore Community Action Programs Inc | MA | 142,410
Pine Street Inn, Inc | MA | 28,000
Quincy Housing Authority | MA | 958,356
Residential Care Consortium, Inc | MA | 163,497
Shelter, Inc | MA | 841,726
Somerville Homeless Coalition, Inc | MA | 392,877
Somerville Housing Authority | MA | 121,428
South Coastal Counties Legal Services, Inc | MA | 24,937
South Middlesex Legal Services, Inc | MA | 48,507
South Middlesex Opportunity Council, Inc | MA | 195,278
South Shore Housing Development Corporation | MA | 125,125
Steppingstone, Inc | MA | 329,091
The Psychological Center, Inc | MA | 138,734
The Second Step, Inc | MA | 376,179
The Somerville Community Corporation, Inc | MA | 194,633
Transition House | MA | 14,073
Tri-City Community Action Program, Inc | MA | 183,961
Twin Cites Community Development Corporation | MA | 91,018
Veterans Northeast Outreach Center, Inc | MA | 135,488
Vinfen Corporation | MA | 36,955
Wayside Youth & Family Support Network | MA | 233,871
YWCA of Greater Lawrence | MA | 187,950
Advocates for Homeless Families, Inc | MD | 24,008
AIDS Interfaith Residential Services, Inc | MD | 38,800
Allegany Co. Human Resources Development Commission Inc | MD | 167,264
Anne Arundel County, Maryland | MD | 1,413,518
Associated Catholic Charities | MD | 375,073
Baltimore City | MD | 14,347,608
Baltimore County Department of Health | MD | 849,386
Baltimore County, Maryland | MD | 95,888
Baltimore Mental Health Systems, Inc | MD | 1,989,699
Board of County Commissioners of Calvert County, Maryland | MD | 18,252
Catholic Charities Archdiocese of Washington | MD | 110,637
Catholic Charities of the Archdiocese of Washington | MD | 235,903
City of Frederick | MD | 201,432
City of Gaithersburg | MD | 128,247
Crossroads Community, Inc | MD | 140,970
Friends for Neighborhood Progress, Inc | MD | 21,751
Garrett County Community Action Committee, Inc. (GCCAC) | MD | 211,822
Harford County, Maryland | MD | 398,269
Heartly House, Inc | MD | 35,074
Housing Opportunities Commission | MD | 2,891,699
Howard County, Maryland | MD | 562,164
Human Services Developmental Corporation, Inc | MD | 74,241
Human Services Programs of Carroll County, Inc | MD | 193,468
JHP, Inc | MD | 361,875
Laurel Advocacy and Referral Services, Inc | MD | 229,003
Maryland Department of Health and Mental Hygiene | MD | 3,000,900
Mid-Shore Mental Health Systems, Inc | MD | 210,254
Montgomery Avenue Women's Center, Inc | MD | 138,183
Montgomery County Coalition for the Homeless, Inc | MD | 1,946,567
National Center for Children and Families (NCCF) | MD | 623,191
Nehemiah House, Inc | MD | 57,295
Prince George's County Government | MD | 1,752,234
Rehabilitaion Systems Incorporated | MD | 489,015
Somerset County Health Department | MD | 658,848
St. Mary's County Housing Authority | MD | 468,044
United Communities Against Poverty, Inc. (UCAP) | MD | 507,246
Washington County Community Action Council | MD | 247,559
Washington County Department of Social Services | MD | 45,839
YMCA of Cumberland (MD) | MD | 375,794
YWCA of the Greater Baltimore Area, Inc | MD | 173,250
Avesta Housing Development Corporation | ME | 412,376
Battered Women's Project | ME | 27,252
City of Bangor, Maine | ME | 968,636
City of Portland | ME | 271,555
Community Housing of Maine | ME | 280,557
Counseling Services, Incorporated | ME | 64,410
Ingraham, Inc.—Randall Place | ME | 82,356
Kennebec Valley Mental Health Center | ME | 32,839
Maine State Housing Authority | ME | 221,390
MAPS/My Choice | ME | 71,355
New Beginnings, Incorporated | ME | 167,117
OHI | ME | 32,550
Portland West, Inc | ME | 70,652
State of Maine | ME | 5,065,375
Volunteers of America Northern New England | ME | 375,557
York County Shelter Programs, Incorporated | ME | 210,303
YWCA of Greater Portland | ME | 126,936
Allegan County Community Mental Health Services | MI | 84,800
American Red Cross, East Shoreline Chapter | MI | 59,039
Ann Arbor Housing Commission | MI | 752,664
Avalon Nonprofit Housing Corporation | MI | 169,868
Bay Area Women's Center | MI | 106,488
Branch County Coalition Against Domestic Violence | MI | 35,122
Capital Area Community Services, Inc | MI | 200,600
CareGivers | MI | 756,138
Cass Community Social Services, Inc | MI | 865,997
Center for Women in Transition | MI | 226,745
Charter County of Wayne | MI | 1,386,510
City of Lansing | MI | 1,140,153
Coalition on Temporary Shelter | MI | 927,053
Common Ground Sanctuary | MI | 83,164
Community Action Agency | MI | 449,983
Community Housing Network, Inc | MI | 1,478,923
Community Mental Health Authority of Clinton, Eaton and Ingham Counties | MI | 49,875
Community Rebuilders | MI | 1,111,725
County of Kent, Michigan | MI | 1,210,440
County of Ottawa | MI | 245,170
County of Wayne, Divison of Senior Citizen Services/Veteran's Affairs | MI | 175,145
Covenant House Michigan | MI | 400,233
Detroit Central City CMH, Inc | MI | 990,577
Detroit Rescue Mission Ministries | MI | 4,077,588
Dwelling Place of Grand Rapids, Inc | MI | 228,649
Eastern Upper Peninsula Veterans Foundation | MI | 115,166
EightCAP, Inc | MI | 56,687
First Step: Western Wayne County Project on Domestic Assault | MI | 43,850
Florence Crittenton Services | MI | 118,144
Foundation for Mental Health—Grand Traverse/Leelanau | MI | 106,449
Freedom House | MI | 379,819
Genesis Non-Profit Housing Corporation | MI | 58,800
Genesse County Community Action Resource Department | MI | 177,492
Good Samaritan Ministries | MI | 394,100
Goodwill Industries of Northern Michigan, Inc | MI | 32,000
Grand Rapids Housing Commission | MI | 467,071
Haven of Rest Ministries, Inc | MI | 345,328
Heartside Nonprofit Housing Corporation | MI | 63,000
Homeless Action Network of Detroit | MI | 190,273
Housing Plus, Inc | MI | 198,937
Housing Resources, Inc. (HRI) | MI | 456,488
Housing Services for Eaton County | MI | 197,007
Human Development Commission | MI | 239,014
Inner City Christian Federation | MI | 26,651
Jewish Vocational Service | MI | 907,155
Kalamazoo Community Mental Health and Substance Abuse Services | MI | 402,863
Lansing Housing Commission | MI | 252,720
Lenawee Emergency and Affordable Housing Corporation | MI | 89,511
Lighthouse of Oakland County | MI | 603,783
Lutheran Social Services of Michigan | MI | 114,671
Lutheran Social Services of Wisconsin and Upper Michigan, Inc | MI | 192,095
Macomb County Rotating Emergency Shelter Team | MI | 602,159
Macomb Homeless Coalition | MI | 28,890
Mariners Inn | MI | 679,517
Metro Housing Partnership, Inc | MI | 968,418
Michigan Ability Partners | MI | 442,867
Michigan Department of Community Health | MI | 3,206,760
Michigan Department of Human Services | MI | 2,355,916
Michigan Veterans Foundation | MI | 709,836
Monroe County Opportunity Program | MI | 100,126
Neighborhood Legal Services Michigan (NLSM) | MI | 220,773
Oakland Livingston Human Services Agency (OLHSA) | MI | 24,411
Ozone House, Inc | MI | 109,931
Peckham, Inc | MI | 146,877
Positive Images | MI | 700,010
POWER, Inc | MI | 165,991
Sacred Heart Rehabilitation Center, Inc | MI | 194,214
Saginaw Housing Commission | MI | 801,819
Simon House | MI | 88,675
SIREN/Eaton Shelter, Inc | MI | 276,400
SOS Community Services, Inc | MI | 2,259,083
Southwest Nonprofit Housing Corporation | MI | 355,071
Staircase Youth Services, Inc | MI | 100,000
State of Michigan | MI | 1,813,160
Summit Pointe | MI | 71,332
The Salvation Army | MI | 706,575
The Salvation Army Eastern Michigan Division | MI | 518,125
Training and Treatment Innovations, Inc | MI | 258,847
Travelers Aid Society of Metropolitan Detroit | MI | 2,290,705
Underground Railroad, Inc | MI | 557,284
United Community Housing Coalition | MI | 632,613
Wayne County Neighborhood Legal Services dba NLSM | MI | 853,434
Wayne Metropolitan Community Action Agency | MI | 433,702
West Michigan Therapy, Inc | MI | 296,169
Women's Resource Center for the Grand Traverse Area | MI | 56,765
Word Foundation Agape House | MI | 105,000
YWCA of Grand Rapids | MI | 386,578
Alliance Housing, Inc | MN | 206,557
American Indian Community Housing Organization | MN | 62,514
Amherst H. Wilder Foundation | MN | 1,760,557
Arrowhead Economic Opportunity Agency | MN | 97,247
Bi-County Community Action Programs, Inc | MN | 204,306
Breaking Free, Inc | MN | 90,000
Cabrini House | MN | 177,976
Catholic Charites of the Archdiocese of St. Paul and Minneapolis | MN | 514,133
Central Community Housing Trust | MN | 313,807
Christian Restoration Services | MN | 227,595
Crookston HRA | MN | 129,300
Dakota County | MN | 395,767
Dakota County Community Development Agency | MN | 113,916
Elim Transitional Housing, Incorporated | MN | 147,226
Emma Norton Services | MN | 207,463
Face to Face Health and Counseling Service, Inc | MN | 103,670
Freeport West, Inc | MN | 726,827
Hennepin County | MN | 1,677,615
Housing Authority of St. Louis Park | MN | 170,196
Housing Coalition of the St. Cloud Area | MN | 315,362
HRA of Duluth | MN | 45,900
HRA of Duluth, MN | MN | 749,940
HRA of St. Cloud, Minnesota | MN | 192,684
Human Development Center | MN | 94,589
Human Services Inc., in Washington County, Minnesota | MN | 41,874
Kootasca Community Action | MN | 31,971
Lakeland Mental Health Center, Inc | MN | 83,125
Life House | MN | 69,679
Listening Ear Crisis Center Project, Inc | MN | 56,961
LivingWorks Ventures | MN | 55,999
Lutheran Social Service of MN | MN | 32,272
Lutheran Social Society of Minnesota | MN | 119,464
Mental Health Resources, Inc | MN | 350,709
Mental Health Resources, Incorporated | MN | 169,931
Metropolitan Council | MN | 1,653,060
Minneapolis Public Housing Authority | MN | 299,700
Minnesota Assistance Council for Veterans | MN | 57,929
Minnesota Assistance Council for Veterans (MACV) | MN | 28,003
Model Cities of Saint Paul, Inc | MN | 141,382
Motivation Education & Training, Inc | MN | 140,663
New Pathways, Incorporated | MN | 105,265
New Foundation, Inc | MN | 298,090
Northwestern Mental Health Center, Inc | MN | 47,400
Olmsted County | MN | 122,736
Partners for Affordable Housing, Inc | MN | 12,098
People Incorporated | MN | 156,482
Perspectives, Inc | MN | 342,672
Pillsbury United Communities | MN | 561,263
Plymouth Church Neighborhood Foundation | MN | 267,946
Project for Pride in Living, Inc | MN | 128,625
Range Mental Health Center, Inc | MN | 79,154
Range Transitional Housing, Inc | MN | 321,794
Resource | MN | 571,623
RS Eden | MN | 194,586
Ruth's House of Hope, Inc | MN | 204,988
Safe Haven Shelter for Youth | MN | 133,777
Scott County HRA | MN | 88,464
St. Paul Urban League | MN | 26,136
Steele County Transitional Housing, Inc | MN | 22,942
Supportive Housing and Managed Care Pilot | MN | 404,964
Supportive Housing and Managed Care Pilot, aka Hearth Connection | MN | 71,064
The Family Place | MN | 53,208
The Salvation Army | MN | 769,098
Theresa Living Center | MN | 139,562
Three Rivers Community Action, Inc | MN | 333,642
Tubman Family Alliance | MN | 97,085
Violence Intervention Project | MN | 42,809
Virginia HRA | MN | 68,640
Women's Advocates, Inc | MN | 72,030
Women's Transitional Housing Coalition, Inc | MN | 189,686
Young Women's Christian Association of St. Paul, MN | MN | 80,585
YWCA of Duluth | MN | 16,800
Barry Lawrence Advocates Standing Together (BLAST) | MO | 297,990
Benilde Hall | MO | 100,380
Budget and Financial Management Assistance | MO | 121,390
City of Kansas City, Missouri | MO | 649,452
City of St. Joseph, MO | MO | 47,170
City of St. Louis | MO | 6,313,678
Community Caring Council | MO | 361,872
Community LINC | MO | 110,057
Community Services League | MO | 56,497
Economic Security Corporation of Southwest Area | MO | 171,473
Families Assisted in Transitional Housing, Inc | MO | 87,295
Family Counseling Center, Inc | MO | 240,005
Family Self-Help Center, Inc | MO | 29,804
High Hope Employment Services, Inc | MO | 235,830
Housing Authority of Kansas City, Missouri | MO | 491,280
Housing Authority of the City of Columbia, Missouri | MO | 295,488
Interfaith Community Services, Inc. (InterServ) | MO | 694,551
Mental Health Association of the Heartland | MO | 64,099
Mid America Assistance Coalition | MO | 43,358
Missouri Association for Social Welfare | MO | 221,588
Missouri Department of Mental Health | MO | 7,440,636
New Hope Ministries and Resource Center | MO | 315,817
North East Community Action Corporation | MO | 212,234
Ozarks Area Community Action Corporation (OACAC) | MO | 26,655
Phoenix Programs, Inc | MO | 71,122
RAIN Regional Aids Interfaith Network—Central Missouri, Inc | MO | 51,597
reStart, Inc | MO | 226,306
Ripley County Family Resource Center | MO | 160,711
Rose Brooks Center, Inc | MO | 203,610
S.E.M.O. Christian Restoration Center | MO | 212,268
SAVE Inc | MO | 490,156
Sheffield Place | MO | 163,079
St. Louis County | MO | 196,488
Swope Health Services | MO | 185,281
The Housing Authority of Springfield | MO | 104,472
The Kansas City Metropolitan Lutheran Ministry | MO | 213,515
The Kitchen, Inc | MO | 472,750
The Salvation Army | MO | 369,217
The Salvation Army an Ilinois Corporation | MO | 232,321
Truman Medical Center, Inc | MO | 513,246
Vision House of Cape Girardeau | MO | 275,255
Bolivar County Community Action Agency, Inc | MS | 644,832
Catholic Charities | MS | 169,048
City of Natchez | MS | 328,177
Forrest General Hospital Pine Grove Behavioral Health Division | MS | 250,000
Hinds County Human Resource Agency | MS | 118,650
Multi-County Community Service Agency, Inc | MS | 349,999
New Dimensions Development Foundation, Inc | MS | 159,238
New Life for Women, Inc | MS | 199,999
Open Doors Homeless Coalition | MS | 45,648
Recovery House, Inc | MS | 321,176
Sanctuary Hospice House, Inc | MS | 262,500
Stewpot Community Services | MS | 49,392
The University of Southern Mississippi | MS | 144,618
God's Love, Inc | MT | 150,470
Helena Housing Authority | MT | 160,944
Housing Authority of Billings | MT | 83,160
Human Resources Council, District XII | MT | 90,958
Missoula County | MT | 374,210
Missoula Housing Authority | MT | 461,040
Mountain Home Montana, Inc | MT | 76,798
Northwest Montana Human Resources, Inc | MT | 71,538
Public Housing Authority of Butte | MT | 72,696
Sanders County Coalition for Families | MT | 56,964
State of Montana | MT | 66,980
Supporters of Abuse Free Environments, Inc | MT | 35,700
The Poverello Center, Inc | MT | 74,934
The Samaritan House, Inc | MT | 63,000
Affordable Housing Coalition | NC | 260,360
Alamance-Caswell Area Mental Health/Dev.Disabilities/Substance Abuse | NC | 97,308
Alcohol and Drug Services of Guilford, Inc | NC | 36,838
Allied Churches of Alamance County, Inc | NC | 466,400
Brunswick Family Assistance Agency, Inc | NC | 42,633
Burke United Christian Ministries, Inc | NC | 384,414
CenterPoint Human Services | NC | 216,684
Chrysalis Foundation for Mental Health, Inc | NC | 78,151
City of High Point | NC | 265,440
City of Winston-Salem | NC | 880,015
Coastal Horizons Center, Inc | NC | 78,975
Community Alternatives for Supportive Abodes, Incorporated dba CASA | NC | 563,706
Community Link, Programs of Travelers Aid | NC | 459,665
Cumberland County, NC | NC | 231,922
Cumberland Interfaith Hospitality Network | NC | 378,216
Family Services of the Piedmont, Inc | NC | 37,834
First Fruit Ministries | NC | 120,716
Five County Mental Health Authority | NC | 936,168
Gaston County Interfaith Hospitality Network, Inc | NC | 38,850
Good Shepherd Ministries of Wilmington, Inc | NC | 56,073
Greensboro Housing Authority | NC | 121,776
Greensboro Urban Ministry, Inc | NC | 63,000
Greenville Community Life Center | NC | 72,177
Haven House Inc | NC | 137,364
Hope Haven, Inc | NC | 553,347
Hospitality House of Asheville, Inc | NC | 182,886
Hospitality House of the Boone Area, Inc | NC | 63,109
Housing Authority of the City of Wilmington | NC | 102,432
Housing for New Hope, Inc | NC | 772,877
Inter-Faith Council for Social Service | NC | 11,000
Love Center for Community Enhancement | NC | 73,176
Mary's House, Inc | NC | 135,982
Mecklenburg County Area MH, DD, & SA Authority | NC | 1,334,207
Mecklenburg County Health Department Homeless Support Services | NC | 145,136
Neuse Center for MH/DD/SAS | NC | 223,884
Next Step Ministries, Inc | NC | 37,800
North Carolina Housing Coalition Inc | NC | 540,204
North Carolina Housing Coalition, Inc | NC | 30,000
Northwestern Housing Enterprises, Incorporated | NC | 62,891
OPC Mental Health, Dev. Disabilities and Substance Abuse Authority | NC | 186,948
Open Door Ministries for High Point, Inc | NC | 48,919
Passage Home, Inc | NC | 503,539
Pathways Services, Inc | NC | 268,088
PLM Families Together, Incorporated | NC | 82,334
Rokingham County Help for Homeless, Inc | NC | 232,806
Sandhills Community Action Program, Inc | NC | 240,792
Smoky Mountain Center | NC | 1,018,800
St. Peter's Homes, Inc | NC | 33,333
Surry Homeless and Affordable Housing Coalition | NC | 180,274
The Christian Couseling and Wellness Group, Inc | NC | 500,000
The Salvation Army, A Georgia Corporation | NC | 337,650
The Servant Center, Inc | NC | 47,586
Tideland Mental Health Center MH/DD/SAS | NC | 21,492
United Community Ministries | NC | 88,200
Volunteers of America of the Carolinas, Inc | NC | 86,997
Wake County Human Services | NC | 1,086,361
Western Highlands, A Local Management Entity | NC | 245,652
Abused Adult Resource Center | ND | 78,682
Community Violence Intervention Center | ND | 94,772
Fargo Housing and Redevelopment Authority | ND | 338,460
North Dakota Department of Commerce | ND | 124,248
Prairie Harvest Human Services Foundation | ND | 84,999
Ruth Meiers Hospitality House, Inc | ND | 119,998
Society of St. Vincent de Paul | ND | 15,277
Women's Alliance, Inc | ND | 37,600
YWCA Cass Clay | ND | 441,364
Blue Valley Community Action, Inc | NE | 220,019
Catholic Charities of the Archdiocese of Omaha, Inc | NE | 213,234
Catholic Social Services | NE | 207,028
CEDARS Youth Services | NE | 130,707
CenterPointe, Inc | NE | 630,885
Central Nebraska Community Services | NE | 320,949
City of Lincoln | NE | 89,760
Community Action of Partnership Mid-Nebraska | NE | 116,361
Community Alliance Rehabilitation Services | NE | 196,430
Goldenrod Hills Community Action | NE | 27,171
Heartland Family Service | NE | 338,477
Hope of Glory Ministries, Inc | NE | 76,822
Lincoln Action Program | NE | 449,539
Panhandle Partnership for Health and Human Services | NE | 31,896
St. Monica's | NE | 140,456
Stephen Center, Inc | NE | 52,238
The Salvation Army | NE | 343,611
Behavioral Health & Developmental Services of Strafford County, Inc | NH | 229,680
Child & Family Services of NH | NH | 334,587
Families in Transition | NH | 245,294
Greater Nashua Council on Alcoholism, Inc | NH | 60,083
Harbor Homes, Inc | NH | 1,269,691
Marguerite's Place, Inc | NH | 58,481
My Friend's Place | NH | 54,239
New Hampshire Department of Health and Human Services | NH | 1,584,307
New Hampshire Department of HHS | NH | 260,902
Northern Human Services (Formerly No. NH Mental Health and Dev. Services) | NH | 132,011
Southern New Hampshire Services, Inc | NH | 32,192
The Prayer Hall, Inc. (d/b/a Welcome Home) | NH | 90,050
Tri-County Community Action Program, Inc | NH | 188,568
West Central Services, Inc | NH | 66,037
180, Tuming Lives Around, Inc | NJ | 194,290
AAH of Bergen County, Inc | NJ | 189,840
Advance Housing, Inc | NJ | 954,373
AIDS Coalition of Southern New Jersey | NJ | 22,042
AIDS Resource Foundation for Children | NJ | 400,000
Alternatives, Inc | NJ | 199,757
Bergen County Community Action Partnership, Inc | NJ | 74,537
Burlington County Community Action Program | NJ | 24,839
Camden County Council on Economic Opportunity, Inc | NJ | 699,560
Caring for the Kids Exchange Club Family Center | NJ | 42,423
Catholic Charities of the Archdiocese of Newark | NJ | 421,752
Catholic Charities of the Diocese of Camden | NJ | 27,257
Catholic Charities, Diocese of Metuchen | NJ | 247,661
Catholic Charities, Diocese of Trenton | NJ | 200,089
Center For Family Services | NJ | 126,811
City of East Orange | NJ | 464,664
City of Trenton | NJ | 1,769,412
Collaborative Support Programs of New Jersey PHA NJ880 | NJ | 1,110,060
Convenant House New Jersey | NJ | 1,346,676
Counseling and Referral Services of Ocean, Inc | NJ | 472,830
County of Bergen | NJ | 106,315
County of Monmouth | NJ | 989,304
County of Union | NJ | 1,305,964
Dooley House Inc | NJ | 238,301
Englewood Housing Authority | NJ | 1,755,300
Family Service | NJ | 42,000
HABcore, Inc | NJ | 292,802
Hispanic Multi Purpose Service Center | NJ | 83,804
Homeless Solutions, Inc | NJ | 680,661
Housing Authority of the Township of Edison | NJ | 640,800
Info Line of Middlesex County | NJ | 15,114
Interfaith Homeless Outreach Council | NJ | 25,133
Isaiah House, Inc | NJ | 1,130,355
Jersey Battered Women's Service, Inc | NJ | 198,137
Jersey City Episcopal Community Development Corporation | NJ | 451,047
LADACIN Network, Inc | NJ | 28,347
Mental Health Association of Morris County | NJ | 60,060
Middlesex Interfaith Partners with the Homeless | NJ | 244,109
New Community Harmony House Corporation | NJ | 328,143
New Jersey Department of Community Affairs | NJ | 188,881
New Jersey Department of Community Affairs | NJ | 1,041,713
New Jersey Department of Milltary and Veterans Affairs | NJ | 330,372
New Jersey Housing and Mortage Finance Agency | NJ | 81,727
New Jersey Housing and Mortgage Finance Agency | NJ | 593,331
NJ Home, Inc | NJ | 389,353
North Hudson Community Action Corporation | NJ | 424,888
O.C.E.A.N. Inc | NJ | 113,001
Ocean's Harbor House, Inc | NJ | 52,500
Our Lady of Lourdes Health Foundation, Inc | NJ | 232,413
Passaic County Department of Human Services | NJ | 854,794
Paterson Coalition for Housing | NJ | 358,740
Positive Health Care Inc | NJ | 315,000
Project Live, Inc | NJ | 420,000
Saint Joseph's Home | NJ | 558,534
Salem County Inter-Agency Council of Human Services, Inc | NJ | 137,550
Shelter Our Sisters | NJ | 42,021
South Jersey Behavioral Health Resources, Inc | NJ | 91,137
Southern New Jersey Housing Corporation | NJ | 33,597
St. Phillip's Ministry of the UMC | NJ | 90,825
Strengthen Our Sisters | NJ | 233,334
The DACKKS Group for Supportive Housing Development, Inc | NJ | 369,936
The Doe Fund, Inc | NJ | 1,239,269
The House of Faith, Inc | NJ | 293,475
The Lester A. Drenk Behavioral Health Center, Inc | NJ | 120,720
Township of Irvington | NJ | 384,172
Transitional Housing Services, Inc | NJ | 66,182
Vantage Health System, Inc | NJ | 347,189
Vetgroup, Inc | NJ | 55,999
Volunteers of America Delaware Valley, Inc | NJ | 893,931
Women Rising, Inc | NJ | 644,268
Albuquerque Health Care for the Homeless, Inc | NM | 135,267
Albuquerque Mental Health Housing Coalition, Inc | NM | 635,017
Barrett Foundation, Inc | NM | 121,227
Catholic Charties | NM | 707,143
City of Albuquerque | NM | 2,210,095
City of Santa Fe | NM | 528,492
Daybreak Center | NM | 199,978
DreamTree Project Inc | NM | 144,717
Eastern Plains Council of Governments | NM | 235,660
Goodwill Industries of New Mexico | NM | 222,931
Human Rights Advocacy, Inc | NM | 186,900
La Casa, Inc | NM | 221,655
Mesilla Valley Community of Hope | NM | 586,050
New Mexico Coalition to End Homelessness | NM | 87,150
S.A.F.E. House | NM | 42,097
St. Martin's Hospitality Center | NM | 115,500
Town of Taos | NM | 450,000
Transitional Living Services, Inc | NM | 381,300
Carson City Health & Human Services | NV | 197,700
Churchill County | NV | 44,999
Douglas County | NV | 60,000
HELP Las Vegas Housing Corporation | NV | 585,693
HELP of Southern Nevada | NV | 1,016,230
Henderson Allied Community Advocates | NV | 315,986
Nevada Partnership for Homeless Youth | NV | 665,563
Northern Nevada Adult Mental Health Services | NV | 436,080
Northern Nevada Community Housing Resource Board | NV | 51,955
ReStart | NV | 681,436
Rural Clinics | NV | 219,516
St. Vincent HELP, Incorporated | NV | 101,508
State of Nevada | NV | 905,556
Temporary Assistance for Domestic Crisis, Incorporated | NV | 113,851
The Salvation Army, A California Corporation | NV | 323,451
Washoe County | NV | 284,160
Women's Development Center | NV | 605,202
163rd Street Improvement Council, Inc | NY | 297,675
Adirondack Vets House, Inc | NY | 75,417
Albany Housing Authority | NY | 548,832
Albany Housing Coalition, Inc | NY | 29,970
Altamont Program, Inc | NY | 62,300
Anchor House, Inc | NY | 240,648
Argus Community, Inc | NY | 1,171,701
ARISE Child and Family Service, Inc | NY | 100,526
Association to Benefit Children | NY | 115,706
B.A.S.I.C.S., Inc | NY | 353,208
Banana Kelly Community Improvement Association, Inc | NY | 376,756
Bethesda House of Schenectady, Inc | NY | 320,197
Binghamton Housing Authority | NY | 345,600
Bowery Residents' Committee, Inc | NY | 2,456,973
Brooklyn Bureau of Community Service | NY | 724,598
Catherine McAuley Housing, Inc./dba Mercy Residential Services | NY | 200,180
Catholic Charities Diocese of Rockville Centre | NY | 370,249
Catholic Charities Housing Office | NY | 175,875
Catholic Charities of the Roman Catholic Diocese of Syracuse | NY | 166,666
Catholic Charities of the Roman Catholic Diocese of Syracuse, NY | NY | 478,088
Cattaraugus Community Action, Inc | NY | 94,315
Cazenovia Recovery System, Inc | NY | 241,125
Center for Urban Community Services, Inc | NY | 1,828,075
Central New York Services, Inc | NY | 992,975
Circulo de la Hispanidad, Inc | NY | 1,210,102
Citizens Advice Bureau | NY | 1,304,999
City of Mount Vernon (NY) | NY | 866,502
City of Schenectady | NY | 160,560
Coalition for the Homeless | NY | 367,553
Columba Kavanagh House, Inc | NY | 554,829
Common Ground Community IV HDFC | NY | 141,382
Community Action for Human Services, Inc | NY | 565,448
Community Counseling and Mediation Services | NY | 238,951
Community Housing Innovations. Inc | NY | 375,843
Comunilife, Inc. (formerly known as Health Industry Resources Enterprises, Inc.) | NY | 1,298,844
Concern for Independent Living, Inc | NY | 649,262
Corporation for AIDS Research Education and Services, Inc. (CARES, Inc.) | NY | 25,000
Corporation for AIDS Research, Education and Services | NY | 34,666
Corporation for AIDS Research, Education and Services, Inc | NY | 33,333
Corporation for AIDS Research, Education and Services, Inc. (CARES, Inc.) | NY | 16,666
Council on Alcoholism & Drug Abuse of Sullivan County, Inc | NY | 197,129
Covenant House New York/Under 21, Inc | NY | 2,239,707
Crystal Run Village, Inc | NY | 1,019,689
Damon House New York, Inc | NY | 262,479
DePaul Community Services | NY | 64,439
Domestic Violence and Rape Crisis Services of Saratoga County | NY | 294,127
Dutchess County | NY | 359,437
East New York Urban Youth Corps | NY | 96,756
El Regreso Foundation | NY | 253,855
Equinox, Inc | NY | 327,217
Erie County Department of Mental Health | NY | 2,304,407
Fairview Recovery Services, Inc | NY | 704,198
Family and Children's Association | NY | 526,237
Family of Woodstock, Inc | NY | 91,667
Family Residences & Essential Enterprises | NY | 312,061
Family Residences & Essential Enterprises, Incorporated | NY | 127,552
Federation Employment and Guidance Service, Inc | NY | 1,796,924
Federation of Organizations for the NYS Mentally Disabled, Inc | NY | 206,492
Fillmore-Leroy Area Residents, Inc | NY | 67,417
Fountain House, Inc | NY | 784,008
Gateway Community Industries, Inc | NY | 91,069
Gerard Place Housing Development Fund Company, Inc | NY | 177,910
Goddard Riverside Community Center | NY | 696,909
Good Shepherd Services | NY | 414,000
Greystone Health Services, Incorporated | NY | 317,585
H.O.M.E.E. CLINIC, INC | NY | 131,936
Hands Across Long Island, Inc | NY | 349,637
Harlem United Community AIDS Center | NY | 354,616
Help Social Service Corporation | NY | 1,338,679
HELP Suffolk, Inc | NY | 127,897
Helping Hands Unlimited, Inc | NY | 160,454
Heritage Health and Housing, Inc | NY | 845,379
Homeless Action Committee, Inc | NY | 79,747
Homeless and Travelers Aid Society of the Capital District, Inc | NY | 498,138
Housing Options Made Easy, Inc | NY | 161,486
Housing Works, Inc | NY | 803,169
Hudson River Housing, Inc | NY | 138,842
Institute for Community Living, Inc | NY | 1,820,969
Interfaith Hospitality Network of Greater Buffalo | NY | 22,875
Interfaith Nutrition Network (The INN) | NY | 104,878
Jefferson County Department of Social Services | NY | 597,660
John Heuss Corporation | NY | 77,030
Joseph's House & Shelter, Inc | NY | 186,984
Legal Aid Society of Northeastern New York, Inc | NY | 65,715
Legal Services of the Hudson Valley | NY | 52,753
Lenox Hill Neighborhood House, Inc | NY | 557,192
Lower Eastside Service Center, Inc | NY | 492,100
Lutheran Social Services of Metropolitan New York | NY | 210,000
Mental Health Association in Ulster County, Inc | NY | 139,060
Mental Health Association of NYC, Inc | NY | 869,154
Metropolitan Council on Jewish Poverty | NY | 99,942
Minority Task Force on Aids DBA Faces NY | NY | 282,884
MTI Residential Services, Inc | NY | 937,767
Nassau County Coalition Against Domestic Violence | NY | 147,497
Nassau/Suffolk Law Services Committee, Inc | NY | 139,232
Neighborhood Coalition for Shelter, Inc | NY | 240,287
New York City Department of Homeless Services | NY | 1,090,920
New York State Office of Alcoholism and Substance Abuse Services | NY | 392,940
New York State Office of Alcoholism & Substance A/O Use Services | NY | 6,112,824
New York State Office of Alcoholism and Substance Abuse Services | NY | 2,577,168
New York State Office of Mental Health | NY | 780,180
Newburgh Community Improvement Corporation | NY | 75,067
Niagara County | NY | 15,467
NYC Dept of Housing Preservation and Development | NY | 16,307,928
NYS Office of Mental Health | NY | 3,921,484
Options for Community Living, Inc | NY | 358,778
Options for Independence, Inc | NY | 221,882
Palladia, Inc | NY | 4,008,720
Pathways to Housing, Inc | NY | 1,100,688
PEOPLe, Inc | NY | 164,304
Phase-Piggy Back, Inc | NY | 443,065
Pibly Residential, Programs, Inc | NY | 463,234
Planned Parenthood of Buffalo & Erie County, Inc | NY | 66,832
Praxis Housing Intiatives, Inc | NY | 795,229
Project for Psychiatric Outreach to the Homeless, Inc | NY | 438,139
Project Hospitality, Inc | NY | 370,557
Project Renewal | NY | 2,015,963
Regional Economic Community Action Program Inc | NY | 65,810
Rehabilitation Support Services | NY | 188,010
Restoration Society, Inc | NY | 274,708
Rochester Housing Authority | NY | 2,707,272
Rural Opportunities, Inc | NY | 82,137
Safe Inc. of Schenectady | NY | 96,534
Safe Space NYC, Inc | NY | 225,610
Samaritan Village, Inc | NY | 526,459
Saratoga County Rural Preservation Company | NY | 43,997
Services for the UnderServed Mental Health Services, Inc | NY | 1,554,383
Society of St. Vincent de Paul, Diocesan Council of Rockville Centre | NY | 300,168
South Shore Association for Independent Living, Inc | NY | 730,330
Southern Tier Environments for Living, Inc | NY | 55,392
Spiritus Christi Prison Outreach, Inc | NY | 333,500
State of New York | NY | 310,512
Steuben County | NY | 346,908
Suburban Housing Development & Research, Inc | NY | 199,353
Suicide Prevention and Crisis Services | NY | 19,699
Support Ministries, Inc | NY | 111,321
Syracuse Brick House, Inc | NY | 563,656
Syracuse Housing Authority | NY | 2,190,828
Tempro Development Company, Inc | NY | 678,251
The Bridge, Inc | NY | 791,411
The Center for Youth Services, Inc | NY | 33,251
The Doe Fund, Inc | NY | 3,013,782
The Educational Alliance, Inc | NY | 464,529
The Fortune Society, Inc | NY | 448,157
The Jericho Project | NY | 49,671
The Lantern Group | NY | 630,000
The Municipal Housing Authority for the City of Yonkers | NY | 1,478,043
The Nassau-Suffolk Coaliton for the Homeless | NY | 457,800
The Rescue Mission Alliance of Syracuse, NY | NY | 200,000
The Salvation Army | NY | 758,887
The Salvation Army of Syracuse | NY | 1,123,363
Tompkins Community Action | NY | 101,793
Transitional Services Association, Inc | NY | 34,721
Troy Housing Authority | NY | 471,648
Ulster Department of Social Services | NY | 61,320
United Bronx Parents, Inc | NY | 911,516
United Veterans Beacon House, Inc | NY | 267,576
Unity Health System | NY | 640,600
Unity House of Troy, Inc | NY | 936,935
University Consultation & Treatment Center for Mental Hygiene, Inc | NY | 244,998
Urban Justice Center | NY | 252,397
Urban Pathways, Inc | NY | 680,235
Urban Resource Institue | NY | 250,294
Veritas Therapeutic Community, Inc | NY | 98,910
VIP Community Services, Inc | NY | 596,537
Warren-Washington Association for Mental Health | NY | 109,347
Wayne County Action Program, Inc | NY | 22,257
West Side Federation for Senior and Supportive Housing, Inc | NY | 628,117
Westchester County | NY | 7,662,621
WestHELP, Incorporated | NY | 41,779
Weston United Community Renewal, Inc | NY | 224,900
Wilson Commencement Park | NY | 417,075
Women in Need, Inc | NY | 832,798
Y.W.C.A. of the Mohawk Valley | NY | 485,510
YMCA of Greater New York | NY | 570,504
YMCA of Rochester and Monroe County | NY | 123,781
Young Women's Christian Association of Troy Cohoes | NY | 75,000
YWCA of Binghamton/Broome County | NY | 214,161
YWCA of Schenectady | NY | 633,814
YWCA of Western New York | NY | 79,610
Addiction Programs of Mahoning County, Incorporated | OH | 242,630
AIDS Taskforce of Greater Cleveland | OH | 373,969
Akron Metropolitan Housing Authority | OH | 345,384
Amethyst, Inc | OH | 161,171
Aurora Project, Inc | OH | 103,773
Beatitude House | OH | 71,250
Bethany House Services, Incorporated | OH | 1,028,137
Catholic Charities Diocese of Toledo | OH | 86,552
Catholic Charities Regional Agency | OH | 25,624
Center for Respite Care, Incorporated | OH | 485,760
City of Cincinnati | OH | 3,283,440
City of Dayton, Ohio | OH | 2,157,432
City of Springfield | OH | 94,956
Cleveland Housing Network, Incorporated | OH | 239,253
Coleman Professional Services | OH | 160,389
Columbiana County Mental Health Clinic | OH | 36,667
Columbus Metropolitan Housing Authority | OH | 3,499,044
Community Action Partnership of the Greater Dayton Area | OH | 55,566
Community AIDS Network | OH | 131,599
Community Housing Network, Inc | OH | 2,192,142
Community Legal Aid Services, Incorporated | OH | 52,792
Community Shelter Board | OH | 42,771
Community Support Services, Inc | OH | 145,274
Continue Live, Incorporated | OH | 212,973
Cuyahoga County | OH | 12,077,123
Cuyahoga Metropolitan Housing Authority (CMHA) | OH | 1,136,769
Daybreak, Inc | OH | 188,769
East Side Catholic Center and Shelter, Incorporated | OH | 187,749
Emerald Development & Economic Network (EDEN), Incorporated | OH | 2,014,614
Family & Community Services, Inc | OH | 300,092
Family Abuse Shelter of Miami County, Inc | OH | 60,900
Family Transitional Housing, Incorporated | OH | 344,232
Family Violence Prevention Center of Greene County | OH | 123,054
Freestore Foodbank, Incorporated | OH | 505,397
Friends of the Homeless, Inc | OH | 260,680
Geauga Community Board of Mental Health, Drug & Alcohol Services | OH | 86,808
Greater Cincinnati Oral Health Council | OH | 539,294
Greene Metropolitan Housing Authority | OH | 131,208
H.M. Life Opportunity Services | OH | 640,940
Health Foundation Fund | OH | 857,103
Hitchcock Center for Women, Incorporated | OH | 512,244
Huckleberry House, Inc | OH | 229,539
ICAN, Inc | OH | 655,280
Ironton-Lawrence County Area Community Action Organization, Inc | OH | 101,333
Jefferson County Community Action Council, Inc | OH | 138,432
Joseph's Home | OH | 273,056
Justice Watch, Incorporated | OH | 183,621
Legacy III, Inc | OH | 544,295
Licking County Coalition for Housing | OH | 582,448
Licking Metropolitan Housing Authority | OH | 175,152
Lighthouse Youth Services Incorporated | OH | 441,075
Lorain Metropolitan Housing Authority | OH | 506,136
Lucas Co. TASC, Inc | OH | 637,786
Lucas County Mental Health Board | OH | 1,618,759
Lucas Metropolitan Housing Authority | OH | 686,400
Lutheran Metropolitan Minstry | OH | 100,314
M.R.M.T.O.A.P., Inc | OH | 32,555
Mental Health & Recovery Board of Union County | OH | 60,580
Mental Health Services for Homeless Persons, Incorporated | OH | 2,545,214
Mercy Manor, Inc | OH | 101,718
Meridian Services, Incorporated | OH | 405,638
Miami Valley Housing Opportunities, Inc | OH | 351,865
National Church Residences | OH | 250,092
Neighborhood Health Association of Toledo, Inc | OH | 158,939
New Sunrise Products, Inc | OH | 44,316
North Coast Community Homes, Inc | OH | 84,032
Northeast Ohio Coalition for the Homeless (NEOCH) | OH | 105,000
Ohio Multi-County Development Corporation | OH | 497,618
Ohio Valley Goodwill Industries Rehabilition Center, Incorporated | OH | 873,926
Over-the-Rhine Community Housing, Incorporated | OH | 612,880
Pickaway County Community Action Organization | OH | 123,145
PLACES, Inc | OH | 1,006,300
Preparation for Adult Living (P.A.L.) Mission | OH | 200,000
Project Woman | OH | 246,710
Shelterhouse Volunteer Group, Incorporated dba Drop Inn Center | OH | 140,931
Springfield District Council of the St. Vincent de Paul Society | OH | 30,856
St. Vincent Hotel, Inc | OH | 180,000
Stark Metropolitan Housing Authority | OH | 339,048
State of Ohio | OH | 204,168
Tender Mercies Incorporated | OH | 175,889
The Community Health Center | OH | 857,982
The Greater Youngstown Point, Incorporated | OH | 80,150
The Mental Health, Drug and Alcohol Services Board | OH | 40,348
Transitional Housing, Incorporated | OH | 245,057
United Way of the Greater Dayton Area | OH | 137,898
Volunteers of America Northwest Ohio, Inc | OH | 289,999
Volunteers of America of Northeast and North Central Ohio, Incorporated | OH | 405,277
Western Stark Medical Clinic, Inc | OH | 124,951
Wooster Interfaith Housing Corp | OH | 263,000
WSOS Community Action Commission, Inc | OH | 344,354
YMCA of Greater Cleveland | OH | 342,158
Young Women's Chrisitian Association, Inc | OH | 41,569
Young Women's Christian Association of Greater Cincinnati, Incorporated | OH | 322,637
Young Women's Christian Association of Youngstown, Ohio | OH | 802,850
Youngstown State University | OH | 90,659
YWCA Columbus | OH | 99,015
YWCA of Dayton | OH | 1,265,549
YWCA of Elyria | OH | 120,933
Zanesville Metropolitan Housing Authority | OH | 41,376
12 & 12, Inc | OK | 122,458
City of Oklahoma City | OK | 2,278,535
Community Action Resources & Development, Inc | OK | 131,454
Community Service Council of Greater Tulsa | OK | 129,113
Domestic Violence Intervention Services, Inc | OK | 149,370
East Main Place, Inc | OK | 45,779
Food and Shelter for Friends | OK | 53,000
Freedom from Addiction Through Christ | OK | 43,632
KI BOIS Community Action Foundation, Inc | OK | 119,403
Legal Aid Services of Oklahoma, Inc | OK | 111,920
Mental Health Association in Tulsa | OK | 919,431
Norman Housing Authority | OK | 67,872
Northeast Oklahoma Community Action Agency, Inc | OK | 84,130
Oklahoma Mental Council d/b/a/ Red Rock Behavioral Health Services | OK | 162,175
State of Oklahoma | OK | 191,244
The Salvation Army, A Georgia Corporation | OK | 522,080
Volunteers of America, Inc | OK | 285,579
Waynoka Mental Health Authority | OK | 224,440
ACCESS, Inc | OR | 14,198
Bradley-Angle House | OR | 71,273
Cascadia Behavioral Healthcare, Inc | OR | 823,918
Central City Concern | OR | 725,357
Central Oregon Community Action Agency Network (COCAAN) | OR | 296,759
City of Portland | OR | 367,924
Clackamas County Social Services | OR | 75,864
Clackamas Women's Services | OR | 79,371
Community Action Organization | OR | 330,437
Community Services Consortium | OR | 152,242
Community Works, Inc | OR | 119,700
Eugene/Springfield/Lane County CoC | OR | 1,188,593
Housing and Community Services Agency of Lane County | OR | 334,656
Housing Authority of Clackamas County | OR | 71,886
Housing Authority of Portland | OR | 417,432
Human Solutions. Inc | OR | 50,000
Mid-Willamette Valley Community Action Agency, Incorporated | OR | 414,778
Multnomah County | OR | 2,051,814
Neighborhood House, Inc | OR | 276,781
Northwest Human Services, Incorporated | OR | 235,025
Northwest Pilot Project, Inc | OR | 118,371
Open Door Counseling Center | OR | 76,190
Oregon Housing and Community Services | OR | 1,284,288
Portland Impact, Inc | OR | 115,737
Rouge Valley Council of Governments | OR | 133,665
Shangri-La Corporation | OR | 37,800
Southwest Oregon Community Action Committee, Incorporated | OR | 37,143
St. Vincent dePaul Society of Lane County, Inc | OR | 471,956
The Inn Home for Boys | OR | 241,294
The Salvation Army | OR | 39,375
The Salvation Army, A Califorinia Corporation | OR | 125,769
Transition Projects, Inc | OR | 781,578
Washington County Department of Housing Services | OR | 1,145,841
1260 Housing Development Corporation | PA | 883,589
Achieve Ability | PA | 474,600
Allegheny County | PA | 12,144,384
American Red Cross, Lower Bucks County Chapter | PA | 80,905
Armstrong County Community Action Agency | PA | 354,924
Associacion De Puertorriquenos En Marcha, Inc. (APM) | PA | 372,654
Berks Counseling Center, Inc | PA | 671,955
Bethesda Project | PA | 160,901
Blair County Community Action Program | PA | 540,667
Bucks County | PA | 108,796
Bucks County Housing Group, Inc | PA | 160,407
Bucks County Office of Employment & Training, Inc | PA | 93,698
Butler County Community Action & Development | PA | 161,013
Cameron & Elk Counties MH/MR Program | PA | 130,911
Catherine McAuley Center | PA | 272,997
Catholic Social Services Diocese of Scranton, Inc | PA | 425,475
Catholic Social Services of Delaware County | PA | 200,009
Chester County | PA | 454,011
City Mission—Living Stones, Inc | PA | 241,998
City of Philadelphia | PA | 4,664,644
Co-County Wellness Services dba Berks AIDS Network | PA | 93,600
Commission on Economic Opportunity | PA | 160,512
Committee for Dignity and Fairness for the Homeless Housing Development, Inc | PA | 400,380
Commonwealth of Pennsylvania | PA | 242,200
Community Action Agency of Delaware County, Inc | PA | 816,600
Community Action Committee of the Lehigh Valley | PA | 111,341
Community Action Partnership of Mercer County (CAPMC) | PA | 120,515
Community Action Southwest | PA | 36,228
Community Action, Inc | PA | 302,407
Community Housing Services | PA | 385,138
Community Services of Venango County, Inc | PA | 140,035
Community Youth and Women's Alliance, Inc | PA | 44,594
Connect, Inc | PA | 638,362
Council of Chemical Abuse | PA | 412,416
County of Delaware | PA | 359,400
County of Franklin | PA | 283,766
County of Montgomery, Pennsylvania | PA | 136,639
County of Washington | PA | 1,086,958
Crawford County Mental Health Awareness Program, Inc. (CHAPS) | PA | 356,434
Dauplin County | PA | 95,500
Delaware County Housing Authority | PA | 986,375
DELTA Housing, Inc | PA | 84,067
Domestic Abuse Project of Delaware County, Inc | PA | 146,907
Domestic Violence Center of Chester County | PA | 87,174
Domestic Violence Service Center, Inc | PA | 57,015
DuBois Housing Authority | PA | 148,032
Easy Does It, Inc | PA | 68,599
Episcopal Ministries of the Diocese of Bethlehem d/b/a New Bethany Ministries | PA | 237,277
Erie County Department of Human Services, MH/MR | PA | 628,128
Family and Community Service of Delaware County | PA | 112,440
Family Services of Montgomery County | PA | 181,692
Fayette County Community Action Agency, Inc | PA | 731,570
Gaudenzia Foundation, Inc | PA | 504,521
Gaudenzia, Inc | PA | 65,953
Habor Point Housing | PA | 339,973
Hedwig House, Inc | PA | 181,201
HELP Development Corporation | PA | 650,162
Holcomb Behavioral Health Systems | PA | 114,424
Horizon House | PA | 697,019
Horizon House, Inc | PA | 1,210,261
Housing Authority of Centre County | PA | 451,920
Housing Authority of the County of Beaver | PA | 55,597
Housing Authority of the County of Butler | PA | 217,927
Housing Authority of the County of Cumberland | PA | 609,720
Housing Authority, County of Dauplin | PA | 219,108
Housing Development Corporation of NEPA | PA | 1,209,562
Housing Transitions, Inc | PA | 213,293
Human Services Center | PA | 120,391
Impact Services Corporation | PA | 1,007,681
Indian Valley Housing Corporation | PA | 44,989
Indian Valley Opportunity Center | PA | 32,000
Indiana County Community Action Program, Inc | PA | 126,091
Lancaster City Housing Authority | PA | 120,696
Laurel House | PA | 84,000
Lawrence County Social Services, Inc | PA | 309,378
Lehigh County Conference of Churches | PA | 407,084
Maranatha | PA | 531,704
Mechling Shkley Veteran's Center | PA | 335,741
Mental Health Association of Southeastern Pennsylvania | PA | 324,052
Mental Health Association of Southern Pennsylvania | PA | 704,027
Montgomery County Community Action Development Commission (CADCOM) | PA | 59,216
Northern Cambria Community Development Corp | PA | 395,529
Northumberland County MH/MR Administrator | PA | 234,393
Overington House, Inc | PA | 254,142
Penn Foundation, Inc | PA | 72,887
Penndel Mental Health Center, Inc | PA | 153,628
People's Emergency Center | PA | 46,422
Philadelphia Housing Authority | PA | 316,368
Project H.O.M.E. | PA | 952,453
Reading Housing Authority | PA | 786,240
Redevelopment Authority of the County of Lancaster | PA | 33,333
Resources for Human Development, Inc | PA | 1,114,984
Schuylkill Women in Crisis | PA | 99,984
Scranton Primary Health Care Center, Inc | PA | 165,375
The Lighthouse Foundation | PA | 39,272
The Lodge, Inc. of Pennsylvania | PA | 161,860
The Program for Women and Families, Inc | PA | 110,408
The Salvation Army | PA | 301,700
The Salvation Army, A New York Corporation | PA | 860,438
The Salvation Army, A New York Corporation | PA | 479,649
Travelers Aid Society of Philadelphia | PA | 532,355
Turning Point Interfaith Mission | PA | 422,757
Union-Snyder Community Action Agency | PA | 340,519
United Christian Ministries, Inc | PA | 266,324
United Neighborhood Centers of Lackawanna County, Inc | PA | 467,418
United Way of Berks County | PA | 252,000
Valley Housing Development Corporation | PA | 695,470
Valley Youth House Committee, Inc | PA | 454,418
Victim Outreach Intervention Center | PA | 87,178
Wesley House Community Corporation, Inc | PA | 26,199
Westmoreland Human Opportunities, Inc | PA | 458,000
Women's Resource Center, Inc | PA | 264,157
Wyoming Valley Catholic Youth Center | PA | 318,101
Young Women's Christian Association | PA | 681,735
YWCA of Greater Harrisburg | PA | 690,115
Autonomous Municipal Government of Cidra | PR | 160,272
Casa de la Bondad, Inc | PR | 262,500
Casa del Peregrino Aguadilla, Inc | PR | 73,968
Casa Protegida Julia de Burgos | PR | 405,460
Casa Renuevo de Amor para ti Mujer, Incorporated | PR | 352,065
Centro de Dreambulantes Cristo Probe, Incorporated | PR | 564,564
Coalicion Criolla de Cuidado Continuo a Personas sin Hogar, Inc | PR | 580,072
Coalicion Occidental Pro Bienestar del Deambulante, Inc | PR | 52,605
Coalition of Continuous Support for the Homeless of Guaynabo | PR | 219,200
Commonwealth of Puerto Rico Department of Housing | PR | 1,459,080
CORDA de Puerto Rico, Inc | PR | 618,786
Corp. La Fondita de Jesus | PR | 1,120,040
Corporacion de Servicios de Salud y Medicina Avanzada, Inc. (COSSMA) | PR | 444,411
Corporacion Milagros del Amor | PR | 226,500
Estancia Corazon, Inc | PR | 817,142
Fundacion Chana y Samuel Levis, Inc | PR | 258,760
Fundacion de Desarrollo Comunal de P.R, Inc. (Fundesco) | PR | 832,373
Hogar Del Buen Pastor, Inc | PR | 237,609
Hogar Fotaleza del Caido, Inc | PR | 103,908
Instituto Pre Vocacional e Industrial de Puerto Rico | PR | 449,893
Lucha Contra El Sida, Inc | PR | 258,049
Lucha Contral el SIDA, Incorporated | PR | 1,761,385
Ministerio de Restauracion Cristo Mi Fortaleza, Incorporated | PR | 288,956
Municipal Government of Carolina | PR | 925,712
Municipality of Aguas Buenas | PR | 123,958
Municipality of Hormigueros | PR | 155,100
Municipality of Naranjito | PR | 266,449
Municipality of San German | PR | 298,140
Municipality of San Juan | PR | 1,243,438
Municipality of Vega Alta | PR | 273,829
Municipality of Vega Baja | PR | 720,657
Municipio de Loiza | PR | 352,800
Municipio de Naguabo | PR | 285,240
Proyecto Amor que Sana, Inc | PR | 804,582
Family Resources Community Action | RI | 34,048
Newport County Community Mental Health Center | RI | 8,204
Rhode Island Housing and Mortgage Finance Corporation | RI | 3,845,249
The Providence Center | RI | 41,133
Washington Sqaure Services Corp | RI | 103,217
Any Length Recovery, Inc | SC | 78,746
Crisis Ministries | SC | 149,264
Family Shelter, Inc | SC | 606,359
Greenville Area Interfaith Hospitallity Network (GAIHN) | SC | 21,775
Home Alliance, Inc | SC | 292,546
Homes of Hope, Inc | SC | 55,866
Lighthouse Ministries | SC | 60,294
MEG's House Shelter for Abused Women | SC | 538,834
Myrtle Beach Housing Authority | SC | 186,816
Pee Dee Community Action Partnership | SC | 228,100
Project Care | SC | 166,667
Rosewood House of Recovery, Inc | SC | 235,573
Sistercare, Inc | SC | 331,142
South Carolina Department of Mental Health | SC | 715,836
Spartanburg County | SC | 160,164
Sunbelt Human Advancement Resources, Inc. (SHARE) | SC | 643,990
The Housing Authority of The City of Charleston | SC | 84,994
The Salvation Army, A Georgia Corporation | SC | 108,943
Trinity Housing Corporation | SC | 268,589
Upstate Homeless Coalition of SC | SC | 843,804
Wateree Community Actions, Incorporated | SC | 121,150
Williamsburg Enterprise Community Commission, Inc | SC | 127,188
Inter-Lakes Community Action, Inc | SD | 250,208
Sioux Falls Housing and Redevelopment Commission | SD | 114,228
AGAPE Child & Family Services, Inc | TN | 193,040
Alpha Omega Veterans Services, Inc | TN | 283,474
Appalachian Regional Coalition on Homelessness (ARCH) | TN | 102,952
Beech Bluff United Pentecostal Church | TN | 194,901
Behavioral Health Initiatives, Inc | TN | 78,750
Buffalo Valley, Inc | TN | 1,539,580
Campus for Human Development | TN | 151,053
Carey Counseling Center, Inc | TN | 122,745
Catholic Charities of East Tennessee | TN | 202,190
Catholic Charities, Inc | TN | 1,377,270
Chattanooga Church Ministries, Inc | TN | 291,574
Child & Family Tennessee | TN | 268,697
City of Chattanooga | TN | 170,880
Cocaine Alcohol Awareness Program, Inc | TN | 168,748
Cumberland Regional Development Corporation | TN | 176,680
Damascus Road, Inc | TN | 147,772
Downtown Ministry Center, Inc | TN | 376,551
Fairview Housing Management Corporation | TN | 118,515
Family Tree Destiny Center | TN | 239,117
Fortwood Center, Inc | TN | 138,649
Genesis House, Inc | TN | 63,849
Hardeman County | TN | 154,380
Housing Opportunities and People Enterprises, Inc | TN | 19,202
Kingsport Housing & Redevelopment Authority | TN | 211,234
Knoxville-Knox County Community Action Committee | TN | 243,630
Matthew 25, Inc | TN | 37,041
Maury County Center Against Domestic Violence, dba Hope House | TN | 73,332
Memphis Family Shelter, Inc | TN | 197,886
Metropolitan Development & Housing Agency (MDHA) | TN | 1,932,648
Metropolitan Government of Nashville—Davidson County | TN | 58,161
Metropolitan Inter-Faith Association, Inc | TN | 651,289
Murfreesboro Housing Authority | TN | 264,048
Operation Stand Down Nashville, Inc | TN | 50,000
Park Center | TN | 124,080
Partners for the Homeless | TN | 37,572
Partnership for Families, Children and Adults | TN | 29,376
Positively Living | TN | 70,204
Professional Care Services of West TN, Inc | TN | 37,917
Quinco Community Mental Health Center, Inc | TN | 98,595
Renewal House, Inc | TN | 31,136
Robertson County | TN | 140,220
Safe Haven Family Shelter | TN | 56,910
Shelby County Government | TN | 763,384
The Council for Alcohol & Drug Abuse Services, Inc. (CADAS) | TN | 280,325
The Salvation Army, A Georgia Corporation | TN | 822,406
The University of Tennessee | TN | 138,895
The University of Tennessee Health Science Center | TN | 105,738
Town of Crossville Housing Authority | TN | 344,760
Urban Housing Solutions | TN | 168,705
Whitehaven Southwest Mental Health Center, Inc | TN | 120,711
Wo/Men's Resource and Rape Assistance Program | TN | 86,073
YWCA of Nashville & Middle Tennessee | TN | 46,566
ABC Behavioral Health, L.L.C. | TX | 431,660
AIDS Foundation Houston, Incorporated | TX | 1,097,341
AIDS Services of North Texas, Inc | TX | 237,733
All Church Home for Children, Inc | TX | 113,922
Arlington Life Shelter | TX | 168,402
Austin Travis County Mental Health Mental Retardation Center | TX | 426,536
Bay Area Turning Point, Incorporated | TX | 268,305
Bonita House of Hope | TX | 487,281
Brighter Tomorrows, Inc | TX | 176,360
Buckner Children and Family Services, Inc | TX | 35,016
Career and Recovery Resources, Incorporated | TX | 117,112
Caritas of Austin | TX | 313,926
Catholic Charities of Archdiocese of Galveston-Houston | TX | 56,465
City of Amarillo | TX | 426,532
City of Beaumont | TX | 94,476
City of Dallas | TX | 2,046,454
City of Denton, Texas | TX | 67,333
City of El Paso | TX | 53,545
City of Irving | TX | 415,740
City of Longview | TX | 241,428
City of San Antonio | TX | 5,372,285
City of Waco | TX | 493,140
Coalition for the Homeless of Houston/Harris County, Incorporated | TX | 185,490
Coastal Bend Alcohol & Drug Rehabilitation Center dba Charlie's Place | TX | 142,569
Community Council of Greater Dallas | TX | 183,648
Compassion Ministries of Waco, Inc | TX | 322,551
Corpus Christi Metro Ministries, Inc | TX | 160,255
Covenant House Texas | TX | 394,932
Dallas County | TX | 1,008,840
Dallas Jewish Coalition, Inc. dba Vogel Alcove Childcare Center for the Homeless | TX | 166,441
Dallas Metrocare Services | TX | 271,702
Day Resource Center for the Homeless | TX | 704,494
Dental Health for Arlington, Inc | TX | 29,370
Dental Health Programs, Inc. dba Community Dental Care | TX | 146,633
Denton County Mental Health Mental Retardation Center | TX | 264,318
DePelchin Children's Center | TX | 509,589
El Paso MHMR | TX | 380,743
Families Under Urban and Social Attack, Incorporated | TX | 120,750
Family Gateway, Inc | TX | 193,140
Family Services of Southeast Texas, Inc | TX | 150,977
Fort Bend County Women's Center, Incorporated | TX | 651,092
Goodwill Industries of South Texas, Inc | TX | 176,098
Harmony House, Incorporated | TX | 492,042
Harris County | TX | 4,012,940
Heart of Texas Council of Governments | TX | 191,128
HELP Development Corporation | TX | 439,456
Homeless Network of Texas dba Texas Homeless Network | TX | 348,716
Homeward Bound, Inc | TX | 1,380,750
HOPE, Inc | TX | 33,232
Hope's Door | TX | 346,027
Housing Authority of the City of Arlington | TX | 405,461
Housing Authority of the City of Fort Worth | TX | 3,646,812
Housing Crisis Center | TX | 473,453
Houston Area Women's Center | TX | 687,514
Interfaith Housing Coalition | TX | 697,772
La Posada Home, Inc | TX | 89,027
Lazarus House Initiative, Incorporated | TX | 86,223
Legal Aid of NorthWest Texas, Inc | TX | 159,464
LifeNet Community Behavioral Healthcare | TX | 1,285,700
Mental Health Mental Retardation Authority of Harris County | TX | 592,418
Mental Health Mental Retardation of Tarrant County | TX | 78,871
Montrose Counseling Center, Incorporated | TX | 102,344
New Beginning Center, Inc | TX | 188,949
Northwest Assistance Ministries | TX | 491,562
Nueces County Mental Health and Mental Retardation Community Center | TX | 150,577
Opportunity Center for the Homeless | TX | 891,867
Perpetual Help Home, Inc | TX | 33,111
Port Cities Rescue Mission Ministries | TX | 175,037
Presbyterian Night Shelter of Tarrant County, Inc | TX | 181,077
Promise House, Inc | TX | 219,538
PWA Coalition of Dallas, Inc. d/b/a AIDS Services of Dallas | TX | 574,390
Rainbow Days, Inc | TX | 257,237
Rescue Mission of El Paso, Inc | TX | 46,796
San Antonio Metropolitan Ministry, Inc | TX | 104,597
SEARCH, Incorporated | TX | 1,333,225
Shared Housing Center | TX | 90,510
Some Other Place, Inc | TX | 111,888
Star of Hope Mission | TX | 1,487,792
Tarrant County | TX | 3,024,331
Tarrant County ACCESS for the Homeless | TX | 149,805
Texas Inmate Services, Inc | TX | 109,468
The Bridge Over Troubled Waters, Incorporated | TX | 919,672
The Community Enrichment Center, Inc | TX | 212,889
The Family Place | TX | 976,567
The Gulf Coast Center | TX | 441,892
The Housing Authority of the City of Austin | TX | 307,632
The Housing Authority of Travis County | TX | 390,780
The Salvation Army, A Georgia Corp | TX | 137,777
The Salvation Army, A Georgia Corporation | TX | 1,582,120
The Women's Home | TX | 126,717
Travis County Domestic Violence & Sexual Assault Survival Center dba SafePlace | TX | 826,440
United States Veterans Initiative | TX | 110,441
Volunteers of America Texas, Incorporated | TX | 212,069
Wellsprings, Incorporated | TX | 180,973
Wesley Community Center | TX | 134,971
Young Women's Christian Association El Paso Del Norte Region | TX | 269,440
Youth and Family Alliance, Inc. dba Life Works | TX | 363,825
Catholic Community Services of Utah (CCS) | UT | 475,362
Center for Women and Children in Crisis | UT | 55,598
Community Action Services | UT | 228,653
Davis Family Support Center Inc. dba Family Connection Center | UT | 247,700
Erin Kimball Memorial Foundation, Inc | UT | 169,766
Four Corners Community Behavioral Health, Inc | UT | 144,729
Friends of the Coalition | UT | 55,125
Housing Authority of Salt Lake City | UT | 475,326
Housing Authority of the City of Ogden | UT | 342,540
Housing Authority of the County of Salt Lake | UT | 1,693,728
Housing Authority of Utah County | UT | 235,920
Mountainlands Community Housing Trust | UT | 72,000
Multi-Ethnic Development Corporation | UT | 45,000
Provo City Housing Authority | UT | 146,245
State of Utah | UT | 146,945
Utah Dept. of Community and Culture (DCC) | UT | 30,672
Volunteers of America, Utah | UT | 680,830
Your Community Connection of Ogden/Northern Utah | UT | 201,069
YWCA of Salt Lake City | UT | 467,967
Alexandria Community Services Board | VA | 399,047
Arlington County Government | VA | 492,817
Arlington Street People's Assistance Network, Incorporated | VA | 194,986
Avalon: A Center for Women and Children | VA | 64,454
Barrett Haven Inc | VA | 144,913
CANDII, Inc | VA | 429,823
Christian Relief Services Charities, Inc | VA | 413,282
Christian Relief Services of Virginia, Inc | VA | 508,568
City of Portsmouth, VA | VA | 416,941
City of Richmond, Department of Social Services | VA | 925,428
City of Roanoke, VA | VA | 280,901
Commonwealth of Virginia | VA | 60,855
Community Alternatives Management Group Inc | VA | 557,018
Community Residences, Incorporated | VA | 244,468
Council of Community Services | VA | 72,938
County of Loudoun | VA | 168,339
Danville Redevelopment & Housing Authority | VA | 107,850
Emergency Shelter, Inc. dba HomeAgain | VA | 783,317
Fairfax County Department of Family Services | VA | 1,118,318
Fairfax County Department of Housing and Community Development | VA | 853,800
ForKids, Inc | VA | 988,703
Hampton-Newport News Community Services Board | VA | 143,321
Harrisonburg Redevelopment and Housing Authority | VA | 42,000
Hilliard House | VA | 262,917
Homestretch, Inc | VA | 146,699
Homeward | VA | 26,745
Kurdish Human Rights Watch, Inc | VA | 426,356
Link of Hampton Roads, Inc | VA | 470,004
New Hope Housing, Inc | VA | 828,535
Norfolk Community Services Board | VA | 571,943
Northwestern Community Services | VA | 266,331
NOVACO Inc | VA | 111,492
Oasis Commission on Social Ministry of Portsmouth/Chesapeake | VA | 250,069
Our House Families | VA | 109,797
Pathway Homes, Inc | VA | 157,788
Portsmouth Area Resources Coalition, Inc | VA | 276,283
Portsmouth Chrisitan Outreach Ministries | VA | 79,309
Portsmouth Volunteers for the Homeless, Inc | VA | 55,650
Prince William County Department of Social Services | VA | 642,348
PRS, Inc | VA | 168,450
Rappahannock Area Development Commission | VA | 59,307
Rappahannock Refuge, Inc./Hope House | VA | 57,918
Region Ten Community Services Board | VA | 143,946
Residential Options, Inc | VA | 134,423
Rush Lifetime Homes, Inc | VA | 70,371
Samaritan House, Inc | VA | 152,227
Sheltered Homes of Alexandria, Inc | VA | 167,036
St. Columba Ecumenical Ministries, Inc | VA | 130,179
St. Joseph's Villa | VA | 427,750
The Daily Planet | VA | 585,841
The Planning Council | VA | 104,623
The Salvation Army A Georgia Corporation for The Salvation Army | VA | 106,213
Thomas Jefferson Planning District Commission | VA | 71,069
Total Action Against Poverty, Inc | VA | 265,261
Transitions Family Violence Services | VA | 137,854
Trust, Roanoke Valley Trouble Center, Inc. d/b/a Trust House | VA | 53,858
United Community Ministries, Inc | VA | 134,731
Urban League of Greater Richmond | VA | 70,350
Virginia Beach Community Development Corporation | VA | 446,491
Virginia Supportive Housing | VA | 583,680
Virginia Suppportive Housing | VA | 75,600
Volunteers of America Chesapeake, Inc | VA | 54,075
YWCA of South Hampton Roads | VA | 38,516
Methodist Training & Outreach Center, Inc | VI | 187,110
Addison County Community Action Group | VT | 145,045
Burlington Housing Authority | VT | 162,504
Central Vermont Community Land | VT | 8,427
Champlain Valley Office of Economic Opportunity | VT | 222,440
Northwestern Counseling & Support Services | VT | 122,136
The Howard Center for Human Services | VT | 381,219
Vermont State Housing Authority VT901 | VT | 929,174
AIDS Housing of Washington | WA | 387,192
Archdiocesan Housing Authority | WA | 504,738
Auburn Youth Resources—Severson House | WA | 123,287
Bellingham/Whatcom County Housing Authorities | WA | 986,580
Benton & Franklin Counties Department of Human Services | WA | 85,236
Benton Franklin Community Action Committee | WA | 508,040
Blue Mountain Action Council | WA | 282,404
Bread and Roses | WA | 38,758
Catholic Community Services | WA | 140,086
Child Care Resources | WA | 529,095
Children's Home Society of Washington | WA | 56,642
City Of Bremerton | WA | 167,676
City of Seattle | WA | 7,826,112
City of Spokane | WA | 2,116,228
Columbia River Mental Health Services | WA | 96,983
Community Action Center | WA | 19,152
Community Psychiatric Clinic | WA | 423,329
Community Services Northwest | WA | 89,396
Community Youth Services | WA | 149,624
Compass Health | WA | 230,991
Council for the Homeless | WA | 72,698
El Centro de la Raza | WA | 17,603
Family Support Center | WA | 54,810
Fremont Public Association | WA | 158,620
Friends of Youth—Arbor House | WA | 123,062
Goodwill Development Association | WA | 28,597
HopeSource | WA | 20,066
Housing Authority of Snohomish County | WA | 2,021,292
Housing Authority of the City of Bremeton | WA | 132,450
Housing Authority of the City of Seattle | WA | 9,896
Housing Authority of the City of Vancouver | WA | 114,585
Housing Authority of Thurston County | WA | 133,921
Housing Hope | WA | 167,402
Joint City of Republic—Ferry County Housing Authority | WA | 36,316
Kent Youth and Family Services | WA | 38,135
King County | WA | 74,613
King County Dept. of Community and Human Services | WA | 6,015,010
Kitsap County Consolidated Housing Authority | WA | 24,939
Lewis County | WA | 106,775
Low Income Housing Institute | WA | 522,030
Mason County Shelter | WA | 98,209
Multi-Service Center | WA | 26,725
Next Step Housing | WA | 46,835
Northwest Youth Services | WA | 377,338
Opportunity Council | WA | 224,998
Pierce County | WA | 2,246,862
Seattle Vietnam Veterans Leadership Program | WA | 23,580
Serenity House of Clallam County | WA | 281,720
Share | WA | 61,267
Skagit County Community Action Agency | WA | 50,054
Snohomish County | WA | 1,014,958
Spokane County | WA | 39,244
Spokane Neighborhood Action Programs | WA | 264,796
Sun Community Service | WA | 35,466
The Church Council of Greater Seattle | WA | 57,278
The Compass Center | WA | 26,285
The Salvation Army, A California Corporation | WA | 331,828
Triumph Treatment Services | WA | 158,792
United Indians of All Tribes Foundation | WA | 343,565
Walla Walla County | WA | 66,102
Washington Gorge Action Programs | WA | 108,095
Yakima County | WA | 126,960
Yakima County Coalition for the Homeless | WA | 175,590
YouthCare | WA | 257,459
YW Housing | WA | 256,467
YWCA of Seattle-King County Snohomish County | WA | 172,344
YWCA of Seattle-King County-Snohomish County | WA | 461,905
ADVOCAP.INC | WI | 465,010
CAP Services, Inc | WI | 105,025
Catherine Marian Housing, Inc | WI | 55,053
Center for Veterans Issues, Ltd | WI | 680,738
Central Wisconsin Community Action Council, Inc | WI | 256,902
City of Appleton | WI | 176,577
City of Waukesha Housing Authority | WI | 112,555
Community Action, Inc. of Rock and Walworth Counties | WI | 508,552
Community Advocates, Inc | WI | 2,507,705
Community Relations—Social Development Commission | WI | 196,230
Couleecap, Inc | WI | 609,042
Dane County Human Services | WI | 557,004
Family Service of Racine | WI | 27,475
Family Services of Northeast Wisconsin, Inc | WI | 156,988
Forward Service Corporation | WI | 393,741
Greater Milwaukee Chapter, American Red Cross | WI | 662,756
Guest House of Milwaukee Inc | WI | 317,720
Health Care for the Homeless of Milwaukee | WI | 279,000
Hebron House of Hospitality, Inc | WI | 116,535
Homeless Assistance Leadership Organization, Inc. (HALO Inc.) | WI | 241,717
Hope House of Milwaukee, Inc | WI | 621,679
Interfaith Hospitality Network of the Madison Area | WI | 54,996
Kenosha Human Development Services, Inc | WI | 261,711
Lakeshore CAP Inc | WI | 117,663
Legal Action of Wisconsin | WI | 191,836
Matt Talbot Recovery Center, Inc | WI | 235,625
Meta House, Inc | WI | 80,099
Milwaukee County Behavioral Health Division | WI | 2,383,020
Milwaukee County Department of Health and Human Services | WI | 573,627
Milwaukee Women's Center, Inc | WI | 137,677
My Home, Your Home, Inc | WI | 183,547
North Central Community Action Program, Inc | WI | 175,236
Northwest Wisconsin Community Services Agency Inc | WI | 90,525
Porchlight, Inc | WI | 738,187
Project New Life, CDC | WI | 149,810
Racine Vocational Ministry, Inc | WI | 30,088
St. Aemilian-Lakeside, Inc | WI | 331,590
St. Catherine Residence | WI | 144,379
Starting Points, Inc | WI | 679,239
Tellurian UCAN, Inc | WI | 1,053,423
The Open Gate, Inc | WI | 105,878
The Salvation Army | WI | 557,747
Transitional Living Services, Inc | WI | 144,672
Walker's Point Youth & Family Center | WI | 20,273
West Central Wisconsin Community Action Agency, Inc | WI | 427,009
Western Dairyland Economic Opportunity Council, Inc | WI | 264,926
Wisconsin Dept. of Commerce Division of Housing and Community Dev | WI | 584,447
Women and Children's Horizons, Inc | WI | 215,143
Women's Resource Center of Racine, Inc | WI | 51,970
Young Women's Christian Association of La Crosse, Wisconsin | WI | 72,643
YWCA of Greater Milwaukee | WI | 82,970
Cabell-Huntington Coalition for the Homeless | WV | 423,622
Community Action of South Eastern WV (CASE WV) | WV | 385,980
Greater Wheeling Coalition for the Homeless | WV | 162,332
Housing Authority of Mingo County | WV | 639,662
Mid-Ohio Valley Fellowship Home | WV | 71,515
Opportunity House, Inc | WV | 213,844
Religious Coalition for Community Renewal | WV | 72,513
Roark-Sullivan Lifeway Center | WV | 279,171
Southwestern Community Action Council, Inc | WV | 169,339
Southwestern Community Action Council, Incorporated | WV | 186,776
Telamon Corporation | WV | 287,326
The Hunington WV Housing Authority | WV | 337,561
West Virginia Governor's Office of Economic Opportunity | WV | 181,860
Worthington Mental Health Services | WV | 227,939
Young Women's Christian Association of Charleston, WV Inc | WV | 199,127
Council of Community Services | WY | 61,016
Housing Authority—City of Casper | WY | 179,121
Total | 1,204,857,682
Fiscal Year 2007 Funding Awards for the Continuum of Care Program
Rural Alaska Community Action Program Inc | AK | 141,168
Anchorage Community Mental Health Services, Inc | AK | 646,563
Rural Alaska Community Action Program Inc | AK | 357,474
Alaskan AIDS Assistance Association | AK | 103,425
Anchorage Community Mental Health Services, Inc | AK | 203,464
Covenant House Alaska | AK | 245,629
Muncipality of Anchorage | AK | 296,714
Anchorage Housing Initiatives, Inc | AK | 81,886
Alaskan AIDS Assistance Association | AK | 25,920
Anchorage Community Mental Health Services, Inc | AK | 258,048
The LeeShore Center | AK | 73,791
Yukon-Kuskokwim Health Corporation | AK | 50,966
Valley Residential Services | AK | 26,340
Interior Alaska Center for Non-Violent Living | AK | 32,824
Yukon-Kuskokwim Health Corporation | AK | 63,312
Valley Residential Services | AK | 46,463
Alaska Housing Finance Corp | AK | 18,460
Valley Residential Services | AK | 102,499
Yukon-Kuskokwim Health Corporation | AK | 36,480
Tundra Women's Coalition | AK | 28,212
The Salvation Army | AL | 159,973
Independent Living Resources of Greater Birmingham, Inc | AL | 26,460
YWCA Central Alabama | AL | 64,688
AIDS Alabama, Inc | AL | 149,300
AIDS Alabama, Inc | AL | 186,873
Jefferson County Housing Authority | AL | 173,280
Jefferson County Housing Authority | AL | 3,282,744
AIDS Alabama, Inc | AL | 258,590
The Cooperative Downtown Ministries | AL | 47,835
First Light, Inc | AL | 82,378
Jefferson-Blount-S Clair Mental Health/MR Authority | AL | 234,751
Aletheia House | AL | 314,705
Metropolitan Birmingham Services for the Homeless | AL | 138,600
Pathways, Inc | AL | 128,181
The Cooperative Downtown Ministries | AL | 219,089
The Cooperative Downtown Ministries | AL | 142,892
University of Alabama at Birmingham | AL | 240,471
The Cooperative Downtown Ministries | AL | 126,426
University of Alabama at Birmingham | AL | 491,080
Jefferson County Housing Authority | AL | 50,520
Aletheia House | AL | 108,857
YWCA Central Alabama | AL | 303,477
Greater Mobile-Washington County Mental Health Mental Retardation Board, Inc. dba Mobile Mental | AL | 231,093
Volunteers of America Southeast | AL | 156,600
Housing First, Inc | AL | 105,000
Penelope House Family Violence Center | AL | 143,430
Housing First, Inc | AL | 123,060
Greater Mobile-Washington County Mental Health—Mental Retardation Board, Inc. dba Mobile Mental | AL | 226,332
Housing First, Inc | AL | 158,777
Volunteers of America Southeast | AL | 88,222
Housing First, Inc | AL | 309,792
The Salvation Army | AL | 94,756
Catholic Social Services of Baldwin County | AL | 120,244
St. Mary's Home | AL | 148,732
Baldwin Family Violence Shelter | AL | 101,830
Housing First, Inc | AL | 78,178
Service Center of Catholic Social Services | AL | 25,261
Franklin Primary Health Center, Inc | AL | 86,100
Service Center of Catholic Social Services | AL | 171,019
Dumas Wesley Community Center | AL | 163,077
Greater Mobile-Washington County Mental Health—Mental Retardation Board, inc. dba Mobile Mental He | AL | 271,762
Loaves and Fish Community Ministries, Inc | AL | 384,573
Safeplace, Inc | AL | 520,531
Crisis Services of North Alabama | AL | 56,393
Mental Health Center of Madison County | AL | 275,772
Mental Health Center of North Central Alabama, Inc | AL | 129,413
Interfaith Mission Services, Inc | AL | 105,016
Montgomery Area Mental Health Authority, Inc | AL | 294,501
Montgomery Area Family Violence Program Inc | AL | 164,652
Montgomery Area Family Violence Program Inc | AL | 138,606
Faith Crusade Ministries Inc | AL | 127,252
Lighthouse Counseling Center, Inc | AL | 286,800
Lighthouse Counseling Center, Inc | AL | 194,792
Montgomery Area Mental Health Authority, Inc | AL | 81,514
Montgomery Area Mental Health Authority, Inc | AL | 209,042
Montgomery Area Mental Health Authority, Inc | AL | 62,178
Montgomery Area Mental Health Authority, Inc | AL | 108,964
Lighthouse Counseling Center, Inc | AL | 177,727
Volunteer & Information Center, Inc | AL | 70,327
City of Gadsden | AL | 29,297
The Salvation Army, A Georgia Corporation | AL | 69,087
Mental Health/Mental Retardation Board of Bibb, Pickens and Tuscaloosa Counties | AL | 20,983
Alabama Coalition Against Domestic Violence | AL | 128,638
Little Rock Community Mental Health Center | AR | 38,400
Our House, Inc | AR | 162,568
Little Rock Community Mental Health Center | AR | 914,736
Arkansas Supportive Housing Network, Inc | AR | 96,088
Second Genesis, Inc | AR | 36,371
Arkansas Supportive Housing Network, Inc | AR | 550,993
Arkansas Supportive Housing Network, Inc | AR | 99,210
Black Community Developers, Inc | AR | 40,306
Women and Children First: The Center Against Family Violence | AR | 90,390
Black Community Developers, Inc | AR | 110,125
Little Rock Community Mental Health Center | AR | 163,584
Little Rock Community Mental Health Center | AR | 36,311
Arkansas Supportive Housing Network | AR | 377,916
Little Rock Community Mental Health Center | AR | 45,218
Arkansas Supportive Housing Network, Inc | AR | 279,706
Youth Bridge, Inc | AR | 90,720
Bethlehem House, Inc | AR | 21,600
Health Resources of Arkansas, Inc | AR | 133,596
Committee Against Spouse Abuse (CASA) | AR | 31,307
City of Pine Bluff (Economic and Community Development Department) | AR | 233,754
Counseling Associates, Inc | AR | 200,000
Arkansas Supportive Housing Network, Inc | AR | 99,262
Mohave County Community & Economic Development Department | AZ | 29,219
Arizona Department of Housing | AZ | 128,625
Community Partnership of Southern Arizona | AZ | 77,700
Old Concho Community Assistance Center | AZ | 91,049
Old Concho Community Assistance Center | AZ | 76,685
Mohave County Community & Economic Development Department | AZ | 129,805
Catholic Charities Communite Services—Flagstaff | AZ | 32,932
The Guidance Center | AZ | 108,701
Community Action Humen Resource Agency | AZ | 160,569
BOTHANDS, Inc | AZ | 78,175
The Excel Group | AZ | 191,064
West Yavapai Guidance Clinic | AZ | 112,237
Arizona Department of Housing | AZ | 78,858
The EXCEL Group | AZ | 133,488
The Excel Group | AZ | 209,412
The Guidance Center | AZ | 251,294
Old Concho Community Assistance Center | AZ | 97,200
United States Veterans Initiative | AZ | 350,368
Mohave County Community and Economic Development Department | AZ | 98,771
Arizona Department of Housing | AZ | 157,500
Open-Inn, Inc | AZ | 48,937
La Frontera Center, Inc | AZ | 422,709
CODAC Behavioral Health Services, Inc | AZ | 214,578
Community Partnership of Southern Arizona | AZ | 814,164
Travelers Aid Society of Tucson, Inc | AZ | 112,486
Open Inn, Incorporated | AZ | 219,320
Old Pueblo Community Foundation | AZ | 382,508
Open Inn, Incorporated | AZ | 422,846
Comin' Home Inc | AZ | 454,347
Information and Referral Services, Inc | AZ | 181,089
Open Inn, Inc | AZ | 59,692
Tucson Centers for Women and Children | AZ | 60,385
City of Tucson, Community Services Department | AZ | 741,272
Southern Arizona AIDS Foundation | AZ | 87,783
Travelers Aid Society of Tucsan, Inc | AZ | 429,503
City of Tucson Community Services Department, Section 8 Program | AZ | 27,332
Community Partnership of Southern Arizona | AZ | 87,696
Old Pueblo Community Foundation | AZ | 218,022
City of Tucson Community Services Department, Section 8 Program | AZ | 83,323
Community Partnership of Southern Arizona | AZ | 742,020
CODAC Behavioral Health Services, Inc | AZ | 166,510
Compass Health Care, Inc | AZ | 312,548
Old Pueblo Community Foundation | AZ | 67,366
The Primavera Foundation, Inc | AZ | 103,306
Arizona Behavioral Health Corporation | AZ | 1,747,524
House of Refuge East | AZ | 903,424
Save the Family Foundation of Arizona | AZ | 211,412
United States Veterans Initiative | AZ | 496,557
Community Information & Referral, Inc | AZ | 176,753
The Salvation Army | AZ | 73,080
Arizona Behavioral Health Corporation | AZ | 1,397,316
Arizona Behavioral Health Corporation | AZ | 2,748,072
Community Information & Referral, Inc | AZ | 400,921
Arizona Behavioral Health Corporation | AZ | 373,993
Mesa Community Action Network | AZ | 58,878
Tumbleweed Center for Youth Development | AZ | 318,730
Labor's Community Service Agency | AZ | 279,594
UMOM New Day Centers, Inc | AZ | 80,126
Arizona Housing Incorporated | AZ | 78,663
Arizona Behavioral Health Corporation | AZ | 1,735,423
Arizona Behavioral Health Corporation | AZ | 499,972
Arizona Behavioral Health Corporation | AZ | 938,788
Southwest Behavioral Health Services | AZ | 205,977
UMOM New Day Centers, Inc | AZ | 187,584
Arizona Housing, Inc | AZ | 58,025
Save the Family Foundation of Arizona | AZ | 411,726
Catholic Charities Community Services | AZ | 24,039
Homeward Bound | AZ | 26,250
Community Bridges, Inc | AZ | 344,610
Homeward Bound | AZ | 313,761
Chrysalis Shelter for Victims of Domestic Violence, Inc | AZ | 24,269
Arizona Behavioral Health Corporation | AZ | 685,755
Southwest Behavioral Health Services | AZ | 20,775
Chicanos Por La Causa, Inc | AZ | 101,737
Area Agency on Aging, Region One | AZ | 126,575
HomeBase Youth Services, Inc | AZ | 333,371
PREHAB of Arizona, Inc | AZ | 510,688
Phoenix Shanti Group, Inc | AZ | 34,600
Arizona Behavioral Health Corporation | AZ | 1,387,588
Recovery Innovations of Arizona, Inc. formerly META Services | AZ | 971,972
Women In New Recovery | AZ | 46,862
Southwest Behavioral Health Services | AZ | 202,031
Area Agency on Aging, Region One | AZ | 63,064
The Salvation Army | AZ | 45,360
Area Agency on Aging, Region One | AZ | 60,735
Sojourner Center | AZ | 417,763
Tumbleweed Center for Youth Development | AZ | 437,698
Tumbleweed Center for Youth Development | AZ | 214,429
Native American Connections | AZ | 35,000
YWCA of Maricopa County | AZ | 201,671
Native American Connections | AZ | 163,178
Native American Connections | AZ | 91,043
NOVA, Inc | AZ | 1,114,796
Phoenix Shanti Group | AZ | 70,456
Housing Authority of the County of Santa Clara | CA | 509,772
InnVision the Way Home | CA | 66,150
InnVision the Way Home | CA | 106,805
Family Supportive Housing, Inc | CA | 197,077
San Jose Cathedral Foundation | CA | 45,000
San Jose Cathedral Foundation | CA | 96,600
Charities Housing Development Corp | CA | 160,427
Housing for Independent People, Inc | CA | 133,333
InnVision the Way Home | CA | 104,437
Emergency Housing Consortium of Santa Clara County | CA | 290,883
Emergency Housing Consortium of Santa Clara County | CA | 496,169
Emergency Housing Consortium of Santa Clara County | CA | 93,866
InnVision the Way Home | CA | 211,612
InnVision the Way Home | CA | 138,894
Cupertino Community Services | CA | 82,533
InnVision the Way Home | CA | 210,000
Santa Clara County Department of Mental Health | CA | 702,301
InnVision the Way Home | CA | 168,888
Bill Wilson Center | CA | 298,645
Housing Authority of the County of Santa Clara | CA | 2,056,104
Emergency Housing Consortium of Santa Clara County | CA | 211,231
Emergency Housing Consortium of Santa Clara County | CA | 102,462
Emergency Housing Consortium of Santa Clara County | CA | 354,018
InnVision the Way Home | CA | 221,399
Emergency Housing Consortium of Santa Clara County | CA | 92,011
St. Joseph's Family Center | CA | 287,217
Community Technology Alliance | CA | 303,716
Santa Clara Unified School District | CA | 200,534
Bill Wilson Center | CA | 548,476
InnVision the Way Home | CA | 104,030
Catholic Charities of San Jose | CA | 488,880
Bill Wilson Center | CA | 237,230
City and County of San Francisco | CA | 666,666
Hamilton Family Center | CA | 179,026
Conard House, Inc | CA | 578,376
Community Housing Partnership | CA | 368,160
Goodwill Industries of San Francisco | CA | 954,809
The United Council of Human Services | CA | 736,471
Catholic Charities CYO | CA | 114,640
Goodwill Industries of San Francisco, San Mateo & Marin Counties | CA | 270,923
Swords to Plowshares Veterans Rights Organization | CA | 232,623
Catholic Charities CYO | CA | 110,624
Glide Community Housing, Inc | CA | 292,512
Episcopal Community Services | CA | 363,528
Housing Services Affilate of the Berna Heights Neighborhood Center | CA | 77,760
Catholic Charities, CYO | CA | 859,944
City and County of San Francisco | CA | 491,017
Northern California Service League | CA | 303,572
Housing Services Affiliate of the Bernal Heights Neighborhood Center | CA | 49,032
Community Awareness & Treatment Services, Inc | CA | 348,153
Larkin Street Youth Services | CA | 327,289
The Salvation Army, a California corporation | CA | 430,824
Catholic Charities, CYO | CA | 593,688
Jelani Incorporated | CA | 134,607
The United Council of Human Services | CA | 74,572
St. Vincent de Paul Society of San Francisco | CA | 132,544
City and County of San Francisco | CA | 1,172,941
Hamilton Family Center | CA | 381,721
San Francisco Network Ministries Housing Corporation | CA | 70,749
Episcopal Community Services | CA | 132,117
Conard House, Inc | CA | 199,440
Community Housing Partnership | CA | 127,185
Swords to Plowshares Veterans Rights Organization | CA | 355,787
Catholic Charities CYO | CA | 140,267
The Salvation Army, a California Corporation | CA | 1,094,340
Mission Housing Development Corporation | CA | 149,580
Tenderloin Housing Clinic | CA | 897,480
Episcopal Community Services | CA | 797,760
Compass Community Services | CA | 239,098
Tenderloin Neighborhood Development Corporation | CA | 523,272
Catholic Charities, CYO | CA | 822,672
Housing Services Affiliate of the Bernal Heights Neighborhood Center | CA | 79,776
GP/TODCO, A, Inc | CA | 179,496
Hamilton Family Center | CA | 234,609
Asian American Recovery Services, Iris Center, Jelani, Inc | CA | 655,104
Compass Community Services | CA | 295,006
Mission Housing Development Corporation | CA | 68,280
GP/TODCO, A, Inc | CA | 99,720
Catholic Charities CYO | CA | 179,786
Community Housing Partnership | CA | 157,490
Swords to Plowshares Veterans Rights Organization | CA | 254,335
Homeless Advocacy Project | CA | 358,402
Alameda County | CA | 59,325
East Oakland Community Project | CA | 245,146
Tri-City Homeless Coalition | CA | 676,632
Berkeley Food & Housing Project | CA | 242,217
Affordable Housing Associates | CA | 36,665
Resources for Community Development | CA | 70,187
Building Opportunities for Self Sufficiency | CA | 75,528
The Ark of Refuge, Inc | CA | 208,502
Alameda Point Collaborative | CA | 44,122
Bonita House, Inc | CA | 33,080
Alameda Point Collaborative | CA | 1,090,393
Building Opportunities for Self-Sufficiency (BOSS) | CA | 185,727
Building Opportunities for Self-Sufficiency (BOSS) | CA | 96,147
Goodwill Industries of the Greater East Bay, Inc | CA | 859,669
Anka Behavioral Care, Inc | CA | 1,825,154
Rubicon Programs Inc | CA | 1,016,786
Family Emergency Shelter Coalition | CA | 79,800
Women's Daytime Drop-in Center | CA | 68,975
Building Opportunities for Self-Sufficiency (BOSS) | CA | 74,500
Alameda County | CA | 3,712,704
Resources for Community Development | CA | 896,748
Alameda County, HCD | CA | 157,189
Building Opportunities for Self-Sufficiency (BOSS) | CA | 114,997
Fred Finch Youth Center | CA | 649,863
East Oakland Community Project (EOCP) | CA | 696,434
Building Opportunities for Self-Sufficiency (BOSS) | CA | 164,038
East Oakland Community Project | CA | 259,432
Operation Dignity | CA | 55,392
Alameda Point Collaborative | CA | 192,266
Berkeley Food & Housing Project | CA | 141,019
Building Opportunities for Self-Sufficiency (BOSS) | CA | 266,988
Tri-City Homeless Coalition | CA | 42,170
Tri-City Homeless Coalition | CA | 514,000
City of Fremont | CA | 269,790
Berkeley Food & Housing Project | CA | 249,999
RCD | CA | 255,288
Resource for Community Development | CA | 119,628
Bonita House, Inc | CA | 116,244
City of Berkeley | CA | 1,936,656
Alameda Point Collaborative | CA | 85,161
LifeLong Medical Care | CA | 539,398
Alameda County | CA | 384,582
Building Opportunities for Self-Sufficiency (BOSS) | CA | 736,155
Alameda County | CA | 815,880
Allied Housing Inc | CA | 124,548
Alameda Point Collaborative | CA | 40,285
Allied Housing Inc | CA | 181,335
Lutheran Social Services of Northen California | CA | 229,107
Resources for Independent Living (RIL) | CA | 97,876
Luthereran Social Services of Northern California | CA | 154,734
Sacramento Self-Help Housing, Inc | CA | 151,000
Volunteers of America Greater Sacramento & Northern Nevada | CA | 102,107
Lutheran Social Services of Northern California | CA | 497,424
AIDS Housing Alliance | CA | 81,746
Lutheran Social Services of Northern California | CA | 631,308
County of Sacramento | CA | 490,071
Transitional Living and Community Support, Inc | CA | 250,985
Sacramento Area Emergency Housing Center | CA | 316,033
Sacramento Area Emergency Housing Center | CA | 128,148
Transitional Living and Community Support, Inc | CA | 305,666
MAAP, Inc | CA | 110,250
Lutheran Social Services of Northern California | CA | 206,936
Sacramento Cottage Housing, Inc | CA | 226,000
Lutheran Social Services of Northern California | CA | 175,786
Sacrmento Cottage Housing, Inc | CA | 312,138
Lutheran Social Services of Northern California | CA | 275,838
Travelers Aid—Emergency Assistance Agency | CA | 398,509
Transitional Living and Community Support, Inc | CA | 245,830
County of Sacramento | CA | 3,939,840
County of Sacramento | CA | 99,959
Sacramento Children's Home | CA | 104,390
Volunteers of America Greater Sacramento & Northern Nevada | CA | 259,831
Resources for Independent Living (RIL) | CA | 123,496
AIDS Housing Alliance | CA | 89,932
Sacramento children's Home | CA | 83,324
Shasta Hotel Corporation | CA | 115,776
County of Sacramento | CA | 3,061,636
Vietnam Veterans of California | CA | 265,807
Buckelew Programs | CA | 166,344
Community Action Partnership of Sonoma County | CA | 107,000
Sonoma County Mental Health | CA | 189,984
Face to Face AIDS Network | CA | 393,552
Interfaith Shelter Network, Inc | CA | 60,114
Young Women's Christian Association of Sonoma County, Inc | CA | 52,500
Committee on the Shelterless (COTS) | CA | 75,000
Committee on the Shelterless (COTS) | CA | 16,000
Committee on the Shelterless (COTS) | CA | 29,744
Individuals Now dba Social Advocates for Youth | CA | 40,000
Vietnam Veterans of California | CA | 44,500
Sonoma County Community Development Commission | CA | 135,329
Drug Abuse Alternative Center | CA | 79,999
Community Support Network | CA | 40,842
Committee on the Shelterless (COTS) | CA | 76,667
Sonoma County Mental Health | CA | 122,280
Sonoma County Mental Health | CA | 55,320
Interfaith Shelter Network, Inc | CA | 24,780
Community Action Partnership of Sonoma County | CA | 40,624
Anka Behavioral Health Services | CA | 484,411
Anka Behavioral Health Services | CA | 243,552
Shelter, Inc. of Contra Costa County | CA | 269,833
Stand! Against Domestic Violence | CA | 75,571
Shelter, Inc. of Contra Costa County | CA | 677,099
Contra Costa Interfaith Housing | CA | 224,870
Contra Costa County Health Services Department | CA | 172,413
Rubicon Programs Inc | CA | 204,120
Resources for Community Developmen | CA | 158,041
Rubicon Programs Inc | CA | 221,628
Anka Behavioral Health Services | CA | 290,355
Rubicon Programs Inc | CA | 44,013
Greater Richmond Interfaith Programs | CA | 75,306
Anka Behavioral Health Services | CA | 495,153
Housing Authority of Contra Costa County | CA | 2,593,092
Rubicon Programs Inc | CA | 653,005
Shelter, Inc. of Contra Costa County | CA | 80,797
Shelter, Inc. of Contra Costa County | CA | 404,859
Veterans Transition Center | CA | 194,525
The Salvation Army, a California Corporation: Monterey Peninsula Corps | CA | 102,008
Unity Care Group, Inc | CA | 45,000
Shelter Outreach Plus | CA | 166,599
Coalition of Homeless Services Providers | CA | 70,875
Shelter Outreach Plus | CA | 121,833
INTERIM, Inc | CA | 138,169
Shelter Outreach Plus | CA | 115,999
Veterans Transition Center | CA | 81,115
John XII AIDS Ministry | CA | 125,519
Housing Authority of the County of Monterey | CA | 367,867
INTERIM, Inc | CA | 97,408
Center Point, Inc | CA | 474,247
Homeward Bound of Marin | CA | 191,493
Buckelew Programs | CA | 193,998
Center Point, Inc | CA | 42,210
Marin Abused Women's Services | CA | 55,642
Housing Authority of the County of Marin | CA | 802,872
Homeward Bound of Marin | CA | 50,148
Buckelew Programs | CA | 27,476
Homeward Bound of Marin | CA | 319,096
Marin Abused Women's Services | CA | 64,540
Pajaro Valley Shelter Services | CA | 13,623
Homeless Service Center | CA | 142,591
The Salvation Army, a California Corporation | CA | 83,137
County of Santa Cruz | CA | 89,985
Santa Cruz County Health Services Agency | CA | 350,920
County of Santa Cruz Health Srvices | CA | 68,700
Families in Transition of Santa Cruz County, Inc | CA | 181,158
Santa Cruz Community Counseling Center | CA | 41,540
Families in Transition of Santa Cruz County, Inc | CA | 185,186
Families in Transition | CA | 56,000
Ukiah Community Center (UCC) & Ford Street Project (FSP) | CA | 128,052
Ford Street Project | CA | 41,088
Mendocino County Continuum of Care | CA | 1,215,540
Ukiah Coast Community Center of Ford Street Project | CA | 200,077
Stanislaus Community Assistance Project | CA | 355,000
Community Housing and Shelter Services of Stanilaus County | CA | 285,941
Housing Authority of the County of Stanislaus | CA | 538,140
Community Housing & Shelter Services | CA | 205,025
Center for Human Services | CA | 128,983
Center for Human Services | CA | 272,047
Turning Point Community Programs | CA | 292,572
Stanislaus Community Assistance Project | CA | 470,787
Central Valley Low Income Housing Corp | CA | 412,314
Central Valley Low Income Housing Corp | CA | 283,206
Central Valley Low Income Housing Corp | CA | 354,644
San Joaquin County | CA | 96,698
Central Valley Low Income Housing Corp | CA | 1,196,465
Central Valley Low Income Housing Corp | CA | 255,328
Central Valley Low Income Housing Corporation | CA | 1,566,888
Shelter Network of San Mateo County | CA | 131,250
Housing Authority of the County of San Mateo | CA | 249,644
Shelter Network of San Mateo County | CA | 372,616
Samaritan House | CA | 105,000
Shelter Network of San Mateo County | CA | 494,788
InnVision the Way Home | CA | 74,078
Mental Health Association of San Mateo County | CA | 907,164
Shelter Network of San Mateo County | CA | 52,500
Shelter Network of San Mateo County | CA | 209,790
Shelter Network of San Mateo County | CA | 131,250
Mental Health Association of San Mateo County | CA | 73,271
Housing Authority of the County of San Mateo | CA | 1,324,500
Vietnam Veterans of California, Inc | CA | 83,107
Service League of San Mateo County | CA | 44,996
CORA (Community Overcoming Relationship Abuse) | CA | 225,375
Shelter Network of San Mateo County | CA | 225,750
Mental Health Association of San Mateo County | CA | 39,530
Housing Authority of the County of San Mateo | CA | 495,369
Kings United Way | CA | 101,920
Housing Authority City of Fresno | CA | 163,512
Housing Authority City of Fresno | CA | 604,872
Marjaree Mason Center, Inc | CA | 575,680
Valley Teen Ranch | CA | 90,146
TPOCC, Inc | CA | 848,233
Marjaree Mason Center, Inc | CA | 216,173
Angels of Grace, Inc | CA | 186,000
Turning Point of Central California, Inc | CA | 1,049,170
Fresno County Economic Opportunities Commission | CA | 1,171,727
Housing Authority City of Fresno | CA | 135,000
Hope, Help & Healing Inc | CA | 40,636
Placer County Health and Human Services—Adult System of Care | CA | 293,282
Placer Women's Center dba PEACE for Families | CA | 212,298
Northern Valley Catholic Social Service, Inc | CA | 276,240
Buckelew Programs | CA | 13,185
Catholic Charities of the Diocese of Santa Rosa | CA | 53,436
Buckelew Programs | CA | 148,768
Legal Aid of Napa Valley | CA | 13,500
Catholic Charities of the Diocese of Santa Rosa | CA | 27,431
County of Napa | CA | 19,950
County of Napa | CA | 123,439
Global Center for Success, Inc | CA | 66,225
Caminar, Inc | CA | 48,547
Fairfield-Suisun Community Action Council, Inc | CA | 183,750
ANKA Inc | CA | 152,935
Global Center for Success, Inc | CA | 41,832
Vacaville Social Services Corporation | CA | 100,207
Solano County Health and Social Services | CA | 199,080
Caminar, Inc | CA | 103,736
Youth & Family Services | CA | 109,925
Community Action Agency of Butte County, Inc | CA | 45,880
Community Action Agency of Butte County, Inc | CA | 53,946
Community Action Agency of Butte County, Inc | CA | 105,000
Butte County Department of Behavioral Health | CA | 165,300
Butte County Department of Behavioral Health | CA | 53,670
Merced County Community Action Board | CA | 81,163
Yolo Wayfarer Center | CA | 175,151
United Christian Centers of The Greater Sacramento Area, Inc | CA | 46,527
Davis Community Meals | CA | 106,752
Yolo Community Care Continuum | CA | 83,333
Arcata House, Inc | CA | 106,108
Redwood Community Action Agency | CA | 38,359
Arcata House, Inc | CA | 75,251
Humboldt Bay Housing Development Corporation | CA | 121,428
Arcata House, Inc | CA | 82,687
Glenn County Human Resource Agency | CA | 31,500
Yuba Sutter United Way | CA | 30,300
El Dorado County Human Services—Community Services Division | CA | 13,339
Amador-Tuolumne Community Action Agency | CA | 39,900
Hollywood Community Housing Corporation | CA | 312,000
A Community of Friends | CA | 256,212
St Joseph Center | CA | 220,461
Beyond Shelter, Inc | CA | 331,546
Tarzana Treatment Centers, Inc | CA | 265,549
County of Los Angeles | CA | 88,668
Women Advancing The Valley Through Education Economic and Empowerment | CA | 292,257
Testimonial Community Love Center | CA | 136,888
Southern California | CA | 180,897
Covenant House California | CA | 128,499
Asian Pacific Women's Center, Inc | CA | 149,380
Housing Authority of the City of Los Angeles | CA | 254,868
Los Angeles Youth Network | CA | 40,528
National Mental Health Association of Greater Los Angeles | CA | 262,085
St. Joseph Center | CA | 47,246
First To Serve, Inc | CA | 151,802
County of Los Angeles | CA | 273,045
Covenant House California | CA | 385,943
The Los Angeles Gay & Lesbian Community Services Center | CA | 377,255
Southern California Alcohol and Drug Programs, Inc | CA | 355,943
New Directions, Inc | CA | 574,640
A Community of Friends | CA | 156,635
The Serra Ancillary Care Corporation dba The Serra Project | CA | 295,362
The Salvation Army, a California Corporation | CA | 360,500
Skid Row Housing Trust | CA | 59,052
Project New Hope | CA | 93,310
Portals | CA | 346,589
Skid Row Housing Trust | CA | 582,300
County of Los Angeles—Department of Mental Health | CA | 398,760
Mental Health Association of Los Angeles County | CA | 105,228
Mental Health Association of LA County | CA | 206,424
Special Services For Groups | CA | 296,580
Special Services for Groups | CA | 312,300
Hillview Mental Health Center, Inc | CA | 99,936
Testimonial Community Love Center | CA | 156,191
Housing Authority of the City of Los Angeles | CA | 139,752
County of Los Angeles—Department of Mental Health | CA | 599,136
San Fernando Valley Community Mental Health Center, Inc | CA | 223,929
County of Los Angeles—Department of Mental Health | CA | 209,136
Skid Row Housing Trust | CA | 310,560
A Community of Friends | CA | 518,352
Single Room Occupancy Housing Corporation | CA | 92,610
A Community of Friends | CA | 302,796
Skid Row Housing Trust | CA | 155,280
Watts Labor Community Action Committee | CA | 259,701
Southern Califormia Alcohol and Drug Programs | CA | 963,276
South Central Health & Rehabilitation Programs | CA | 213,806
PATH (People Assisting The Homeless) | CA | 114,529
People Assisting The Homeless | CA | 182,955
California Hispanic Commission | CA | 200,354
Ocean Park Community Center | CA | 66,685
Citus Vally Health Foundation | CA | 158,891
JWCH Institute, Inc | CA | 308,999
Bridge Focus, Inc | CA | 99,225
Special Services for Groups | CA | 385,943
South Central Health & Rehabilitation Program | CA | 224,759
South Central Health & Rehabilitation Programs | CA | 244,335
Antelope Valley Domestic Violence Council | CA | 199,999
South Central Health & Rehabilitation Program | CA | 201,821
Weingart Center Association | CA | 170,760
Weingart Center Association, Inc | CA | 177,316
Venice Family Clinic | CA | 284,842
United States Veterans Initiative | CA | 350,396
Beyond Shelter, Inc | CA | 282,429
California Hispanic Commission | CA | 333,929
House of Ruth, Inc | CA | 248,942
PATH (People Assisting The Homeless) | CA | 100,275
Beyond Shelter | CA | 141,911
United States Veterans Initative | CA | 474,403
Tarzana Treatment Centers, Inc | CA | 188,131
United States Veterans Initiative | CA | 289,795
Prototypes: Center for Innovation in Health, Mental Health and Social Services | CA | 149,846
Chrysalis | CA | 362,250
Ocean Park Community Center | CA | 63,655
Los Angeles Homeless Services Authority | CA | 629,647
Catholic Charities of Los Angeles, Inc | CA | 103,425
Weingart Center Association | CA | 314,478
California Hispanic Commission | CA | 248,823
Homes for Life Foundation | CA | 337,590
Beyond Shelter, Inc | CA | 154,997
County of Los Angeles Department of Childredn & Family Services | CA | 105,000
Skid Row Development Corporation | CA | 71,796
People Helping People Economic Dev. Corp | CA | 145,940
Antelope Valley Domestic Violence Council | CA | 143,911
SRO Housing Corporation | CA | 119,280
YMCA of Metropolitan Los Angeles/Hollywood Wilshire YMCA | CA | 177,486
City of Santa Monica | CA | 381,940
The Salvation Army, a California Corporation | CA | 276,039
County of Los Angeles Department of Children & Family Services | CA | 361,209
Jenesse Center, Inc | CA | 128,979
The Salvation Army, a California Corporation | CA | 218,221
San Fernando Valley Community Mental Health Center, Inc | CA | 134,592
Center for the Pacific-Asian Family, Inc | CA | 121,874
County of Los Angeles Department of Children & Family Services | CA | 23,745
County of Los Angeles | CA | 378,804
Center of Human Rights and Constitutional Law Inc | CA | 134,943
Mary Lind Recovery Centers (f/k/a Mary Lind Foundation) | CA | 442,317
Su Casa Domestic Abuse Network | CA | 52,463
Women's Care Cottage | CA | 277,454
Weingart Center Association, Inc | CA | 241,135
Rainbow Services, Ltd | CA | 255,012
Stop Homelessness in the Rio Hondo Area, Inc | CA | 165,207
The Salvation Army, a California Corporation | CA | 169,948
Jewish Family Service of Los Angeles | CA | 180,498
Peace & Joy Care Center | CA | 206,461
A Community of Friends | CA | 213,003
JWCH Institute, Inc | CA | 565,337
Peace & Joy Care Center | CA | 137,485
Single Room Occupancy Housing Corporation | CA | 279,510
Peace & Joy Care Center | CA | 253,325
City of Santa Monica | CA | 1,907,412
New Directions, Inc | CA | 92,217
1736 Family Crisis Center | CA | 521,823
County of Los Angeles Department of Children & Family Services | CA | 176,269
Filipino American Service Group, Inc | CA | 190,449
San Fernando Valley Community Mental Health Center, Inc | CA | 486,570
St. Anne's Maternity Home | CA | 259,875
Harbor Interfaith Services, Inc | CA | 127,673
City of Santa Monica | CA | 474,453
Venice Community Housing Corporation | CA | 81,170
Homes For Life Foundation | CA | 223,552
Beacon Housing, Inc | CA | 76,192
L.A. Family Housing Corporation | CA | 355,664
PATH (People Assisting The Homeless) | CA | 209,161
Antelope Valley Domestic Violence Council | CA | 189,000
Penny Lane Cenders | CA | 168,843
Shields for Families, Inc | CA | 198,507
Homes For Life Foundation | CA | 70,031
The Salvation Army, a California Corporation | CA | 174,133
County of Los Angeles Department of Children & Family Services | CA | 360,363
A Community of Friends | CA | 135,276
Homes For Life Foundation | CA | 147,972
A Community of Friends | CA | 210,433
The Salvation Army, a California Corporation | CA | 360,500
Penny Lane Centers | CA | 157,706
A Community of Friends | CA | 196,350
United Friends of the Children | CA | 294,355
A Community of Friends | CA | 258,248
A Community of Friends | CA | 175,000
Prototypes: Center for Innovation in Health, Mental Health and Social Services | CA | 340,549
A Community of Friends | CA | 225,355
The CLARE Foundation, Inc | CA | 161,539
A Community of Friends | CA | 162,775
Catholic Charities of Los Angeles, Inc | CA | 142,900
L.A. Family Housing Corporation | CA | 349,666
The Salvation Army, a California Corporation | CA | 221,485
New Directions, Inc | CA | 143,432
Jenesse Center, Inc | CA | 118,346
Homes For Life Foundation | CA | 120,164
A Community of Friends | CA | 112,450
Los Angeles House of Ruth | CA | 97,677
A Community of Friends | CA | 169,419
Homes For Life Foundation | CA | 249,999
Sheilds for Families, Inc | CA | 397,205
Single Room Occupancy Housing Corporation | CA | 369,601
A Community of Friends | CA | 217,392
New Directions, Inc | CA | 165,696
Ocean Park Community Center | CA | 305,938
LTSC Community Development Corporation | CA | 34,999
Skid Row Housing Trust | CA | 6,110,040
The Serra Ancillary Care Corporation dba The Serra Project | CA | 318,851
The Serra Project | CA | 189,112
A Community of Friends | CA | 52,250
Homes For Life Foundation | CA | 130,971
A Community of Friends | CA | 149,706
Homes For Life Foundation | CA | 76,059
Homes for Life Foundation | CA | 72,067
SRO Housing Corporation | CA | 286,999
Los Angeles County Department of Mental Health | CA | 160,548
Portals Mental Health Rehabilitation Services | CA | 273,828
City of Pomona | CA | 162,154
California Council for Veterans Affairs, Inc | CA | 136,216
Antelope Valley Domestic Violence Council | CA | 493,764
City of Pomona | CA | 780,912
Project New Hope | CA | 152,892
Homes for Life Foundation | CA | 594,780
LA County Dept of Mental Health | CA | 71,784
Venice Community Housing Corporation | CA | 164,208
Los Angeles House of Ruth | CA | 63,687
Upward Bound House | CA | 281,424
L.A. Family Housing Corporation | CA | 363,659
The Serra Ancillary Care Corp dba The Serra Project | CA | 249,999
Venice Community Housing Corporation | CA | 103,560
St. Joseph Center | CA | 253,944
SHIELDS For Families, Inc | CA | 90,395
Palms Residential Care Facility | CA | 67,200
County of Los Angeles Department of Children & Family Services | CA | 339,078
New Economics for Women | CA | 155,254
His Sheltering Arms, Inc | CA | 246,780
Catholic Charities of Los Angeles, Inc | CA | 387,581
Prototypes: Center for Innovation in Health, Mental Health and Social Services | CA | 140,466
Akila Concepts, Inc | CA | 71,317
Beyond Shelter, Inc | CA | 147,775
Jewish Family Service of Los Angeles | CA | 287,114
Valley Village | CA | 54,498
The Serra Project | CA | 129,761
Step Up on Second, Inc | CA | 125,856
Penny Lane Centers | CA | 209,799
Project New Hope | CA | 125,824
Los Angeles County Department of Mental Health | CA | 115,476
Los Angeles County Department of Mental Health | CA | 249,888
Gramercy Housing Group | CA | 210,960
LTSC Community Development Corporation | CA | 113,971
The Salvation Army, a California Corporation | CA | 170,271
Penny Lane Centers | CA | 174,970
Lamp, Inc | CA | 263,401
National Mental Health Association of Greater Los Angeles | CA | 207,120
Lamp, Inc | CA | 144,984
Hollywood Community Housing Corporation | CA | 235,440
Palms Residential Care Facility | CA | 61,041
County of Los Angeles | CA | 194,098
St. Joseph Center | CA | 149,904
St. Joseph Center | CA | 251,784
Single Room Occupancy (SRO) Housing Corporation | CA | 271,740
Single Room Occupancy (SRO) Housing Corporation | CA | 1,420,812
1736 family Crisis Center | CA | 197,412
A Community of Friends | CA | 2,122,980
St. Joseph Center | CA | 38,820
Project New Hope | CA | 294,960
Project New Hope | CA | 267,384
City of Santa Monica Housing Authority | CA | 1,216,800
Southern California Alcohol and Drug Programs | CA | 277,848
Southern California Alcohol and Drug Programs | CA | 1,400,004
Hollywood Community Housing Corporation | CA | 150,240
Venice Community Housing Corporation | CA | 81,036
City of Santa Monica Housing Authority | CA | 108,972
Skid Row Housing Trust | CA | 621,120
Skid Row Housing Trust | CA | 232,920
Skid Row Housing Trust | CA | 388,200
Hillview Mental Health Center, Inc | CA | 99,936
Housing Authority of the City of Los Angeles | CA | 228,288
Hollywood Community Housing Corporation | CA | 193,596
Southern California Alcohol and Drug Program | CA | 2,037,120
The Association For Community Housing Solutions (TACHS) | CA | 170,496
St. Vincent de Paul Village, Inc | CA | 357,480
St. Vincent de Paul Village, Inc | CA | 402,182
The Association For Community Housing Solutions (TACHS) | CA | 73,500
Pathfinders of San Diego | CA | 181,044
Pathfinders of San Diego | CA | 130,080
The Association For Community Housing Solutions (TACHS) | CA | 769,500
Episcopal Community Services | CA | 554,561
YWCA of San Diego County | CA | 553,475
St. Vincent de Paul Village, Inc | CA | 1,699,096
St. Vincent de Paul Village, Inc | CA | 890,000
Volunteers of America | CA | 301,164
YMCA of San Diego County | CA | 178,739
Vietnam Veterans of San Diego (VVSD) | CA | 202,850
St. Vincent de Paul Village, Inc | CA | 619,024
San Diego Youth & Community Services | CA | 87,571
St. Vincent de Paul Village, Inc | CA | 513,712
Regional Task Force on the Homeless, Inc | CA | 108,914
Episcopal Community Services | CA | 509,328
Stepping Stone of San Diego, Inc | CA | 199,632
Center for Social Support & Education (CSSE) | CA | 271,572
Catholic Charities, Diocese of San Diego | CA | 33,333
Colette's Childrens Home, Inc | CA | 327,797
Young Women's Christian Association Central Orange County | CA | 93,880
Orange County Housing Authority | CA | 1,292,100
Orange County Housing Authority | CA | 551,232
Thomas House Temporary Shelter | CA | 57,984
Council of Orange County Society of St. Vincent de Paul | CA | 582,732
Interval House | CA | 73,268
Colette's Childrens Home, Inc | CA | 622,608
Orange County Housing Authority | CA | 544,872
Orange County Housing Authority | CA | 502,500
Orange County Housing Authority | CA | 779,220
Human Options, Inc | CA | 115,753
Colette's Childrens Home, Inc | CA | 327,797
The Eli Home, Inc | CA | 522,574
OC Partnership | CA | 433,262
South County Outreach | CA | 185,220
Southern California Alcohol and Drug Programs, Inc | CA | 380,345
American Family Housing | CA | 316,173
Orange County Housing Authority | CA | 2,936,100
Families Forward | CA | 74,565
Families Forward | CA | 134,284
OC Partnership | CA | 57,043
Thomas House Temporary Shelter | CA | 30,799
Friendship Shelter, Inc | CA | 136,272
Human Options, Inc | CA | 32,077
Veterans First | CA | 156,232
Veterans First | CA | 250,647
Fullerton Interfaith Emergency Service, Inc | CA | 252,000
Santa Barbara County Housing and Community Development | CA | 102,812
Good Samaritan Shelters, Inc | CA | 17,850
Transitional House | CA | 55,152
Housing Authority of the City of Santa Barbara | CA | 590,184
Lompoc Housing & Community Development Corporation | CA | 36,565
Santa Barbara Community Housing Corporation | CA | 99,444
Transitional House | CA | 61,763
Casa Esperanza | CA | 160,585
Domestic Violence Solutions for Santa Barbara County | CA | 76,220
Santa Barbara County—Alcohol, and Mental Heath Services | CA | 115,315
Lompoc Housing & Community Development Corporation | CA | 49,875
Bethany Services dba Bakersfield Homeless Center | CA | 176,880
County of Kern | CA | 217,522
Community Action Partnership of Kern | CA | 150,904
Women's Center—High Dersert, Inc | CA | 113,132
Clinica Sierra Vista, Inc | CA | 135,147
Alliance Against Family Violence and Sexual Assault | CA | 57,881
Bethany Services dba Bakersfield Homeless Center | CA | 269,407
Greater Bakersfield Legal Assistance, Inc. (GBLA) | CA | 120,080
County of Kern | CA | 82,050
Clinica Sierra Vista, Inc | CA | 92,350
Turning Point Foundation | CA | 26,074
Turning Point Foundation | CA | 249,999
County of Ventura Human Services Agency | CA | 49,085
United Way of Ventura County | CA | 44,541
County of Ventura Human Services Agency | CA | 217,276
Many Mansions | CA | 59,911
The Salvation Army, a California Corporation | CA | 204,638
Many Mansions | CA | 60,952
Many Mansions | CA | 61,600
Housing Authority of the City of San Buenaventura | CA | 122,460
Many Mansions | CA | 39,998
1736 Family Crisis Center | CA | 195,686
United States Veterans Initiative | CA | 78,120
City of Long Beach | CA | 102,379
Beyond Shelter | CA | 50,017
City of Long Beach | CA | 47,443
Goodwill, SOLAC | CA | 45,178
Goodwill, SOLAC | CA | 52,209
City of Long Beach | CA | 182,128
Catholic Charities Los Angeles, Inc | CA | 46,998
Children Today | CA | 56,840
Children Today | CA | 199,500
National Mental Health Association of Greater Los Angeles | CA | 222,721
City of Long Beach | CA | 285,838
New Image Emergency Shelter for the Homeless, Inc | CA | 50,085
Gay and Lesbian Adolescent Social Services (GLASS) | CA | 365,749
1736 family Crisis Center | CA | 282,450
The Salvation Army | CA | 216,667
Interval House Crisis Shelters | CA | 161,920
City of Long Beach | CA | 244,998
New Image Emergency Shelter for the Homeless, Inc | CA | 100,599
United States Veterans Initiative | CA | 345,119
National Mental Health Association of Greater Los Angeles | CA | 336,936
P.A.T.H. (People Assisting the Homeless) | CA | 644,080
United States Veterans Initiative | CA | 218,334
City of Long Beach | CA | 241,279
United States Veterans Initiative | CA | 54,120
National Mental Health Association of Greater Los Angeles | CA | 88,992
National Mental Health Association of Greater Los Angeles | CA | 312,300
City of Long Beach | CA | 40,856
Beyond Shelter | CA | 132,884
Serra Ancillary Care Corporation dba The Serra Project | CA | 103,515
160 Euclid Partners, LP | CA | 163,700
Pacific Clinics | CA | 952,750
Pasadena Community Development Commission | CA | 137,754
Pacific Clinics | CA | 232,863
Housing Services | CA | 43,724
Serra Ancillary Care Corporation dba The Serra Project | CA | 118,610
Union Station Foundation | CA | 122,097
Pasadena Community Development Commission | CA | 581,244
URDC Human Services Corporation | CA | 155,416
Operation SafeHouse, Inc | CA | 135,756
Housing Autoority of the County of Riverside | CA | 1,134,900
Housing Authority of the County of Riverside | CA | 349,596
County of Riverside Department of Mental Health | CA | 86,799
County of Riverside Department of Mental Health | CA | 350,857
S.V.D.P. Management, Inc | CA | 525,000
MFI Recovery Center, Inc | CA | 80,591
Episcopal Community Services | CA | 220,729
County of Riverside Department of Mental Health | CA | 135,846
United States Veterans Initative Inc | CA | 550,000
Lutheran Social Services of Southern California | CA | 218,484
Shelter From the Storm, Inc | CA | 235,620
ABC Recovery Center, Inc | CA | 42,192
County of Riverside | CA | 260,498
County of Riverside Department of Mental Health | CA | 71,110
County of Riverside Department of Mental Health | CA | 1,106,264
Housing Authority of the County of Riverside | CA | 106,200
Whiteside Manor, Inc | CA | 876,006
County of San Bernardino Department of Behavioral Health | CA | 998,580
Inland Temporary Homes | CA | 1,274,506
Inland Counties Legal Services, Inc | CA | 163,593
Central City Lutheran Mission | CA | 33,828
New Hope Village, Inc | CA | 133,350
Inland Behavioral & Health Services, Inc | CA | 367,063
Inland Temporary Homes | CA | 138,804
Inland Temporary Homes | CA | 256,346
Foothill Family Shelter, Inc | CA | 102,375
Central City Lutheran Mission | CA | 230,382
Frazee Community Center | CA | 78,750
Community Action Partnership of San Bernardino County | CA | 750,477
County of San Bernardino Department of Behavioral Health | CA | 2,760,720
South Bay Community Services | CA | 96,832
North County Interfaith Council, Inc | CA | 575,735
Regional Task Force on the Homeless, Inc | CA | 222,007
Regional Task Force on the Homeless, Inc | CA | 89,798
Mental Health Systems, Inc | CA | 282,051
Mental Health Systems, Inc | CA | 273,283
Women's Resource Center | CA | 146,702
Interfaith Community Services | CA | 256,944
St. Clare's Home, Inc | CA | 66,617
St. Clare's Home, Inc | CA | 82,129
North County Serenity House Inc | CA | 44,207
North County Interfaith Council, Inc | CA | 346,689
Volunteers of America Southwest California | CA | 297,198
Vietnam Veterans of San Diego (VVSD) | CA | 209,600
Community Housing Works | CA | 104,559
Crisis House | CA | 443,110
Crisis House | CA | 186,667
Mental Health Systems, Inc | CA | 72,366
Community Resource Center | CA | 55,000
Community Housing Works | CA | 63,000
South Bay Community Services | CA | 86,951
Community Housing Works | CA | 43,557
South Bay Community Services | CA | 96,843
Interfaith Community Services and Mental Health Systems | CA | 547,104
Mental Health Systems, Inc | CA | 603,180
Project Understanding | CA | 53,642
Turning Point Foundation | CA | 35,410
County of Ventura Human Services Agency | CA | 31,214
Community Action of Ventura county | CA | 69,568
Community Action of Ventura County | CA | 63,243
United Way of Ventura County | CA | 46,768
Turning Point Foundation | CA | 31,361
County of Ventura Human Services Agency | CA | 163,795
Khepera House | CA | 54,653
PATH Achieve Glendale | CA | 151,277
City of Glendale | CA | 93,000
YWCA of Glendale | CA | 217,292
City of Glendale | CA | 100,572
City of Glendale | CA | 158,496
Antelope Valley Domestic Violence Council | CA | 148,156
The Salvation Army, a California Corporation | CA | 86,437
Path Achieve Glendale | CA | 177,399
PATH Achieve Glendale | CA | 752,285
People Assisting the Homeless (P.A.T.H.) | CA | 181,969
New Horizons Family Center | CA | 21,420
Womenhaven, Inc | CA | 169,864
Calexico Housing Authority | CA | 79,266
Economic Opportunity Commission of San Luis Obispo County, Inc | CA | 473,981
Economic Opportunity Commission of San Luis Obispo County, Inc | CA | 211,149
Economic Opportunity Commission of San Luis Obispo County, Inc | CA | 163,091
Hilltop Community Resources/Tri-County Resource Center | CO | 76,587
Posada, Inc | CO | 83,333
Grand Valley Catholic Outreach, Inc | CO | 252,500
Colorado Coalition for the Homeless | CO | 40,320
Catholic Charities Western Slope | CO | 129,369
North Range Behavioral Health | CO | 109,543
Advocates Against Domestic Assault | CO | 48,549
Posada, Inc | CO | 249,900
Grand Valley Catholic Outreach, Inc | CO | 94,655
Greeley Center for Independence, Inc | CO | 30,893
Colorado Department of Local Affairs, Division of Housing | CO | 19,151
La Puente Home, Inc | CO | 73,821
SHARE, Inc. (lead sponsor) | CO | 129,770
Catholic Charities Northern (lead sponsor) | CO | 282,316
Larimer Center for Mental Health | CO | 54,827
Homeward Bound of the Grand Valley | CO | 143,885
Colorado Department of Human Services | CO | 83,112
Loaves and Fishes Ministries of Fremont County | CO | 179,089
The Resource Center of Eagle County | CO | 115,641
Posada, Inc | CO | 112,938
The Empowerment Program | CO | 351,144
Urban Peak Denver | CO | 99,648
Colorado Coalition for the Homeless | CO | 403,535
Colorado Department of Human Services | CO | 2,008,980
Colorado Coalition for the Homeless | CO | 415,728
Colorado Coalition for the Homeless | CO | 198,187
The Mental Health Center serving Boulder and Broomfield Counties (MHCBBC) | CO | 29,903
Urban Peak Denver | CO | 149,472
Colorado Department of Human Services | CO | 106,748
Colorado Department of Human Services | CO | 234,587
Colorado Coalition for the Homeless | CO | 107,439
Colorado Coalition for the Homeless | CO | 91,065
Colorado Coalition for the Homeless | CO | 319,609
Colorado Coalition for the Homeless | CO | 60,529
Volunteers of America Colorado Branch | CO | 162,398
St. Francis Center | CO | 840,000
Colorado Coalition for the Homeless | CO | 507,627
Colorado Coalition for the Homeless | CO | 109,948
Colorado Coalition for the Homeless | CO | 447,978
Colorado Coalition for the Homeless | CO | 606,548
Colorado Coalition for the Homeless | CO | 479,236
Colorado Coalition for the Homeless | CO | 690,000
St. Francis Center | CO | 166,080
Colorado AIDS Project | CO | 68,112
St. Francis Center | CO | 87,408
Colorado Coalition for the Homeless | CO | 297,744
Colorado Coalition for the Homeless | CO | 318,384
Colorado Coalition for the Homeless | CO | 276,339
ACCESS Housing | CO | 943,075
Volunteers of America Colorado Branch | CO | 506,102
Third Way Center, Inc | CO | 116,538
Family Tree, Inc | CO | 80,085
Harbor House Collaborative | CO | 390,000
Gospel Shelters for Women dba Liza's Place | CO | 50,000
Colorado Department of Human Services | CO | 106,368
Urban Peak Denver | CO | 102,585
Housing Authority of the City of Colorado Springs | CO | 98,436
Greccio, Housing Unlimited, Inc | CO | 128,631
Pikes Peak United Way | CO | 141,776
City of Colorado Springs | CO | 150,000
Partners in Housing | CO | 81,838
Partners in Housing | CO | 88,784
State of Connecticut Department of Mental Health & Addiction | CT | 104,220
State of Connecticut Department of Mental Health & Addiction | CT | 436,824
Housing Authority, City of Danbury | CT | 137,160
Christian Community Action, Inc | CT | 200,025
Columbus House, Inc., “Sojourner's Place” | CT | 270,939
ALSO—Cornerstone Inc., “Pendelton House” | CT | 237,344
CT Women's Consortium | CT | 171,113
CMHC | CT | 761,148
CMHC | CT | 616,380
CMHC | CT | 136,980
New Haven Home Recovery | CT | 109,632
CMHC and Columbus House | CT | 201,120
Liberty Community Services, Inc | CT | 1,049,463
CMHC | CT | 68,112
CMHC | CT | 40,032
Liberty Community Services, Inc | CT | 292,500
Youth Continuum | CT | 301,568
Continuum of Care, Inc | CT | 213,379
State of Connecticut | CT | 416,863
Fellowship Place Inc. “Fellowship Inn” | CT | 100,887
Young Women's Christian Association of the Hartford Region, Inc | CT | 166,667
Chrysalis Center, Inc | CT | 75,876
Community Renewal Team, Inc | CT | 55,860
Immaculate Conception Shelter & Housing Corporation | CT | 96,922
Community Renewal Team, Inc | CT | 469,563
Immaculate Conception Shelter & Housing Corporation | CT | 228,625
My Sister's Place | CT | 250,000
South Park Inn, Inc | CT | 284,288
Community Renewal Team, Inc | CT | 564,999
Immaculate Conception Shelter & Housing Corporation | CT | 263,232
Immaculate Conception Shelter & Housing Corporation | CT | 196,000
The Salvation Army | CT | 73,150
State of Connecticut | CT | 1,422,336
State of Connecticut | CT | 87,048
State of Connecticut | CT | 48,456
Hall-Brooke Behavioral Health Services | CT | 191,222
Hall-Brooke Behavioral Health Services | CT | 249,999
Hall-Brooke Behavioral Health Services | CT | 313,935
Micah Housing, Inc | CT | 73,909
Emerge, Inc | CT | 44,890
ReFocus Outreach Ministries, Inc | CT | 188,191
Career Resouces, Inc | CT | 143,220
United Way of Eastern Fairfield County | CT | 39,999
State of Connecticut | CT | 1,010,832
State of Connecticut | CT | 149,736
Liberation Programs, Inc | CT | 179,626
Applied Behavioral Rehabilitation Institute, Inc. (ABRI) | CT | 99,878
Regional Network of Programs Inc | CT | 261,196
Micah Housing, Inc | CT | 73,501
Hall-Brooke Behavioral Health Services | CT | 177,429
Catholic Charities of Fairfield County, Inc | CT | 372,972
The Connection, Inc | CT | 137,094
The Connection Fund, Inc | CT | 161,520
American Red Cross Middlesex Central CT Chapter | CT | 133,000
The Connection Fund, Inc | CT | 105,276
The Connection, Inc | CT | 109,836
Mercy Housing and Shelter Corporation | CT | 241,190
St. Vincent De Paul Place | CT | 23,759
Windham Regional Community Council | CT | 280,291
Chrysalis Center, Inc | CT | 151,560
Torrington Community Housing Corporation | CT | 95,736
Harbor Health Services, Inc | CT | 62,087
Rushford Center | CT | 262,872
Connecticut Coalition to End Homelessness | CT | 50,000
Community Health Resources Inc | CT | 107,184
Chrysalis Center, Inc | CT | 174,096
Rushford Center | CT | 140,928
Rushford Center | CT | 59,112
United Services, Inc | CT | 106,236
United Services, Inc | CT | 73,548
Community Renewal Team, Inc | CT | 361,344
St. Philip House, Inc | CT | 161,601
New Opportunities, Inc | CT | 39,285
InterCommunity Mental Health Group | CT | 69,042
Birmingham Group Health Services, Inc | CT | 133,633
Harbor Health Services, Inc | CT | 16,461
Holy Family Home and Shelter, Inc | CT | 122,291
Chrysalis Center, Inc | CT | 207,744
InterCommunity Mental Health Group | CT | 151,095
Community Renewal Team, Inc | CT | 207,117
Windham Regional Community Council | CT | 274,077
Connecticut AIDS Resource Coalition | CT | 114,000
Family and Children's Agency | CT | 146,177
Housing Authority City of Norwalk | CT | 157,680
The Mid Fairfield AIDS Project, Inc | CT | 49,400
Norwalk Emergency Shelter, Inc | CT | 47,830
State of Connecticut | CT | 400,116
Hall-Brooke Behavioral Health Services | CT | 309,029
The Mid Fairfield AIDS Project, Inc | CT | 120,000
Southeastern Mental Health Authority | CT | 67,764
Bethsida Community Inc | CT | 86,984
The Thames Valley Council for Community Action, Inc | CT | 655,247
Southeastern Mental Health Authority | CT | 114,984
Thames River Community Service Inc | CT | 195,983
Women's Center of Southeastern Connecticut, Inc | CT | 50,584
Bethsida Community Inc | CT | 87,528
Alliance for Living, Inc | CT | 73,932
Alliance for Living, Inc | CT | 65,356
St. Luke's Community Services, Inc | CT | 39,449
State of Connecticut | CT | 193,368
State of Connecticut | CT | 193,368
Laurel House, Inc | CT | 87,976
Mutual Housing Association of Southwestern Connecticut, Inc | CT | 165,900
St. Luke's Community Services, Inc | CT | 398,716
Shelter for the Homeless | CT | 84,051
United Way of Stamford | CT | 49,999
Friendship Service Center of New Britain, Inc | CT | 96,119
Community Mental Health Affiliates | CT | 322,644
Friendship Service Center of New Britain, Inc | CT | 47,074
Friendship Service Center of New Britain, Inc | CT | 95,482
Friendship Service Center of New Britain, Inc | CT | 63,316
Friendship Service Center of New Britain, Inc | CT | 210,007
Friendship Service Center of New Britain, Inc | CT | 224,917
St. Vincent DePaul Mission of Bristol, Inc | CT | 27,019
St. Vincent DePaul Mission of Bristol, Inc | CT | 321,830
Greater Waterbury Mental Health Authority | CT | 582,900
CHD/CT Outreach West | CT | 234,120
Connecticut Coalition to End Homelessness | CT | 63,358
Waterbury Housing Authority | CT | 212,916
Center For Human Development/Connecticut Outreach-West | CT | 204,912
Transitional Housing Corporation | DC | 127,384
House of Ruth | DC | 114,586
Catholic Charities of the Archdiocese of Washington | DC | 245,421
House of Ruth | DC | 134,834
Neighbors' Consejo | DC | 150,000
Community Connections | DC | 224,256
Community Connections | DC | 109,725
Christ House | DC | 899,866
Gospel Rescue Ministries of Washington, DC | DC | 100,905
Community Connections | DC | 98,175
So Others May Eat, Inc | DC | 101,333
The Coalition for the Homeless | DC | 204,747
Rachael's Women's Center | DC | 165,819
Miriam's House, Inc | DC | 141,214
District of Columbia Department of Mental Health | DC | 922,500
Families Forward, Inc | DC | 201,224
Green Door | DC | 144,758
Coates and Lane Foundation, Incorporated | DC | 346,323
Families Forward, Inc | DC | 229,045
Transitional Housing Corporation | DC | 148,924
New Endeavors by Women | DC | 414,029
Community of Hope | DC | 527,880
Covenant House Washington, DC | DC | 420,000
Hannah House, Inc | DC | 148,115
The Community Partnership for the Prevention of Homelessness | DC | 266,083
Access Housing Inc | DC | 275,106
Sasha Bruce Youthwork, Inc | DC | 189,057
The Community Partnership for the Prevention of Homelessness | DC | 825,432
Community Connnections | DC | 121,727
So Others May Eat, Inc | DC | 513,940
So Others May Eat, Inc | DC | 323,673
New Endeavors by Women | DC | 176,225
Sasha Bruce Youthwork, Inc | DC | 129,593
House of Ruth | DC | 144,083
The Salvation Army, A Georgia Corporation | DC | 475,935
Bethany, Inc | DC | 78,342
Neighbors' Consejo | DC | 149,203
Catholic Charities | DC | 189,000
Catholic Charities of the Archdiocese | DC | 257,404
Community Connections | DC | 132,300
Pathways to Housing DC | DC | 495,967
The Community Partnership for the Prevention of Homelessness | DC | 75,000
Community Connections, Inc | DC | 106,863
Coalition for the Homeless | DC | 171,453
The Community Partnership for the Prevention of Homelessness | DC | 2,844,312
House of Ruth | DC | 84,383
Sasha Bruce Youthwork, Inc | DC | 67,628
New Endeavors by Women | DC | 210,118
House of Ruth | DC | 321,806
Catholic Charities of the Archdiocese of Washington | DC | 168,640
New Hope Ministries, Inc | DC | 232,879
Community Family Life Services, Inc | DC | 140,205
House of Ruth | DC | 239,506
Community Connections | DC | 297,024
Calvary Women's Services, Inc | DC | 142,306
Latin America Youth Center | DC | 580,428
Transition Housing Corporation | DC | 418,572
Community Family Life Services | DC | 196,569
Woodley House, Inc | DC | 86,003
Connections Community Support Programs, Inc | DE | 152,421
Synetics Corporation | DE | 26,596
The Ministry of Caring, Inc | DE | 200,408
YWCA Delaware | DE | 323,967
The Ministry of Caring, Inc | DE | 66,467
The Ministry of Caring, Inc | DE | 45,612
Connections Community Support Programs, Inc | DE | 246,576
Connections Community Support Programs, Inc | DE | 143,682
Connections Community Support Programs, Inc | DE | 167,076
The Ministry of Caring, Inc | DE | 212,357
Connections Community Support Programs, Inc | DE | 37,728
Connections Community Support Programs, Inc | DE | 143,562
Gateway House, Inc | DE | 67,334
The Ministry of Caring, Inc | DE | 374,174
West End Neighborhood House, Inc | DE | 249,833
The Ministry of Caring, Inc | DE | 647,697
Connections Community Support Programs, Inc | DE | 249,998
Brandywine Counseling, Fellowship Health Resources, Carelink, NET, Psychotheraupetic Services | DE | 1,264,230
Synetics Corporation | DE | 128,049
The Ministry of Caring, Inc | DE | 129,874
Renaissance Manor, Inc | FL | 79,199
Suncoast Partnership to End Homelessness, Inc | FL | 80,325
HOPE Family Services, Inc | FL | 67,680
The Salvation Army, A Georgia Corporation | FL | 170,432
Suncoast Partnership to End Homelessness, Inc | FL | 37,698
HOPE Family Services, Inc | FL | 51,724
Catholic Charities, Diocese of Venice | FL | 120,137
Volunteers of America of Florida | FL | 351,781
Agency for Community Treatment Services, Inc | FL | 23,333
Alpha House of Tampa, Inc | FL | 68,819
The Salvation Army, A Georgia Corporation | FL | 144,467
Alpha House of Tampa, Inc | FL | 83,013
Agency for Community Treatment Services, Inc | FL | 403,035
The Spring of Tampa Bay, Inc | FL | 177,557
Housing Authority of the City of Tampa | FL | 163,296
Mental Health Care, Inc | FL | 295,333
Mental Health Care, Inc | FL | 199,500
The Salvation Army, A Georgia Corporation | FL | 244,745
Alpha House of Tampa, Inc | FL | 77,219
Homeless Coalition of Hillsborough County, Inc | FL | 63,333
Agency for Community Treatment Services, Inc | FL | 48,153
Agency for Community Treatment Services, Inc | FL | 133,334
Homeless Coalition of Hillsborough County, Inc | FL | 65,510
Homeless Coalition of Hillsborough County, Inc | FL | 42,758
Agency for Community Treatment Services, Inc | FL | 42,997
Mental Health Care, Inc | FL | 834,879
Project Return, Inc | FL | 153,956
Homeless Emergency Project, Inc | FL | 74,550
Boley Centers, Inc | FL | 82,554
Boley Centers, Inc | FL | 77,362
Boley Centers, Inc | FL | 253,778
Religious Community Services, Inc | FL | 110,053
WestCare Gulfcoast-Florida, Inc | FL | 273,000
Clearwater Housing Authority | FL | 375,492
Homeless Emergency Project, Inc | FL | 33,101
Homeless Emergency Project, Inc | FL | 60,850
Boley Centers, Inc | FL | 356,438
CASA (Community Action Stop Abuse, Inc.) | FL | 241,031
Alpha House of Pinellas, Inc. (formerly ALPHA, a Beginning, Inc.) | FL | 69,888
Brookwood Florida-Central, Inc | FL | 98,430
Operation PAR, Inc | FL | 100,452
Young Women's Christian Association of Tampa Bay, Inc | FL | 176,237
Pinellas Affordable Living, Inc. (PAL) | FL | 285,000
Boley Centers, Inc | FL | 133,928
2-1-1 Tampa Bay Cares, Inc | FL | 172,454
Tri-County Human Services, Inc | FL | 74,710
Agency for Community Treatment Services, Inc | FL | 50,400
LifePath Solutions, Inc | FL | 132,107
New Life Outreach Ministry, Inc | FL | 109,736
New Life Outreach Ministry, Inc | FL | 143,586
Homeless Coalition of Polk County, Inc | FL | 116,531
Tri-County Human Services, Inc | FL | 74,999
Talbot House Ministries of Lakeland, Inc | FL | 47,374
The Salvation Army, A Georgia Corporation | FL | 127,780
Peace River Center for Personal Development, Inc | FL | 182,749
Talbot House Ministries of Lakeland, Inc | FL | 255,925
Domestic Abuse Council, Inc | FL | 69,386
Family Renew Community, Inc | FL | 19,045
Serenity House of Volusia, Inc | FL | 22,197
Domestic Abuse Council, Inc | FL | 124,058
Domestic Abuse Council, Inc | FL | 62,815
Volusia/Flagler County Coalition for the Homeless, Inc | FL | 85,286
Serenity House of Volusia, Inc | FL | 129,273
Family Renew Community, Inc | FL | 52,980
Serenity House of Volusia, Inc | FL | 171,920
Volusia/Flagler County Coalition for the Homeless, Inc | FL | 54,566
Serenity House of Volusia, Inc | FL | 67,971
Bridgeway Center, Inc | FL | 363,878
Bridgeway Center, Inc | FL | 213,229
Big Bend Homeless Coalition, Inc | FL | 228,693
Big Bend Homeless Coalition, Inc | FL | 691,076
Transition House, Inc | FL | 52,500
Goodwill Industries of Central Florida, Inc | FL | 181,989
Coalition for the Homeless of Central Florida | FL | 61,950
Good Shepherd Corporation of Orlando, Inc. dba Shepherd's Promise | FL | 36,841
Anthony House, Inc | FL | 127,839
Lakeside Path | FL | 78,352
The Transition House, Inc | FL | 372,941
Safe House of Seminole County | FL | 119,007
Covenant House Florida | FL | 92,302
Covenant House Florida | FL | 155,548
Grand Avenue Economic Community Development Corp | FL | 48,999
Coalition for the Homeless of Central Florida | FL | 294,037
Wayne Densch Center, Inc | FL | 283,455
Safe House of Seminole County | FL | 234,116
The Center For Affordable Housing, Inc | FL | 84,630
Wayne Densch Center, Inc | FL | 210,000
Health Care Center for the Homeless | FL | 168,345
Transition House | FL | 175,998
Homeless Services Network of Central Florida, Inc | FL | 124,388
Intervention Services, Inc | FL | 273,665
The Center For Affordable Housing, Inc | FL | 455,395
Coalition For The Homeless | FL | 234,339
Orange County, Florida | FL | 624,780
Alachua County Housing Authority | FL | 255,360
VETSPACE, Inc | FL | 137,172
Alachua County Housing Authority | FL | 20,000
Pleasant Place, Inc | FL | 80,569
Lee Conlee House | FL | 38,306
Meridian Behavioral Healthcare, Inc | FL | 99,097
VETSPACE, Inc | FL | 106,215
Peaceful Paths Domestic Abuse Network, Inc | FL | 84,974
Indian River County Board of County Commissioners | FL | 44,856
Indian River County Board of County Commissioners | FL | 131,100
Indian River County Board of County Commissioners | FL | 354,540
Indian River County Board of County Commissioners | FL | 70,063
Martin County Board of County Commissioners | FL | 76,140
Treasure Coast Homeless Services Council, Inc | FL | 51,712
I.M. Sulzbacher Center for the Homeless, Inc | FL | 233,188
Community Connections of Jacksonville, Inc | FL | 158,175
Gateway Community Services | FL | 54,727
Gateway Community Services | FL | 61,705
Goodwill of North Florida | FL | 284,588
Volunteers of America of Florida | FL | 224,103
I.M. Sulzbacher Center for the Homeless | FL | 447,075
Community Connections of Jacksonville, Inc | FL | 520,432
Volunteers of America of Florida | FL | 355,785
Volunteers of America of Florida | FL | 390,979
Clara White Mission | FL | 132,039
Community Connections of Jacksonville, Inc | FL | 228,950
Mental Health Resource Center, Inc | FL | 251,638
I.M. Sulzbacher Center for the Homeless, Inc | FL | 152,960
United Way of Northeast Florida, Inc | FL | 64,374
River Region Human Services | FL | 277,481
Lakeview Center, Inc | FL | 157,339
EscaRosa Homeless Coalition | FL | 113,686
Loaves and Fishes Soup Kitchen, Inc | FL | 248,672
Lakeview Center, Inc | FL | 307,887
Lakeview Center, Inc | FL | 104,868
Emergency Services and Homeless Coalition of St. Johns County, Incorporated | FL | 62,790
Goodwill of North Florida | FL | 39,467
Coalition for the Hungry and Homeless | FL | 134,865
Coalition for the Hungry and Homeless of Brevard County, Inc | FL | 146,919
Crosswinds Youth Services, Inc | FL | 87,536
Coalition for the Hungry and Homeless of Brevard County, Inc | FL | 166,387
2-1-1 Brevard, Inc | FL | 76,750
Coalition for the Hungry and Homeless of Brevard County, Inc | FL | 226,399
Habitat for Humanity of Marion County, Inc | FL | 118,000
United Way of Marion County, Inc | FL | 62,160
Southern Territorial Headquarters of the Salvation Army, dba Salvation Army, A Georgia Corp | FL | 107,625
Homeless and Hunger Coalition of Northwest Florida, Inc | FL | 47,482
Agency for Community Treatment Services, Inc | FL | 166,666
Highlands County Coalition for the Homeless, Inc | FL | 39,309
Volunteers of America of Florida, Inc | FL | 56,246
United Way of Suwannee Valley | FL | 32,146
Coalition for the Homeless of Pasco County, Inc | FL | 19,950
Catholic Charities, Diocese of St. Petersburg, Inc | FL | 203,785
Mid Florida Homeless Coalition, Inc | FL | 78,143
New Horizons Community Mental Health Center, Inc | FL | 422,832
Better Way of Miami, Inc | FL | 496,980
James E Scott Community Association, Inc | FL | 313,121
Psych-social Rehabilitation Center, Inc. d/b/a Fellowship House | FL | 118,393
Camillus House, Inc | FL | 339,721
Camillus House, Inc | FL | 216,703
Douglas Gardens Community Mental Health Center | FL | 165,048
Community Health of South Dade, Inc | FL | 311,328
Citrus Health Network, Inc | FL | 414,216
Douglas Community Mental Health Center | FL | 33,957
Citrus Health Network, Inc | FL | 266,136
Citrus Health Network, Inc | FL | 149,940
Volunteers of America of Florida, Inc | FL | 681,500
Camillas House, Inc | FL | 1,705,310
The Salvation Army, A Georgia Corporation | FL | 347,128
Citrus Health Network, Inc | FL | 528,062
Better Way of Miami, Inc | FL | 162,929
Bayview Center for Mental Health, Inc | FL | 363,478
Carrfour Supportive Housing | FL | 296,020
Bayview Center for Mental Health, Inc | FL | 124,996
Community Health of South Dade, Inc | FL | 102,360
Citrus Health Network, Inc | FL | 174,998
Lutheran Services Florida, Inc | FL | 722,786
New Horizons Community Mental Health Center | FL | 357,790
Volunteers of America of Florida, Inc | FL | 860,114
Citrus Health Network, Inc | FL | 394,999
Better Way of Miami, Inc | FL | 169,798
Miami-Dade County, Department of Human Services, Office of Rehabilitative Services | FL | 138,789
Camillus Health Concern, Inc | FL | 687,505
Carrfour Supportive Housing | FL | 148,010
New Horizons Community Mental Health Center, Inc | FL | 108,612
Carrfour Supportive Housing | FL | 124,621
Carrfour Supportive Housing | FL | 409,479
Carrfour Supportive Housing | FL | 177,066
Carrfour Supportive Housing | FL | 262,174
Carrfour Supportive Housing | FL | 46,964
Citrus Health Network, Inc | FL | 311,678
Camillus House, Inc | FL | 125,000
Lutheran Services Florida, Inc | FL | 348,014
Bayview Space for Mental Health, Inc | FL | 336,002
Carrfour Supportive Housing | FL | 389,996
Camillus House, Inc | FL | 534,832
Miami-Dade County Department of Human Services, Office of Rehabilitative Services (ORS) | FL | 53,113
Family Resource Center of South Florida, Inc | FL | 79,485
Miami-Dade County Department of Human Services | FL | 714,079
Miami-Dade County Department of Human Services | FL | 57,668
Miami-Dade County Department of Human Services | FL | 129,138
Psycho-social Rehabilitation Center, Inc. d/b/a Fellowship House | FL | 158,448
Carrfour Supportive Housing | FL | 376,666
Jewish Community Services of South Florida, Inc | FL | 527,997
City of Miami | FL | 251,071
Camillus House, Inc | FL | 149,892
Miami-Dade County, Department of Human Services, Office of Rehabilitative Services | FL | 292,660
Carrfour Supportive Housing | FL | 698,784
Camillus House, Inc | FL | 113,661
Camillus House, Inc | FL | 34,188
Carrfour Supportive Housing | FL | 315,170
Lutheran Services Florida, Inc | FL | 434,700
Douglas Gardens Community Mental Health Center | FL | 236,268
Douglas Gardens Community Mental Health Center | FL | 198,792
Psycho-social Rehabilitation Center, Inc. d/b/a Fellowship House | FL | 273,807
Miami-Dade County | FL | 12,075
New Horizons Community Mental Health Center, Inc | FL | 225,900
New Horizons Community Mental Health Center, Inc | FL | 301,080
South Florida Jail Ministries dba Agape Family Ministries | FL | 178,171
Bayview Center for Mental Health, Inc | FL | 85,677
Camillus House, Inc | FL | 348,234
Legal Services of Greater Miami, Inc | FL | 106,992
South Florida Jail Ministries dba Agape Family Ministries | FL | 425,391
City of Miami Beach | FL | 63,993
Jewish Community Services of South Florida, Inc | FL | 364,854
Douglas Gardens Community Mental Health Center | FL | 158,095
Psycho-Social Rehabilitation Center, Inc | FL | 40,533
Citrus Health Network, Inc | FL | 84,000
New Horizons Community Mental Health Center, Inc | FL | 385,440
Carrfour Supportive Housing | FL | 150,685
New Horizons Community Mental Health Center, Inc | FL | 192,664
Citrus Health Network, Inc | FL | 583,704
Citrus Health Network, Inc | FL | 1,180,392
Volunteers of America of Florida | FL | 343,033
The Salvation Army, a Georgia Corporation | FL | 603,641
Broward County Board of County Commissioners | FL | 490,474
Broward Partnership for the Homeless, Inc | FL | 346,049
Catholic Charities of the Archdiocese of Miami, Inc | FL | 81,406
Catholic Charities of the Archdiocese of Miami, Inc | FL | 206,823
Covenant House Florida | FL | 385,885
Broward Partnership for the Homeless, Inc | FL | 964,262
Covenant House Florida | FL | 183,729
Volunteers of America of Florida, Inc | FL | 926,571
Broward County Housing Authority | FL | 1,181,028
Broward County Housing Authority | FL | 1,303,860
Broward County Substance Abuse and Health Care Services Division | FL | 416,667
Henderson Mental Health Center, Inc | FL | 284,042
Lee County Board of County Commissioners | FL | 180,510
Renaissance Manor | FL | 71,424
Ruth Cooper (RCC) | FL | 98,736
Lee County Board of County Commissioners | FL | 67,608
Southwest Florida Addiction Services, Inc | FL | 89,668
Renaissance Manor, Inc | FL | 52,978
Southwest Florida Addiction Services, Inc | FL | 122,657
The Salvation Army, A Georgia Corporation | FL | 1,286,206
Lee County Board of County Commissioners | FL | 119,722
Catholic Charities of the Archdiocese of Miami, Inc | FL | 172,517
Monroe Association for Retarded Citizens, Inc | FL | 102,268
Florida Keys Outreach Coalition, Inc | FL | 175,879
211 Palm Beach/Treasure Coast | FL | 134,441
Oakwood Center of the Palm Beaches, Inc | FL | 381,304
The Salvation Army, A Georgia Corporation | FL | 397,350
Florida Housing Corporation | FL | 593,143
The Lord's Place, Inc | FL | 182,984
Palm Beach County Board of County Commissioners | FL | 438,254
YWCA of Palm Beach County | FL | 225,195
The Lord's Place, Inc | FL | 393,512
Gulfstream Goodwill Industries, Inc | FL | 178,816
Aid to Victims of Domestic Abuse, Inc | FL | 106,540
Adopt-A-Family of the Palm Beaches, Inc | FL | 207,811
Palm Beach County Board of County Commissioners | FL | 181,080
211 Palm Beach/Treasure Coast | FL | 20,636
Gulfstream Goodwill Industries, Inc | FL | 194,029
Operation Hope, Inc | FL | 207,038
The Lord's Place, Inc | FL | 283,023
Housing Partnership, Inc | FL | 36,587
Children's Home Society of Florida, Inc | FL | 127,620
SAWCC, Inc. (Shelter for Abused Women & Children) | FL | 113,000
Collier County Hunger and Homeless Coalition, Inc | FL | 104,645
Fulton County Board of Commissioners | GA | 686,487
Caring Works, Inc. a.k.a. Progessive Redevelopment, Inc | GA | 889,200
Progessive Redevelopment, Inc | GA | 320,400
Families First, Inc | GA | 172,492
Project Interconnections, Inc | GA | 170,880
Action Ministries, Inc | GA | 70,000
Community Advanced Practice Nurses, Inc | GA | 46,422
Progressive Hope House, Inc | GA | 44,090
Housing Initiative of North Fulton | GA | 23,632
Jerusalem House, Inc | GA | 321,396
Georgia Law Center on Homelessness & Poverty, Inc | GA | 294,000
Community Advanced Practice Nurses, Inc | GA | 39,039
Community Advanced Practice Nurses, Inc | GA | 18,516
Fulton County Board of Commissioners | GA | 373,951
Furniture Bank of Metro Atlanta | GA | 70,009
Genesis Shelter, Inc | GA | 136,500
Our House, Inc | GA | 47,235
Jewish Family & Career Services, Inc | GA | 157,728
St. Jude's Recovery Center, Inc | GA | 278,342
Travelers Aid of Metropolitan Atlanta, Inc | GA | 362,456
Project Community Connections, Inc | GA | 563,245
Jerusalem House, Inc | GA | 193,704
Trinity Community Ministries | GA | 108,917
Our Common Welfare, Inc | GA | 158,033
Altermate Life Paths Program, Inc | GA | 48,571
Achor Center, Inc | GA | 373,584
Mary Hall Freedom House, Inc | GA | 285,341
Initiative for Affordable Housing | GA | 320,938
Travelers Aid of Metropolitan Atlanta, Inc | GA | 154,297
Nicholas House, Inc | GA | 36,141
Buckhead Christian Ministry | GA | 80,000
Atlanta Enterprise Center, Inc | GA | 58,370
Mary Hall Freedom House, Inc | GA | 546,612
St. Jude's Recovery Center, Inc | GA | 731,631
Dekalb Community Services Board | GA | 362,568
Georgia Housing and Finance Authority | GA | 239,232
Samaritan House of Atlanta, Inc | GA | 73,255
Saint Joseph's Mercy Care Services, Inc | GA | 36,823
Atlanta Enterprise Center, Inc | GA | 190,955
Lowndes Associated Ministries to People Inc | GA | 140,571
Lowndes Associated Ministries to People Inc | GA | 145,917
Loaves & Fishes Ministry of Macon, Inc | GA | 74,199
Colquitt County Serenity House Project, Inc | GA | 198,902
Loaves & Fishes Ministry of Macon, Inc | GA | 23,230
River Edge Behavioral Health Community Service Board | GA | 496,296
South GA Community Services Board | GA | 330,348
Satilla Community Services | GA | 106,812
House of Grace, Inc | GA | 129,529
Advantage Behavioral Health Systems | GA | 166,591
Whitfield Community Development Corporation | GA | 1,140,300
HODAC, Inc | GA | 42,891
Highland Rivers CSB | GA | 104,328
GRN Community Service Board | GA | 165,240
Macon-Bibb Economic Opportunity Council, Inc | GA | 94,500
CSB of Middle GA | GA | 31,380
New Horizons Community Service Board | GA | 276,960
Union Mission, Inc | GA | 546,360
Citizens Against Violence, Inc | GA | 265,464
Goodwill Industries of Middle Georgia, Inc | GA | 148,066
Calvary Refuge, Inc | GA | 203,326
Pineland CSB | GA | 79,296
Oconee Community Service Board | GA | 60,096
HODAC, Inc | GA | 183,504
Asian American Resource Center | GA | 157,408
Georgia Housing and Finance Authority (GHFA) | GA | 588,000
S.H.A.R.E. House, Inc | GA | 126,526
Gwinnett Housing Resource Partnership, Inc. dba: The Impact! Group | GA | 73,447
Action Ministries, Inc | GA | 481,632
Travelers Aid of Metropolitan Atlanta, Inc | GA | 55,846
City of Albany | GA | 116,217
Maranatha Outreach, Inc | GA | 60,178
Living Room, Inc | GA | 1,540,800
Pathways Center for Behavioral and Developmental Growth | GA | 982,560
Gwinnett Housing Resource Partnership, Inc. dba: The Impact! Group | GA | 146,895
New Horizons CSB | GA | 45,122
Travelers Aid of Metropolitan Atlanta, Inc | GA | 55,630
Goodwill Industries of Middle Georgia, Inc | GA | 110,309
Georgia Coalition Against Domestic Violence | GA | 342,583
McIntosh Trail Community Services Board | GA | 48,264
River Edge Behavioral Health Community Service Board | GA | 415,200
The City of Hinesville | GA | 62,546
Macon-Bibb Economic Opportunity Council, Inc | GA | 99,750
Advantage Behavioral Health Systems | GA | 56,462
Athens Area Homeless Shelter | GA | 105,991
Advantage Behavioral Health Systems | GA | 139,920
Advantage Behavioral Health Systems | GA | 53,424
AIDS Athens, Inc | GA | 182,088
Hope House, Inc | GA | 58,542
Augusta, Georgia | GA | 113,510
Goodwill Industries of Middle Georgia, Inc | GA | 89,664
Augusta, Georgia | GA | 67,517
CSRA Economic Opportunity Authority, Inc | GA | 119,081
Columbus Regional Healthcare System, Inc | GA | 94,524
House of T.I.M.E., Inc | GA | 347,079
New Horizons Community Service Board (CSB) | GA | 103,260
Open Door Community House, Inc | GA | 267,745
The Stewart Community Home, Inc | GA | 285,619
New Horizons Community Services Board (CSB) | GA | 85,488
The Center for Family Resources, Inc | GA | 191,201
The Extension, Inc | GA | 104,654
The Center for Family Resources, Inc | GA | 441,009
The Center for Family Resources, Inc | GA | 85,323
The Center for Family Resources, Inc | GA | 96,700
ZionKeepers, Inc | GA | 49,925
Marietta Housing Authority | GA | 213,408
Cobb Community Collaborative, Inc | GA | 30,000
Union Mission, Inc | GA | 218,875
Economic Opportunity Authority of Savannah—Chatham County Area, Inc | GA | 220,500
Chatham-Savannah Authority for the Homeless | GA | 179,256
Greenbriar Children's Center, Inc | GA | 398,424
Chatham-Savannah Authority for the Homeless | GA | 223,469
Union Mission, Inc | GA | 141,240
Union Mission, Inc | GA | 137,484
Union Mission, Inc | GA | 166,436
Housing Authority of Savannah | GA | 1,069,860
Union Mission, Inc | GA | 285,444
Union Mission, Inc | GA | 143,700
The Salvation Army Guam Corps | GU | 33,049
The Salvation Army Guam Corps | GU | 153,852
Department of Mental Health and Substance Abuse | GU | 312,163
Catholic Social Service | GU | 28,224
Catholic Social Service | GU | 60,019
Maui Economic Concerns of the Community, Inc | HI | 91,717
Women Helping Women | HI | 77,536
Catholic Charities Hawaii | HI | 42,288
Steadfast Housing Development Corporation | HI | 31,598
Steadfast Housing Development Corporation | HI | 33,384
Steadfast Housing Development Corporation | HI | 36,384
Steadfast Housing Development Corporation | HI | 32,924
Maui Economic Concerns of the Community, Inc | HI | 46,245
Hawaii Public Housing Authority | HI | 31,131
Catholic Charities Hawaii | HI | 133,607
Child and Family Service | HI | 84,488
Steadfast Housing Development Corp | HI | 386,832
Kalihi-Palama Health Center, Health Care for the Homeless Project | HI | 1,036,200
Kalihi-Palama Health Center, Health Care for Homeless Project | HI | 859,008
Institute for Human Services | HI | 425,388
Gregory House Programs | HI | 506,520
Gregory House Programs | HI | 358,400
The Salvation Army | HI | 287,906
Hale Kipa, Inc | HI | 136,000
Housing Solutions Incorporated | HI | 55,132
Legal Aid Society of Hawaii | HI | 64,669
Mental Health Kokua | HI | 870,274
United States Veterans Initiative | HI | 341,263
Steadfast Housing Development Corporation | HI | 207,198
Ho'omau Ke Ola | HI | 185,147
Steadfast Housing Development Corporation | HI | 27,874
Center For Siouxland | IA | 128,168
Iowa Institute for Community Alliances | IA | 29,750
Community Action Agency of Siouxland | IA | 137,239
Center For Siouxland | IA | 80,062
Crittenton Center | IA | 184,527
City of Sioux City | IA | 113,452
Family Resources, Inc | IA | 39,525
Shelter House Community Shelter and Transition Services | IA | 448,318
Opening Doors | IA | 42,221
YWCA Clinton | IA | 49,232
Youth and Shelter Services | IA | 189,670
Hawkeye Area Community Action Program, Inc | IA | 26,749
John Lewis Coffee Shop, Inc | IA | 220,000
Area Substance Abuse Council, dba New Directions | IA | 104,223
Humility of Mary Housing, Inc | IA | 37,549
Project Concern, Inc | IA | 31,570
Community Housing Initiatives, Inc | IA | 133,495
Hawkeye Area Community Action Program, Inc | IA | 213,827
Crisis Intervention & Advocacy Center | IA | 158,918
Iowa Institute for Community Alliances | IA | 252,980
Hillcrest Family Services | IA | 71,538
John Lewis Coffee Shop, Inc | IA | 155,000
Vera French Housing Corp | IA | 37,625
John Lewis Coffee Shop, Inc | IA | 492,000
Crisis Intervention Services | IA | 36,166
Cedar Valley Friends of the Family | IA | 254,249
Youth and Shelter Services of Marshall County | IA | 128,457
Community Housing Initiatives, Inc | IA | 377,703
Hawkeye Area Community Action Program, Inc | IA | 466,174
The Salvation Army | IA | 148,666
Primary Health Care, Inc | IA | 256,108
Anawim Housing | IA | 734,544
Iowa Institute for Community Alliances | IA | 110,250
House of Mercy | IA | 227,468
Central Iowa Shelter and Services | IA | 387,989
House of Mercy | IA | 289,732
Primary Health Care, Inc | IA | 84,999
West Des Moines Human Services | IA | 75,372
Youth and Shelter Services, Inc | IA | 287,355
YMCA of Greater Des Moines | IA | 102,216
Youth and Shelter Services, Inc | IA | 99,390
Ada County Housing Authority | ID | 66,144
Safe Place Ministries | ID | 7,696
Terry Reilly Health Services (TRHS) | ID | 528,516
Terry Reilly Health Services (TRHS) | ID | 64,514
Women's and Children's Alliance | ID | 119,122
Neighborhood Housing Services of Idaho | ID | 18,410
Idaho Housing and Finance Association | ID | 35,964
Idaho Housing and Finance Association | ID | 140,964
Aid for Friends | ID | 123,511
Idaho Housing and Finance Association | ID | 68,280
Idaho Housing and Finance Association | ID | 103,992
Idaho Housing and Finance Association | ID | 47,712
IDAHO, Inc | ID | 88,988
Sojourner's Alliance | ID | 81,735
Bonner County Homeless Task Force | ID | 75,967
Salvation Army | ID | 55,840
Idaho Housing and Finance Association | ID | 63,965
IDAHO, Inc | ID | 131,250
CORE, Inc | ID | 24,436
C.L.U.B., Inc | ID | 154,350
Idaho Housing and Finance Association | ID | 50,796
SEICCA | ID | 59,535
Family Care Center | ID | 90,396
Boner County Homeless Task Force | ID | 115,668
St. Vincent de Paul | ID | 187,929
St. Vincent de Paul | ID | 41,576
Valley Crisis Center | ID | 85,037
Eastern Idaho Special Services | ID | 96,495
South Central Community Action Partnership | ID | 49,488
South Central Community Action Partnership | ID | 54,762
St. Vincent de Paul Coeur d'Alene | ID | 192,605
C.L.U.B., Inc | ID | 79,981
Idaho Housing and Finance Association | ID | 72,502
YWCA of Lewiston | ID | 74,014
Idaho Housing and Finance Association | ID | 112,908
Thresholds Inc | IL | 78,490
Pioneer Center for Human Services | IL | 261,820
Transitional Living Services | IL | 47,245
Home of the Sparrow, Inc | IL | 54,600
Home of the Sparrow, Inc | IL | 26,250
Pioneer Center for Human Services | IL | 226,464
Thresholds Inc | IL | 78,490
Pioneer Center for Human Services | IL | 105,000
Janet Wattles Center | IL | 189,000
Promised Land Employment Service dba Careers, Etc | IL | 93,079
Shelter Care Ministries | IL | 39,856
Janet Wattles Center | IL | 189,000
Janet Wattles Center | IL | 113,400
United Way of Rock River Valley | IL | 33,764
The Carpenter's Place | IL | 161,309
American Red Cross—Rock River Chapter | IL | 155,568
Youth Services Network | IL | 250,566
Janet Wattles Center | IL | 151,200
Catholic Charities of the Archdiocese of Chicago, Lake County Services | IL | 56,700
Waukegan Township | IL | 184,940
Lake County | IL | 15,000
Lake County Residential Development Corporation | IL | 82,766
Christian Outreach of Lutherans | IL | 41,234
PADS Crisis Services, Inc | IL | 224,648
I-Plus | IL | 12,805
Prairie State Legal Services, Inc | IL | 50,000
Lake County | IL | 134,784
Catholic Charities of the Archdiocese of Chicago, Lake County Services | IL | 45,507
Independence Center | IL | 58,184
The Lake County Haven | IL | 45,648
PADS Crisis Services, Inc | IL | 136,251
Center for Women in Transition | IL | 205,649
Center for Women in Transition | IL | 8,963
Champaign County Regional Planning Commission | IL | 169,272
Champaign County Regional Planning Commission | IL | 144,624
Mental Health Center of Champaign County, Inc | IL | 183,167
Mental Health Center of Champaign County, Inc | IL | 43,043
Champaign County Regional Planning Commission | IL | 33,780
Community Counseling Center of Northern Madison County | IL | 281,929
Chestnut Health Systems | IL | 279,424
Children's Home + Aid Society | IL | 38,571
Land of Lincoln Legal Assistance Foundation, Inc | IL | 43,962
Good Samaritan House of Granite City, Inc | IL | 151,557
Madison County Government | IL | 303,660
Chestnut Health Systems | IL | 213,012
Chestnut Health Systems | IL | 359,476
Connections for the Homeless | IL | 112,232
Connections for the Homeless | IL | 117,000
Connections for the Homeless | IL | 105,198
Housing Options for the Mentally Ill in Evanston, Inc | IL | 118,278
Connections for the Homeless | IL | 184,393
Housing Opportunity Development Corporation | IL | 17,750
Housing Options for the Mentally Ill in Evanston, Inc | IL | 110,430
YWCA Evanston/North Shore | IL | 70,652
Connections for the Homeless | IL | 43,682
Housing Options for the Mentally Ill in Evanston, Inc | IL | 83,560
Catholic Charities, Diocese of Joliet | IL | 754,500
Cornerstone Services, Inc | IL | 24,705
Trinity Services, Inc | IL | 33,250
The CFM Lamb's Fold Women's Center | IL | 250,000
Cornerstone Services, Inc | IL | 1,674,443
YWCA Peoria, IL | IL | 92,912
Human Service Center | IL | 131,597
The Center for Prevention of Abuse | IL | 172,759
Goodwill Industries of Central Illinois, Inc | IL | 167,696
South Side Office of Concern | IL | 14,962
YWCA Peoria, IL | IL | 75,668
Pioneer Civic Services, Inc | IL | 112,912
South Side Office of Concern | IL | 114,120
South Side Office of Concern | IL | 52,977
YWCA Peoria, IL | IL | 196,215
YWCA Peoria, IL | IL | 212,381
St. Clair County | IL | 50,000
Comprehensive Mental Health Center | IL | 190,620
St. Clair County | IL | 177,382
Bethany Place | IL | 158,280
St. Clair County | IL | 175,000
CDBG Operations Corporation | IL | 110,000
CDBG Operations Corporation | IL | 96,687
Chestnut Health Systems | IL | 265,564
St. Clair County | IL | 175,000
St. Clair County | IL | 169,127
Bethany Place | IL | 48,641
CDBG Operations Corporation | IL | 234,907
Hope Haven of DeKalb County, Inc | IL | 98,374
DeKalb County Residential Development Corporation | IL | 363,636
Hope Haven of DeKalb County, Inc | IL | 95,268
Featherfist | IL | 256,615
Mercy Housing Lakefront | IL | 142,542
Roseland Christian Health Ministries | IL | 368,524
Inspiration Corporation | IL | 354,283
Family Rescue, Incorporated | IL | 64,628
Featherfist | IL | 318,130
Thresholds, Inc | IL | 221,650
Cathedral Shelter of Chicago | IL | 38,482
Heartland Health Outreach, Inc | IL | 948,721
The Inner Voice, Inc | IL | 398,649
Healthcare Alternative Systems, Inc | IL | 214,748
Hull House Association | IL | 389,025
The Inner Voice, Inc | IL | 79,458
Interfaith House, Inc | IL | 210,674
Community Mental Health Council, Inc | IL | 127,693
Apna Ghar, Inc. (Our Home) | IL | 124,785
Community Mental Health Council, Inc | IL | 73,013
Casa Central Social Services Corporation | IL | 375,000
Heartland Health Outreach, Inc | IL | 278,540
Mercy Housing Lakefront | IL | 248,858
Heartland Human Care Services, Inc | IL | 142,708
Catholic Charities of the Archdiocese of Chicago | IL | 1,662,838
Chicago Christian Industrial League | IL | 58,275
Featherfist | IL | 144,242
Heartland Human Care Services | IL | 45,122
La Casa Norte | IL | 94,394
Deborah's Place | IL | 150,144
Family Rescue, Incorporated | IL | 611,859
Residents for Effective Shelter Transitions | IL | 185,563
Sarah's Circle | IL | 68,250
Inspiration Corporation | IL | 123,536
Inspiration Corporation | IL | 92,736
Thresholds, Inc | IL | 163,961
Heartland Human Care Services, Inc | IL | 343,819
Heartland Human Care Services, Inc | IL | 147,354
Latin United Community Housing Association | IL | 35,700
YMCA of Metropolitan Chicago | IL | 256,954
Roseland Christian Health Ministries (Christian Community Health Center) | IL | 279,179
Interfaith House, Inc | IL | 189,889
Circle Urban Ministries | IL | 68,498
The Inner Voice, Inc | IL | 205,452
Mercy Housing Lakefront, Inc | IL | 147,456
Cathedral Shelter of Chicago | IL | 251,760
New Moms, Inc | IL | 253,696
Interfaith Council for the Homeless | IL | 312,243
City of Chicago, Department of Human Services | IL | 318,498
Housing Opportunities for Women, Inc | IL | 249,999
Northwestern Memorial Hospital | IL | 227,522
Cornerstone Community Outreach | IL | 132,224
Heartland Health Outreach, Inc | IL | 130,438
The Inner Voice, Inc | IL | 496,944
Housing Opportunities for Women, Inc | IL | 255,576
Housing Opportunities for Women, Inc | IL | 162,408
Heartland Human Care Services, Inc | IL | 642,984
McDermott Center (dba Haymarket Center) | IL | 64,474
City of Chicago, Department of Human Services | IL | 138,480
Residents for Effective Shelter Transitions (REST) | IL | 578,892
Interfaith Council for the Homeless | IL | 389,376
City of Chicago, Department of Human Services | IL | 185,040
Roseland Christian Health Ministries | IL | 104,544
Matthew House, Inc | IL | 137,592
Chicago House and Social Service Agency | IL | 41,544
Heartland Health Outreach, Inc | IL | 198,360
Housing Opportunities for Women, Inc | IL | 139,752
Interfaith Housing Development Corporation of Chicago | IL | 261,888
Housing Opportunities for Women, Inc | IL | 143,592
Interfaith Housing Development Corporation | IL | 637,992
Lakeview Shelter Inc | IL | 132,120
Lakeview Shelter, Inc | IL | 44,040
Housing Opportunities for Women, Inc | IL | 242,256
Mercy Housing Lakefront | IL | 4,315,920
Unity Parenting & Counseling, Inc | IL | 514,531
Single Room Housing Assistance Corporation | IL | 485,991
City of Chicago—Department of Housing/Chicago Low-Income Housing Trust Fund | IL | 2,144,196
City of Chicago, Department of Human Services | IL | 583,032
Chicago House and Social Service Agency | IL | 381,249
Featherfist | IL | 157,500
Thresholds, Inc | IL | 42,840
Heartland Human Care Services, Inc | IL | 939,084
Community Supportive Living Systems, Inc | IL | 203,150
Heartland Human Care Services, Inc | IL | 207,935
Jewish Federation of Metropolitan Chicago | IL | 163,103
Renaissance Social Services, Inc | IL | 82,803
Chicago Department of Housing | IL | 668,151
Northwestern Memorial Hospital | IL | 160,827
Heartland Health Outreach, Inc | IL | 488,341
Casa Central Social Services Corporation | IL | 471,265
Heartland Health Outreach, Inc | IL | 355,855
Community Mental Health Council, Inc | IL | 101,081
Bethel New Life Inc | IL | 96,983
Cathedral Shelter of Chicago | IL | 57,931
Thresholds, Inc | IL | 308,318
Residents for Effective Shelter Transitions | IL | 279,399
The Inner Voice, Inc | IL | 348,807
Heartland Human Care Services, Inc | IL | 443,441
YMCA of Metropolitan Chicago | IL | 66,438
Housing Opportunities for Women, Inc | IL | 497,400
St. Leonard's Ministries | IL | 264,240
Thresholds, Inc | IL | 396,720
Thresholds, Inc | IL | 308,280
Thresholds, Inc | IL | 264,240
Thresholds, Inc | IL | 264,240
City of Chicago, Department of Human Services | IL | 440,268
City of Chicago, Department of Human Services | IL | 385,776
Heartland Human Care Services, Inc | IL | 47,013
Unity Parenting & Counseling, Inc | IL | 434,757
Thresholds, Inc | IL | 244,918
New Phoenix Assistance Center | IL | 325,780
Heartland Human Care Services, Inc | IL | 693,873
Teen Living Programs, Inc | IL | 194,376
St. Leonard's Ministries | IL | 47,250
Bethel New Life Inc | IL | 350,557
The Night Ministry | IL | 74,260
Chicago Abused Women Coalition | IL | 26,328
Cornerstone Community Outreach | IL | 79,017
Featherfist | IL | 124,967
New Phoenix Assistance Center | IL | 240,500
Deborah's Place | IL | 330,293
Community Mental Health Council, Inc | IL | 124,298
Beacon Therapeutic School Inc., d/b/a Beacon Therapeutic Diagnostic & Treatment Center | IL | 1,083,562
New Phoenix Assistance Center | IL | 271,509
Mercy Housing Lakefront | IL | 259,631
Heartland Health Outreach, Inc | IL | 368,219
Deborah's Place | IL | 414,750
Inspiration Corporation | IL | 199,911
Deborah's Place | IL | 188,064
Housing Opportunities for Women, Inc | IL | 198,368
Lakeview Shelter, Inc | IL | 124,578
Lakeview Shelter, Inc | IL | 68,079
Mercy Housing Lakefront | IL | 198,619
Single Room Housing Assistance Corporation | IL | 422,546
Community Mental Health Council, Inc | IL | 68,190
Renaissance Social Services, Inc | IL | 60,585
Goldie's Place | IL | 67,735
Bethel New Life Inc | IL | 219,152
Northwestern Memorial Hospital | IL | 332,899
The Renaissance Collaborative, Inc | IL | 184,451
City of Chicago Dept. of Housing | IL | 804,459
Featherfist | IL | 293,526
Interfaith Housing Development Corp. of Chicago | IL | 85,890
Thresholds, Inc | IL | 403,605
Human Resources Development Institute (HRDI) | IL | 352,800
Olive Branch Mission | IL | 41,544
Heartland Human Care Services, Inc | IL | 46,298
Featherfist | IL | 532,528
Human Resources Development Institute, Inc | IL | 469,909
Pillars | IL | 24,115
CEDA Northwest Self-Help Center, Inc | IL | 159,394
PADS to HOPE, Inc | IL | 183,665
Pillars | IL | 477,060
Connections for the Homeless, Inc | IL | 93,308
Pillars | IL | 30,187
Together We Cope | IL | 312,092
Catholic Charities of the Archdiocese of Chicago | IL | 230,306
Fellowship Housing Corporation | IL | 100,120
Community & Economic Development Association of Cook County, Inc. (CEDA) | IL | 260,883
Interdependent Living Solutions Center Inc | IL | 156,332
Home of the Sparrow, Inc | IL | 82,102
WilPower, Inc | IL | 247,965
YMCA of Metropolitan Chicago | IL | 225,546
YMCA of Metropolitan Chicago | IL | 497,473
WINGS Program, Inc | IL | 89,874
WINGS Program, Inc | IL | 122,112
Catholic Charities of the Archdiocese of Chicago | IL | 306,276
South Suburban PADS | IL | 279,475
CEDA Bloom-Rich Community Development Association | IL | 231,678
The Center of Concern | IL | 127,434
WilPower, Inc | IL | 205,205
Vital Bridges | IL | 143,520
Grand Prairie Services | IL | 400,920
WilPower, Inc | IL | 25,000
South Suburban Family Shelter | IL | 281,957
WINGS Program, Inc | IL | 43,402
Bethel Human Resources, Inc | IL | 182,271
WINGS Program, Inc | IL | 44,693
Catholic Charities of the Archdiocese of Chicago | IL | 377,329
CEDA Northwest Self-Help Center, Inc | IL | 154,873
Catholic Charities of the Archdiocese of Chicago | IL | 88,000
Alliance to End Homelessness in Suburban Cook County | IL | 253,038
PATH, Inc | IL | 148,240
PATH, Inc | IL | 23,082
Project Oz | IL | 63,865
Your Family Resource Connection | IL | 135,489
Livingston-McLean Regional Office of Education—GED/Adult Literacy Program | IL | 37,867
Catholic Charities | IL | 121,434
Mid Central Community Action, Inc | IL | 21,720
The Baby Fold | IL | 23,184
The Salvation Army | IL | 109,927
Iroquois Mental Health Center | IL | 37,404
Iroquois-Kankakee Regional Office of Education #32 | IL | 64,017
PATH, Inc | IL | 171,353
The Salvation Army | IL | 5,217
Mid Central Community Action, Inc | IL | 32,917
Helping Hands of Springfield, Inc | IL | 115,332
Youth Service Bureau | IL | 91,899
Abundant Faith Ministry | IL | 13,892
Fifth Street Renaissance | IL | 24,150
M.E.R.C.Y. Communities, Inc | IL | 80,730
Helping Hands of Springfield, Inc | IL | 34,933
Abundant Faith Ministry | IL | 20,090
M.E.R.C.Y. Communities, Inc | IL | 167,923
DuPage County Health Department | IL | 83,280
NCO Youth & Family Services | IL | 200,124
World Relief DuPage | IL | 128,780
DuPage P.A.D.S., Inc | IL | 408,860
Catholic Charities, Diocese of Joliet | IL | 666,347
DuPage County Health Department | IL | 50,000
DuPage County Community Services | IL | 151,667
DuPage County Community Services | IL | 35,550
Bridge Communities, Inc | IL | 107,289
DuPage P.A.D.S., Inc | IL | 98,366
DuPage P.A.D.S., Inc | IL | 121,322
DuPage County Health Department | IL | 99,437
Catholic Charities, Diocese of Joliet | IL | 82,240
DuPage County Health Department | IL | 385,000
Prairie State Legal Services, Inc | IL | 68,780
Catholic Charities, Diocese of Joliet | IL | 166,667
DuPage P.A.D.S., Inc | IL | 198,613
C.E.F.S. Economic Opportunity Corporation | IL | 133,350
Embarras River Basin Agency, Inc | IL | 249,845
Embarras River Basin Agency, Inc | IL | 154,722
C.E.F.S. Economic Opportunity Corporation | IL | 199,675
Illinois Valley Economic Development Corporation | IL | 103,084
HOPE of East Central Illinois | IL | 76,434
Heritage Behavioral Health Center | IL | 119,952
Decatur Housing Authority | IL | 33,422
Dove, Inc | IL | 364,794
Dove, Inc | IL | 61,471
Dove, Inc | IL | 16,289
Dove, Inc | IL | 89,581
Heritage Behavioral Health Center | IL | 41,208
Community Crisis Center | IL | 64,981
Lazarus House | IL | 54,331
Public Action to Deliver Shelter, Inc | IL | 234,302
Ecker Center for Mental Health | IL | 163,030
Lazarus House | IL | 63,021
Community Crisis Center | IL | 30,135
Lazarus House | IL | 31,380
The Larkin Center | IL | 297,425
Ecker Center for Mental Health | IL | 168,074
Kane County, Illinois | IL | 109,853
Project NOW, Inc | IL | 58,712
Henry County Housing Development Group, Inc | IL | 293,880
Freedom House | IL | 62,000
DeLaCerda House, Inc | IL | 112,858
Freeport Area Church Cooperative | IL | 77,433
Carver Community Action Agency | IL | 208,282
Community Housing Services | IL | 175,200
Tri-County Opportunities Council | IL | 124,300
Project NOW, Inc | IL | 127,943
Project NOW, Inc | IL | 119,445
YWCA of Quincy | IL | 327,899
Young Womens Christian Association | IL | 136,814
MCS Community Services | IL | 101,250
Western Illinois Regional Council—Community Action Agency | IL | 54,907
Good Samaritan Ministries | IL | 74,397
Family Counseling Center, Inc | IL | 172,329
The Women's Center, Inc | IL | 29,308
Stopping Woman Abuse Now | IL | 53,788
Western Egyptian Economic Opportunity Council, Inc | IL | 24,913
Anna Bixby Women's Center | IL | 77,105
BCMW Community Services Inc | IL | 19,597
Western Egyptian Economic Opportunity Council, Inc | IL | 24,913
Stopping Woman Abuse Now | IL | 70,000
Southern Illinois Coalition for the Homeless | IL | 58,975
The Women's Center, Inc | IL | 20,862
Delta Center, Inc | IL | 19,338
Southern Illinois Coalition for the Homeless | IL | 82,757
Land of Lincoln Legal Assistance Foundation, Inc | IL | 47,544
AIDS Ministries/AIDS Assist of North Indiana, Inc | IN | 103,140
Young Women's Christian Association of St. Joseph County | IN | 55,130
Madison Center, Inc | IN | 54,950
The Center for the Homeless, Inc | IN | 192,593
Young Women's Christian Association of St. Joseph County | IN | 65,000
Madison Center, Inc | IN | 134,664
The Center for the Homeless, Inc | IN | 77,778
The Center for the Homeless, Inc | IN | 25,902
AIDS Ministries/AIDS Assist of North Indiana, Inc | IN | 43,656
Family and Children's Center | IN | 33,272
Life Treatment Centers, Inc | IN | 70,292
The Center for the Homeless, Inc | IN | 87,917
Family and Children's Center | IN | 134,333
The Center for Women and Families, Inc | IN | 223,144
Cedars HOPE, Inc | IN | 259,141
Hope House, Inc | IN | 133,678
South Central Community Mental Health Center, Inc | IN | 761,793
CMHC, Inc | IN | 335,010
Human Services, Inc | IN | 108,148
South Central Community Mental Health Centers Inc | IN | 57,048
YWCA of Evansville, IN | IN | 86,865
Park Center, Inc | IN | 122,160
Human Services, Inc | IN | 36,588
Interfaith Mission, Inc. d/b/a The Lighthouse | IN | 45,500
Tri-City Comprehensive Community Mental Health Center Inc | IN | 101,268
The Salvation Army | IN | 158,247
City of Evansville | IN | 75,320
CMHC, Incorporated | IN | 67,200
Amethyst House | IN | 87,054
Hope House, Inc | IN | 64,890
Aurora Incorporated | IN | 191,835
City of Gary d/b/a Gary Commission for Women | IN | 414,200
LifeSpring, Inc | IN | 51,135
Vincent House, Inc | IN | 48,451
Open Door Community Services, Inc | IN | 116,420
Family Crisis Shelter, Inc | IN | 181,675
CMHC, Inc | IN | 907,122
CMHC, Inc | IN | 249,253
CMHC, Inc | IN | 215,052
Cedars HOPE, Inc | IN | 35,700
AIDS Ministries/AIDS Assist of North Indiana, Inc | IN | 35,558
South Central Community Mental Health Center, Inc | IN | 37,968
Housing Opportunities, Inc | IN | 249,501
Housing Opportunities, Inc | IN | 248,204
ECHO Housing Corporation | IN | 694,487
Open Door Community Services | IN | 102,136
Stepping Stones, Inc | IN | 77,307
Community Action of Northeast Indiana | IN | 289,512
Vincent House, Inc | IN | 52,944
The Stepping Stone Shelter For Women, Incorporated | IN | 183,457
Kosciusko County Shelter for Abuse d/b/a The Beaman Home | IN | 39,434
Pathfinder Services, Inc | IN | 144,018
Family Services of Elkhart County | IN | 44,764
Lafayette Transitional Housing Center, Inc | IN | 75,337
ECHO Housing Corporation | IN | 97,001
Council On Domestic Abuse, Inc | IN | 87,743
Quinco Consulting Center, Inc | IN | 82,126
Family Services of Elkhart County | IN | 46,856
Lafayette Transitional Housing Center, Inc | IN | 73,893
CMHC, Inc | IN | 156,767
Martha's House, Inc | IN | 401,379
The Salvation Army | IN | 242,694
Family Services of Delaware County, Indiana, Inc | IN | 149,617
Family Service Association of Howard County, Inc | IN | 221,715
Housing Opportunities, Inc | IN | 84,484
CMHC, Inc | IN | 171,156
Partners in Housing Development Corporation | IN | 498,000
CR Works | IN | 422,509
United Caring Shelters, Inc | IN | 60,424
Vincent House, Inc | IN | 179,577
Evansville Goodwill Industries, Inc | IN | 220,133
Indiana Housing & Community Development Authority | IN | 1,518,600
Adult and Child Mental Health Center | IN | 169,784
Partners In Housing | IN | 134,964
Partners in Housing Development Corporation | IN | 1,258,200
Midtown Community Mental Health Center | IN | 366,600
John H. Boner Community Center | IN | 51,324
Midtown Community Mental Health Center | IN | 175,470
HealthNet, Inc | IN | 160,200
John H. Boner Community Center | IN | 1,611,420
Pathway to Recovery, Inc | IN | 101,461
HVAF of Indiana, Inc | IN | 150,859
Horizon House, Inc | IN | 123,622
Coalition for Homelessness Intervention & Prevention | IN | 122,160
Pelathe Community Resource Center, Inc | KS | 21,913
Lawrence-Douglas County Housing Authority | KS | 87,730
The Salvation Army | KS | 48,877
Cornerstones of Care/Ozanam Pathway | KS | 107,923
Hillcrest Transitional Housing of Wyandotte County | KS | 485,226
Unified Government of Wyandotte County/Kansas City, Kansas | KS | 89,945
The Kansas City Metropolitian Lutheran Ministry | KS | 265,957
USD 500 Kansas City Kansas Public Schools | KS | 22,660
Inter-Faith Ministries Wichita, Inc | KS | 43,050
City of Wichita Housing Authority | KS | 681,576
City of Wichita Housing Authority | KS | 141,900
Inter-Faith Ministries Wichita, Inc | KS | 56,420
United Way of the Plains | KS | 86,664
United Methodist Open Door, Inc | KS | 168,754
United Methodist Open Door, Inc | KS | 56,238
Wichita Children's Home | KS | 101,218
Inter-Faith Ministries Wichita, Inc | KS | 276,394
COMCARE of Sedgwick County | KS | 276,041
Kansas Legal Services | KS | 190,608
City of Topeka | KS | 1,266,876
SAFEHOME, Inc | KS | 56,502
The Salvation Army | KS | 60,492
Mid America Assistance Coalition | KS | 18,666
Northeast Kansas Community Action Program (NEK-CAP, Inc.) | KS | 320,945
Prairie View, Inc | KS | 272,181
CLASS LTD | KS | 179,016
Manhattan Emergency Shelter, Inc | KS | 303,279
Manhattan Emergency Shelter, Inc | KS | 409,312
New Beginnings, Inc | KS | 125,716
Mental Health Association of the Heartland | KS | 312,136
Mid Kansas Community Action Program, Inc | KS | 315,000
Kansas Housing Resources Corporation | KS | 133,000
Safe Harbor of Northeast Kentucky, Inc | KY | 277,614
Sanctuary, Inc | KY | 77,312
Transitions, Inc | KY | 82,545
Barren River Area Safe Space, Inc | KY | 215,979
Northern Kentucky Area Development District | KY | 448,967
Kentucky Housing Corporation | KY | 190,000
Christian Appalachian Project | KY | 273,934
Transitions, Inc | KY | 79,363
BGCAP | KY | 87,781
Community Action Council for Lexington-Fayette, Bourbon, Harrison and Nicholas Counties, Inc | KY | 166,667
Women's Crisis Center | KY | 63,580
Transitions, Inc | KY | 10,414
People's Self-Help Housing, Inc | KY | 50,392
Harlan Countians for a Healthy Community | KY | 78,701
Kentucky River Community Care, Inc | KY | 23,520
Kentucky Housing Corporation | KY | 651,559
Heartland CARES, Inc | KY | 193,256
Transitions, Inc | KY | 236,770
Central Kentucky Community Action Council, Inc | KY | 113,400
KCEOC Community Action Partnership, Inc | KY | 200,108
Welcome House of Northern Kentucky, Inc | KY | 469,108
Good News Shelter Corporation | KY | 222,923
Purchase Area Housing Corporation | KY | 78,641
Owensboro Area Shelter, Information & Services, Inc. (OASIS, Inc.) | KY | 515,225
Daniel Pitino Shelter, Inc | KY | 266,039
Kentucky River Foothills Development Council, Inc | KY | 275,261
Kentucky RIver Community Care, Inc | KY | 162,204
LifeSkills, Inc | KY | 267,876
Community Action of Southern Kentucky, Inc | KY | 189,262
Transitions, Inc | KY | 162,503
Heartland, CARES, Inc | KY | 157,934
Hazard Perry County Community Ministries, Inc | KY | 88,664
Communicare, Inc | KY | 196,860
Independent Living Options | KY | 125,050
Kentucky Housing Corporation | KY | 76,667
NorthKey Community Care | KY | 166,666
Northern Kentucky Housing & Homeless Coalition, Inc | KY | 93,689
Brenda D. Cowan Coalition for KY, Inc | KY | 166,667
Gateway Homeless Coalition Inc | KY | 104,458
Blue Grass Community Action Partnership | KY | 3,620
Bethany House Abuse Shelter, Inc | KY | 124,884
Bethany House Abuse Shelter, Inc./Baptist Care Homes, Inc | KY | 85,303
Hazard Perry County Community Ministries, Inc | KY | 49,136
Sanctuary, Inc | KY | 35,694
Volunteers of America of KY., Inc | KY | 256,782
Seven Counties Services | KY | 230,904
Interlink Counseling Services | KY | 30,408
Jefferson Street Baptist Center | KY | 43,440
Interlink Counseling Services, Inc | KY | 34,272
Louisville Metro Dept. of Housing and Family Services | KY | 112,785
Choices, Inc | KY | 35,301
House of Ruth | KY | 137,694
Coalition for the Homeless, Inc | KY | 122,311
Family Health Centers, Inc | KY | 255,146
Home of the Innocents | KY | 86,924
Louisville Metro Dept. of Housing and Family Services | KY | 1,111,896
St. Vincent DePaul | KY | 79,560
Schizophrenia Foundation, KY., Inc. (dba as Wellspring) | KY | 28,054
Society of St. Vincent de Paul, Council of Louisville, Inc | KY | 137,938
Interlink Conseling Services | KY | 30,408
The Salvation Army, a Georgia Corporation | KY | 119,999
House of Ruth | KY | 26,832
Schizophrenia Foundation, KY., Inc. (dba as Wellspring) | KY | 211,649
Father Maloney's Boy's Haven | KY | 558,190
Society of St. Vincent de Paul, Council of Louisville, Inc | KY | 841,400
Seven Counties Services, Inc | KY | 93,060
The Center for Women & Families, Inc | KY | 479,860
Volunteers of America of KY., Inc | KY | 164,045
Family Health Centers, Inc (FHC) | KY | 855,496
Kentucky Housing Corporation | KY | 105,840
Hope Center, Inc | KY | 166,667
Chrysalis House, Inc | KY | 83,334
Community Action Council for Lexington-Fayette, Bourbon, Harrison, and Nicholas Counties | KY | 64,409
Chrysalis House, Inc | KY | 219,154
Bluegrass Regional Mental Health—Mental Retardation Board, Inc | KY | 165,210
New Beginnings, Bluegrass, Inc | KY | 53,492
Hope Center, Inc | KY | 269,334
Lexington-Fayette Urban County Housing Authority | KY | 202,536
Volunteers of America of Kentucky, Inc | KY | 240,853
SMILE Community Action Agency | LA | 31,911
Volunteers of America | LA | 59,860
Louisiana Association for the Education of Homeless Children and Youth | LA | 62,092
St. Mary Community Action Agency | LA | 64,496
lberia Homeless Shelter, Inc | LA | 33,040
Community Directions, Inc | LA | 64,920
Acadiana C.A.R.E.S | LA | 59,583
Lafayette Catholic Service Center, Inc | LA | 114,499
Lafayette Catholic Service Centers, Inc | LA | 56,000
Acadiana Outreach Center, Inc | LA | 49,290
J & K Hope | LA | 96,920
Acadiana C.A.R.E.S | LA | 229,051
Acadiana C.A.R.E.S | LA | 143,524
Lafayette Catholic Service Centers, Inc | LA | 35,087
Acadiana Outreach Center, Inc | LA | 136,941
Lafayette Catholic Service Center, Inc | LA | 35,401
Lafayette Catholic Service Center, Inc | LA | 30,975
Acadiana Outreach Center | LA | 129,868
St. Frances Foundation, Inc | LA | 21,000
LA Education for Homeless Children and Youth | LA | 100,533
Lafayette Catholic Service Center, Inc | LA | 166,213
Volunteers of America | LA | 173,105
St. Mary Community Action Committee Association, Inc | LA | 71,662
Volunteer Center of SWLA | LA | 116,483
Southwestern Louisiana Homeless Coalition, Inc | LA | 34,948
Southwestern Louisiana Homeless Coalition, Inc | LA | 52,452
Southwestern Louisiana Homeless Coalition, Inc | LA | 56,158
Providence House | LA | 91,535
Shreveport SRO, Inc. dba Centerpoint | LA | 142,711
Shreveport SRO, Inc. dba Centerpoint | LA | 227,816
Volunteers of America North LA | LA | 144,795
Volunteers of America North LA | LA | 100,735
Volunteers of America North LA | LA | 78,774
Shreveport SRO, Inc. dba Centerpoint | LA | 65,239
Providence House | LA | 155,555
Shreveport SRO, Inc. dba Centerpoint | LA | 35,641
Council on Alcoholism and Drug Abuse of NW Louisiana | LA | 250,000
Philadelphia Center | LA | 176,400
YWCA of Northwest Louisiana, Inc | LA | 96,394
Community Support Programs, Inc | LA | 263,208
Community Support Programs, Inc | LA | 301,902
Volunteers of America North LA | LA | 112,074
Caddo Parish School Board | LA | 89,237
City of New Orleans Neighborhood I/Unity of GNO | LA | 611,844
Project Lazarus, NO/AIDS Task Force | LA | 160,537
NAMI New Orleans | LA | 153,421
Jefferson Parish Human Services Authority/Responsibility House | LA | 465,856
Metropolitan Human Services | LA | 1,221,876
Loyola Law Clinic/Pro Bono Project/Southeast Louisiana Legal Services | LA | 121,819
Catholic Charities/House of Ruth | LA | 83,430
Harry Thompson Center/Louisiana Public Health Institute/Volunteers of America, Unity of GNO | LA | 201,447
Bridge House/Living Witness | LA | 161,450
Catholic Charities | LA | 484,617
Responsibility House, Inc | LA | 134,144
Bridge House Corporation | LA | 191,362
Catholic Charities/Last Hope | LA | 99,238
Convenant House/Goodwill/New Orleans Mission/Travelers Aid Society | LA | 244,276
Goodwill Industries | LA | 173,250
Convenant House/Liberty House | LA | 61,490
St. Vincent DePaul Society, Living Witness, Concerned Citizens for a Better ALgiers—Home Again | LA | 502,142
National Council of Negro Women of Greater New Orleans Liberty House, Hope House, Covenant Hous | LA | 309,257
Catholic Charities ANO, Lindy's Place, UNITY of Greater New Orleans, Volunteers of America, NOPD | LA | 216,064
Jefferson Parish, Dept of Community Development | LA | 366,336
Resources for Human Development | LA | 567,401
Responsibility House | LA | 203,906
Convenant House/St. Vincent DePaul Society/Volunteers of America/Unity of GNO/Vialink | LA | 339,530
Catholic Charities/Lindy's Place/Goodwill/House of Ruth/Unity of GNO | LA | 900,000
Armstrong Family Services/House of Ruth/Catholic Charities/Salvation/Unity of Greater New Orleans | LA | 659,476
Catholic Charities Archdiocese of New Orleans | LA | 99,417
Catholic Charities Archdiocese of New Orleans | LA | 91,656
Jefferson Parish Human Services Authority | LA | 277,473
Volunteers of America of Greater New Orleans, Inc | LA | 525,000
Covenant House New Orleans | LA | 144,153
Metropolitan Center for Women and Children, Inc | LA | 113,344
Catholic Charities Archdiocese of New Orleans | LA | 123,422
UNITY of Greater New Orleans | LA | 960,403
Resources for Human Development/St. Vincent De Paul Society/Unity of GNO | LA | 134,683
Covenant House New Orleans | LA | 78,295
Volunteers of America | LA | 470,234
Convenant House | LA | 106,867
Daughters of Charity Health Services/Health for the Homeless/Unity of GNO | LA | 187,097
Southeast Louisiana Legal Services/St. Vincent De Paul Ozonam Inn/Volunteers of America/Unity of GNO | LA | 128,907
Bridge House, Tulane University Department of Adolescent Medicine | LA | 166,420
Odyssey | LA | 208,645
Resources for Human Development/Jefferson Parish Human Services Authority | LA | 378,253
Society of St. Vincent de Paul—Baton Rouge | LA | 93,164
Society of St. Vincent de Paul | LA | 95,041
Harmony Center, Inc | LA | 260,451
Gulf Coast Teaching Family Services | LA | 135,657
Volunteers of America, Greater Baton Rouge | LA | 108,108
Options Foundation, Inc | LA | 177,563
Volunteers of America Greater Baton Rouge | LA | 135,184
Maison des Ami of Louisiana, Inc | LA | 144,868
Opations Foundation, Inc | LA | 142,011
Baton Rouge Alliance for Transitional Living dba Youth Oasis | LA | 63,661
Volunteers of America Greater Baton Rouge | LA | 193,268
Our Lady of the Lake Hospital, Inc | LA | 208,687
A New Inspiration | LA | 78,970
Catholic Charities of Baton Rouge | LA | 66,709
Our Lady of the Lake Hospital, Inc | LA | 39,900
Volunteers of America, Greater Baton Rouge, Inc | LA | 63,418
HIV/AIDS Alliance for Region Two, Inc. (HAART) | LA | 87,092
HIV/AIDS Alliance for Region Two, Inc. (HAART) | LA | 206,111
HIV/AIDS Alliance for Region Two, Inc. (HAART) | LA | 93,108
Louisiana Industries for the Disabled, Inc | LA | 86,461
O'Brien House | LA | 46,292
Capital Area Alliance for the Homeless | LA | 34,083
Volunteers of America North Louisiana | LA | 99,584
Elisha Ministries | LA | 83,469
Our House, Inc | LA | 56,583
The Wellspring Alliance for Families, Inc | LA | 72,859
The Wellspring Alliance for Families, Inc | LA | 157,317
Monroe Area Guidance Center | LA | 80,209
The Wellspring Alliance for Families, Inc | LA | 257,658
Elisha Ministries | LA | 102,136
Rays of Sonshine | LA | 149,738
Volunteers of America of Greater New Orleans, Inc | LA | 314,149
Alternative Living, Inc | LA | 166,497
Volunteers of America of Greater New Orleans, Inc | LA | 158,726
Southeastern Louisiana University | LA | 148,109
Volunteers of America of Greater New Orleans, Inc | LA | 50,000
Alternative Living, Inc | LA | 163,257
Volunteers of America of Greater New Orleans, Inc | LA | 44,343
Hammand Housing Authority | LA | 178,000
Altermatives Living, Inc | LA | 80,134
Volunteers of America of Greater New Orleans, Inc | LA | 109,290
Women Outreaching Women, Inc | LA | 42,357
Southeast Spouse Abuse Program | LA | 86,974
Alternatives Living, Inc | LA | 68,431
Southeast Spouse Abuse Program | LA | 144,298
St. Tammany Parish Government | LA | 92,460
Volunteers of America of Greater New Orleans, Inc | LA | 191,985
Volunteers of America of North Louisiana | LA | 77,334
Central Louisiana Homeless Coalition | LA | 135,538
Volunteers of America of North Louisiana | LA | 62,521
Central Louisiana Coalition to Prevent Homelessness | LA | 58,245
Vernon Community Action Council, Inc | LA | 70,092
Volunteers of America of North Louisiana | LA | 205,758
START Corporation | LA | 111,447
Gulf Coast Teaching Family Services, Inc | LA | 100,153
Gulf Coast Teaching Family Services, Inc | LA | 170,722
Gulf Coast Teaching Family Services, Inc | LA | 134,350
START Corporation | LA | 161,192
START Corporation | LA | 162,787
START Corporation | LA | 224,584
Gulf Coast Teaching Family Services, Inc | LA | 197,895
Boston Medical Center | MA | 198,427
Little Sisters of the Assumption/Project Hope | MA | 455,814
Boston Health Care for the Homeless Program | MA | 226,530
Metropolitan Boston Housing Partnership, Inc | MA | 229,080
Metropolitan Boston Housing Partnership, Inc | MA | 1,729,440
Metropolitan Boston Housing Partnership, Inc | MA | 383,172
Metropolitan Boston Housing Partnership, Inc | MA | 1,097,700
Metropolitan Boston Housing Partnership, Inc | MA | 737,748
Boston Public Health Commission | MA | 236,504
Dimock Community Health Center | MA | 217,862
Pine Street Inn, Inc | MA | 645,277
Boston Rescue Mission | MA | 317,044
HomeStart, Inc | MA | 514,595
Shelter, Inc | MA | 149,597
Action for Boston Community Development Inc. (ABCD Inc.) | MA | 220,531
Vinfen, Corporation | MA | 101,301
Community Work Services | MA | 189,604
Metropolitan Boston Housing Partnership, Inc | MA | 142,608
Pine Street Inn, Inc | MA | 201,602
Elizabeth Stone House, Inc | MA | 132,229
Elizabeth Stone House, Inc | MA | 39,231
Interseminarian-Project Place, Inc | MA | 77,983
Friends of the Shattuck, Ltd | MA | 82,522
HomeStart, Inc | MA | 266,067
Crittenton Women's Union, Inc | MA | 114,979
Children's Services of Roxbury, Inc | MA | 107,143
Metropolitan Boston Housing Partnership, Inc | MA | 390,060
Metropolitan Boston Housing Partnership, Inc | MA | 767,196
Saint Francis House, Inc | MA | 458,655
Travelers Aid Family Services, Inc | MA | 219,007
Friends of the Shattuck Shelter, Ltd | MA | 131,179
Latino Health Institute, Inc | MA | 328,406
Vinfen, Corporation | MA | 119,677
HomeStart, Inc | MA | 245,517
Pine Street Inn | MA | 1,020,288
HomeStart, Inc | MA | 246,183
Boston Rescue Mission, Inc | MA | 63,210
Metropolitan Boston Housing Partnership, Inc | MA | 224,508
Justice Resource Institute d/b/a JRI Health | MA | 102,202
Friends of the Shattuck Shelter, Ltd | MA | 484,237
Pine Street Inn, Inc | MA | 316,980
Vietnam Veterans Workshop, Inc. d/b/a New England Shelter for Homeless Veterans | MA | 213,221
Hearth, Inc | MA | 212,524
Casa Myrna Vazquez, Inc | MA | 224,192
Brookview House, Inc | MA | 312,510
Saint Francis House, Inc | MA | 74,446
Metropolitan Boston Housing Partnership, Inc | MA | 42,672
Metropolitan Boston Housing Partnership, Inc | MA | 234,720
Metropolitan Boston Housing Partnership | MA | 185,820
Tri-City Mental Health Center, Inc | MA | 32,100
Bridge Over Troubled Waters | MA | 211,583
Greater Boston Legal Services | MA | 151,142
Latino Health Institute, Inc | MA | 145,272
Boston Medical Center/Boston Public Health Commission | MA | 419,627
Boston Medical Center/Boston Public Health Commission | MA | 226,203
Interseminarian-Project Place, Inc | MA | 37,765
Kit Clark Senior Services, Inc | MA | 81,535
Interseminarian-Project Place, Inc | MA | 50,400
Victory Programs, Inc | MA | 169,119
Casa Nueva Vida, Inc | MA | 36,927
Dennis McLaughlin House of Charlestown | MA | 69,166
Boston Public Health Commission | MA | 210,535
Vietnam Veterans Workshop, Inc. d/b/a New England Shelter for Homeless Veterans | MA | 255,425
Casa Myrna Vazquez, Inc | MA | 317,146
Casa Myrna Vazquez, Inc | MA | 49,357
Metropolitan Boston Housing Partnership, Inc | MA | 195,600
ServiceNet Incorporated | MA | 99,250
ServiceNet Incorporated | MA | 242,300
American Red Cross | MA | 68,250
United Veterans of America, Inc | MA | 72,450
Providence Ministries for the Needy, Inc | MA | 80,352
ServiceNet Incorporated | MA | 199,569
Mental Health Association, Inc | MA | 94,500
Human Resources Unlimited, Inc | MA | 109,453
HAP, Inc. and Housing and Economic Resources for Women, Inc | MA | 55,493
River Valley Counseling Center Inc | MA | 41,125
Greater Westfield Committee for the Homeless, Inc | MA | 104,994
Project COPE, Inc | MA | 254,109
Neighborhood Legal Services, Inc | MA | 44,887
Lynn Housing Authority and Neighborhood Development (LHAND) | MA | 705,900
Housing Works, Inc | MA | 12,561
Bridgewell (formerly dba Greater Lynn Mental Health) | MA | 239,507
Lynn Housing Authority and Neighborhood Development (LHAND) | MA | 29,383
Lynn Economic Opportunity, Inc | MA | 41,300
Project COPE, Inc | MA | 86,853
Bridgewell (Formerly Greater Lynn Mental Health) | MA | 283,250
Serving People In Need, Inc | MA | 26,012
Housing Assistance Corporation | MA | 66,431
Housing Assistance Corporation | MA | 266,784
Housing Assistance Corporation | MA | 153,681
Cape AIDS Ministry | MA | 54,960
Housing For All Corporation | MA | 44,200
South Coastal Counties Legal Services, Inc | MA | 24,937
Housing Assistance Corporation | MA | 201,120
AIDS Support Group of Cape Cod | MA | 365,400
Family Continuity Programs, Inc | MA | 44,397
River Valley Counseling Center Inc | MA | 117,028
Massachusetts Career Development Institute, Inc | MA | 268,237
Martin Luther King, Jr. Community Center Inc | MA | 132,750
Mental Health Association, Inc | MA | 79,680
Mental Health Association, Inc | MA | 95,616
Mental Health Association, Inc | MA | 96,694
Friends of the Homeless, Inc | MA | 62,929
Mental Health Association, Inc | MA | 105,000
City of Springfield | MA | 29,733
Massachusetts Career Development Institute, Inc | MA | 214,452
Massachusetts Career Development Institute, Inc | MA | 195,574
Human Resources Unlimited, Inc | MA | 150,551
City of New Bedford | MA | 29,524
Catholic Social Services of Fall River, Inc | MA | 198,609
S.E. Mass Veterans Housing Program, Inc | MA | 96,819
Catholic Social Services of Fall River, Inc | MA | 187,933
Reflections, Inc | MA | 245,064
Positive Action Against Chemical Addiction, Inc | MA | 265,079
Catholic Social Services of Fall River, Inc | MA | 272,490
Montachusett Veterans Outreach Center, Inc | MA | 49,700
Community Healthlink, Inc | MA | 250,000
Community Healthlink, Inc | MA | 631,744
Friendly House, Inc | MA | 353,375
Community Healthlink, Inc | MA | 117,667
The Bridge of Central Massachusetts, Inc | MA | 136,816
Genesis Club, Inc | MA | 133,416
Community Healthlink, Inc | MA | 285,120
Community Healthlink, Inc. | MA | 363,930
Community Healthlink Inc | MA | 633,060
Central Massachusetts Housing Alliance, Inc | MA | 104,999
Our Father's House | MA | 91,018
Worcester Housing Authority | MA | 146,490
Community Healthlink, Inc. | MA | 246,979
Worcester Public Inebriate Program (PIP) | MA | 178,647
Community Healthlink, Inc | MA | 362,863
Y.O.U., Inc | MA | 468,226
Community Healthlink, Inc | MA | 262,500
Central Massachusetts Housing Alliance, Inc | MA | 214,090
Community Healthlink, Inc | MA | 97,384
North Central Human Services, Inc | MA | 78,601
Construct, Inc | MA | 41,200
Berkshire Community Action Council, Inc | MA | 56,166
Berkshire Community Action Council, Inc | MA | 46,988
Family Life Support Center, Inc | MA | 136,491
Berkshire Community Action Council, Inc | MA | 132,290
Lowell Transitional Living Center | MA | 42,341
Lowell Transitional Living Center | MA | 70,717
Bridgewell Incorporated (formerly Middlesex North Resource Center) | MA | 420,938
Alternative House | MA | 189,283
House of Hope, Inc | MA | 96,639
CASPAR, Inc | MA | 137,815
Cambridge Health Care for the Homeless | MA | 14,386
Shelter, Inc | MA | 34,999
Shelter, Inc | MA | 55,141
Cambridge Cares About AIDS | MA | 27,884
CASPAR, Inc | MA | 58,530
Cambridge Housing Authority | MA | 133,308
Cambridge Housing Authority | MA | 293,400
City of Cambridge | MA | 138,240
North Charles, Inc | MA | 44,759
New Communities, Inc | MA | 17,724
Home Start, Inc | MA | 52,295
Hildebrand Family Self-Help Center | MA | 36,960
North Charles, Inc | MA | 19,527
Shelter, Inc | MA | 61,002
CASCAP, Inc | MA | 32,640
Home Start, Inc | MA | 170,336
Shelter, Inc | MA | 81,763
City of Cambridge | MA | 33,600
Home Start, Inc | MA | 94,991
Transition House | MA | 165,199
Home Start, Inc | MA | 275,751
Home Start, Inc | MA | 330,235
Home Start, Inc | MA | 448,025
Shelter, Inc | MA | 163,264
Transition House, Inc | MA | 57,750
Cambridge Cares About AIDS | MA | 31,304
Cambridge Housing Authority | MA | 9,916
Bread & Jams | MA | 60,690
Eliot Community Health Services | MA | 51,042
City of Cambridge | MA | 29,601
Emmaus, Inc | MA | 102,100
Veterans Northeast Outreach Center, Inc | MA | 135,487
Lynn Shelter Association | MA | 207,283
North Shore Community Action Programs, Inc | MA | 142,311
Emmaus, Inc | MA | 250,725
Turning Point, Inc | MA | 280,745
Emmaus, Inc | MA | 158,939
Emmaus, Inc | MA | 108,000
Action, Inc | MA | 120,120
Quincy Interfaith Sheltering Coalition | MA | 138,360
Quincy Interfaith Sheltering Coalition | MA | 213,595
Quincy Interfaith Sheltering Coalition | MA | 110,688
Quincy Interfaith Sheltering Coalition | MA | 108,876
Quincy Interfaith Sheltering Coalition | MA | 193,704
Quincy Interfaith Sheltering Coalition | MA | 83,016
Quincy Interfaith Sheltering Coalition | MA | 304,392
Quince Interfaith Sheltering Coalition | MA | 86,509
Quincy Interfaith Sheltering Coalition | MA | 145,177
Quincy Interfaith Sheltering Coalition | MA | 194,496
Quincy Interfaith Sheltering Coalition | MA | 69,548
Quincy Interfaith Sheltering Coalition | MA | 101,113
Quincy Interfaith Sheltering | MA | 237,825
City of Quincy | MA | 79,831
Merrimack Valley Young Men's Christian Association Inc | MA | 80,665
City of Lawrence | MA | 12,416
Emmaus, Inc | MA | 67,542
YWCA of Greater Lawrence, Inc | MA | 20,895
YWCA of Greater Lawrence, Inc | MA | 187,950
Neighborhood Legal Services, Inc | MA | 14,962
The Psychological Center, Inc | MA | 138,734
Shelter, Inc | MA | 139,023
Shelter, Inc | MA | 474,503
Tri-City Community Action Program. Inc | MA | 175,964
Shelter, Inc | MA | 67,662
Tri-City Community Action Program. Inc | MA | 183,961
Shelter, Inc | MA | 227,484
Housing Families Inc | MA | 127,975
South Middlesex Opportunity Council, Inc | MA | 116,150
Advocates, Inc | MA | 82,804
South Middlesex Opportunity Council, Inc | MA | 79,128
Advocates, Inc | MA | 33,071
Advocates, Inc | MA | 115,389
South Middlesex Legal Services | MA | 48,506
Moveable Feast Inc | MA | 103,241
Stepping Stone, Inc | MA | 453,696
Alcoholism Council of Greater Fall River | MA | 37,800
Residential Care Consortium, Inc | MA | 163,497
Steppingstone, Inc | MA | 329,091
Catholic Social Services of Fall River | MA | 70,906
Stepping Stone, Inc | MA | 343,106
Catholic Social Services of Fall River, Inc | MA | 153,450
Caritas Communities | MA | 127,379
Massachusetts Department of Public Health/Bureau of Substance Abuse Services | MA | 478,655
HarborCOV Inc | MA | 210,000
Massachusetts Department of Housing and Community Development | MA | 586,656
Massachusetts Department of Housing and Community Development | MA | 208,440
Massachusetts Department of Housing and Community Development | MA | 79,680
Massachusetts Sober Housing Corporation | MA | 31,500
Massachusetts Department of Public Health | MA | 195,004
Somerville Homeless Coalition, Inc | MA | 230,889
Commonwealth of Massachusetts | MA | 918,583
Home Start, Inc | MA | 195,237
Massachusetts Department of Housing and Community Development | MA | 47,316
Massachusetts Department of Housing and Community Development | MA | 140,856
Massachusetts Department of Housing and Community Development | MA | 207,540
Massachusetts Department of Public Health | MA | 312,684
Massachusetts Veterans, Inc | MA | 147,360
Massachusetts Department of Housing and Community Development | MA | 686,916
Massachusetts Department of Mental Health | MA | 660,772
Massachusetts Department of Housing and Community Development | MA | 831,240
Somerville Homeless Coalition, Inc | MA | 128,918
Eliot Community Human Services, Inc | MA | 441,336
Massachusetts Department of Public Health, Bureau of Substance Abuse Services | MA | 754,605
South Middlesex Opportunity Council, Inc | MA | 509,284
Shelter, Inc | MA | 146,845
Transition House (Family Development Program) | MA | 14,073
Somerville Homeless Coalition, Inc | MA | 407,396
CASPAR, Inc | MA | 80,730
CASPAR, Inc | MA | 150,793
Somerville Homeless Coalition, Inc | MA | 193,532
Shelter, Inc | MA | 131,560
Catholic Charitable Bureau of the Archdiocese of Boston, Inc | MA | 50,972
Wayside Youth and Family Support Network, Inc | MA | 233,871
Somerville Homeless Coalition, Inc | MA | 159,334
Somerville Homeless Coalition, Inc | MA | 120,264
CASPAR, Inc | MA | 39,138
Somerville Homeless Coalition, Inc | MA | 40,011
CASPAR, Inc | MA | 114,450
Just-A-Start | MA | 23,100
Newton Community Services Center, The Parents Program | MA | 12,616
The Second Step, Inc | MA | 94,045
Vinfen Corporation | MA | 36,955
Brookline Community Mental Health Center | MA | 70,797
Pine Street Inn, Inc | MA | 28,000
Advocates, Inc | MA | 166,661
The Second Step, Inc | MA | 63,344
The Second Step, Inc | MA | 65,660
Brookline Community Mental Health Center | MA | 120,666
Advocates, Inc | MA | 82,804
The Second Step, Inc | MA | 216,474
Advocates, Inc | MA | 165,002
Catholic Social Services of Fall River, Inc | MA | 25,000
Community Counseling of Bristol County, Inc | MA | 106,146
Community Counseling of Bristol County, Inc | MA | 81,448
City of Taunton | MA | 91,650
Attleboro Area Council of Churches | MA | 62,334
Community Counseling of Bristol County, Inc | MA | 91,618
Catholic Social Services of Fall River, Inc | MA | 115,909
Community Counseling of Bristol County, Inc | MA | 41,269
Brockton Coalition for the Homeless, Inc | MA | 415,495
South Shore Housing Development Corporation | MA | 42,000
South Shore Housing Development Corporation | MA | 83,125
Brockton Coalition for the Homeless, Inc | MA | 41,346
Brockton Coalition for the Homeless, Inc | MA | 93,371
Human Resources Development Commission, Inc | MD | 66,044
Young Men's Christian Association of Cumberland | MD | 162,796
Human Resources Development Commission, Inc | MD | 14,137
Mental Hygiene Administration | MD | 125,508
Young Men's Christian Association of Cumberland | MD | 111,872
Young Men's Christian Association of Cumberland | MD | 70,350
Young Men's Christian Association of Cumberland | MD | 30,870
Human Resources Development Commission, Inc | MD | 32,739
Young Men's Christian Association of Cumberland | MD | 48,938
Human Resources Development Commission, Inc | MD | 68,460
Marian House, Inc | MD | 69,258
AIDS Interfaith Residential Services, Inc | MD | 133,716
Women's Housing Coalition, Inc | MD | 97,248
Dayspring Programs, Inc | MD | 291,244
Jobs, Housing & Recovery, Inc | MD | 100,044
Baltimore HealthCare Access, Inc | MD | 166,656
House of Ruth Maryland, Inc | MD | 251,744
St. Vincent de Paul Society of Baltimore, Inc | MD | 107,116
Women's Housing Coalition, Inc | MD | 46,235
St. Ambrose Housing Aid Center | MD | 48,624
Jobs, Housing & Recovery, Inc | MD | 588,899
Women's Housing Coalition, Inc | MD | 45,378
Baltimore Mental Health Systems, Inc | MD | 251,782
Baltimore Mental Health Systems, Inc | MD | 341,497
Baltimore Mental Health Systems, Inc | MD | 247,453
Prisoners Aid Association of Maryland, Inc | MD | 32,983
Associated Catholic Charities | MD | 297,461
Project Plase Inc | MD | 74,001
Health Education Resource Organization, Inc | MD | 34,341
Baltimore City Health Department | MD | 41,149
Homeless Persons Representation Project | MD | 113,461
At Jacob's Well, Inc | MD | 23,520
Project Plase Inc | MD | 189,099
Project Plase Inc | MD | 927,768
St. Vincent de Paul of Baltimore, Inc | MD | 38,127
At Jacob's Well, Inc | MD | 202,560
Manna House Inc | MD | 78,750
The YMCA of Central MD. Inc | MD | 252,193
AIDS Interfaith Residential Services, (AIRS), Inc | MD | 1,043,220
Baltimore City Health Department | MD | 377,030
Dayspring Programs, Inc | MD | 308,504
Associate Catholic Charities, Inc | MD | 116,250
Prisoners Aid Association of Maryland, Inc | MD | 803,664
Dayspring Programs, Inc | MD | 156,120
St. Vincent de Paul Society of Baltimore, Inc | MD | 55,347
Women's Housing Coalition, Inc | MD | 253,200
Health Education Resource Organization, Inc | MD | 253,200
Baltimore Mental Health Systems Inc | MD | 108,792
VOA Cheapeake, Inc | MD | 109,032
Women Accepting Responsibility | MD | 48,624
Baltimore Mental Health Systems, Inc | MD | 392,200
Marian House, Inc | MD | 205,926
AIDS Interfaith Residential Services (AIRS) Inc | MD | 185,039
St. Ambrose Housing Aid Center, Inc | MD | 35,343
Supportive Housing Group, Inc | MD | 173,250
Baltimore Mental Health Systems, Inc | MD | 159,600
The Salvation Army | MD | 155,548
H.E.A.L., Inc./Hagar's House | MD | 150,032
Govans Ecumencial Development Corp | MD | 102,062
Associated Catholic Charities, Inc | MD | 95,491
Associted Catholic Charities | MD | 258,884
Women's Housing Coalition, Inc | MD | 67,554
St. Vincent dePaul Society of Baltimore, Inc | MD | 1,193,381
YWCA of the Greater Baltimore Area, Inc | MD | 164,600
Prisoners Aid Association of Maryland, Inc | MD | 114,805
PLASE, Inc | MD | 151,920
H.E.A.L., Inc./Hagar's House | MD | 93,672
Mt. Calvary Holy Temple | MD | 40,512
Baltimore Mental Health Systems, Inc | MD | 1,520,436
Dayspring Program, Inc | MD | 281,016
Baltimore City Health Department | MD | 91,152
Dayspring Programs, Inc | MD | 546,420
St. Ambrose Housing Aid Center | MD | 50,640
Baltimore Mental Health Systems, Inc | MD | 227,566
Baltimore Mental Health Systems, Inc | MD | 369,600
People Lacking Ample Shelter and Employment (PLASE) | MD | 118,835
Associated Catholic Charities, Inc | MD | 205,836
Maryland Center for Veterans Education and Training, Inc | MD | 1,421,238
AIDS Interfaith Residential Services, Inc. (AIRS) | MD | 147,340
Mercy Medical Center | MD | 335,087
Women's Housing Coalition, Inc | MD | 168,000
Women Accepting Responsibility, Inc | MD | 50,022
People Lacking Ample Shelter and Employment (PLASE) | MD | 117,065
Jobs, Housing & Recovery, Inc | MD | 214,025
Women's Housing Coalition, Inc | MD | 55,860
Prisoners Aid Association of Maryland, Inc | MD | 58,776
Alliance Inc | MD | 46,613
Harford Family House, Inc | MD | 81,962
Alliance, Inc | MD | 8,933
Associated Catholic Charities | MD | 54,928
Alliance, Inc | MD | 69,019
Associated Catholic Charities | MD | 89,770
Maryland Department of Health and Mental Hygiene | MD | 32,412
Maryland Department of Health and Mental Hygiene | MD | 214,380
Associated Catholic Charities | MD | 82,178
Alliance Inc | MD | 20,488
Anne Arundel County Mental Health Agency, Inc | MD | 167,347
Arundel House of Hope, Inc | MD | 114,450
Annapolis Area Ministries, Inc | MD | 41,597
Arundel House of Hope, Inc | MD | 129,499
Arundel Community Development Services, Inc | MD | 315,679
Housing Commission Of Anne Arundel County | MD | 244,410
Arundel House of Hope, Inc | MD | 54,548
Associated Catholic Charities, Inc | MD | 329,983
Maryland Department of Health and Mental Hygiene | MD | 148,032
Community Residence, Inc | MD | 70,786
Howard County Government | MD | 227,757
Howard County Government | MD | 68,736
Grassroot Crisis Intervention Center, Inc | MD | 147,648
Howard County Government | MD | 130,335
Maryland Department of Health and Mental Hygiene | MD | 304,116
Baltimore County, Maryland | MD | 80,138
AIDS Interfaith Residential Services, Inc | MD | 222,840
INNterim Housing Corporation | MD | 248,745
AIDS Interfaith Residential Services Inc | MD | 215,219
Baltimore County Government | MD | 168,914
Baltimore County, Maryland | MD | 15,750
Baltimore County | MD | 77,612
Maryland Department of Health and Mental Hygiene | MD | 147,288
Prologue Inc | MD | 105,000
Prologue Inc | MD | 431,727
AIDS Interfaith Residential Services Inc | MD | 38,800
Nehemiah House, Inc | MD | 57,295
Human Services Programs of Carroll County, Inc | MD | 33,954
Maryland Department of Health and Mental Hygiene | MD | 98,664
Human Services Programs of Carroll County, Inc | MD | 7,494
Human Services Programs of Carroll County, Inc | MD | 86,135
Human Services Programs of Carroll County, Inc | MD | 44,000
Human Services Programs of Carroll County, Inc | MD | 48,197
Human Services Programs of Carroll County, Inc | MD | 15,331
Cecil County, Department of Social Services | MD | 13,084
Maryland Department of Health and Mental Hygiene | MD | 75,060
Cecil County, Department of Social Services | MD | 24,912
Human Services Developmental Corporation, Inc | MD | 36,655
Three Oaks Homeless Shelter, Inc.dba Threee Oaks Center | MD | 34,900
Three Oaks Homeless Shelter, Inc.dba Three Oaks Center | MD | 174,554
Three Oaks Homeless Shelter, Inc.dba Three Oaks Center | MD | 68,660
Catholic Charities of the Archdiocese of Washington | MD | 24,246
Three Oaks Homeless Shelter, Inc.dba Three Oaks Center | MD | 107,336
Three Oaks Homeless Shelter, Inc.dba Three Oaks Center | MD | 40,629
Project ECHO, Inc | MD | 18,252
Maryland Department of Health and Mental Hygiene | MD | 1,128,108
Three Oaks Homeless Shelter, Inc.dba Three Oaks Center | MD | 42,451
Catholic Community Services | MD | 86,391
Mental Hygiene Administration | MD | 94,320
City of Frederick | MD | 65,896
City of Frederick | MD | 135,536
Heartly House, Inc | MD | 35,074
Advocates for Homeless Families | MD | 24,008
Friends for Neighborhood Progress, Inc | MD | 21,942
Mental Hygiene Administration | MD | 142,032
Garrett County Community Action Committee, Inc | MD | 52,473
Garrett County Community Action Committee, Inc | MD | 12,475
Garrett County Community Action Committee, Inc | MD | 9,464
Garrett County Community Action Committee, Inc | MD | 149,885
Crossroads Community, Inc | MD | 114,440
Maryland Department of Health and Mental Hygiene | MD | 117,996
Mid-Shore Mental Health Systems, Inc | MD | 157,704
Maryland Rural Development Corporation | MD | 59,306
Crossroads Community, Inc | MD | 39,019
Crossroads Community, Inc | MD | 13,149
Crossroads Community, Inc | MD | 59,685
Washington County Community Action Council, Inc | MD | 133,333
Washington County Community Action Council, Inc | MD | 57,859
Washington County Community Action Council, Inc | MD | 56,367
Washington County Community Action Council, Inc | MD | 45,839
Maryland Department of Health and Mental Hygiene | MD | 207,216
Go-Getters Inc | MD | 53,004
Somerset County Health Department | MD | 221,433
Somerset County Health Department | MD | 13,565
Somerset County Health Department | MD | 410,706
Somerset County Health Department | MD | 26,894
Maryland Department of Health and Mental Hygiene | MD | 191,964
Prince George's County Government | MD | 449,617
Prince George's County Government | MD | 438,246
Laurel Advocacy and Referral Services, Inc | MD | 317,630
Prince George's County Government | MD | 373,328
JHP, Inc | MD | 136,761
Prince George's County Government | MD | 116,193
JHP, Inc | MD | 225,114
Laurel Advocacy and Referral Services, Inc | MD | 181,739
United Communities Against Poverty | MD | 190,459
United Communities Against Poverty | MD | 156,108
Prince George's County Government | MD | 374,850
Rehabilitation Systems, Inc | MD | 359,623
Laurel Advocacy and Referral Services, Inc | MD | 47,265
Volunteers Of America Chesapeake, Inc | MD | 268,704
Rehabilitation Systems, Inc | MD | 227,307
Rehabilitation Systems, Inc | MD | 129,392
Community Ministries of Rockville, Community Ministry of Montgomery County, Stepping Stones Shelte | MD | 500,962
Montgomery County Coalition for the Homeless | MD | 359,232
Catholic Charities of the Archdiocese of Washington | MD | 235,903
Montgomery Avenue Women's Center | MD | 138,183
City of Gaithersburg—Well/Robertson House Program | MD | 128,247
Housing Opportunities Commission of Montgomery County | MD | 1,151,722
Housing Opportunities Commission of Montgomery County | MD | 79,533
Housing Opportunities Commission of Montgomery County | MD | 1,085,259
Mental Health Association of Montgomery County, MD | MD | 271,740
National Center for Children and Families (NCCF) | MD | 623,191
Montgomery County Coalition for the Homeless | MD | 823,853
HOC | MD | 592,416
State of Maine—Department of Health and Human Services | ME | 304,740
Kennebec Valley Mental Health Center | ME | 32,838
Counseling Services, Inc | ME | 64,410
State of Maine—Department of Health and Human Services | ME | 981,960
State of Maine—Department of Health and Human Services | ME | 96,924
State of Maine—Department of Health and Human Services | ME | 395,580
Community Housing of Maine, Inc | ME | 19,635
Tedford Housing | ME | 6,825
State of Maine—Department of Health and Human Services | ME | 65,544
York County Shelter Programs, Inc | ME | 99,174
York County Shelter Programs, Inc | ME | 33,238
Maine State Housing Authority | ME | 66,431
New Beginnings, Inc | ME | 167,116
York County Shelter Programs, Inc | ME | 111,127
Battered Women's Project | ME | 27,251
State of Maine—Department of Health and Human Services | ME | 197,760
York County Shelter Programs, Inc | ME | 199,100
Maine State Housing Authority | ME | 154,959
State of Maine—Department of Health and Human Services | ME | 1,237,008
State of Maine—Department of Health and Human Services | ME | 940,992
State of Maine Department of Health and Human Services | ME | 200,220
Maine State Housing Authority | ME | 16,758
City of Bangor, Maine | ME | 297,528
City of Bangor, Maine | ME | 65,760
Shaw House | ME | 118,422
Community Health and Counseling Services | ME | 18,599
OHI | ME | 32,550
Acadia Health Care, Inc | ME | 9,975
Acadia Health Care, Inc | ME | 72,288
State of Maine Department of Health & Human Services | ME | 53,160
State of Maine Department of Health & Human Services | ME | 141,600
City of Bangor, Maine | ME | 268,848
State of Maine Department of Health and Human Services | ME | 13,152
State of Maine—Department of Health and Human Services | ME | 193,104
City of Portland | ME | 158,126
State of Maine—Department of Health and Human Services | ME | 970,296
State of Maine—Department of Health and Human Services | ME | 100,320
City of Portland | ME | 27,970
MAPS/My Choice | ME | 71,355
City of Portland | ME | 15,443
Youth Alternatives Inc | ME | 126,936
Portland West, Inc | ME | 70,652
Ingraham, Inc | ME | 307,099
Avesta Housing Development Corporation | ME | 304,266
State of Maine—Department of Health and Human Services | ME | 98,832
State of Maine—Department of Health and Human Services | ME | 111,060
Ingraham, Inc | ME | 82,356
City of Portland | ME | 70,016
Center for Women in Transition | MI | 80,213
Branch County Coalition Against Domestic Violence | MI | 14,422
Michigan Coalition Against Homelessness | MI | 640,500
Bay Area Women's Center | MI | 106,488
Relief After Violent Encounter—Ionia/Montcalm, Inc | MI | 56,687
Sacred Heart Rehabilitation Center, Inc | MI | 194,214
CORY Place, Inc | MI | 136,666
State of Michigan | MI | 134,208
Allegan County Crisis Response Services | MI | 84,800
Corporation for Supportive Housing | MI | 206,666
Child and Family Services of Upper Peninsula | MI | 115,500
Michigan Department of Human Services | MI | 322,507
Corporation for Supportive Housing | MI | 168,000
State of Michigan | MI | 683,338
Pathways to Healthy Living | MI | 42,564
Northpointe Behavioral Healthcare | MI | 62,952
Bay-Arenac Behavioral Health | MI | 58,320
Staircase Youth Services, Inc | MI | 100,000
Northpointe Behavioral Healthcare Systems | MI | 5,850
Blue Water Center for Independent Living | MI | 239,014
Branch County Coalition Against Domestic Violence | MI | 20,700
Capital Area Community Services, Inc | MI | 93,809
Chippewa-Luce-Mackinac Community Action Human Resource Authority, Inc | MI | 115,166
Sacred Heart Rehabilitation | MI | 166,116
American Red Cross, East Shoreline Chapter | MI | 59,039
State of Michigan | MI | 477,640
State of Michigan | MI | 351,901
Detroit Rescue Mission Ministries | MI | 759,593
Cass Community Social Services, Inc | MI | 188,724
Lula Belle Stewart Center, Inc | MI | 138,409
Cass Community Social Services, Inc | MI | 148,529
Coalition on Temporary Shelter | MI | 660,686
Detroit Rescue Mission Ministries | MI | 406,740
Cass Community Social Services, Inc | MI | 420,000
Travelers Aid Society of Metropolitan Detroit | MI | 89,617
Covenant House Michigan | MI | 400,233
Detroit Rescue Mission Ministries | MI | 622,667
Southwest Counseling Solutions | MI | 125,183
Catholic Social Services of Wayne County | MI | 201,575
Mariners Inn | MI | 146,928
Travelers Aid Society of Metropolitan Detroit | MI | 209,811
Mariners Inn | MI | 289,004
Detroit East | MI | 142,014
Freedom House | MI | 379,819
Cass Community Social Services, Inc | MI | 108,743
Lula Belle Stewart Center, Inc | MI | 217,209
Detroit Rescue Mission Ministries | MI | 447,580
Coalition on Temporary Shelter | MI | 75,843
Coalition on Temporary Shelter | MI | 105,546
CareGivers | MI | 756,139
Alternatives For Girls | MI | 124,141
Wayne County Neighborhood Legal Services DBA Neighborhood Legal Services Michigan | MI | 853,434
Detroit Rescue Mission Ministries | MI | 426,160
Detroit Central City CMH, Inc | MI | 990,566
Coalition on Temporary Shelter | MI | 135,338
Simon House | MI | 88,674
Detroit East | MI | 393,073
Travelers Aid Society of Metropolitan Detroit | MI | 854,081
Southwest Housing Solutions | MI | 129,539
Travelers Aid Society of Metropolitan Detroit | MI | 918,428
Detroit East CMH, Inc | MI | 282,960
Development Centers, Inc | MI | 300,864
Neighborhood Service Organization, Inc | MI | 88,836
Coalition on Temporary Shelter | MI | 633,864
Travelers Aid Society of Metropolitan Detroit | MI | 292,920
Southwest Solutions | MI | 533,220
Positive Images | MI | 700,009
Mariners Inn | MI | 243,585
Homeless Action Network of Detroit | MI | 190,273
Coalition on Temporary Shelter | MI | 301,208
Detroit Rescue Mission Ministries | MI | 1,057,722
The Salvation Army—Eastern Michigan Division | MI | 518,125
Detroit Rescue Mission Ministries | MI | 543,533
Travelers Aid Society of Metropolitan Detroit | MI | 218,768
Jewish Vocational Services | MI | 907,155
Detroit Rescue Mission Ministries | MI | 220,333
Development Centers, Inc | MI | 443,940
Coalition on Temporary Shelter | MI | 84,979
Southwest Housing Solutions | MI | 225,532
Michigan Veterans Foundation | MI | 709,836
United Community Housing Coalition | MI | 632,613
Wayne-Metropolitan Community Action Agency | MI | 282,288
Wayne County Neighborhood Legal Services DBA Neighborhood Legal Services Michigan | MI | 331,158
Lutheran Social Services | MI | 81,039
Wayne Metropolitan Community Action Agency | MI | 202,091
Community Care Services | MI | 150,631
First Step: Western Wayne County Project on Domestic Assault | MI | 50,085
Wayne Metropolitan Community Action Agency | MI | 364,234
Wayne Metropolitan Community Action Agency | MI | 275,244
First Step: Western Wayne County Project on Domestic Assault | MI | 43,850
The County of Wayne | MI | 175,143
Wayne Metropolitan Community Action Agency | MI | 99,326
Lutheran Social Services | MI | 33,632
Wayne Metropolitan Community Action Agency | MI | 69,468
Community Housing Network | MI | 150,882
Community Housing Network | MI | 68,387
Macomb Homeless Coalition | MI | 28,890
Community Housing Network | MI | 207,184
Perfecting Community Development Corporation | MI | 53,358
Community Housing Network | MI | 203,912
Comprehensive Youth Services, Inc | MI | 59,640
Word Foundation Agape House | MI | 105,000
Alternative Community Living d/b/a New Passages Behavioral Health & Rehabilitation Services | MI | 33,469
Common Ground Sanctuary | MI | 83,164
Community Housing Network, Inc | MI | 317,517
Community Housing Network, Inc | MI | 260,435
Alternative Community Living d/b/a New Passages Behavioral Health & Rehabilitation Services | MI | 36,399
Lighthouse of Oakland County | MI | 202,445
Common Ground Sanctuary | MI | 129,069
Lighthouse of Oakland County | MI | 171,337
Oakland County CMHA—Community Housing Network | MI | 315,900
Training and Treatment Innovation, Inc | MI | 153,444
Community Housing Network, Inc | MI | 120,437
Lighthouse of Oakland County | MI | 323,151
Lighthouse of Oakland County | MI | 40,380
Oakland County CMHA—Training and Treatment Innovation, Inc | MI | 177,828
Community Housing Network, Inc | MI | 58,176
Common Ground Sanctuary | MI | 81,331
Lighthouse of Oakland County | MI | 103,106
Training and Treatment Innovations, Inc | MI | 145,619
Training and Treatment Innovations, Inc | MI | 145,971
Community Housing Network, Inc | MI | 309,966
Genesee County Community Mental Health Authority | MI | 170,424
Genesee County Community Action Resource Department | MI | 50,269
Genesee County Community Mental Health | MI | 364,669
Metro Housing Partnership, Inc | MI | 90,580
Genesee County Community Action Resource Department | MI | 171,396
Shelter of Flint | MI | 205,543
YWCA of Greater Flint, Inc | MI | 24,750
Genesee County Community Action Resource Department | MI | 118,668
Genesse County Youth Corporation | MI | 124,286
Flint NIPP | MI | 251,291
Genesee County Community Action Resource Department | MI | 28,250
Genesis Non-Profit Housing Corporation | MI | 26,250
Dwelling Place of Grand Rapids, Inc | MI | 9,705
Community Rebuilders | MI | 598,575
Grand Rapids Housing Commission | MI | 226,900
Inner City Christian Federation | MI | 38,810
Community Rebuilders | MI | 252,840
Community Rebuilders | MI | 260,310
Dwelling Place of Grand Rapids, Inc | MI | 100,935
YWCA West Central Michigan | MI | 386,578
The Salvation Army | MI | 249,854
The Salvation Army | MI | 228,488
Genesis Non-Profit Housing Corporation | MI | 32,550
Heartside Nonprofit Housing Corporation | MI | 63,000
Community Rebuilders | MI | 749,796
Community Rebuilders | MI | 368,856
Dwelling Place of Grand Rapids | MI | 132,624
Grand Rapids Housing Commission | MI | 118,010
The Salvation Army | MI | 228,233
Genesis Non-Profit Housing Corporation | MI | 36,750
Community Healing Center (formerly Michiana Addiction/Prevention Service) | MI | 108,150
Kalamazoo Comm. Mental Health and Substance Abuse | MI | 116,103
Kalamazoo Comm. Mental Health and Substance Abuse | MI | 288,414
Housing Resources, Inc. of Kalamazoo County | MI | 309,260
Catholic Family Services | MI | 103,000
Advent House Ministries, Inc | MI | 172,900
The Salvation Army—Capital Area | MI | 100,432
Gateway Community Services | MI | 62,842
The Salvation Army—Capital Area | MI | 250,000
Lansing Housing Commission | MI | 261,360
The Salvation Army—Capital Area | MI | 71,933
Haven House | MI | 45,255
Greater Lansing Housing Coalition | MI | 97,081
Capital Area Community Services, Inc | MI | 285,394
St. Vincent Catholic Charities | MI | 62,843
The Salvation Army—Capital Area | MI | 247,395
City of Lansing | MI | 39,334
Michigan Ability Partners | MI | 51,100
Avalon Housing, Inc | MI | 86,534
SOS Community Services, Inc | MI | 394,731
SOS Community Services, Inc | MI | 248,415
Michigan Ability Partners | MI | 297,216
SOS Community Services, Inc | MI | 1,181,942
Shelter Association of Washtenaw County | MI | 233,100
Michigan Ability Partners | MI | 41,316
Michigan Ability Partners | MI | 401,551
Ozone House, Inc | MI | 109,931
SOS Community Services, Inc | MI | 433,994
POWER Inc | MI | 165,991
Michigan Ability Partners | MI | 71,376
Avalon Housing, Inc | MI | 157,872
Avalon Housing, Inc | MI | 83,334
Saginaw County Youth Protection Council | MI | 79,785
Saginaw Catholic Mustard Seed Foundation, D.B.A. Mustard Seed Shelter | MI | 212,700
Saginaw County Youth Protection Council | MI | 162,764
Saginaw Catholic Mustard Seed Foundation, D.B.A. Mustard Seed Shelter | MI | 156,000
Saginaw County Community Mental Health Authority | MI | 203,472
Homes From Heaven | MI | 223,639
Restoration Community Outreach | MI | 109,025
Underground Railroad, Inc | MI | 231,493
Restoration Community Outreach | MI | 118,980
Emmaus House of Saginaw, Inc | MI | 31,200
Saginaw County Community Mental Health Authority | MI | 68,640
Lenawee Emergency and Affordable Housing Corporation (LEAHC) | MI | 86,511
Family Counseling & Childrens Services of Lenawee County | MI | 3,000
Foundation for Mental Health—Grand Traverse/Leelanau | MI | 153,312
Foundation for Mental Health—Grand Traverse/Leelanau | MI | 58,186
Foundation for Mental Health—Grand Traverse/Leelanau | MI | 63,000
Goodwill Industries of Northern Michigan, Inc | MI | 51,923
Goodwill Industries of Northern Michigan, Inc | MI | 25,620
Lutheran Social Services of Wisconsin and Upper Michigan, Inc | MI | 88,069
Lutheran Social Services of Wisconsin and Upper Michigan, Inc | MI | 104,026
Summit Pointe | MI | 71,332
Haven of Rest Ministries Inc | MI | 85,166
S.A.F.E. Place | MI | 85,000
Haven of Rest Ministries Inc | MI | 175,162
Monroe County Opportunity Program | MI | 100,125
West Michigan Therapy, Inc | MI | 13,333
West Michigan Therapy, Inc | MI | 62,000
Community Mental Health Services of Muskegon County | MI | 99,112
Community Mental Health Services of Muskegon County | MI | 15,989
West Michigan Therapy, Inc | MI | 234,168
Florence Crittenton Services | MI | 54,750
Community Action Agency | MI | 56,131
Community Action Agency | MI | 186,627
Community Action Agency | MI | 263,356
Training and Treatment Innovations, Inc | MI | 112,876
Florence Crittenton Services | MI | 63,394
Community Action Agency | MI | 54,933
Oakland Livingston Human Service Agency | MI | 24,411
Livingston County Community Mental Health Services Board | MI | 37,000
Oakland Livingston Human Service Agency | MI | 22,324
Livingston County Community Mental Health Services Board | MI | 28,404
Oakland Livingston Human Service Agency | MI | 16,080
Good Samaritan Ministries | MI | 394,100
County of Ottawa | MI | 93,508
Center for Women in Transition | MI | 85,795
Center for Women in Transition | MI | 23,220
County of Ottawa | MI | 211,036
Center for Women in Transition | MI | 37,517
Southwest Michigan Community Action Agency | MI | 21,403
Shelter, Inc | MI | 42,894
SIREN/Eaton Shelter, Inc | MI | 113,400
Peckham, Inc | MI | 146,877
SIREN/Eaton Shelter, Inc | MI | 163,000
Capital Area Community Services, Inc | MI | 106,791
Housing Services for Eaton County | MI | 197,007
Community Mental Health Authority of Clinton, Eaton, and Ingham Counties | MI | 49,875
CIP | MN | 59,136
Freeport West, Inc | MN | 406,283
Metropolitan Council | MN | 719,220
Hennepin County HSPHD Dept | MN | 503,868
Hennepin County HSPHD Dept | MN | 347,549
Central Community Housing Trust | MN | 77,005
Emerge Community Development | MN | 561,263
Perspective, Inc | MN | 171,500
Central Community Housing Trust | MN | 236,803
Simpson Housing Services, Inc | MN | 102,319
RS Eden | MN | 149,100
The Salvation Army | MN | 246,784
Families Moving Forward | MN | 33,510
Freeport West, Inc | MN | 242,886
Pillsbury United Communities—Emerge | MN | 128,625
Tubman Family Alliance | MN | 97,085
Mental Health Resources, Inc | MN | 350,709
Community Involvement Programs | MN | 25,479
Amherst H. Wilder Foundation | MN | 49,994
LivingWorks Ventures | MN | 55,999
Hearth Connection AKA Supportive Housing Project | MN | 826,080
Plymouth Housing LLC | MN | 267,946
Families Moving Forward | MN | 40,765
Indigenous Peoples Task Force | MN | 7,991
Zion Originated Outreach Ministry | MN | 75,185
Lutheran Social Services of Minnesota | MN | 166,023
American Indian Community Development Corporation | MN | 81,111
Perspective, Inc | MN | 171,173
Cabrini House | MN | 177,976
Mental Health Resources, Inc | MN | 206,557
Resource | MN | 571,623
Our Savior's Outreach Ministries | MN | 69,906
Perspectives, Inc | MN | 111,444
Catholic Chartiies | MN | 514,133
Metropolitan Council/HRA | MN | 703,404
New Foundations, Inc | MN | 298,090
Face to Face Health and Counseling Services, Inc | MN | 103,670
East Metro Women's Council | MN | 67,814
Breaking Free, Inc | MN | 90,000
Amherst H. Wilder Foundation | MN | 42,649
Emma Norton Services | MN | 71,251
Theresa Living Center | MN | 84,650
Emma Norton Services | MN | 136,212
St. Paul Urban League | MN | 26,136
People Incorporated | MN | 119,700
Theresa Living Center | MN | 54,912
Women's Advocates. Inc | MN | 72,030
Freeport West, Inc | MN | 77,658
The Family Place | MN | 53,208
RS Eden | MN | 45,486
Amherst H. Wilder Foundation | MN | 934,276
Lutheran Social Services of Minnesota | MN | 119,464
Model Cities of St. Paul, Inc | MN | 141,382
People Incorporated | MN | 35,000
Young Women's Christian Association of St. Paul MN | MN | 80,585
Partners for Affordable Housing | MN | 12,098
Houston County Women's Resources | MN | 35,332
Amherst H. Wilder Foundation | MN | 20,554
Zumbro Valley Mental Health Center Housing Options Program | MN | 86,856
Zumbro Valley Mental Health Center, Fright to Recovery | MN | 47,424
The Salvation Army | MN | 145,166
Steele County Transitional Housing, Inc | MN | 22,942
Three Rivers Community Action, Inc | MN | 146,699
Southwest Minnesota Housing Partnership | MN | 149,520
Three Rivers Community Action, Inc | MN | 175,916
Southwest Minnesota Housing Partnership | MN | 138,720
Minnesota Assistance Council for Veterans | MN | 152,250
Supportive Housing and Managed Care Pilot aka Hearth Connection | MN | 33,012
Mental Health Resources, Inc | MN | 169,931
Dakota County Community Development Agency | MN | 112,620
Dakota County | MN | 395,767
Amherst H. Wilder Foundation | MN | 49,999
The Salvation Army | MN | 45,108
American Indian Community Housing Organization | MN | 24,868
Amherst H. Wilder Foundation | MN | 19,999
Arrowhead Economic Opportunity Agency | MN | 20,248
Human Development Center | MN | 16,417
Kootasca Community Action | MN | 31,971
Arrowhead Economic Opportunity Agency | MN | 25,856
Minnesota Assistance Council for Veterans | MN | 57,929
New Pathways, Inc | MN | 89,292
The Salvation Army | MN | 141,536
HRA of Morrison County | MN | 114,900
The Salvation Army Twin Cities Social Services | MN | 245,460
New Pathways, Inc | MN | 105,265
Volunteers of America of Minnesota | MN | 103,237
Amherst H. Wilder Foundation | MN | 18,000
Housing & Redevelopment Authority of St. Cloud, MN | MN | 94,884
New Pathways, Inc | MN | 146,280
Amherst H. Wilder Foundation | MN | 5,829
Bi-County Community Action Programs, Inc | MN | 76,038
Northwestern Mental Health Center, Inc | MN | 47,400
Violence Intervention Project, Inc | MN | 21,560
Violence Intervention Project, Inc | MN | 21,249
Elim Transitional Housing, Inc | MN | 27,967
Metropolitan Council | MN | 88,152
Elim Transitional Housing, Inc | MN | 87,488
Amherst H. Wilder Foundation | MN | 12,070
Lutheran Social Services of Minnesota | MN | 32,272
People Incorporated | MN | 36,782
Elim Transitional Housing, Inc | MN | 59,738
Lakes & Prairies Community Action Partnership, Inc | MN | 95,332
HRA of Clay County, MN | MN | 83,125
Amherst H. Wilder Foundation | MN | 5,756
Churches United for the Homeless | MN | 46,305
Churches United for the Homeless | MN | 42,752
Listening Ear Crisis Center Project, Inc | MN | 56,961
Life House, Inc | MN | 20,011
The Salvation Army | MN | 158,545
American Indian Community Housing Organization | MN | 40,954
Virginia, MN | MN | 151,656
Human Development Center | MN | 77,280
Range Transitional Housing, Inc | MN | 231,950
Women's Community Development Organization | MN | 42,022
Range Mental Health Center | MN | 37,842
YWCA of Duluth | MN | 16,800
Range Mental Health Center | MN | 74,880
Lutheran Social Services | MN | 49,668
Housing & Redevelopment Authority of Duluth, MN | MN | 95,160
Range Transitional Housing, Inc | MN | 130,616
Amherst H. Wilder Foundation | MN | 16,040
The Salvation Army | MN | 192,588
Minnesota Assistance Council for Veterans | MN | 28,003
The Salvation Army | MN | 75,644
Range Transitional Housing, Inc | MN | 89,844
The Salvation Army | MN | 50,429
Arrowhead Economic Opportunity Agency | MN | 51,143
Human Development Center | MN | 43,260
Women's Community Development Organization | MN | 87,761
American Indian Community Housing Organization | MN | 21,560
Range Mental Health Center | MN | 41,312
Women's Community Development Organization | MN | 59,903
Human Development Center | MN | 34,912
Scott-Carver-Dakota CAP Agency, Inc | MN | 109,856
Amherst H. Wilder Foundation | MN | 19,999
Scott County, Minnesota | MN | 87,456
Scott-Carver-Dakota CAP Agency, Inc | MN | 20,514
H R A in a for the City of Willmar, Minnesota | MN | 23,705
Heartland Community Action Agency Inc. Western Community Action Agency, Inc | MN | 95,088
The Salvation Army | MN | 86,596
Amherst H.Wilder Foundation | MN | 25,000
Amherst H. Wilder Foundation | MN | 4,754
SH Managed Care Pilot, aka Hearth Connection | MN | 53,449
Human Services, Inc. in Washington County MN | MN | 41,874
Amherst H. Wilder Foundation | MN | 18,588
Redevelopment Opportunities for Women, Inc | MO | 196,488
Missouri Department of Mental Health | MO | 374,112
Missouri Department of Mental Health | MO | 1,716,000
Missouri Department of Mental Health | MO | 616,632
Humanitri (fromerly Good Samaritan Services Center for the Homeless) | MO | 200,587
St. Louis Transitional Hope House | MO | 766,669
Missouri Department of Mental Health | MO | 1,312,536
Queen of Peace Center | MO | 599,565
St. Patrick Center | MO | 304,723
Peter & Paul Community Services | MO | 298,832
Peter & Paul Community Services | MO | 2,442,108
Missouri Department of Mental Health | MO | 335,136
Humanitary (Formerly Good Samaritan Services Center for the Homeless) | MO | 158,811
Catholic Family Services | MO | 173,370
The Salvation Army | MO | 227,686
The Salvation Army | MO | 650,325
United Methodist Metro Ministry d/b/a Metro Homeless Center | MO | 239,054
YWCA Metro St. Louis | MO | 156,931
The Salvation Army | MO | 148,882
The Kitchen, Inc | MO | 393,750
The Kitchen, Inc | MO | 110,028
Ozarks Area Community Action Corporation | MO | 26,655
The Kitchen, Inc | MO | 79,000
Catholic Charities of Kansas City—St. Joseph, Inc | MO | 37,356
Economic Security Corporation of Southwest Area | MO | 66,638
Economic Security Corporation of Southwest Area | MO | 68,603
Jasper County Public Housing Agency | MO | 50,568
Economic Security Corporation of Southwest Area | MO | 37,426
The Salvation Army | MO | 80,000
Missouri Department of Mental Health | MO | 165,228
Family Self Help Center Inc. dba Lafayette House | MO | 63,000
Interfaith Community Services Inc. (InterServ) | MO | 47,170
Catholic Charities of Kansas City—St. Joseph, Inc | MO | 536,287
Missouri Department of Mental Health | MO | 195,984
The Kansas City Metropolitan Lutheran Ministry | MO | 213,515
Swope Health Services | MO | 185,281
United Services Community Action Agency | MO | 130,063
Community LINC | MO | 125,890
Truman Medical Center, Inc | MO | 513,246
reStart, Inc | MO | 48,300
Newhouse | MO | 32,935
Mental Health Association of the Heartland | MO | 64,099
reStart, Inc | MO | 202,115
SAVE Inc | MO | 201,153
SAVE Inc | MO | 289,003
Sheffield Place | MO | 163,079
Rose Brooks Center, Inc | MO | 203,610
reStart, Inc | MO | 226,306
Community LINC | MO | 110,058
Missouri Department of Mental Health | MO | 512,460
Greater Kansas City Housing Information Center | MO | 24,857
reStart, Inc | MO | 197,815
Mid America Assistance Coalition | MO | 43,358
The Salvation Army | MO | 232,321
Missouri Department of Mental Health | MO | 916,176
Missouri Department of Mental Health | MO | 235,440
Missouri Department of Mental Health | MO | 237,240
Benilde Hall Program | MO | 51,350
The Helping Hand of Goodwill Industries | MO | 36,131
Swope Health Services | MO | 114,450
Missouri Department of Mental Health | MO | 477,348
Missouri Department of Mental Health | MO | 1,522,500
reStart, Inc | MO | 121,390
Benilde Hall Program | MO | 100,380
Johnson County HELP | MO | 107,293
Missouri Department of Mental Health | MO | 104,784
Missouri Valley Community Action Agency | MO | 183,689
Petits County Community Partnership, Inc | MO | 114,759
Housing Authority of the City of Columbia | MO | 311,652
Phoenix Programs, Inc | MO | 71,122
Missouri Department of Mental Health | MO | 96,624
Missouri Department of Mental Health | MO | 133,092
Missouri Department of Mental Health | MO | 127,920
Missouri Department of Mental Health | MO | 89,484
Salvation Army, Jefferson City | MO | 104,668
Church Army, Inc | MO | 68,906
Missouri Department of Mental Health | MO | 114,780
The Salvation Army, Columbia | MO | 37,450
Missouri Department of Mental Health | MO | 126,792
Delta Area Economic Opportunity Corporation | MO | 147,121
Delta Area Economic Opportunity Corporation | MO | 113,992
Hinds County Human Resource | MS | 118,650
Catholic Charities, Inc | MS | 169,047
New Life for Women, Inc | MS | 200,000
Victory Community Resource | MS | 150,480
New Dimensions Development Foundation | MS | 159,238
Stewpot Community Services, Inc | MS | 49,392
Catholic Charities, Inc | MS | 342,329
Bolivar County Community Action Agency, Inc | MS | 469,831
Recovery House | MS | 212,448
Country Oaks Recovery Center/HUD | MS | 155,579
Bolivar County Community Action Agency, Inc | MS | 175,000
Recovery House | MS | 108,727
Forrest General Hospital Pine Grove Behavioral Health Services Division | MS | 250,000
The University of Southern Mississippi | MS | 336,000
AIDS Services Coalition | MS | 132,605
Multi-County Community Service Agency, Inc | MS | 349,999
Sanctuary Hospice House, Inc | MS | 262,500
Gulf Coast Women's Center for Nonviolence, Inc | MS | 37,296
Back Bay Mission, Inc | MS | 65,063
Pearl River Information & Drug Education, Inc | MS | 23,940
Gulf Coast Women's Center for Nonviolence, Inc | MS | 50,260
God's Love, Inc | MT | 150,470
Helena Housing Authority | MT | 166,992
State of Montana | MT | 66,980
District 7 Human Resources Development Council | MT | 127,736
YWCA of Missoula | MT | 101,001
Human Resources Council, District XII | MT | 90,958
Missoula Housing Authority | MT | 488,880
Mountain Home Montana, Inc | MT | 76,798
Florence Crittenton Home and Services | MT | 124,546
Public Housing Authority of Butte | MT | 75,960
Supporters of Abuse Free Environments (S.A.F.E.), Inc | MT | 35,700
Poverello Center, Inc | MT | 72,000
Western Montana Mental Health Center—Turning Point | MT | 196,665
The Salvation Army | MT | 61,579
The Samaritan House, Inc | MT | 63,000
Missoula Housing Authority | MT | 168,300
Housing Authority of Billings | MT | 88,200
The Salvation Army | NC | 70,206
Winston-Salem | NC | 90,511
Family Services, Inc | NC | 14,663
City of Winston-Salem | NC | 181,716
Center Point Human Services | NC | 112,020
City of Winston-Salem | NC | 124,812
Mental Health Association in Nort Carolina | NC | 220,920
The Bethesda Center for the Homeless Inc | NC | 18,355
Next Step Ministries, Inc | NC | 37,800
Samaritan Ministries, Inc | NC | 56,829
Experiment in Self-Reliance, Inc | NC | 98,122
The Salvation Army | NC | 47,545
City of Winston-Salem | NC | 19,252
The Bethesda Center for the Homeless Inc | NC | 46,475
Family Services, Inc | NC | 49,614
City of Winston-Salem | NC | 25,000
Hosanna House of Transition, Inc | NC | 113,778
CenterPoint Human Services | NC | 113,778
Homeward Bound of Asheville, Inc | NC | 44,678
Homeward Bound | NC | 182,886
Western NC Community Health Services | NC | 302,292
Western NC Community Health Services, Inc | NC | 167,736
Affordable Housing Coalition | NC | 260,360
Housing for New Hope | NC | 65,284
Urban Ministries of Durham, Inc | NC | 187,034
Genesis Home, Inc | NC | 524,998
Greenville Housing Development Corporation | NC | 90,000
Piedmont Behavioral Healthcare (PBH) | NC | 75,516
Christians United Outreach Center | NC | 42,043
Rockingham County Help for Homeless, Inc | NC | 142,443
The New Reidsville Housing Authority | NC | 273,660
Tideland Mental Health Center MH/DD/SAS | NC | 23,616
Elizabeth City Housing Authority | NC | 249,360
Graham Housing Authority | NC | 103,500
Greenville Community Life Center dba Greenville Community Shelter, Inc | NC | 216,531
Community Link, Programs of Travelers Aid | NC | 297,780
United Community Ministries | NC | 264,600
North Carolina Housing Coalition, Inc | NC | 30,000
North Carolina Housing Coalition, Inc | NC | 25,341
Five County Mental Health Authority | NC | 287,100
Housing Authority of the City of Greenville | NC | 303,600
Tideland Mental Health Center MH/DD/SAS | NC | 350,640
Foothills Area MH/DD/SA Authority LME | NC | 273,780
Piedmont Behavioral Healthcare (PBH) | NC | 368,940
Foothills Area MH/DD/SA Authority LME | NC | 218,400
Neuse Mental Health | NC | 150,384
Five County Mental Health Authority | NC | 77,676
Alamance-Caswell Area Mental Health Developmental Disabilities, Substance Abuse Authority | NC | 134,400
North Carolina Housing Coalition, Inc | NC | 52,582
Community Link, Programs of Travelers Aid | NC | 238,912
United Community Ministries | NC | 262,710
Eastpointe, LME | NC | 388,440
Five County Mental Health Authority | NC | 89,484
Catawba County Government | NC | 133,800
Neuse Mental Health | NC | 91,284
North Carolina Housing Coalition, Inc | NC | 462,280
Youth Focus, Inc | NC | 51,700
Greensboro Housing Authority | NC | 116,100
Family Service of the Piedmont, Inc | NC | 34,276
Greensboro Urban Ministry | NC | 27,930
Greensboro Urban Ministry | NC | 31,920
Mary's House, Inc | NC | 135,982
Open Door Ministries of High Point, Inc | NC | 48,919
Joseph's House, Inc | NC | 43,730
Greensboro Housing Authority | NC | 124,260
The Salvation Army, A Georgia Corporation, for the Salvation Army, High Point, NC | NC | 19,274
The Christian Counseling and Wellness Group, Inc | NC | 467,384
Family Service of the Piedmont, Inc | NC | 35,943
The Servant Center, Inc | NC | 47,586
Alcohol and Drug Services of Guilford, Inc | NC | 34,996
Carolina Medical Center—Randolph | NC | 44,363
Hope Haven Inc | NC | 52,867
Community Link, Programs of Travelers Aid | NC | 234,983
Mecklenburg County Area Mental Health, DD & SA Authority | NC | 305,544
Mecklenburg County Area Mental Health, DD & SA Authority | NC | 426,480
The Salvation Army, A Georgia Corporation | NC | 226,646
Mecklenburg County Homeless Support Services | NC | 145,136
The Salvation Army, A Georgia Corporation | NC | 87,499
Hope Haven Inc | NC | 63,000
Mecklenberg County Area Mental Health, DD & SA Authority | NC | 262,812
Carolina Medical Center | NC | 316,764
Hope Haven Inc | NC | 53,980
Community Link, Programs of Travelers Aid | NC | 224,682
St. Peter's Homes, Inc | NC | 33,333
Hope Haven Inc | NC | 383,500
Wilmington Housing Finance and Department, Inc | NC | 102,432
Cape Fear Housing for Independent Living | NC | 95,381
Coastal Horizons Center, Inc | NC | 78,975
NAMI—Wilmington | NC | 62,333
First Fruit Ministries | NC | 120,716
Volunteers of America of the Carolinas, Inc | NC | 86,997
Good Shepard Ministries of Wilmington, Inc | NC | 56,073
Brunwick Family Assistance Agency, Inc | NC | 21,040
Wake County Human Services | NC | 578,880
Community Alternatives for Supportive Abodes, Inc. (dba CASA) | NC | 376,496
Passage Home, Inc | NC | 220,615
Wake County Human Services | NC | 330,227
Wake County Human Services | NC | 860,436
Sandhills Community Action Program, Inc | NC | 240,792
Gaston Residential Services, Inc | NC | 215,916
Cleveland County Abuse Prevention Council, Inc | NC | 37,158
Gaston County Interfaith Hospitality Network, Inc | NC | 38,850
Gaston Residential Services, Inc | NC | 92,208
As One Ministries, Inc | NC | 63,840
Cumberland Interfaith Hospitality Network, Inc | NC | 257,628
Cumberland Interfaith Hospitality Network, Inc | NC | 120,588
The Salvation Army | NC | 35,470
The Salvation Army, A Georgia Corporation, for The Salvation Army, Fayetteville, NC | NC | 147,788
The Salvation Army, A Georgia Corporation, for The Salvation Army, Fayetteville, NC | NC | 82,340
Cumberland County, NC | NC | 84,134
UNC Horizons | NC | 28,044
Inter-Faith Council for Social Service | NC | 9,000
Chrysalis Foundation for Mental Health, Inc | NC | 27,273
Chrysalis Foundation for Mental Health, Inc | NC | 50,878
OPC Mental Health, Developmental Disabilities and Substance Abuse Area Authority | NC | 121,128
OPC Mental Health, Developmental Disabilities and Substance Abuse Area Authority | NC | 42,600
Hospitality House of the Boone Area, Inc | NC | 31,928
New River Service Authority | NC | 27,593
New River Service Authority | NC | 33,018
Hospitality House of the Boone Area, Inc | NC | 29,179
New River Service Authority | NC | 69,517
Hospitality House of the Boone Area, Inc | NC | 31,181
Community Action Program Region VII, Inc | ND | 94,176
North Dakota Association for the Disabled, Inc | ND | 33,753
Grand Lodge of North Dakota, I.O.O.F | ND | 46,676
Prairie Harvest Human Services Foundation | ND | 84,999
Fargo Housing and Redevelopment Authority | ND | 193,380
Abused Adult Resource Center | ND | 78,682
Society of St. Vincent de Paul | ND | 15,277
YWCA Cass Clay | ND | 133,015
YWCA Cass Clay | ND | 80,504
Sharehouse | ND | 150,000
Fargo Housing and Redevelopment Authority | ND | 140,400
North Dakota Department of Commerce | ND | 30,000
Women's Alliance, Inc. DBA: Domestic Violence and Rape Crisis Center | ND | 37,600
Communtiy Action Program VII, Inc | ND | 106,344
Community Violence Intervention Center | ND | 94,772
Central Nebraska Community Services | NE | 193,864
Central Nebraska Community Services | NE | 127,085
Heartland Family Service | NE | 71,523
Stephen Center, Inc | NE | 52,238
Community Alliance Rehabilitation Services | NE | 196,430
The Salvation Army | NE | 138,897
Hope of Glory Ministries, Inc | NE | 76,822
Heartland Family Service | NE | 266,954
Iowa Institute for Community Alliance | NE | 121,537
The Salvation Army | NE | 58,020
Salvation Army for the 37th Street Project | NE | 146,694
Catholic Charities of the Archdiocese of Omaha, Inc | NE | 213,234
CenterPointe, Inc | NE | 443,273
Catholic Social Services | NE | 93,683
Lincoln Action Program | NE | 449,539
CenterPointe, Inc | NE | 187,612
St. Monica's | NE | 140,456
CenterPointe, Inc | NE | 185,591
CEDARS Youth Services | NE | 130,707
R.A.F.T., Inc. (Residential Assistance to Families in Transition) | NE | 90,718
Community Action Partnership of Mid-Nebraska | NE | 25,643
Blue Valley Community Action, Inc | NE | 195,342
Blue Valley Community Action, Inc | NE | 24,677
Catholic Social Services | NE | 113,345
Panhandle Partnership for Health and Human Services | NE | 31,896
Panhandle Community Services | NE | 31,064
Goldenrod Hills Community Action, Inc | NE | 27,171
Stratford County Community Action Committee, Inc | NH | 85,865
Lakes Region Mental Health Center, Inc. dba Genesis Behavioral Health | NH | 99,632
West Central Services, Inc | NH | 66,037
Community Services Council of New Hampshire | NH | 79,047
Belknap-Merrimack CAP | NH | 394,854
My Friend's Place | NH | 54,239
The Housing Partnership | NH | 143,815
Tri-County Community Action Program, Inc | NH | 188,568
Behavioral Health & Development Services of Stratford County, Inc. (d/b/a Community Partners) | NH | 42,097
Northern Human Services | NH | 132,011
Families in Transition | NH | 71,766
Southwestern Community Services, Inc | NH | 88,497
Southwestern Community Services, Inc | NH | 80,640
Seacoast Mental Health Center | NH | 14,154
New Hampshire Hospital | NH | 236,866
Southwestern Community Services, Inc | NH | 112,951
Mental Health Center for Southern NH d/b/a Center for Life Management (CLM) | NH | 247,279
Community Services Council of New Hampshire | NH | 116,524
Families in Transition | NH | 111,300
Families in Transition | NH | 67,183
The Mental Health Center of Greater Manchester | NH | 72,590
Community Services Council of New Hampshire | NH | 52,838
Liberty House Shelter, Inc | NH | 50,000
Families in Transition | NH | 122,500
Harbor Homes, Inc | NH | 100,929
Harbor Homes, Inc | NH | 54,283
Greater Nashua Council on Alcoholism, Inc | NH | 60,083
Harbor Homes, Inc | NH | 26,243
Harbor Homes, Inc | NH | 166,666
Harbor Homes, Inc | NH | 195,285
Marguerite's Place, Inc | NH | 58,480
Southern New Hampshire Services, Inc | NH | 32,191
Community Services Council of New Hampshire | NH | 12,778
Nashua Soup Kitchen & Shelter, Inc | NH | 59,545
Harbor Homes, Inc | NH | 862,121
New Jersey Housing and Mortgage Finance Agency | NJ | 17,000
Catholic Charities—Behavioral Health Services | NJ | 151,080
Shelter Our Sisters | NJ | 23,212
Bergen County Community Action Partnership, Inc | NJ | 63,702
Bergen County Community Action Partnership, Inc | NJ | 93,712
Bergen County Community Action Partnership, Inc | NJ | 92,748
AAH of Bergen County, Inc | NJ | 88,322
NNJ HOME, Inc | NJ | 125,429
Vantage Health System, Inc | NJ | 217,402
Care Plus NJ INc | NJ | 93,068
Shelter Our Sisters | NJ | 16,382
NNJ HOME, Inc | NJ | 237,065
Comprehensive Behavioral Healthcare, Inc | NJ | 110,434
Vantage Health System, Inc | NJ | 90,896
The United Way of Bergen County | NJ | 1,478,400
Advance Housing, Inc | NJ | 167,735
AAH of Bergen County, Inc | NJ | 78,925
Advance Housing, Inc | NJ | 817,900
Vantage Health System, Inc | NJ | 480,480
The Lcster A. Drenk Behavioral Health Center | NJ | 31,127
Catholic Charities. Diocese of Trenton | NJ | 38,989
New Jersey Housing and Mortgage Finance Agency | NJ | 2,560
Catholic Charities. Diocese of Trenton | NJ | 69,218
The Lcster A. Drenk Behavioral Health Center | NJ | 66,183
Catholic Charities—Behavioral Health Services | NJ | 74,976
Burlington County Community Action Program | NJ | 10,667
Burlington County Community Action Program | NJ | 14,172
Catholic Charities. Diocese of Trenton | NJ | 24,507
Southern New Jersey Housing Corporation (ACSNJ) | NJ | 33,597
The Lcster A. Drenk Behavioral Health Center | NJ | 89,520
Family Service | NJ | 42,000
Camden County Council On Economic Opportunity, Inc | NJ | 311,627
Center for Family Services | NJ | 84,215
Volunteers of America Delaware Valley, Inc | NJ | 140,222
AIDS Coalition of Southern New Jersey | NJ | 18,822
South Jersey Behavioral Health Resources, Inc | NJ | 73,120
Our Lady of Lourdes Health Foundation, Inc | NJ | 186,466
Volunteers of America Delaware Valley, Inc | NJ | 209,473
Camden County Council On Economic Opportunity, Inc | NJ | 166,225
Interfaith Homeless Outreach Council | NJ | 20,516
Volunteers of America Delaware Valley, Inc | NJ | 84,790
Camden County Council On Economic Opportunity, Inc | NJ | 207,724
Dooley House Inc | NJ | 228,967
Camden County Council On Economic Opportunity, Inc | NJ | 257,107
New Jersey Department of Millitary and Veterans Affairs | NJ | 284,395
AIDS Resource Foundation for Children | NJ | 800,000
Project Live, Inc | NJ | 1,158,000
East Orange General Hospital | NJ | 242,400
Project Live, Inc | NJ | 420,000
Easter Seals NJ, Inc | NJ | 139,992
Isaiah House, Inc | NJ | 431,180
New Jersey Housing and Mortgage Finance Agency | NJ | 85,667
Mental Health Association of Essex County, Inc | NJ | 868,500
Covenant House New Jersey | NJ | 1,123,500
Isaiah House | NJ | 99,384
Urban Youth Development Corporation | NJ | 238,728
Isaiah House, Inc | NJ | 748,487
NCC Harmony House Corporation | NJ | 143,014
NCC Harmony House Corporation | NJ | 142,356
Center for Family Services | NJ | 30,935
Center for Family Services | NJ | 35,437
Volunteers of America Delaware Valley, Inc | NJ | 88,970
Center for Family Services | NJ | 18,130
Center for Family Services | NJ | 64,750
New Jersey Housing and Mortgage Finance Agency | NJ | 3,000
Catholic Charities of the Archdiocese of Newark | NJ | 248,664
Saint Joseph's Home | NJ | 558,534
The House of Faith, Inc | NJ | 293,475
WomenRising, Inc | NJ | 644,268
Catholic Charities of the Archdiocese of Newark | NJ | 160,000
The Doe Fund, Inc | NJ | 315,875
North Hudson Community Action Corporation | NJ | 424,888
New Jersey Housing and Mortgage Finance Agency | NJ | 69,000
Jersey City Episcopal Community Development Corporation | NJ | 391,797
The Doe Fund, Inc | NJ | 906,769
North Hudson community Action Corporation | NJ | 68,420
MIPH (Making it Possible to end Homelessness) | NJ | 168,581
Catholic Charities, Diocese of Metuchen | NJ | 236,776
MIPH (Making it Possible to end Homelessness) | NJ | 66,499
University of Medicine and Dentistry of NJ—University Behavioral Health Care | NJ | 820,080
University of Medicine and Dentistry New Jersey | NJ | 155,172
New Jersey Housing and Mortgage Finance Agency | NJ | 16,687
O.C.E.A.N., Inc | NJ | 103,717
180, Turning Lives Around, Inc | NJ | 172,256
New Jersey Housing and Mortgage Finance Agency | NJ | 56,727
County of Monmouth | NJ | 433,020
Collaborative Support Programs of New Jersey | NJ | 132,972
County of Monmouth | NJ | 241,020
New Jersey Housing and Mortgage Finance Agency | NJ | 25,000
180, Turning Lives Around, Inc | NJ | 169,577
Monmouth Housing Alliance | NJ | 43,923
O.C.E.A.N., Inc | NJ | 67,864
HABcore, Inc | NJ | 89,354
Easter Seals New Jersey, Inc | NJ | 55,172
HABcore, Inc | NJ | 179,286
Mental Health Association of Morris County, Inc | NJ | 60,060
Homeless Solutions, Inc | NJ | 219,397
Mental Health Association of Morris County | NJ | 133,920
Homeless Solutions, Inc | NJ | 64,299
Homeless Solutions, Inc | NJ | 396,965
Jersey Battered Women's Service, Inc | NJ | 198,137
Ocean's Harbor House | NJ | 23,625
Vetgroup, Inc | NJ | 25,200
O.C.E.A.N., Inc | NJ | 50,850
Catholic Charities, Diocese of Trenton | NJ | 30,318
Counseling and Referral Services of Ocean, Inc | NJ | 356,613
O.C.E.A.N., Inc | NJ | 303,445
Ocean Mental Health Services, Inc | NJ | 101,400
Passaic County Department of Human Services | NJ | 1,411,200
New Jersey Housing and Mortgage Finance Agency | NJ | 22,667
Hispanic Multi Purpose Service Center | NJ | 69,976
Strengthen Our Sisters | NJ | 197,916
St. Philip's Ministry of the United Methodist Church | NJ | 80,989
Paterson YMCA | NJ | 799,140
New Jersey Housing and Mortgage Finance Agency | NJ | 25,000
Salem County Inter-Agency Council of Human Services, Inc | NJ | 137,550
New Jersey Housing and Mortgage Finance Agency | NJ | 2,000
Alternatives, Inc | NJ | 101,279
Volunteers of America Delaware Valley, Inc | NJ | 117,344
Alternatives, Inc | NJ | 98,478
Greater Trenton Behavioral Health Care | NJ | 831,480
HomeFront, Inc | NJ | 138,086
Volunteers of America Delaware Valley | NJ | 77,585
New Jersey Housing and Mortgage Finance Agency | NJ | 19,970
Catholic Charities, Diocese of Trenton | NJ | 127,542
Catholic Charities, Diocese of Trenton—Behavioral Health Services | NJ | 36,170
Greater Trenton Behavioral Health Care | NJ | 164,000
Catholic Charities, Diocese of Trenton, Behavioral Health Services | NJ | 145,392
YWCA of Trenton | NJ | 160,512
HomeFront, Inc | NJ | 137,280
Collaborative Supprot Programs of New Jersey PHA NJ880/Bridgeway Rehabilitation Services, Inc | NJ | 636,900
Community Access Unlimited | NJ | 49,020
Bridgeway Rehabilitation Service, Inc | NJ | 25,836
YMCA of Eastern Union County | NJ | 279,210
Homefirst, Interfaith Housing and Family Services | NJ | 418,788
Plainfield Housing Authority | NJ | 298,728
Bridgeway/Elizabeth Housing Authority | NJ | 556,884
New Jersey Housing and Mortgage Finance Agency | NJ | 40,656
Elizabeth Coalition to House the Homeless | NJ | 13,300
Community Access Unlimited | NJ | 97,503
Homefirst Interfaith Housing and Family Services/Housing Authority of Plainfield | NJ | 248,160
Community Access institute | NJ | 279,000
Homefirst Interfaith Housing and Family Services | NJ | 36,120
Homefirst Interfaith Housing and Family Services | NJ | 18,654
Homefirst Interfaith Housing and Family Services | NJ | 26,917
Easter Seals New Jersey, Inc | NJ | 7,464
Domestic Abuse and Rape Crisis Center (D.A.R.C.C.) of Warren County | NJ | 51,240
Domestic Abuse and Rape Crisis Center, Inc | NJ | 111,120
New Jersey Housing and Mortgage Finance Agency | NJ | 3,000
Cape May County Board of Social Services | NJ | 110,040
New Jersey Housing and Mortgage Finance Agency | NJ | 2,667
Cape May County Board of Social Services | NJ | 87,480
Advance Housing, Inc | NJ | 71,239
New Jersey Housing and Mortgage Finance Agency | NJ | 2,457
Advance Housing, Inc | NJ | 76,848
New Jersey Housing and Mortgage Finance Agency | NJ | 2,000
Albuquerque Health Care for the Homeless | NM | 1,029,408
Catholic Charities | NM | 216,750
Albuquerque Health Care for the Homeless, Inc | NM | 135,267
Barrett Foundation, Inc | NM | 23,780
Catholic Charities | NM | 51,371
Barrett Foundation, Inc | NM | 97,447
Albuquerque Health Care for the Homeless | NM | 241,153
Crossroads for Women | NM | 186,900
St. Martins Hospitality Center | NM | 115,500
Supportive Housing Coalition of New Mexico | NM | 165,140
S.A.F.E. House | NM | 42,096
Catholic Charities | NM | 197,868
Cuidando Los Ninos | NM | 223,709
Catholic Charities | NM | 862,948
Crossroads for Women | NM | 109,530
Transitional Living Services | NM | 326,340
Transitional Living Services, Inc | NM | 105,000
Transitional Living Services, Inc | NM | 276,300
NewLife Homes | NM | 224,521
Saint Elizabeth Shelter Corporation | NM | 218,141
San Juan County Partnership, San Juan Co | NM | 210,145
Eastern Plains Council of Governments | NM | 115,728
The Life Link | NM | 203,928
San Juan Catholic Charities | NM | 160,250
Samaritan House, Inc | NM | 193,420
Haven House, Inc. (Formerly Project Sandoval County) | NM | 150,000
Esperanza Shelter for Battered Families, Inc | NM | 283,500
The Life Link | NM | 306,660
The Life Link | NM | 204,696
Santa Fe Community Housing Inest | NM | 122,052
Resources for Children and Youth Inc | NM | 245,739
Valencia Shelter for Victims of Domestic Violence | NM | 320,000
Navajo United Methodist Center—New Beginnings | NM | 160,250
Haven House, Inc. (Formerly Project Sandoval County) | NM | 160,250
Clark County Social Service | NV | 3,525,720
State of Nevada | NV | 273,876
Catholic Charities of Southern Nevada | NV | 360,207
United States Veterans Initiative | NV | 243,635
The Salvation Army, A California Corporation | NV | 984,758
State of Nevada | NV | 839,508
State of Nevada | NV | 172,860
Women's Development Center | NV | 130,876
ReStart | NV | 310,745
ReStart | NV | 110,292
Northern Nevada Community Housing Resource Board | NV | 51,955
ReStart | NV | 501,744
Northern Nevada Adult Mental Health Services | NV | 451,356
ReStart | NV | 69,400
Churchill County on Alcohol and Other Drugs DBA New Frontier Treatment Center | NV | 50,177
Douglas County | NV | 60,000
Rural Clinics Community Mental Health Centers | NV | 223,332
Churchill County Social Services | NV | 140,000
Catholic Charities of the Diocese of Rochester d/b/a Ctholic Family Center | NY | 246,941
Catholic Charities of the Diocese of Rochester d/b/a Ctholic Family Center | NY | 401,679
DePaul | NY | 156,924
Monroe County Department of Human Services | NY | 1,898,472
Rochester Housing Authority | NY | 738,828
Providence Housing Development Corporation | NY | 404,448
Young Women's Christian Association of Rochester and Monroe County | NY | 371,343
Legal Assistance of Western New York, Inc. (Monroe County Legal Assistance Center) | NY | 100,800
The Center for Youth Services, Inc | NY | 99,754
The Center for Youth Services, Inc | NY | 380,613
The Salvation Army | NY | 975,974
Rochester-Monroe County Youth Bureau | NY | 218,035
Sojourner Hall for Women, Inc | NY | 406,920
Spiritus Christi Prison Outreach, Inc | NY | 240,000
Sojourner Hall for Women, Inc | NY | 267,819
Veterans Outreach Center, Inc | NY | 228,383
Volunteers of America of Western New York, Inc | NY | 615,000
Catholic McAuley Housing, dba Mercy Residential Services | NY | 178,077
Steuben Churchpeople Against Poverty, Inc | NY | 194,688
Catholic Charties/Gateway S+C Program | NY | 205,680
Stueben Churchpeople Against Poverty, Inc | NY | 206,412
Option for Independence | NY | 76,967
Cayuga/Seneca Community Action Agency, Inc | NY | 59,870
Equinox, Inc | NY | 81,640
Albany Housing Coalition Inc | NY | 29,970
St. Peter's Addication Recovery Center (SPARC) | NY | 206,520
Equinox, Inc | NY | 63,123
Rehabilitation Support Services, Inc | NY | 60,119
Albany Housing Authority | NY | 41,820
Equinox, Inc | NY | 84,241
Albany Housing Coalition Inc | NY | 21,000
Equinox, Inc | NY | 98,210
Homeless and Travelers Aid Society of the Capital District, Inc | NY | 227,396
Support Ministries, Inc | NY | 111,321
Support Ministries, Inc | NY | 89,999
Homeless Action Committee, Inc | NY | 69,974
Albany Housing Coalition Inc | NY | 250,920
Homeless and Travelers Aid Society of the Capital District, Inc | NY | 134,207
The Addictions Care Center of Albany, Inc | NY | 131,250
Rehabilitation Support Services, Inc | NY | 103,167
Albany Housing Authority | NY | 222,372
Albany Housing Authority | NY | 105,912
Hope House, Inc | NY | 126,336
Corporation for AIDS Research, Education and Services, Inc | NY | 33,333
Legal Aid Society of Northeastern New York, Inc | NY | 33,184
Legal Aid Society of Northeastern New York, Inc | NY | 35,595
Homeless Action Committee, Inc | NY | 46,417
Homeless Action Committee, Inc | NY | 33,330
Cattaraugus County Council on Alcoholism and Substance Abuse, Inc | NY | 98,748
Housing Options Made Easy, Inc | NY | 105,475
Cattaraugus Community Action, Inc | NY | 94,315
Housing Options Made Easy, Inc | NY | 56,011
Southern Tier Environments for Living, Inc | NY | 55,392
Catholic Charities of the Roman Catholic Diocese of Syracuse | NY | 306,028
Syracuse Housing Authority | NY | 671,328
Central New York Services, Inc | NY | 87,500
Onondaga Case Management Services, Inc | NY | 234,486
Syracuse Housing Authority | NY | 1,630,644
Catholic Charities of the Roman Catholic Diocese of Syracuse | NY | 565,593
Syracuse Brick House, Inc | NY | 215,884
Syracuse Brick House, Inc | NY | 187,426
The Salvation Army of Syracuse | NY | 83,703
Chadwick Residence, Inc | NY | 31,957
Central New York Services, Inc | NY | 100,000
Chadwick Residence, Inc | NY | 185,473
Chadwick Residence, Inc | NY | 117,841
Syracuse Brick House, Inc | NY | 544,900
The Salvation Army of Syracuse | NY | 115,449
Catholic Charities of the Roman Catholic Diocese of Syracuse | NY | 431,441
The Salvation Army of Syracuse | NY | 99,999
Mohawk Opportunities, Inc | NY | 122,196
Corporation for AIDS Research, Education and Services, Inc. (CARES) | NY | 10,000
Corporation for AIDS Research, Education and Services, Inc. (CARES) | NY | 25,000
Legal Aid Society of Northeastern New York, Inc | NY | 30,120
Bethesda House of Schenectady, Inc | NY | 22,300
Mohawk Opportunities, Inc | NY | 112,715
Bethesda House of Schenectady, Inc | NY | 152,738
Mohawk Opportunities, Inc | NY | 145,223
Capital District YMCA | NY | 60,480
Capital District YMCA | NY | 120,960
New Choices Recovery Center/Shelter Plus Care (Formerly ASACSC) | NY | 301,044
New Choices Recovery Center/Shelter Plus Care (Formally ASACSC) | NY | 247,896
Bethesda House of Schenectady, Inc | NY | 63,564
Bethesda House of Schenectady, Inc | NY | 48,083
Schenectady Community Action Program, Inc | NY | 220,409
Schenectady Community Action Program, Inc | NY | 159,894
Living Opportunities of DePaul dba McKinley Square | NY | 162,251
Community Services for the Development Disabled | NY | 269,043
Housing Options Made Easy | NY | 157,392
YWCA of Western New York | NY | 141,088
Restoration Society, Inc | NY | 220,280
Hispanic Unidos de Buffalo, Inc | NY | 252,577
Filmore-Leroy Area Residents, Inc | NY | 67,417
Gerard Place Housing Development Fund Company, Inc | NY | 533,729
Housing Options Made Easy, Inc | NY | 683,319
Homeless Alliance of Western New York, Inc | NY | 540,225
Lake Shore Behavioral Health, Inc | NY | 2,302,266
Specturm Human Services | NY | 1,731,056
Living Opprtunities of DePaul, Inc. (LODP) | NY | 299,952
WNY Veteran's Housing Coalition | NY | 288,300
Living Opportunities of DePaul, Inc. (LODP) | NY | 659,496
Living Opportunities of DePaul, Inc | NY | 807,168
Cazenovia Recovery Systems, Inc | NY | 482,916
Tompkins Community Action | NY | 83,333
Tompkins Community Action | NY | 60,126
Community Housing of Ithaca, Inc | NY | 115,674
YWCA of Binghamton/Broome County | NY | 159,670
Opportunities for Broome, Inc | NY | 675,600
Fairview Recovery Services Inc | NY | 188,112
YWCA of Binghamton/Broome County | NY | 198,080
Fairview Recovery Services, Inc | NY | 246,000
Unity House of Troy, Inc | NY | 185,320
Unity House | NY | 74,472
Joseph's House & Shelter, Inc | NY | 61,493
Joseph's House | NY | 96,768
Joseph's House | NY | 134,700
Corporation for AIDS Research, Education and Services, Inc | NY | 16,667
Joseph's House & Shelter, Inc | NY | 70,000
Joseph's House & Shelter, Inc | NY | 55,491
Unity House of Troy, Inc | NY | 60,586
YWCA Troy—Cohoes | NY | 75,000
Unity House of Troy, Inc | NY | 56,194
Unity House of Troy, Inc | NY | 102,729
Unity House of Troy, Inc | NY | 453,404
Troy Housing Authority | NY | 250,044
Joseph's House | NY | 54,432
Troy Housing Authority | NY | 218,424
Unity House of Troy, Inc | NY | 181,431
Wayne County Action Program, Inc | NY | 22,256
Housing Options Made Easy, Inc | NY | 44,423
Chautauqua Opportunities, Inc | NY | 21,667
Housing Options Made Easy, Inc | NY | 61,121
Behavioral Health Services North (HHSN) | NY | 8,128
Behavioral Health Services North (HHSN) | NY | 8,296
Rural Opportunities, Inc | NY | 65,450
Rural Opportunities, Inc | NY | 16,687
Oneida County Department of Mental Health | NY | 37,483
Oneida County Workforce Development | NY | 39,900
New York State Office of Alcoholism & Substance Abuse Services (NYS OASAS) | NY | 207,876
New York State Office of Alcoholism & Substance Abuse Services (NYS OASAS) | NY | 450,480
New York State Office of Alcoholism & Substance Abuse Services (NYS OASAS) | NY | 205,932
Oneida County Department of Mental Health | NY | 14,927
Oneida County Department of Mental Health | NY | 185,034
New York State Office of Alcoholism & Substance Abuse Services (NYS OASAS) | NY | 191,448
Community Action of Greene County, Inc | NY | 29,859
The Mental Health Association of Columbia-Greene Counties, Inc | NY | 156,421
Columbia Opportunities, Inc | NY | 2,145
The Mental Health Association of Columbia-Greene Counties, Inc | NY | 40,966
ComLink CAA | NY | 51,269
Warren-Washington Association for Mental Health | NY | 366,240
City of Saratoga Springs | NY | 241,272
Coproration for AIDS Research, Education and Services, Inc | NY | 16,666
Coproration for AIDS Research, Education and Services, Inc | NY | 18,000
Transitional Services Association, Inc | NY | 34,721
Saratoga County Rural Preservation Company | NY | 43,997
Warren-Washington Association for Mental Health | NY | 74,040
Adirondack Vets House, Inc | NY | 75,417
New York State Office of Alcoholism & Substance Abuse Services (NYS OASAS) | NY | 89,736
Covenant House New York/Under 21, Inc | NY | 166,948
Postgraduate Center for Mental Health | NY | 472,677
The YMCA of Greater New York | NY | 570,505
Center for Urban Community Services, Inc | NY | 226,800
Urban Pathways | NY | 174,673
H.O.M.E.E. Clinic, Inc | NY | 334,968
Argus Community, Inc | NY | 370,278
University Consulation & Treatment Center for Mental Hygiene, Inc | NY | 525,600
Institute for Community Living, Inc | NY | 656,838
Faces NY, Inc. (Formerly Minority Task Force on AIDS, Inc.) | NY | 184,553
Covenant House New York/Under 21, Inc | NY | 504,647
Lutheran Social Services of Metropolitan New York | NY | 210,000
Common Ground Community IV HDFC | NY | 401,814
Goddard Riverside Community Center | NY | 153,696
Goddard Riverside Community Center | NY | 279,336
The Doe Fund, Inc | NY | 348,447
Palladia, Inc | NY | 823,775
Lower Eastside Service Center, Inc | NY | 492,100
Bowery Resident's Committee, Inc | NY | 319,691
Daytop Village, Inc | NY | 203,304
Palladia, Inc | NY | 227,520
Pathways to Housing, Inc | NY | 555,840
Pathways to Housing, Inc | NY | 168,480
Palladia, Inc | NY | 425,016
Odyssey House, Inc | NY | 192,276
Odyssey House, Inc | NY | 220,596
United Bronx Parents, Inc | NY | 135,960
Institute for Community Living, Inc | NY | 318,456
Institute for Community Living, Inc | NY | 420,648
United Bronx Parents, Inc | NY | 178,380
Project Renewal, Inc | NY | 142,200
The Fortune Society, Inc | NY | 718,416
Bowery Resident's Committee, Inc | NY | 368,496
The Fortune Society, Inc | NY | 448,157
The Bridge, Inc | NY | 358,861
Palladia, Inc | NY | 760,944
Institute for Community Living, Inc | NY | 377,444
Federation Employment and Guidance Service, Inc | NY | 676,767
Heritage Health and Housing, Inc | NY | 108,332
Palladia, Inc | NY | 423,636
Covenant House New York/Under 21, Inc | NY | 419,148
The Lantern Group | NY | 946,080
Federation Employment and Guidance Service, Inc | NY | 558,906
Palladia, Inc | NY | 282,790
Community Lantern Corporation | NY | 630,000
Good Shepherd Services | NY | 414,000
Praxis Housing Initiatives, Inc | NY | 795,229
Federation Employment and Guidance Service, Inc | NY | 595,000
Urban Justice Center | NY | 109,686
Services for the UnderServed Mental Health Services, Inc | NY | 74,812
Community, Counseling & Mediation Services | NY | 238,951
Common Ground Community IV HDFC | NY | 141,382
B.A.S.I.C.S., Inc | NY | 353,208
Veritas Therapeutic Community, Inc | NY | 98,910
Friends Home group | NY | 657,000
Goddard Riverside Community Center | NY | 94,233
Institute for Community Living, Inc | NY | 26,496
Addicts Rehabilitation Center Foundation, Inc | NY | 302,220
Anchor House, Inc | NY | 240,648
The Educational Alliance, Inc | NY | 240,318
The Doe Fund | NY | 446,760
Citizens Advice Bureau | NY | 1,200,000
CREATE, Inc | NY | 121,740
Phase Piggy Back, Inc | NY | 305,947
Queens Village Committee for Mental Health/J-CAP Inc | NY | 188,052
Pibly Residential Programs, Inc | NY | 463,234
Pibly Residential Programs, Inc | NY | 283,320
El Regreso Foundation | NY | 253,855
Services for the UnderServed Mental Health Services, Inc | NY | 404,203
Fountain House, Inc | NY | 144,712
Project Renewal, Inc | NY | 312,840
Services for the UnderServed Mental Health Services, Inc | NY | 344,820
Mental Health Association of New York City, Inc | NY | 581,091
Housing Works, Inc | NY | 285,959
Institute for Community Living, Inc | NY | 109,319
Citizens Advice Bureau | NY | 105,000
Phase Piggy Back | NY | 78,840
Phase Piggy Back, Inc | NY | 137,118
East New York Urban Youth Core | NY | 446,760
Covenant House New York/Under 21, Inc | NY | 594,542
Services for the UnderServed Mental Health Services, Inc | NY | 578,160
Phase Piggy Back | NY | 78,840
Covenant House New York/Under 21, Inc | NY | 376,444
Urban Pathways | NY | 357,451
Community Action for Human Services | NY | 420,480
Project Renewal | NY | 1,241,352
Heritage Health and Housing, Inc | NY | 249,494
Fifth Avenue Committee, c/o Community Access | NY | 446,760
Women In Need, Inc | NY | 114,348
Bowery Resident's Committee, Inc | NY | 497,954
HELP Social Service Corporation | NY | 690,314
Bowery Resident's Committee, Inc | NY | 511,358
Brooklyn Bureau of Community Service | NY | 249,674
Institute for Community Living, Inc | NY | 141,627
Community Access, Inc | NY | 404,974
Covenant House New York/Under 21, Inc | NY | 129,654
Jewish Board of Family and Children's Services, Inc | NY | 415,395
Bowery Resident's Committee, Inc | NY | 360,106
Women In Need, Inc | NY | 353,881
CAMBA, Inc | NY | 166,666
Project Renewal, Inc | NY | 670,770
Heritage Health and Housing, Inc | NY | 159,339
Goddard Riverside Community Center | NY | 169,644
The Bridge, Inc | NY | 297,162
Odyssey HDFC | NY | 844,020
Community Action For Human Services, Inc | NY | 436,241
Institute for Community Living, Inc | NY | 240,060
Services for the UnderServed Mental Health Services, Inc | NY | 141,516
Services for the UnderServed Mental Health Services, Inc | NY | 345,362
Federation Employment and Guidance Service, Inc | NY | 238,319
Helping Hands Unlimited, Inc | NY | 160,454
VIP Community Services, Inc | NY | 278,854
Services for the UnderServed Mental Health Serivices, Inc | NY | 210,728
Project Renewal, Inc | NY | 515,699
Brooklyn Bureau of Community Service | NY | 474,924
Fifth Avenue Committee | NY | 394,200
Palladia, Inc | NY | 458,242
Women In Need, Inc | NY | 318,286
Community, Counseling & Mediation Services | NY | 232,181
Women In Need, Inc | NY | 318,070
West Side Federation for Senior and Supportive Housing, Inc | NY | 110,205
Community Action For Human Services, Inc | NY | 129,207
Center for Urban Community Services, Inc | NY | 238,140
Violence Intervention Program, Inc | NY | 324,920
Federation Employment and Guidance Service, Inc | NY | 582,961
The Bridge Inc | NY | 115,431
Project Renewal, Inc | NY | 421,655
Center for Urban Community Services, Inc | NY | 103,950
Lutheran Social Services of Metropolitan New York | NY | 397,950
Housing Works, Inc | NY | 469,535
VIP Community Services, Inc | NY | 420,480
Argus Community, Inc | NY | 430,101
Bowery Resident's Committee, Inc | NY | 354,176
163rd Street Improvement Council, Inc | NY | 297,675
Daytop Village, Inc | NY | 344,796
Palladia, Inc | NY | 713,412
Institute for Community Living, Inc | NY | 179,281
Pathways to Housing, Inc | NY | 149,499
Heritage Health and Housing, Inc | NY | 328,214
Palladia, Inc | NY | 556,583
United Bronx Parents, Inc | NY | 367,500
United Bronx Parents, Inc | NY | 124,488
Project Hospitality, Inc | NY | 126,528
Veritas Therapeutic Community, Inc | NY | 273,347
John Heuss Corporation | NY | 77,030
Center for Urban Community Services, Inc | NY | 298,736
Columba Kavanagh House, Inc | NY | 388,163
Fountain House, Inc | NY | 639,296
The Educational Alliance, Inc | NY | 224,210
Safe Space a.k.a Center for Children and Families | NY | 225,610
The Bridge, Inc | NY | 101,909
The Doe Fund, Inc | NY | 1,062,269
Weston United Community Renewal, Inc | NY | 224,900
Institute for Community Living, Inc | NY | 126,394
The Bridge, Inc | NY | 218,478
Comunilife, Inc | NY | 635,623
Services for the UnderServed Mental Health Services, Inc | NY | 527,259
Institute for Community Living, Inc | NY | 126,395
Project Hospitality | NY | 370,556
Palladia, Inc | NY | 265,060
Faces NY, Inc. (Formerly Minority Task Force on AIDS, Inc.) | NY | 133,913
Common Ground Management | NY | 4,007,700
University Consultation and Treatment Center for Mental Hygiene, Inc | NY | 244,998
Bailey House, Inc | NY | 629,300
Pathways to Housing, Inc | NY | 269,421
United Bronx Parents | NY | 419,528
Urban Justice Center | NY | 34,245
Pathways to Housing, Inc | NY | 418,643
The Doe Fund, Inc | NY | 1,951,512
East New York Urban Youth Corps | NY | 96,756
VIP Community Services, Inc | NY | 90,017
Veritas Therapeutic Community, Inc | NY | 164,424
Metropolitan Council on Jewish Poverty | NY | 262,800
El Regreso | NY | 144,312
Veritas Therapeutic Community, Inc | NY | 140,352
The Bridge, Inc | NY | 118,260
Project Hospitality, Inc | NY | 210,480
El Regreso Residential Treatment | NY | 231,228
West Side Federation for Senior and Supportive Housing, Inc | NY | 155,715
Palladia Inc | NY | 223,320
Services for the UnderServed Mental Health Services, Inc | NY | 588,490
Palladia, Inc | NY | 265,599
Mental Health Association of New York City, Inc | NY | 288,063
Samaritan Village, Inc | NY | 183,750
Bowery Resident's Committee, Inc | NY | 364,883
Institute for Community Living, Inc | NY | 230,945
HELP Social Service Corporation | NY | 791,172
Women In Need, Inc | NY | 436,376
Project Renewal, Inc | NY | 316,708
Comunilife, Inc | NY | 663,215
The Jericho Project | NY | 49,671
HELP Social Service Corporation | NY | 1,008,349
VIP Community Services, Inc | NY | 227,666
Palladia, Inc | NY | 492,830
Housing Works, Inc | NY | 333,635
Kenmore Housing Development Funding Corp | NY | 390,577
Faces NY, Inc. (Formerly Minority Task Force on AIDS, Inc.) | NY | 148,971
Palladia, Inc | NY | 158,957
Samaritan Village, Inc | NY | 342,709
Metropolitan Council on Jewish Poverty | NY | 99,942
West Side Federation for Senior and Supportive Housing, Inc | NY | 362,197
Coalition for the Homeless/Rental Assistance Program | NY | 367,553
Damon House New York Inc | NY | 262,479
Neighborhood Coalition for Shelter, Inc | NY | 240,287
Project Renewal, Inc | NY | 407,838
Housing + Solutions, Inc | NY | 153,229
Ali Forney Center | NY | 525,832
Center for Urban Community Services, Inc | NY | 199,999
Center for Urban Community Services, Inc | NY | 1,302,539
Women In Need, Inc | NY | 318,070
Urban Resource Institute | NY | 250,294
Argus Community, Inc | NY | 371,322
Association to Benefit Children | NY | 115,706
Pathways to Housing, Inc | NY | 527,647
Pathways to Housing, Inc | NY | 573,041
Covenant House New York/Under 21, Inc | NY | 177,978
Women In Need, Inc | NY | 396,422
Institute for Community Living, Inc | NY | 315,787
Lenox Hill Neighborhood House, Inc | NY | 283,845
Urban Pathways | NY | 148,108
The Bridge, Inc | NY | 112,163
Palladia, Inc | NY | 704,884
H.O.M.E.E. Clinic, Inc | NY | 131,936
Banana Kelly Community Improvement Association, Inc | NY | 376,756
Harlem United Community AIDS Center | NY | 354,616
Urban Justice Center | NY | 108,466
The Lantern Group | NY | 473,040
Mental Health Association in Dutchess County | NY | 54,250
Hudson River Housing | NY | 123,228
Gateway Community Industries, Inc | NY | 45,210
Grace Smith House, Inc | NY | 11,208
Gateway Community Industries, Inc | NY | 39,997
Hudson River Housing, Inc | NY | 138,842
Rehabilitation Support Services, Inc | NY | 162,180
Newburgh Interfaith Emergency Housing, Inc | NY | 102,234
Regional Economic Community Action Program, I | NY | 65,809
Independent Living, Inc | NY | 127,401
Safe Harbors of the Hudson, Inc | NY | 157,500
Newburgh Community Improvement Corporation | NY | 75,066
Crystal Run Village | NY | 133,350
Rehabilitation Support Services, Inc | NY | 68,116
Mental Health Association in Orange County, Inc | NY | 244,250
Regional Economic Community Action Program, Inc | NY | 485,784
Crystal Run Village, Inc | NY | 64,872
Emergency Housing Group, Inc | NY | 186,615
Mental Health Association in Orange County, Inc | NY | 94,356
Ecclesia Ministries of Newburgh, Inc | NY | 62,952
Nassau/Suffolk Law Services Committee, Inc | NY | 54,090
Mercy Haven Inc | NY | 30,583
Catholic Charities Diocese of Rockville Centre | NY | 667,754
Transitional Services of New York for Long Island, Inc | NY | 172,368
Society of St. Vincent de Paul, Diocesan Council of Rockville Centre | NY | 310,714
Nassau-Suffolk Coalition for the Homeless | NY | 336,157
Hands Across Long Island, Inc | NY | 36,696
Concern for Independent Living, Inc | NY | 313,896
Community Housing Innovations, Inc | NY | 126,247
Community Housing Innovations, Inc | NY | 144,279
Phoenix Houses of Long Island | NY | 211,500
Phoenix House of Long Island | NY | 182,940
Concern for Independent Living, Inc | NY | 149,976
Nassau-Suffolk Coalition for the Homeless | NY | 63,000
HELP Suffolk, Inc | NY | 127,897
Options for Community Living, Inc | NY | 149,415
Suffolk County United Veterans | NY | 209,727
Mercy Haven, Inc | NY | 233,100
Family Services League of Suffolk County, Inc | NY | 92,344
CDCLI Housing Development Fund Corporation | NY | 85,510
Federation of Organizations for the New York State Mentally Disabled, Inc | NY | 163,824
Julia Dyckman Andrus Memorial, Inc | NY | 44,999
Lexington Center for Recovery | NY | 938,952
The Sharing Community, Inc | NY | 438,720
Mount Vernon Neighborhood Health Center | NY | 73,049
My Sisters' Place | NY | 15,365
City of Mount Vernon (NY) | NY | 49,749
The Renaissance Project, Inc | NY | 43,260
Westhab, Inc | NY | 33,273
City of Mount Vernon (NY) | NY | 171,675
The Sharing Community, Inc | NY | 236,659
Tarrytown YMCA | NY | 30,000
Human Development Services of Westchester | NY | 121,776
Westchester County | NY | 571,440
Family Service Society of Yonkers | NY | 177,497
Westhab, Inc | NY | 420,000
Westhab, Inc | NY | 420,000
St. John's Riverside Hospital | NY | 98,520
Westhab, Inc | NY | 205,485
Westchester County Department of Social Services | NY | 345,652
Westchester County Department of Social Services | NY | 1,050,370
City of Mount Vernon (NY) | NY | 142,369
YMCA of Yonkers, Inc | NY | 246,300
City of Mount Vernon (NY) | NY | 235,080
Legal Services of the Hudson Valley | NY | 52,753
Greyston Health Services, Inc | NY | 251,111
The Julia Dyckman Andrus Memorial, Inc., Mental Health Division (formerly known as The Center for P | NY | 26,978
Lexington Center for Recovery | NY | 1,126,152
Greyston Family Inn of Yonkers, Inc | NY | 66,474
YWCA of Yonkers | NY | 46,034
Lexington Center for Recovery | NY | 644,796
Westhab, Inc | NY | 46,941
Westhab, Inc | NY | 32,333
Westhab, Inc | NY | 102,274
Human Development Services of Westchester | NY | 227,292
Helping Out People Everywhere (H.O.P.E) | NY | 442,128
Grace Church Commmunity Center | NY | 1,199,184
Lexington Center for Recovery | NY | 974,784
MTV United Tenants | NY | 30,450
MTI Residential Services, Inc. (Formerly known as Multi-Talent Inc.) | NY | 172,879
Society of St. Vincent de Paul, Diocesan Council of Rockville Centre | NY | 505,119
Nassau County Coalition Against Domestic Violence | NY | 119,016
HELP—Equity Homes, Inc | NY | 132,720
South Shore Association for Independent Living, Inc | NY | 92,922
Nassau/Suffolk Law Services Committee, Inc | NY | 69,616
Family and Children's Association | NY | 347,609
Central Nassau Guidance and Counseling Services | NY | 103,740
Nassau-Suffolk Coalition for the Homeless | NY | 808,500
Federation Employment and Guidance Services, Inc | NY | 107,407
MTI Residential Services, Inc. (Formerly known as Multi-Talent Inc.) | NY | 154,158
Community Housing Innovations, Inc | NY | 253,206
Nassau County Coalition Against Domestic Violence | NY | 210,405
Mental Health Association of Nassau County | NY | 616,439
South Shore Association for Independent Living, Inc | NY | 186,480
Angelo J. Melillo Center for Mental Health | NY | 310,800
Nassau-Suffolk Coalition for the Homeless | NY | 70,000
Nassau County Coalition Against Domestic Violence | NY | 133,031
Community Housing Innvations, Inc | NY | 137,665
Central Nassau Guidance and Couseling Services | NY | 168,638
Education and Assistance Corporation, Inc | NY | 70,316
Society of St. Vincent de Paul, Diocesan Council of Rockville Centre | NY | 771,903
Education and Assistance Corporation, Inc | NY | 178,627
HELP Suffolk, Nassau County Coalition Against Domestic Violence | NY | 166,684
Options For Community Living, Inc | NY | 171,740
Nassau County Coalition Against Domestic Violence | NY | 512,874
Council on Alcoholism & Drug Abuse of Sullivan County, Inc./Recovery Center | NY | 100,716
Council on Alcholoism & Drug Abuse of Sullivan County, Inc./Recovery Center | NY | 137,304
Council on Alcoholism and Drug Abuse Services of Sullivan County, Inc | NY | 13,079
Council on Alcoholism and Drug Abuse Services of Sullivan County, Inc | NY | 144,154
Council on Alcoholism and Drug Abuse Services of Sullivan County, Inc | NY | 39,897
Mental Health Association in Ulster County, Inc | NY | 57,944
Family of Woodstock, Inc | NY | 7,333
Gateway Community Industries, Inc | NY | 91,069
Family of Woodstock, Inc | NY | 91,667
Gateway Community Industries, Inc | NY | 40,198
Multi-County Community Development Corporation | NY | 164,976
Gateway Community Industries, Inc | NY | 39,270
YWCA of Greater Cincinnati, Inc | OH | 438,203
N/A TRA per HUD HQ | OH | 914,700
N/A TRA per HUD HQ | OH | 3,603,936
Interfaith Hospitality Network of Greater Cincinnati, Inc | OH | 160,858
N/A TRA per HUD HQ | OH | 246,120
Lighthouse Youth Services | OH | 63,616
Tom Geiger Guest House, Inc | OH | 157,500
Center for Independent Living Options | OH | 294,307
Ohio Valley Goodwill Industries | OH | 189,324
Tom Geiger Guest House, Inc | OH | 151,760
Freestore Foodbank, Inc | OH | 340,898
Hamilton County Mental Health & Recovery Services Board | OH | 793,334
The Salvation Army | OH | 59,288
Freestore Foodbank, Inc | OH | 180,878
Hamilton County Government | OH | 330,000
Over-the-Rhine Community Housing | OH | 168,111
Joseph House, Inc | OH | 231,147
Shelterhouse Volunteer Group, Inc | OH | 279,000
Tender Mercies, Inc | OH | 898,473
Joseph House, Inc | OH | 322,980
Shelterhouse Volunteer Group, Inc | OH | 88,750
Lighthouse Youth Services | OH | 202,380
Ohio Valley Goodwill Industries | OH | 276,262
Mental Health and Recovery Services Board of Lucus County | OH | 95,400
Harbor House/300 Beds Inc | OH | 117,551
Neighborhood Properties, Inc | OH | 241,752
Aurora Project, Inc | OH | 103,773
Family Outreach Community United Services | OH | 116,756
Neighborhood Properties, Incorporated | OH | 77,676
Catholic Charities Diocese of Toledo | OH | 128,108
Neighborhood Properties, Incorporated | OH | 229,250
Neighborhood Properties, Incorporated | OH | 108,889
St. Paul's Community Center | OH | 183,816
Emerald Development & Economic Network (EDEN), Inc | OH | 374,340
Mental Health Services for Homeless Persons, Inc. (MHS) | OH | 446,546
Cuyahoga County | OH | 270,705
Mental Health Services for Homeless Persons, Inc. (MHS) | OH | 467,714
Continue Life Inc | OH | 212,973
Emerald Development & Economic Network (EDEN), Inc | OH | 694,904
Family Transitional Housing, Inc | OH | 126,149
Family Transitional Housing, Inc | OH | 97,182
Family Transitional Housing, Inc | OH | 120,901
Cuyahoga Metropolitan Housing Authority | OH | 386,373
YMCA of Greater Cleveland | OH | 342,158
Joseph's Home, Inc | OH | 546,113
The Salvation Army | OH | 537,741
Emerald Development & Economic Network (EDEN), Inc | OH | 555,843
Domestic Violence Center | OH | 154,335
YWCA of Greater Cleveland | OH | 187,351
YWCA of Greater Cleveland | OH | 563,045
Mental Health Services for Homeless Persons, Inc. (MHS) | OH | 229,897
Hitchcock Center for Women Inc | OH | 275,403
Cogswell Hall, Inc | OH | 195,470
Hitchcock Center for Women Inc | OH | 236,841
New Life Community | OH | 111,287
Mental Health Services for Homeless Persons, Inc. (MHS) | OH | 1,019,292
Mental Health Services for Homeless Persons, Inc. (MHS) | OH | 262,851
The Salvation Army | OH | 174,731
Emerald Development & Economic Network (EDEN), Inc | OH | 367,500
Mental Health Services for Homeless Persons, Inc. (MHS) | OH | 453,778
Emerald Development & Economic Network (EDEN) | OH | 158,928
Emerald Development & Economic Network Inc | OH | 1,678,320
Mental Health Services for Homeless Persons, Inc. (MHS) | OH | 78,065
Volunteers of America of Greater Ohio, Inc | OH | 246,967
Lakewood Christian Services Center | OH | 82,796
Emerald Development & Economic Network (EDEN), Inc | OH | 453,745
Emerald Development & Economic Network (EDEN), Inc | OH | 546,445
Mental Health Services for Homeless Persons, Inc. (MHS) | OH | 276,577
Cleveland Housing Network, Inc | OH | 58,019
Emerald Development & Economic Network (EDEN), Inc | OH | 9,126,144
Community Housing Network, Inc | OH | 35,233
Community Shelter Board | OH | 166,413
Young Women's Christian Association of Columbus | OH | 162,559
Volunteers of America of Greater Ohio | OH | 353,432
Southeast, Inc | OH | 260,680
Community Housing Network, Inc | OH | 87,316
Community Housing Network, Inc | OH | 260,672
Community Housing Network, Inc | OH | 184,834
Community Housing Network, Inc | OH | 83,283
Community Housing Network, Inc | OH | 236,416
Community Housing Network | OH | 1,119,564
Columbus AIDS Task Force | OH | 519,624
Amethyst, Inc | OH | 86,160
Young Women's Christian Association of Columbus | OH | 99,015
National Church Residences | OH | 250,092
Huckleberry House, Inc | OH | 229,539
Community Housing Network, Inc | OH | 97,293
Community Housing Network, Inc | OH | 59,060
Community Housing Network, Inc | OH | 637,479
Community Housing Network, Inc | OH | 226,315
Amethyst Incorporated | OH | 161,171
National Church Residences | OH | 422,927
Faith Mission/Faith Housing | OH | 228,960
Columbus AIDS Task Force | OH | 114,360
Amethyst, Inc | OH | 678,012
Community Housing Network | OH | 981,456
Turning Point Counseling Services | OH | 45,470
Beatitude House | OH | 132,921
Meridian Services, Inc | OH | 136,786
Beatitude House | OH | 71,251
Youngstown State University | OH | 50,308
Meridian Services, Inc | OH | 113,300
Meridian Services, Inc | OH | 221,760
Youngstown City Health District | OH | 52,083
Community Legal Aid Services, Inc | OH | 52,792
Youngstown Area Goodwill Industries, Inc | OH | 72,063
Potential Development Program, Inc | OH | 22,138
Young Women's Christian Association of Youngstown, Ohio | OH | 134,368
Meridian Services, Inc | OH | 124,640
Meridian Services, Inc | OH | 35,945
Catholic Charities Regional Agency | OH | 51,888
Young Women's Christian Association of Youngstown, Ohio | OH | 89,353
St. Vincent Hotel | OH | 180,000
Miami Valley Housing Opportunities, Inc | OH | 50,364
Places, Inc | OH | 429,563
Montgomery County Board of County Commissioners | OH | 137,898
Miami Valley Housing Opportunities, Inc | OH | 174,394
YWCA of Dayton | OH | 405,799
YWCA of Dayton | OH | 859,750
Daybreak | OH | 188,683
Places, Inc | OH | 199,998
Places, Inc | OH | 71,081
Miami Valley Housing Opportunities, Inc | OH | 127,106
Mercy Manor, Inc | OH | 101,718
Miami Valley Housing Opportunities | OH | 421,620
Miami Valley Housing Opportunities, Inc | OH | 1,394,256
Places, Inc | OH | 735,220
Ohio Multi-County Development Corporation | OH | 378,658
Community Health Center | OH | 219,496
Community Support Services | OH | 273,480
Community AIDS Network | OH | 73,512
Oriana House, Inc | OH | 238,276
Community Health Center | OH | 349,426
Battered Women's Shelter | OH | 140,711
H.M. Life Opportunity Services | OH | 538,755
Legacy III, Inc | OH | 227,849
Summit County Children Services | OH | 346,932
Community Support Services Inc | OH | 487,155
State of Ohio Department of Development | OH | 735,000
Wayne Metropolitan Housing Authority | OH | 283,800
Volunteers of America NW Ohio | OH | 289,999
YWCA of Hamilton Ohio Inc | OH | 119,320
Family Recovery Center | OH | 156,780
Clermont Metropolitan Housing Authority | OH | 168,000
Community Action Commission of Fayette County | OH | 63,978
Pickaway Metro Housing Authority | OH | 319,800
Jefferson County Community Action Council, Inc | OH | 540,000
Butler County, OH | OH | 672,000
Springfield District Council of the St. Vincent de Paul Society | OH | 25,200
New Sunrise Properties, Inc | OH | 506,136
Volunteers of America NW Ohio | OH | 286,661
Wooster Interfaith Housing Corporation | OH | 262,999
Mental Health & Recovery Board of Union County | OH | 60,580
Pickaway County Community Action Organization, Inc | OH | 123,145
Family Violence Prevention Center of Greene County, Inc | OH | 66,761
Community Action Agency of Columbiana County, Inc | OH | 94,846
Project Woman | OH | 210,935
Zanesville Metroplitan Housing Authority | OH | 44,256
Ironton-Lawrence County Area CAO, Inc | OH | 101,333
Coleman Professional Services | OH | 89,462
Greene Metropolitan Housing Authority | OH | 140,376
Moundbuilders Guidance Center | OH | 186,636
New Sunrise Properties, Inc | OH | 44,316
Jefferson County Community Action Commission | OH | 218,304
Geauga Community Board of Mental Health, Drug & Alcohol Services | OH | 89,640
Warren Metropolitan Housing Authority | OH | 179,775
Springfield Metropolitan Housing Authority | OH | 102,276
Butler County, OH | OH | 553,800
Family & Community Services, Inc | OH | 115,391
Catholic Charities Diocese of Toledo, Inc | OH | 86,552
Family & Community Services, Inc | OH | 45,933
Volunteers of America of Greater Ohio, Inc | OH | 262,500
Family Abuse Shelter of Miami County, Inc | OH | 16,800
Columbiana County Mental Health Clinic dba The Counseling Center | OH | 36,667
Project Woman | OH | 35,679
Family Recovery Center | OH | 70,608
Jefferson County Community Action Council, Inc | OH | 138,432
Licking County Coalition for Housing | OH | 582,448
WSOS Community Action Commission | OH | 290,579
MRMTOAP, Inc | OH | 32,555
WSOS Community Action Commission | OH | 53,774
Coleman Professional Services | OH | 70,000
State of Ohio Department of Development | OH | 380,023
Family & Community Services, Inc | OH | 184,701
St. Vincent DePaul Society | OH | 30,144
Transitional Living, Inc | OH | 33,239
The Center for Individiual and Family Services | OH | 55,456
Coleman Professional Services | OH | 70,927
Project Woman | OH | 40,615
YWCA of Elyria | OH | 116,706
Residential Administrators, Inc | OH | 295,920
Family Violence Prevention Center of Greene County, Inc | OH | 56,293
Community Action Partnership of the Greater Dayton Area | OH | 55,566
Ironton-Lawrence County Area CAO, Inc | OH | 277,560
Beatitude House | OH | 141,334
Family Abuse Shelter of Miami County, Inc | OH | 44,100
YWCA of Elyria | OH | 120,932
Residential Administrators, Inc | OH | 40,348
Crisis Intervention and Recovery Center, Inc | OH | 62,132
Community Services of Stark County, Inc | OH | 133,333
Western Stark Medical Clinic, Inc | OH | 124,951
Young Women's Christian Association, Inc | OH | 47,957
United Way of Greater Stark County | OH | 105,437
Community Services of Stark County, Inc | OH | 127,959
Integrated Consumer Assistance Network (ICAN) | OH | 169,440
Stark Metropolitan Housing Authority | OH | 204,048
Multi-Development Services of Stark County | OH | 48,330
Young Women's Christian Association, Inc | OH | 47,951
Central Oklahoma Community Action Agency | OK | 203,648
The Salvation Army, A Georgia Corporation for The Salvation Army of Panca City, OK | OK | 71,295
United Way of Ponca City, Inc | OK | 85,530
Domestic Violence Intervention Services, Inc | OK | 149,370
Mental Health Association in Tulsa, Inc | OK | 87,500
Mental Health Association in Tulsa, Inc | OK | 88,456
Mental Health Association in Tulsa, Inc | OK | 252,008
Community Service Council of Greater Tulsa | OK | 129,113
Volunteers of America of Oklahoma, Inc | OK | 122,457
Mental Health Association in Tulsa, Inc | OK | 119,073
Volunteers of America of Oklahoma, Inc | OK | 77,914
Mental Health Association in Tulsa, Inc | OK | 116,663
Volunteers of America of Oklahoma, Inc | OK | 207,326
The Salvation Army, A Georgia Corporation | OK | 336,679
The Salvation Army, A Georgia Corporation | OK | 110,431
Legal Aid Services of Oklahoma, Inc | OK | 111,919
Mental Health Association in Tulsa, Inc | OK | 222,768
Volunteers of America of Oklahoma, Inc | OK | 207,664
Community Enhancement Corporation | OK | 752,803
HOPE Community Services, Inc | OK | 15,384
HOPE Community Services, Inc | OK | 63,360
Latino Community Development Agency | OK | 79,999
Red Rock Behavioral Health Services | OK | 474,944
HOPE Community Services, Inc | OK | 158,400
Red Rock Behavioral Health Services | OK | 132,847
Community Health Centers, Inc | OK | 73,001
Red Rock Behavioral Health Services | OK | 249,998
City Care Inc | OK | 299,999
Oklahoma Mental Health Council | OK | 162,175
HOPE Community Services, Inc | OK | 164,640
Waynoka Mental Health Authority | OK | 224,440
East Main Place, Inc | OK | 45,000
Food and Shelter for Friends | OK | 52,850
HOPE Community Services | OK | 74,160
Freedom From Addiction Through Christ | OK | 43,632
Housing Authority of the City of Lawton, Oklahoma | OK | 62,015
State of Oklahoma | OK | 44,352
KI BOIS Community Action Foundation, Inc | OK | 119,402
Housing and Community Services Agency of Lane County | OR | 144,000
Housing and Community Services Agency of Lane County | OR | 201,600
St. Vincent de Paul Society of Lane County, Inc | OR | 88,470
Lane County | OR | 24,622
St. Vincent de Paul Society of Lane County, Inc | OR | 249,736
Lane County | OR | 82,208
Lane County | OR | 58,566
Lane County | OR | 143,307
St. Vincent de Paul Society of Lane County, Inc | OR | 222,219
Lane County | OR | 33,333
Lane County | OR | 94,458
Lane County | OR | 134,737
Lane County | OR | 378,850
Lane County | OR | 191,815
Lane County | OR | 108,973
Housing Authority of Portland | OR | 202,380
Multnomah County, Oregon | OR | 452,742
Cascadia Behavioral Healthcare | OR | 543,745
Multnomah County, Oregon | OR | 139,485
Transition Projects, Inc | OR | 112,033
Multnomah County, Oregon | OR | 12,171
Human Solutions, Inc | OR | 50,000
Neighborhood House | OR | 276,770
Housing Authority of Portland | OR | 428,604
Central City Concern | OR | 104,772
Multnomah County, Oregon | OR | 272,553
Cascadia Behavioral Healthcare & Transition Projects, Inc | OR | 263,940
Cascadia Behavioral Healthcare | OR | 698,336
Cascadia Behavioral Healthcare | OR | 14,817
Multnomah County, Oregon | OR | 790,314
Cascadia Behavioral Healthcare | OR | 125,582
Central City Concern | OR | 223,014
City of Portland | OR | 241,074
Northwest Pilot Project, Inc | OR | 118,370
Bradley-Angle House | OR | 71,272
Portland Impact, Inc | OR | 115,737
Central City Concern | OR | 160,602
Multnomah County, Oregon | OR | 338,745
The Salvation Army | OR | 125,769
Transition Projects, Inc | OR | 243,041
Multnomah County, Oregon | OR | 45,801
The Salvation Army, A Calfornia Corp | OR | 50,000
Rogue Valley Council of Governments | OR | 133,665
Community Works | OR | 119,700
ACCESS, Inc | OR | 10,901
NeighborImpact | OR | 296,759
Mid-Willamette Valley Community Action Agency | OR | 300,812
Shangri-La Corporation | OR | 37,800
Northwest Human Services, Inc | OR | 235,025
The Salvation Army | OR | 39,375
Mid-Willamette Valley Community Action Agency | OR | 30,394
YWCA Salem | OR | 83,572
Women's Safety and Resource Center | OR | 2,694
Oregon Housing and Community Services | OR | 35,128
Umpqua Community Action Network | OR | 27,031
Community Connection of Northeast Oregon, Inc | OR | 54,954
Klamath Lake Community Action Services (KLCAS) | OR | 52,961
Mid Columbia Community Action Council (MCCAC) | OR | 33,533
Community Action Program of East Central Oregon | OR | 4,971
Community Action Program of East Central Oregon | OR | 33,044
Community Service Consortium | OR | 27,500
HMCAA | OR | 11,335
CSC/LCCOADA—Trueman Recovery Center | OR | 43,311
HMCAA | OR | 40,940
Women's Safety and Resource Center | OR | 11,620
Oregon Coast Community Action | OR | 14,910
Oregon Coast Community Action | OR | 25,523
Umpqua Community Action Network | OR | 46,870
Umpqua Community Action Network | OR | 42,525
Community Action Team (CAT) | OR | 26,250
Community Action Team (CAT) | OR | 17,500
Washington County Department of Housing Services | OR | 247,800
Washington County Department of Housing Services | OR | 150,048
Washington County Department of Housing Services | OR | 353,700
Lutheran Community Service Northwest | OR | 133,634
Washington County Department of Housing Services | OR | 603,432
Boys and Girls Aid Society | OR | 247,178
Housing Authority of Clackamas County | OR | 278,256
Central City Concern | OR | 236,968
Clackamas County Community Development Division | OR | 29,977
Clackamas Women's Services | OR | 79,370
Clackamas County Department of Human Services Social Services Division | OR | 179,909
The Inn—Home for Boys | OR | 170,384
The Inn—Home for Boys | OR | 70,910
Clackamas County Department of Human Services Social Services Division | OR | 63,454
Housing Authority of Clackamas County | OR | 71,886
Project H.O.M.E | PA | 2,701,680
Resources For Human Development, Inc | PA | 221,211
Travelers Aid Society of Philadelphia The Kirkbride Center | PA | 131,429
Associacion De. Puertorriqueno En Marcha, Inc. (APM) | PA | 254,568
Project H.O.M.E | PA | 221,184
Bethesda Project | PA | 223,761
1260 Housing Development Corporation | PA | 260,604
People's Emergency Center | PA | 53,384
Bethesda Project | PA | 30,720
Project Home | PA | 329,520
Pennsylvania Community Real Estate Corporation | PA | 702,360
Associaion Puertorriquenos en Marcha, Inc. (APM) | PA | 129,778
Project H.O,M.E | PA | 420,000
People's Emergency Center | PA | 78,997
City of Philadelphia Office of Supportive Housing | PA | 280,161
Committee for Dignity and Fairness for the Homeless Housing Development, Inc | PA | 22,924
Carson Valley School | PA | 347,982
COMHAR, Inc | PA | 285,805
Horizon House, Inc | PA | 620,928
Calcutta House, Inc | PA | 115,943
Committee for Dignity and Fairness for the Homeless Housing Development, Inc | PA | 189,382
Methodist Family Services of Philadelphia | PA | 250,354
Horizon House, Inc | PA | 347,215
Actions AIDS, Inc | PA | 249,416
The Philadelphia Veterans Multi-Service & Education Center | PA | 301,698
People's Emergency Center Community Development Corporation | PA | 753,394
Commitee for Dignity and Fairness for the Homeless Housing Development, Inc. (Dignity Housing) | PA | 30,569
Catholic Social Services | PA | 202,085
Volunteers of America Delaware Valley, Inc | PA | 154,317
People's Emergency Center | PA | 34,815
Family Planning Council | PA | 122,976
COMHAR, Inc | PA | 509,646
Impact Services Corporation | PA | 615,384
Project H.O.M.E | PA | 124,922
Horizon House, Inc | PA | 219,825
1260 Housing Development Corporation | PA | 192,351
City of Philadelphia Office of Supportive Housing | PA | 255,735
Episcopal Community Services | PA | 647,203
Friends Rehabilitation Program, Inc | PA | 157,368
The Philadelphia Veterans Multi-Service & Education Center | PA | 275,220
Pennsylvania Community Real Estate Corporation | PA | 810,288
Bethesda Project | PA | 113,820
1260 Housing Development Corporation | PA | 753,348
Achieve Ability | PA | 161,700
Women Against Abuse, Inc | PA | 181,225
Achieve Ability | PA | 210,000
People's Emergency Center | PA | 241,084
Horizon House, Inc | PA | 346,069
HELP USA | PA | 485,522
Travelers Aid Society of Philadelphia The Kirkbride Center | PA | 354,411
Resources For Human Development, Inc | PA | 483,819
Salvation Army | PA | 278,869
1260 Housing Development Corporation | PA | 67,686
Bethesda Project | PA | 160,900
Impact Services Corporation | PA | 268,304
1260 Housing Development Corporation | PA | 528,524
Overington House, Inc | PA | 225,963
Project H.O.M.E | PA | 772,564
Committee for Dignity and Fairness for the Homeless Housing Development, Inc | PA | 122,253
Associaion Puertorriquenos en Marcha, Inc. (APM) | PA | 149,711
Project H.O.M.E | PA | 1,432,200
1260 Housing Development Corporation | PA | 606,816
Project H.O.M.E | PA | 61,440
Project H.O.M.E | PA | 36,864
Project H.O.M.E | PA | 61,440
1260 Housing Development Corporation | PA | 187,440
People's Emergency Center | PA | 369,810
People's Emergency Center | PA | 496,362
City of Philadelphia Office of Supportive Housing | PA | 147,924
Drueding Center | PA | 1,081,414
Actions AIDS, Inc | PA | 152,677
City of Philadelphia Office of Supportive Housing | PA | 99,272
Actions AIDS, Inc | PA | 26,073
Valley Youth House Committee, Inc | PA | 497,322
1260 Housing Development Corporation | PA | 201,685
Dauphin County Mental Health/Mental Retardation | PA | 221,268
YWCA of Greater Harrisburg | PA | 176,188
YWCA of Greater Harrisburg | PA | 96,199
YWCA of Greater Harrisburg | PA | 241,893
Shalom House, Inc | PA | 76,605
YWCA of Greater Harrisburg | PA | 218,284
DELTA Housing, Inc | PA | 84,067
Dauphin County Mental Health/Mental Retardation | PA | 137,520
Family and Community Services of Delaware County | PA | 136,133
Delaware County Housing Authority | PA | 113,232
Delaware County Housing Authority | PA | 137,520
County of Delaware | PA | 205,800
Mental Health Association of South Eastern Pennsylvania | PA | 187,474
Community Action Agency of Delaware County, Inc | PA | 364,946
Wesley House Community Corporation, Inc | PA | 26,199
Community Action Agency of Delaware County, Inc | PA | 451,654
The Salvation Army, a New York Corporation | PA | 107,318
Catholic Social Services of Delaware County, Archdiocese of Philadelphia | PA | 92,400
Holcomb Behavioral Health Systems | PA | 133,923
Domestic Abuse Project of Delaware County, Inc | PA | 146,907
Horizon House | PA | 468,015
Horizon House | PA | 233,219
Family and Community Services of Delaware County, Inc | PA | 112,440
Catholic Social Services of Delaware County, Archdiocese of Philadelphia | PA | 107,609
Mental Health Association of South Eastern Pennsylvania | PA | 136,578
Commission on Economic Opportunity | PA | 260,819
Luzerne Intermediate Unit # 18 | PA | 63,210
Commission on Economic Opportunity | PA | 179,870
Domestic Violence Service Center, Inc | PA | 57,015
Wyoming Valley Catholic Youth Center | PA | 318,101
Housing Development Corporation of NEPA | PA | 97,856
Catholic Social Services | PA | 120,750
Catholic Social Services | PA | 88,200
Community Housing Services | PA | 92,209
Family Services of Montgomery County | PA | 181,692
Hedwig House, Inc | PA | 181,201
Indian Valley Housing Corporation | PA | 44,989
The Salvation Army, a New York Company | PA | 181,941
Montgomery County Community Action Development Commission | PA | 59,216
Montgomery County, PA. Office of MH/MR/D&A/BH | PA | 271,341
County of Montgomery, Pennsylvania | PA | 136,639
Mental Health Association of South Eastern Pennsylvania | PA | 186,635
Community Housing Services | PA | 116,539
Community Housing Services | PA | 44,982
Community Housing Services | PA | 113,761
The Salvation Army | PA | 206,215
The Salvation Army | PA | 95,485
Mental Health Association of South Eastern Pennsylvania | PA | 196,791
Horizon House, Inc | PA | 134,640
The Salvation Army, a New York Corporation | PA | 70,024
Human Services, Inc | PA | 112,907
Chester County | PA | 105,000
Human Services, Inc | PA | 100,000
Human Services, Inc | PA | 83,868
Chester County Opportunities Industrialization Center (OIC) | PA | 17,304
Chester County | PA | 44,593
Human Services, Inc | PA | 49,152
Holcomb, Inc | PA | 91,260
Gaudenzia, Inc | PA | 65,953
W.C. Atkinson Memorial Community Service Center, Inc | PA | 15,925
Domestic Violence Center of Chester County | PA | 87,174
Holcomb Behavioral Health Systems | PA | 114,424
Horizon House | PA | 263,340
Easy Does It, Inc | PA | 68,599
Berks Counseling Center, Inc | PA | 132,326
Berks Counseling Center, Inc | PA | 168,227
The Salvation Army, a New York Corporation | PA | 197,925
Berks Counseling Center, Inc | PA | 78,415
Berks Counseling Center, Inc | PA | 70,571
Easy Does It, Inc | PA | 32,592
The Salvation Army, a New York Corporation | PA | 172,238
Blair County Community Action Program | PA | 104,630
Commonwealth of Pennsylvania | PA | 242,200
Huntingdon House: A Program for Victims of Domestic Violence, Inc | PA | 80,214
PHiL Haven | PA | 352,412
Northern Cambria Community Development Corporation | PA | 534,817
Northern Cambria Community Development Corporation | PA | 153,627
Tableland Services, Inc | PA | 273,428
NHS Human Services of PA, Inc | PA | 202,629
Blair County Community Action Program | PA | 354,304
Shelter Services, Inc | PA | 202,179
Turning Point Interfaith Mission Inc | PA | 226,222
York County Human Services | PA | 122,063
Housing Authority of the County of Cumberland | PA | 687,600
New Visions, Inc | PA | 328,320
Lebanon County Human Services Community Action Partnership | PA | 52,468
Housing Authority of the City of York | PA | 499,500
Housing Authority of Centre County | PA | 64,224
Housing Authority of the County of Cumberland | PA | 333,804
County of Franklin | PA | 288,660
Maranatha | PA | 210,278
United Neighborhood Centers of Northeastern Pennsylvania | PA | 272,874
St. Joseph's Center | PA | 214,150
Catholic Social Services of the Diocese of Scranton, Inc | PA | 241,248
United Neighborhood Centers of Northeastern Pennsylvania | PA | 59,556
United Neighborhood Centers of Northeastern Pennsylvania | PA | 20,000
The Community Intervention Center of Lackawanna County | PA | 275,467
Catholic Social Services of the Diocese of Scranton, Inc | PA | 79,742
Catherine McAuley Center | PA | 227,400
United Neighborhood Centers of Northeastern Pennsylvania | PA | 210,763
The Program for Women and Families, Inc | PA | 110,408
Resources for Human Development | PA | 253,278
The Salvation Army, a New York Corporation | PA | 159,570
Valley Housing Development Corporation | PA | 241,252
Resources for Human Development | PA | 319,646
Housing Development Corporation NEPA | PA | 272,174
Valley Youth House Committee, Inc | PA | 226,284
Bradford County Human Service Agency Unite # 2 | PA | 292,417
Valley Youth House Committee, Inc | PA | 241,672
Growth Horizons, Inc | PA | 201,558
Catholic Social Services of the Diocese | PA | 251,857
United Christian Ministries | PA | 90,403
Lehigh County Conference of Churches | PA | 168,236
Lehigh County Housing Authority | PA | 186,552
Community Action Committee of the Lehigh Valley, Inc | PA | 69,999
Fitzmaurice Community Services, Inc | PA | 130,807
Community Action Program of Lancaster County | PA | 242,717
Lancaster City Housing Authority | PA | 122,592
Lancaster County Housing Authority | PA | 314,520
Tabor Community Services, Inc | PA | 255,348
County of Lancaster | PA | 307,684
The Lodge, Inc. of Pensylvania | PA | 161,860
Tabor Community Services, Inc | PA | 206,932
Lancaster County Redevelopment Authority | PA | 206,932
MidPenn Legal Services | PA | 39,999
Buck County Housing Group | PA | 160,407
Penndel Mental Health Center, Inc | PA | 71,670
Penn Foundation, Inc | PA | 66,272
Penndel Mental Health Center, Inc | PA | 81,958
American Red Cross Lower Bucks Center | PA | 80,905
Bucks County | PA | 108,797
ACTION Housing Inc | PA | 457,700
Western Psychiatric Institute and Clinic, UPMC | PA | 77,148
Western Psychiatric Institute and Clinic, UPMC | PA | 684,170
Sisters Place Inc | PA | 727,836
House of the Crossroads | PA | 103,770
Goodwill Industries of Pittsburgh | PA | 129,405
Alle-Kiski Area Hope Center, Inc | PA | 631,675
Miryam's | PA | 326,446
Veterans Leadership Program of Western PA, Inc | PA | 431,052
North Hills Affordable Housing dba HEARTH | PA | 293,040
Sisters Place, Inc | PA | 267,983
Community Human Services Corporation | PA | 341,550
Hosanna House Inc | PA | 616,419
Bethlehem Haven of Pittsburgh | PA | 502,572
Operation Safety Net/Mercy Behavioral Health | PA | 68,355
Primary Care Health Services/First Step Recovery Homes, Inc | PA | 128,632
YWCA Greater Pittsburgh | PA | 183,725
YMCA of Greater Pittsburgh | PA | 1,027,200
House of the Crossroads | PA | 88,542
Mercy Behavioral Health | PA | 1,503,900
Alle-Kiski Area HOPE Center, Inc | PA | 26,300
Women's Center & Shelter of Greater Pittsburgh | PA | 20,934
Women's Center & Shelter of Greater Pittsburgh | PA | 29,989
Allegheny Valley Association of Churches, Inc | PA | 27,384
Miryam's | PA | 64,890
Northside Common Ministries | PA | 212,100
Bethlehem Haven of Pittsurgh | PA | 173,158
Womansplace | PA | 392,923
Western Psychiatric Institute and Clinic, UPMC | PA | 310,860
Mercy Behavioral Health/Operation Safety Net | PA | 298,740
House of the Crossroads | PA | 244,332
Womanspace East, Inc | PA | 571,407
Pittsburgh AIDS Task Force | PA | 215,683
YWCA of Greater Pittsburgh | PA | 754,545
Pittsburgh AIDS Task Force | PA | 159,716
Community Human Services Corporation | PA | 350,870
East End Cooperative Ministry | PA | 198,756
Connect, Inc | PA | 143,027
Indiana County Community Action Program, Inc | PA | 13,393
Try-Again Homes Inc | PA | 164,509
Connect, Inc | PA | 140,607
Armstrong County Community Action Agency | PA | 121,083
Victim Outreach Intervention Center | PA | 292,898
Connect, Inc | PA | 131,683
Indiana County Community Action Program, Inc | PA | 80,802
The Lighthouse Foundation | PA | 39,274
Connect, Inc | PA | 92,020
Connect, Inc | PA | 197,919
Community Action Southwest | PA | 36,228
Westmoreland Human Opportunities, Inc | PA | 496,713
Fayette County Community Action Agency, Inc | PA | 65,695
Mechling Shakley Veterans Center | PA | 28,551
Butler County Community Action & Development | PA | 161,013
Residential Recovery Services | PA | 97,776
The Lighthouse Foundation | PA | 222,892
Washington Women's Shelter, Inc | PA | 222,356
City Mission—Living Stones, Inc | PA | 108,582
County of Butler | PA | 81,681
Greene County | PA | 181,440
Westmoreland Human Opportunities, Inc | PA | 51,408
Indiana County Community Action Program, Inc | PA | 31,896
Armstrong County Community Action Agency | PA | 124,412
Connect, Inc | PA | 119,668
Victim Outreach Intervention Center | PA | 87,178
Connect, Inc | PA | 64,755
Westmoreland Human Opportunities, Inc | PA | 458,000
Housing Authority of the County of Butler | PA | 141,750
Fayette County Community Action Agency, Inc | PA | 62,982
City Mission—Living Stones, Inc | PA | 133,417
Armstrong County Community Action Agency | PA | 109,430
County of Washington | PA | 61,765
DuBois Housing Authority Consortium | PA | 156,204
Crawford County Mental Awareness Program, Inc. (CHAPS) | PA | 91,784
Crawford County Mental Awareness Program, Inc. (CHAPS) | PA | 365,400
Lawrence County Social Services, Inc | PA | 42,593
Clearfield-Jefferson MH/MR Program | PA | 264,713
Lawrence County Social Services, Inc | PA | 229,950
DuBois Housing Authority Consortium | PA | 83,436
Crawford County Coalition on Housing Needs, Inc | PA | 122,277
Lawrence County Social Services, Inc | PA | 380,809
Harbor Point Housing, Inc | PA | 79,758
Supportive Services, Inc | PA | 389,910
Supportive Services, Inc | PA | 164,430
Supportive Services, Inc | PA | 175,561
Housing Authority of the County of Beaver | PA | 55,597
City Mission of the Evangelical Churches of Erie DBA: Erie City Mission | PA | 355,630
Mercy Center for Women | PA | 492,320
Erie United Methodist Alliance, Inc | PA | 341,712
Stairways Behavioral Health | PA | 240,000
Erie County Care Management | PA | 123,420
Erie County Care Management | PA | 281,100
Casa Nuestra gente | PR | 300,354
Office for the Integral Development of Women Municipality of San Juan | PR | 314,286
Lucha Contra el SIDA, Inc | PR | 180,963
Corporacion La Fondita de Jesus | PR | 657,040
Estancia Corazon, Inc | PR | 286,739
Corporacion La Fondita de Jesus | PR | 281,667
Fundacion Chana and Samuel Levis, Inc | PR | 258,760
Casa Protegida Julia de Burgos | PR | 405,460
Municipality of San Juan—Family and Community Department | PR | 330,768
Lucha Contra el SIDA, Inc | PR | 77,086
Hogar Del Buen Pastor, Inc | PR | 237,609
Corporacion La Fondita de Jesus | PR | 181,333
Municipality of San Juan—Family and Community Department | PR | 298,030
La Tierra Prometida, Inc | PR | 267,579
Estancia Corazon Inc | PR | 99,855
Estancia Corazon Inc | PR | 197,803
Coalicion Occidental Pro Bienestar del Deambulante, Inc | PR | 73,500
Proyecto Amor Que Sana, Inc | PR | 73,500
Fundacion de Desarrollo Comunal de P.R., Inc. “FUNDESCO” | PR | 154,795
Corporacion Milagros del Amor | PR | 226,500
Casa del Peregrino Aguadilla, Inc | PR | 58,250
Fundacion de Desarrollo Comunal de P.R., Inc. “FUNDESCO” | PR | 135,494
Estancia Corazon Inc | PR | 232,745
OMNI Development Corporation | RI | 612,248
House of Hope Community Development Corporation | RI | 113,101
YWCA of Greater Rhode Island | RI | 47,563
Family Resource Community Action | RI | 34,048
Crossroads Rhode Island | RI | 94,530
Advent House | RI | 64,454
The Providence Center | RI | 174,999
Rhode Island Coalition of the Homeless | RI | 34,440
MAP Alcohol & Drug Rehabilitative Services, Inc | RI | 33,460
Amos House | RI | 131,791
Lucy's Hearth | RI | 18,480
Crossroads Rhode island | RI | 166,607
Blackstone Valley Advocacy Center | RI | 32,470
Urban League of Rhode Island | RI | 266,440
Amos House | RI | 81,900
RI Housing and Mortgage Finance Corporation | RI | 982,620
Advent House | RI | 39,025
Family Resources Community Action | RI | 130,455
Crossroads Rhode Island | RI | 32,976
Nickerson Community Center | RI | 123,856
Urban League of Rhode Island | RI | 186,991
Operation Stand Down Rhode Island | RI | 98,467
Newport County Community Mental Health Center | RI | 8,204
New Hope for Families Inc | RI | 11,810
Crossroads Rhode Island | RI | 136,120
Advent House | RI | 68,952
Advent House | RI | 28,040
Crossroads Rhode Island | RI | 33,956
The Providence Center | RI | 41,133
House of Hope Community Development Corporation | RI | 57,750
House of Hope Community Development Corporation | RI | 71,311
Washington Square Services Corp | RI | 103,217
Lucy's Hearth | RI | 23,423
Rhode Island Coalition for the Homeless | RI | 100,000
The Mental Health Association of Rhode Island | RI | 199,997
Advent House | RI | 27,842
Advent House | RI | 71,289
Weatbay Community Action, Inc | RI | 60,295
The House of Compassion | RI | 24,785
Operation Stand Down Rhode Island | RI | 74,898
Crossroads Rhode Island | RI | 157,286
The Urban League of RI | RI | 31,656
Advent House | RI | 49,856
Sstar of Rhode Island | RI | 126,231
Welcome House of South County | RI | 67,926
Rhode Island Housing | RI | 524,400
East Bay Community Action Program | RI | 60,897
Crisis Ministries | SC | 45,765
Crisis Ministries | SC | 63,000
Charleston County Human Services Commission | SC | 104,053
The Housing Authority of the City of Charleston | SC | 84,064
The Housing Authority of the City of Charleston | SC | 41,834
Crisis Ministries | SC | 202,272
Crisis Ministries | SC | 155,505
Charleston County Human Services Commission | SC | 151,827
Family Services, Inc | SC | 286,144
The Access Network, Inc | SC | 200,152
The Access Network, Inc | SC | 104,181
Crisis Ministries | SC | 81,484
Project Care | SC | 321,133
Upstate Homeless Coalition of S.C | SC | 184,305
Upstate Homeless Coalition of S.C | SC | 158,818
Upstate Homeless Coalition of South Carolina | SC | 108,756
Spartanburg County | SC | 160,164
Greenville Area Interfaith Hospitality Network | SC | 21,775
Homes of Hope, Inc | SC | 55,866
Rosewood House of Recovery, Inc | SC | 57,085
Rosewood House of Recovery, Inc | SC | 178,488
Meg's House | SC | 218,656
Sunbelt Human Advancement Resources, Inc (SHARE) | SC | 98,673
Sunbelt Human Advancement Resources, Inc (SHARE) | SC | 545,315
Upstate Homeless Coalition of S.C | SC | 642,151
Upstate Homeless Coalition of S.C | SC | 133,875
Project Care | SC | 166,667
Mental Health Association of Greenville County Housing Corporation | SC | 126,720
Sistercare, Inc | SC | 232,995
The Housing Authority of the City of Columbia, South Carolina | SC | 206,989
The Housing Authority of the City of Columbia, South Carolina | SC | 434,476
Sistercare, Inc | SC | 274,100
United Way of Kershaw County | SC | 166,200
Samaritan House of Orangeburg, SC | SC | 101,813
Healing Properties, Inc | SC | 36,750
Mental Illness Recovery Center, Inc. (MIRCI) | SC | 259,812
Healing Properties, Inc | SC | 137,291
Waccamaw Housing Inc | SC | 193,596
Wateree Community Actions, Inc (WCAI) | SC | 121,150
Home Alliance, Inc | SC | 44,780
Any Length Recovery, Inc | SC | 78,746
Home Alliance, Inc | SC | 68,606
Home Alliance, Inc | SC | 98,650
Williamsburg Enterprise Community Commission, Inc | SC | 127,190
The Naomi Project Inc | SC | 68,865
Pee Dee Community Actions Agency (PDCAA) | SC | 179,098
Lighthouse Ministries | SC | 60,294
Pee Dee Community Actions Agency (PDCAA) | SC | 48,879
Pee Dee Coalition Against Domestic and Sexual Assault | SC | 68,691
Sioux Falls HR Commission | SD | 116,508
Lewis & Clark Behavioral Health Services, Inc | SD | 253,956
Inter-Lakes Community Action Partnership (ICAP) | SD | 138,330
South Dakota Housing Development Authority | SD | 121,330
Sioux Falls HR Commission | SD | 156,708
Cumberland Apartments II United Partnership | SD | 500,416
Partnership for Families, Children and Adults | TN | 29,376
Chattanooga Church Ministries, Inc | TN | 94,827
Chattanooga Homeless Coalition | TN | 35,952
Chattanooga Church Ministries, Inc | TN | 105,874
The Council for Alcohol and Drug Abuse Services, Inc. (CADAS) | TN | 41,637
City of Chattanooga | TN | 179,748
The Council for Alcohol and Drug Abuse Services, Inc. (CADAS) | TN | 211,254
Chattanooga Church Ministries, Inc | TN | 90,873
Chattanooga Homeless Coalition | TN | 106,033
The Council for Alcohol and Drug Abuse Services, Inc. (CADAS) | TN | 27,433
Fortwood Center, Inc | TN | 138,649
Alpha Omega Veterans Services, Inc | TN | 232,636
Whitehaven Southwest Mental Health Center | TN | 107,173
Catholic Charities, Inc | TN | 296,565
Catholic Charities, Inc | TN | 495,350
The Salvation Army | TN | 385,192
Catholic Charities, Inc | TN | 455,355
Metropolitan Inter-Faith Association (MIFA) | TN | 497,674
Memphis Family Shelter | TN | 197,886
Metropolitan Inter-Faith Association (MIFA) | TN | 153,615
AGAPE Child & Family Services, Inc | TN | 193,040
Family Tree Destiny Center | TN | 239,117
Partners for the Homeless | TN | 37,572
Alpha Omega Veterans Services, Inc | TN | 165,900
Behavioral Health Initiatives, Inc | TN | 78,750
Lowenstein House, Inc | TN | 172,507
Tennessee Mental Health Consumers' Association | TN | 435,593
Family Services of the Mid South | TN | 309,924
Whitehaven Southwest Mental Health Center | TN | 13,537
Alpha Omega Veterans Services, Inc | TN | 93,424
Cocaine & Alcohol Awareness Program, Inc | TN | 168,748
The Regional Medical Center (The Med) | TN | 135,686
Child and Family Tennessee | TN | 268,697
Catholic Charities | TN | 114,102
Knoxville-Knox County Community Action Committee | TN | 90,096
Knoxville-Knox County Community Action Committee | TN | 139,050
The Salvation Army, A Georgia Corporation | TN | 207,648
Knoxville-Knox County Community Action Committee | TN | 104,580
Helen Ross McNabb Center | TN | 65,972
The University of Tennessee | TN | 138,895
Positively Living | TN | 70,204
Buffalo Valley, Inc | TN | 24,850
Buffalo Valley, Inc | TN | 73,047
Buffalo Valley, Inc | TN | 131,539
Hope House, Maury County Center Against Domestic Violence | TN | 73,330
Buffalo Valley, Inc | TN | 49,575
Buffalo Valley, Inc | TN | 72,392
Buffalo Valley, Inc | TN | 228,444
Buffalo Valley, Inc | TN | 445,650
Buffalo Valley, Inc | TN | 442,659
Buffalo Valley, Inc | TN | 71,375
YWCA of Nashville and Middle Tennessee | TN | 347,541
Oasis Center, Inc | TN | 309,000
Renewal House, Inc | TN | 29,307
Renewal House, Inc | TN | 31,136
Safe Haven Family Shelter | TN | 56,910
Metropolitan Government of Nashville-Davidson County | TN | 58,161
Operation Stand Down Nashville, Inc | TN | 50,000
Urban Housing Solutions | TN | 168,705
The Salvation Army, A Georgia Corporation | TN | 229,565
Campus for Human Development | TN | 325,500
Campus for Human Development | TN | 133,000
Metropolitan Development and Housing Agency | TN | 1,344,084
Matthew 25 | TN | 37,041
Campus for Human Development | TN | 18,385
Park Center | TN | 39,960
Park Center | TN | 124,080
Catholic Charities of East Tennessee, Inc | TN | 82,602
Genesis House, Inc | TN | 63,849
Upper Cumberland Development District | TN | 19,202
Jackson Housing Authority | TN | 55,956
Wo/Men's Resource and Rape Assistance Program | TN | 71,661
T.A.M.B. of Jackson | TN | 79,098
Carey Counseling Center, Inc | TN | 98,595
Jackson Area Council on Alcoholism and Drug Dependency | TN | 69,035
Jackson Area Council on Alcoholism and Drug Dependency | TN | 76,091
Damascus Road, Inc | TN | 65,352
Pathways of Tennesse, Inc | TN | 110,040
Damascus Road, Inc | TN | 110,468
Professional Care Services of West TN, Inc | TN | 105,840
Quinco Community Mental Health Centers, Inc | TN | 98,595
Carey Counseling Center, Inc | TN | 24,150
Kingsport Housing & Redevelopment Authority | TN | 82,009
Interfaith Hospitality Network of Greater Johnson City | TN | 163,216
Catholic Charities of East Tennessee | TN | 63,840
Fairview Housing Management Corporation | TN | 117,759
The Salvation Army, a Georgia Corporation | TN | 70,099
Appalachian Regional Coalition on Homelessness | TN | 102,952
Appalachian Regional Coalition on Homelessness | TN | 19,252
Legal Aid of Tennessee Inc | TN | 16,870
Murfreesboro Housing Authority | TN | 97,968
Murfreesboro Housing Authority | TN | 106,200
Murfreesboro Housing Authority | TN | 47,166
Greenhouse Ministries | TN | 79,154
Domestic Violence Program, Inc | TN | 63,579
East Tennessee Development District | TN | 65,026
City of San Antonio | TX | 138,909
City of San Antonio | TX | 268,738
The Salvation Army | TX | 216,048
Family Violence Prevention Services, Inc | TX | 97,937
City of San Antonio | TX | 350,936
Family Violence Prevention Services Inc | TX | 194,864
Girls and Boys Town of San Antonio | TX | 287,509
The Center for Health Care Services | TX | 364,296
The Center for Health Care Services | TX | 385,718
American GI Forum National Veterans Outreach Program, Inc | TX | 210,000
American GI Forum National Veterans Outreach Program, Inc | TX | 387,273
The Salvation Army | TX | 136,335
The Salvation Army | TX | 91,975
Family Violence Prevention Services Inc | TX | 89,460
San Antonio AIDS Foundation | TX | 57,583
Family Violence Prevention Services Inc | TX | 61,448
House of Hope | TX | 142,344
Family Violence Prevention Services, Inc | TX | 131,250
City of San Antonio | TX | 392,021
The Salvation Army | TX | 172,094
Hope Action Care (HAC) | TX | 147,894
Seton Home | TX | 15,059
Seton Home | TX | 74,746
American GI Forum National Veterans Outreach Program, Inc | TX | 352,562
The Salvation Army, A Georgia Corp | TX | 137,776
San Antonio Metropolitan Ministry, Inc | TX | 614,811
San Antonio Metropolitan Ministry, Inc | TX | 104,596
The Salvation Army, a Georgia Corporation | TX | 181,144
The Salvation Army, a Georgia Corporation | TX | 128,394
Coastal Bend Alcohol and Drug Rehab Center, dbs Charlie's Place | TX | 142,569
Nueces County Mental Health & Mental Retardation Community Center | TX | 119,706
Goodwill Industries of South Texas, Inc | TX | 142,720
Wesley Community Center | TX | 134,971
Corpus Christi Metro Ministries | TX | 160,255
Austin Travis County Mental Health Retardation Center | TX | 78,532
Austin Travis County Mental Health Retardation Center | TX | 348,007
Caritas of Austin | TX | 303,216
The Housing Authority of the City of Austin | TX | 350,112
The Housing Authority of Travis County | TX | 487,656
Travis County Domestic Violence & Sexual Assault Survival Center d/b/a/ SafePlace | TX | 792,857
Caritas of Austin | TX | 196,492
The Salvation Army, A Georgia Corporation | TX | 738,081
Youth and Family Alliance, Inc., dba Life Works | TX | 141,082
Front Steps | TX | 94,669
Youth and Family Alliance | TX | 211,213
Mid-Coast Family Services, Inc | TX | 161,091
Perpetual Help Home, Inc | TX | 33,111
Central Dallas Food Pantry, d/b/a Central Dallas Ministries, Inc | TX | 1,245,908
Family Gateway, Inc | TX | 150,701
New Beginning Center, Inc | TX | 188,949
PWA Coalition of Dallas, Inc. d/b/a AIDS Services of Dallas | TX | 371,712
Central Dallas Food Pantry, d/b/a Central Dallas Ministries, Inc | TX | 182,546
Promise House, Inc | TX | 219,538
Promise House, Inc | TX | 265,848
The Family Place | TX | 976,567
ABC Behavioral Health, L.L.C | TX | 56,883
Dallas Metrocare Services | TX | 271,702
LifeNet Community Behavioral Healthcare | TX | 23,095
LifeNet Community Behavioral Healthcare | TX | 1,262,605
Housing Crisis Center | TX | 518,400
PWA Coalition of Dallas, Inc., d/b/a AIDS Services of Dallas | TX | 574,389
City of Dallas | TX | 1,403,812
ABC Behavioral Health, L.L.C | TX | 374,776
Operation Relief Center, Inc | TX | 86,160
City of Dallas | TX | 879,960
Dallas Jewish Coalition dba Vogel Alcove Childcare Center for the Homeless | TX | 166,441
City of Dallas | TX | 458,760
Legal Aid of NorthWest Texas | TX | 142,932
Housing Crisis Center | TX | 103,194
Shared Housing Center, Inc | TX | 90,510
Housing Crisis Center | TX | 188,007
City of Dallas | TX | 250,598
City of Dallas | TX | 149,912
Family Gateway, Inc | TX | 42,439
Family Gateway, Inc | TX | 198,018
Brighter Tomorrows, Inc | TX | 176,360
Rainbow Days, Inc | TX | 257,237
Dental Health Programs, Inc. dba Community Dental Care | TX | 146,632
Community Council of Greater Dallas | TX | 183,648
Housing Crisis Center | TX | 182,252
The Salvation Army, A Georgia Corporation—Dallas | TX | 146,465
SafeHaven of Tarrant County | TX | 27,981
Presbyterian Night Shelter of Tarrant County | TX | 449,236
Legal Aid of North West Texas | TX | 14,879
Housing Authority of the City of Fort Worth | TX | 1,931,064
Arlington Life Shelter | TX | 63,471
Samaritan House | TX | 223,856
Safe Haven of Tarrant County | TX | 22,963
Cornerstone Assistance Network | TX | 175,162
Tarrant County ACCESS for the Homeless | TX | 149,805
Housing Authority of the City of Arlington | TX | 253,783
Volunteers of America Texas, Inc | TX | 116,717
Cornerstone Assistance Network | TX | 102,942
Texas Inmate Services, Inc | TX | 109,468
Day Resource Center for the Homeless | TX | 108,889
SaveHaven of Tarrant County | TX | 53,347
MHMR of Tarrant County—Homeless Services | TX | 120,090
MHMR of Tarrant County—Homeless Services | TX | 286,291
Tarrant County Samaritan Housing, Inc | TX | 85,617
Housing Authority of the City of Arlington | TX | 110,916
Housing Authority of the City of Fort Worth | TX | 276,720
Housing Authority of the City of Fort Worth | TX | 796,860
YWCA | TX | 102,414
MHMR of Tarrant County—Homeless Services | TX | 70,984
Dental Health for Arlington, Inc | TX | 26,433
Safe Haven of Tarrant County | TX | 108,491
Community Enrichment Center, Inc | TX | 212,888
Tarrant County | TX | 1,067,602
All Church Home for Children, Inc | TX | 113,922
The Salvation Army, A Georgia Corporation | TX | 322,293
Grapevine Relief And Community Exchange | TX | 24,237
Presbyterian Night Shelter of Tarrant County | TX | 181,077
Tarrant County | TX | 9,958
MHMR of Tarrant County—Homeless Services | TX | 93,536
Housing Authority of the City of Fort Worth | TX | 1,598,064
Arlington Life Shelter | TX | 88,091
Volunteers of America Texas, Inc | TX | 165,601
El Paso MHMR | TX | 203,982
La Posada Home, Inc | TX | 89,026
La Posada Home Inc | TX | 53,544
Rescue Mission of El Paso, Inc | TX | 46,796
Opportunity Center for the Homeless | TX | 249,966
Young Women's Christian Association of El Paso | TX | 229,729
Opportunity Center for the Homeless | TX | 78,720
Opportunity Center for the Homeless | TX | 124,908
Centro San Vicente | TX | 139,999
Opportunity Center for the Homeless | TX | 115,135
El Paso Coalition for the Homeless | TX | 107,902
Opportunity Center for the Homeless | TX | 171,922
El Paso MHMR | TX | 176,761
Opportunity Center for the Homeless | TX | 132,865
El Paso Center for Children, Inc | TX | 145,577
Young Women's Christian Association of El Paso | TX | 176,657
Young Women's Christian Association of El Paso | TX | 92,783
Opportunity Center for the Homeless | TX | 161,091
Opportunity Center for the Homeless | TX | 108,551
Family Abuse Center, Inc | TX | 84,000
Abilene Hope Haven, Inc | TX | 185,577
Texas Homeless Network | TX | 348,715
Denton County Mental Health Mental Retardation Center | TX | 264,318
HOPE, Inc | TX | 33,232
AIDS Services of North Texas | TX | 237,732
Legal Aid of NorthWest Texas | TX | 56,638
City of Amarillo | TX | 172,128
Sabine Valley Center | TX | 123,480
Sabine Vallety Center | TX | 263,712
Mental Health Mental Retardation Authority of Harris County | TX | 350,466
Fort Bend County Women's Center, Inc | TX | 650,140
Catholic Charities of the Archdiocese of Galveston-Houston | TX | 53,776
Covenant House Texas | TX | 195,604
HELP Development Corporation | TX | 439,456
Career and Recovery Resources, Inc | TX | 117,111
Coalition for the Homeless of Houston/Harris County, Inc | TX | 185,491
SEARCH | TX | 330,673
SEARCH | TX | 404,233
The Women's Home | TX | 126,717
The Bridge Over Troubled Waters, Inc | TX | 398,955
Catholic Charities of the Archdiocese of Galveston-Houston | TX | 127,190
The Salvation Army, a Georgia Corporation | TX | 349,188
Martin Luther King Jr. Community Center | TX | 160,656
Fort Bend County Women's Center | TX | 1,062,600
SEARCH | TX | 96,520
Bay Area Homeless Services, Inc | TX | 468,010
Houston Area Women's Center | TX | 283,080
Star of Hope Mission | TX | 734,400
Covenant House Texas | TX | 199,328
AIDS Foundation Houston, Inc | TX | 141,429
United States Veterans Initiative | TX | 110,441
Volunteers of America Texas, Inc | TX | 212,069
Star of Hope Mission | TX | 207,406
SEARCH | TX | 301,200
AIDS Foundation Houston, Inc | TX | 75,816
AIDS Foundation Houston, Inc | TX | 33,696
AIDS Foundation Houston, Inc | TX | 955,912
DePelchin Children's Center | TX | 357,141
Harmony House, Inc | TX | 133,571
Health Care for Homeless Veterans | TX | 173,208
MHMRA | TX | 281,232
MHMRA | TX | 430,200
MHMRA | TX | 457,200
MHMRA | TX | 505,440
AIDS Foundation Houston, Inc | TX | 170,400
Volunteers of America Texas, Inc | TX | 144,360
Star of Hope Mission | TX | 307,406
Houston Area Women's Center | TX | 610,858
MHMRA | TX | 505,440
Families Under Urban and Social Attack, Inc | TX | 93,838
SEARCH | TX | 146,160
Health Care for Homeless Veterans | TX | 256,980
Northwest Assistance Ministries | TX | 601,460
SEARCH | TX | 390,429
The Women's Home | TX | 477,692
Northwest Assistance Ministries | TX | 491,562
Volunteers of America Texas, Inc | TX | 122,496
SEARCH | TX | 113,520
SEARCH | TX | 92,196
Bay Area Turning Point, Inc | TX | 107,210
Harmony House, Inc | TX | 358,470
The Bridge Over Troubled Waters, Inc | TX | 448,211
Bonita House of Hope | TX | 487,280
Career and Recovery Resources, Inc | TX | 423,968
Wellsprings, Inc | TX | 154,587
Temenos Community Development Corporation | TX | 1,267,331
Families Under Urban and Social Attack, Inc | TX | 86,223
Montrose Counseling Center, Inc | TX | 102,344
The Bridge Over Troubled Waters, Inc | TX | 88,727
Houston Area Women's Center | TX | 76,656
The Bridge Over Troubled Waters, Inc | TX | 382,734
Wellsprings, Inc | TX | 165,014
Twin City Mission, Inc | TX | 161,288
Twin City Mission, Inc | TX | 61,363
Twin City Mission, Inc | TX | 32,332
Montgomery County Emergency Assistance, Inc | TX | 146,312
Port Cities Rescue Mission Ministries | TX | 175,037
Buckner Children and Family Services, Inc | TX | 35,016
Triangle AIDS Network | TX | 89,004
Family Services of Southeast Texas, Inc | TX | 150,977
Some Other Place, Inc | TX | 111,888
South East Texas Regional Planning Commission | TX | 23,008
The Gulf Coast Center | TX | 199,781
The Gulf Coast Center | TX | 120,271
Women Opting for More Affordable Housing Now, Inc. (WOMAN, Inc.) | TX | 104,168
The Gulf Coast Center | TX | 147,926
Resource and Crisis Center of Galveston County | TX | 220,943
The Gulf Coast Center | TX | 216,499
The Gulf Coast Center | TX | 173,695
Family Support Center | UT | 203,280
Housing Authority of the County of Salt Lake | UT | 699,396
The Road Home | UT | 333,627
Housing Authority of the County of Salt Lake | UT | 375,300
Volunteers of America, Utah | UT | 299,250
Utah Nonprofit Housing Corporation | UT | 104,742
The Road Home | UT | 76,486
Valley Mental Health, Inc | UT | 157,635
Tooele County Housing Authority | UT | 562,560
Family Support Center | UT | 193,124
Utah Department of Community and Culture | UT | 95,345
Housing Authority of Salt Lake City | UT | 156,720
Family Support Center | UT | 98,532
Housing Authority of Salt Lake City | UT | 333,564
Volunteers of America, Utah | UT | 356,087
Utah Department of Community and Culture | UT | 30,050
Iron County Care and Share | UT | 37,229
Four Corner Community Behavioral Health, Inc | UT | 144,729
Davis Citizens' Coalition Against Violence | UT | 70,750
Homeless Veterans Fellowship | UT | 33,216
Cedar City Housing Authority | UT | 13,913
Davis Family Support Center, Inc. DBA Family Connection Center | UT | 172,074
Bear River Association of Governments | UT | 48,383
Mountainlands Community Housing Trust | UT | 72,000
Community Action Services | UT | 228,653
Center for Women and Children in Crisis | UT | 16,252
Utah Department of Community and Culture | UT | 8,242
Utah Department of Community and Culture | UT | 17,500
Housing Authority of Utah County | UT | 152,328
Provo City Housing Authority | UT | 123,336
Community Action Services | UT | 69,852
Provo City Housing Authority | UT | 21,397
Mountainlands Community Housing Trust | UT | 101,639
Emergency Shelter, Inc | VA | 146,011
Homeward | VA | 26,745
Virginia Supportive Housing | VA | 61,832
St. Joseph's Villa | VA | 272,000
Daily Planet, Inc | VA | 192,257
Daily Planet, Inc | VA | 204,479
Emergency Shelter, Inc | VA | 99,960
Hillard House | VA | 262,917
Virginia Supportive Housing | VA | 955,452
Daily Planet, Inc | VA | 189,105
City of Richmond | VA | 60,480
Emergency Shelter, Inc | VA | 190,846
Emergency Shelter, Inc | VA | 346,500
St. Joseph's Villa | VA | 155,749
The Planning Council | VA | 50,533
Residential Options, Inc | VA | 661,479
ForKids, Inc | VA | 149,166
St. Columba Ecumenical Ministries, Inc | VA | 130,179
Barrett Haven, Inc | VA | 144,913
CANDII, Inc | VA | 173,510
ForKids, Inc | VA | 103,804
CANDII, Inc | VA | 164,183
ForKids, Inc | VA | 125,038
ForKids, Inc | VA | 242,043
Norfolk Community Services Board | VA | 517,956
Norfolk Community Services Board | VA | 71,531
YWCA of South Hampton Roads | VA | 38,516
City of Roanoke | VA | 137,669
Council of Community Services | VA | 80,232
City of Roanoke | VA | 159,408
Trust House | VA | 56,552
Total Action Against Poverty in Roanoke Valley | VA | 265,261
Judeo-Christian Outreach Center | VA | 126,000
Virginia Beach Community Development Corporation | VA | 371,407
Community Alternatives Management Group, Inc | VA | 346,666
Community Alternatives Management Group, Inc | VA | 20,288
Samaritan House | VA | 36,887
Samaritan House | VA | 115,340
Community Alternatives Management Group, Inc | VA | 11,713
Community Alternatives Management Group, Inc | VA | 67,336
Virginia Beach Community Development Corporation | VA | 54,075
Virginia Beach Community Development Corporation | VA | 75,084
Community Alternatives Management Group, Inc | VA | 111,014
Region Ten Community Services Board | VA | 143,946
AIDS/HIV Services Group | VA | 60,581
The Planning Council | VA | 54,090
Avalon: A Center for Women and Children | VA | 64,454
LINK | VA | 249,989
Transitions | VA | 137,874
Hampton-Newport News Community Services Board | VA | 143,321
LINK | VA | 314,709
CANDII, Inc | VA | 265,640
Hampton-Newport News Community Services Board | VA | 84,352
Hampton-Newport News Community Services Board | VA | 115,476
Portsmouth Area Resources Coalition, Inc | VA | 102,312
City of Portsmouth | VA | 69,013
City of Portsmouth | VA | 372,984
Oasis Commission on Social Ministry of Portsmouth/Chesapeake | VA | 250,069
Portsmouth Volunteers for the Homeless, Inc | VA | 55,650
Portsmouth Area Resources Coalition, Inc | VA | 120,421
Portsmouth Christian Outreach Ministries | VA | 79,309
Portsmouth Area Resources Coalition, Inc | VA | 53,550
Lynchburg Neighborhood Development Foundation | VA | 64,748
Rush Lifetime Homes, Inc | VA | 21,357
Miriam's House, Inc | VA | 87,252
Rush Lifetime Homes, Inc | VA | 51,100
The Salvation Army, a Georgia Corporation | VA | 106,213
Urban League | VA | 70,350
Waynesboro Redevelopment and Housing Authority | VA | 48,450
Our House Families | VA | 52,034
Our House Families | VA | 57,762
Northwestern Community Services | VA | 220,128
Danville Redevelopment and Housing Authority | VA | 48,450
Community Resource Center | VA | 42,000
Commonwealth of Virginia | VA | 60,855
Arlington Street People's Assistance Network, Inc | VA | 164,986
Arlington Street People's Assistance Network (ASPAN) | VA | 100,112
Arlington-Alexandria Coalition for the Homeless, Inc | VA | 217,245
Community Residences, Inc | VA | 244,468
Arlington Street People's Assistance Network, Inc | VA | 205,460
Pathway Homes, Inc | VA | 291,788
Fairfax County Department of Family Services | VA | 424,715
Fairfax-Falls Church Community Services Board | VA | 253,332
Kurdish Human Rights Watch, Inc | VA | 426,356
Pathway Homes, Inc | VA | 135,673
Pathway Homes, Inc | VA | 216,780
Pathway Homes, Inc | VA | 157,788
Pathway Homes, Inc | VA | 307,314
Christian Relief Services Charities, Inc | VA | 24,885
Homestretch, Inc | VA | 146,699
Christian Relief Services Charities, Inc | VA | 120,676
Pathway Homes, Inc | VA | 143,904
Pathway Homes, Inc | VA | 463,488
Pathway Homes, Inc | VA | 415,824
PRS, Inc | VA | 168,450
Christian Relief Services Charities, Inc | VA | 30,943
Christian Relief Services Charities, Inc | VA | 76,220
New Hope Housing, Inc | VA | 58,850
New Hope Housing, Inc | VA | 219,043
Christian Relief Services Charities, Inc | VA | 24,885
United Community Ministries, Inc | VA | 134,731
Fairfax County Department of Family Services | VA | 440,271
NOVACO Inc | VA | 111,492
County of Loudoun | VA | 61,910
County of Loudoun | VA | 106,429
Sheltered Homes of Alexandria | VA | 89,288
Sheltered Homes of Alexandria | VA | 77,748
Alexandria Community Services Board | VA | 98,150
Alexandria Community Services Board | VA | 29,813
Alexandria Community Services Board | VA | 131,643
Arlington-Alexandria Coalition for the Homeless | VA | 139,440
Prince William County Department of Social Services | VA | 143,585
Good Shepherd Housing Foundation | VA | 138,641
Benedictine Sister of Virginia—Transitional Housing BARN, Inc | VA | 36,230
Methodist Training & Outreach Center, Inc | VI | 168,424
Rutland County Housing Coalition | VT | 37,247
Town of Brattleboro | VT | 185,604
Vermont State Housing Authority | VT | 338,100
Vermont State Housing Authority | VT | 282,912
Northeast Kingdom Community Action, Inc | VT | 71,642
Northeast Kingdom Community Action, Inc | VT | 55,939
State of Vermont, Department of Health, Division of Mental Health | VT | 30,000
Northwestern Counseling & Support Services | VT | 122,136
Bennington Coalition for the Homeless | VT | 62,733
Addison County Community Action Group | VT | 145,045
Twin Pine Housing Trust | VT | 38,535
Northeast Kingdom Human Services | VT | 90,455
Central Vermont Community Land Trust | VT | 8,427
Clara Martin Center | VT | 148,815
Windham County Homeless Outreach | VT | 55,524
Good Neighbors | VT | 69,904
Champlian Housing Trust | VT | 63,636
Champlain Valley Office of Economic Opportunity | VT | 222,440
Howard Center | VT | 181,146
Champlain Housing Trust | VT | 98,460
Howard Center | VT | 200,073
El Centro de la Raza | WA | 17,603
Development Association of the Goodwill Baptist Church | WA | 56,642
King County Department of Community and Human Services—MHCADSD | WA | 624,566
AIDS Housing of Washington | WA | 387,191
Plymouth Housing Group | WA | 752,172
Housing Authority of the City of Seattle | WA | 9,896
Plymouth Housing Group | WA | 161,784
Plymouth Housing Group | WA | 934,848
Plymouth Housing Group | WA | 3,330,792
City of Seattle Human Services Department | WA | 303,975
Low Income Housing Institute | WA | 116,397
City of Seattle Human Service's Department | WA | 838,688
Solid Ground of Washington | WA | 158,620
Public Health—Seattle and King County | WA | 696,732
YWCA of Seattle-King County-Snohomish County | WA | 42,540
Low Income Housing Institute (LIHI) | WA | 105,000
Downtown Emergency Service Center | WA | 500,000
Consejo Counseling and Referral Service | WA | 74,613
Archdiocesan Housing Authority | WA | 201,576
YWCA of Seattle-King County-Snohomish County | WA | 85,614
Safe Haven Associates/Community Psychiatric Clinic | WA | 75,171
Low Income Housing Institute (LIHI) | WA | 299,047
YouthCare | WA | 548,598
Seattle Vietnam Veterans Leadership Program | WA | 23,579
Downtown Emergency Service Center | WA | 925,000
Workforce Development Council of Seattle King County | WA | 1,149,355
YouthCare | WA | 181,306
Archdioceasan Housing Authority | WA | 25,422
YouthCare | WA | 151,856
New Beginnings for Battered Women and Their Children | WA | 326,054
Eastside Domestic Violence Program | WA | 251,744
Seattle Vietnam Veterans Leadership Program | WA | 63,258
Plymouth Housing Group | WA | 492,048
Solid Ground | WA | 507,350
Hopelink | WA | 57,320
The Compass Center | WA | 26,284
Archdiocesan Housing Authority | WA | 105,422
Archdiocesan Housing Authority | WA | 197,739
Safe Haven Associates/Community Psychiatric Clinic | WA | 348,156
Downtown Emergency Service Center | WA | 443,471
Kent Youth and Family Services | WA | 38,134
Hopelink | WA | 121,939
Child Care Resources | WA | 529,095
Salvation Army,William Booth Center | WA | 77,838
YWCA of Seattle-King County-Snohomish County | WA | 29,683
Salvation Army,William Booth Center | WA | 253,988
United Indians of All Tribes Foundation | WA | 343,565
Auburn Youth Resources | WA | 123,286
City of Seattle Human Services Department | WA | 99,750
Downtown Emergency Service Center | WA | 586,377
The Church Council of Greater Seattle | WA | 80,680
Multi-Service Center | WA | 26,724
Low Income Housing Institute | WA | 36,141
Low Income Housing Institute | WA | 398,285
Youth and Outreach Services | WA | 121,545
YWCA of Seattle-King County-Snohomish County | WA | 167,867
Development Association of the Goodwill Baptist Church | WA | 28,596
Church Council of Greater Seattle | WA | 57,278
Public Health—Seattle & King County | WA | 545,049
YWCA of Seattle-King County-Snohomish County | WA | 114,450
Friends of Youth | WA | 123,062
City of Seattle Human Service's Department | WA | 80,012
YWCA of Seattle-King County-Snohomish County | WA | 78,878
Urban League of Metropolitan Seattle | WA | 84,906
Catholic Community Services | WA | 140,085
YouthCare | WA | 105,602
Community Psychiatric Clinic | WA | 168,153
Sisyphus II Housing Project—Agape Unlimited | WA | 34,392
Benton Franklin Community Action Committee | WA | 360,738
Housing Authority of Thurston County | WA | 133,921
Sun Community Service | WA | 35,466
Olympic Community Action Programs | WA | 135,599
The Family Support Center of South Sound | WA | 54,810
Mason County Shelter | WA | 98,209
Benton Franklin Community Action Committee | WA | 123,116
Skagit County Community Action | WA | 50,054
Washington Gorge Action Programs | WA | 108,095
Opportunity Council | WA | 84,130
Serenity House of Clallam County | WA | 142,951
Northwest Youth Services | WA | 261,785
Opportunity Council | WA | 140,868
Serenity House of Clallam County | WA | 138,769
Columbia Gorge Housing Authority | WA | 27,768
Community Action Center | WA | 19,152
Bellingham Housing Authority | WA | 199,152
Benton & Franklin Counties Department of Human Services | WA | 82,308
Sisyphus II Housing Project—Agape Unlimited | WA | 95,820
Benton Franklin Community Action Committee | WA | 71,739
Housing Authority of the City of Bremerton | WA | 132,450
Blue Mountain Action Council | WA | 139,322
Sisphus II Housing Project—Agape Unlimited | WA | 43,380
Low Income Housing Institute | WA | 56,103
Bread and Roses of Olympia | WA | 38,745
Kitsap County Consolidated Housing Authority | WA | 24,938
Walla Walla County | WA | 66,101
Compass Health | WA | 33,330
Housing Authority City of Kelso | WA | 81,396
Lewis County Shelter | WA | 106,775
WA State Department of Community, Trade and Economic Development | WA | 143,082
Low Income Housing Institute | WA | 31,500
Joint City of Republic-Ferry County Housing Authority | WA | 36,316
Bellingham Housing Authority | WA | 774,336
Community Youth Services | WA | 149,623
HopeSource | WA | 45,399
City of Spokane | WA | 279,010
Catholic Charities Spokane | WA | 137,568
Volunteers of America | WA | 58,584
YWCA of Spokane | WA | 76,526
Volunteers of America | WA | 27,739
Transitional Programs for Women | WA | 88,698
Transitional Programs for Women | WA | 106,003
Transitional Programs for Women (dba Transitions) | WA | 38,803
YWCA or Spokane | WA | 43,419
Catholic Charities dba House of Charity | WA | 117,195
Community Detox Services of Spokane | WA | 56,251
Catholic Charities Spokane | WA | 42,621
City of Spokane | WA | 311,976
YWCA of Spokane | WA | 62,396
YWCA of Spokane | WA | 27,536
Spokane Neighborhood Action Programs (SNAP) | WA | 27,799
Catholic Charities | WA | 67,164
Volunteers of America | WA | 77,175
Catholic Charities dba House of Charity | WA | 14,917
YWCA of Spokane | WA | 93,161
Spokane Neighborhood Action Programs (SNAP) | WA | 165,064
Volunteers of America | WA | 103,692
Volunteers of America | WA | 85,391
Salem Arms | WA | 83,333
Salem Arms | WA | 15,491
Volunteers of America | WA | 51,424
Tacoma Rescue Mission | WA | 34,106
Metropolitan Development Council | WA | 52,320
Pierce County | WA | 259,033
Exodus Housing | WA | 136,799
Tacoma Rescue Mission | WA | 59,886
Metropolitan Development Council | WA | 340,986
Pierce County | WA | 167,339
Pierce County | WA | 143,477
Pierce County | WA | 89,568
Pierce County | WA | 45,150
Lakewood Area Shelter Association | WA | 29,512
Faith Homes | WA | 94,036
Network Services | WA | 24,324
Helping Hand House | WA | 66,539
Pierce County | WA | 89,527
Helping Hand House | WA | 164,453
Greater Mental Healthcare | WA | 158,052
Compass Health | WA | 23,609
Catholic Community Services WW-NE | WA | 35,338
Catholic Community Service WW-NW | WA | 70,368
Housing Hope | WA | 81,523
YWCA of Seattle-King County-Snohomish County | WA | 72,245
Snohomish County center for Battered Women | WA | 109,270
YWCA of Seattle-King County-Snohomish County | WA | 43,635
Compass Health | WA | 57,259
Cocoon House | WA | 163,659
YWCA of Seattle-King County-Snohomish County | WA | 100,099
The Salvation Army | WA | 174,610
Archdiocesan Housing Authority | WA | 161,705
Housing Hope | WA | 164,820
Housing Hope | WA | 29,828
YWCA of Seattle-King County-Snohomish County | WA | 112,752
Housing Hope | WA | 80,315
Compass Health | WA | 41,393
Compass Health | WA | 189,598
Volunters of America Western Washington | WA | 73,780
YWCA of Seattle-King County-Snohomish County | WA | 2,233,944
Spokane Neighborhood Action Programs | WA | 131,517
Spokane Neighborhood Action Programs | WA | 133,279
Spokane Housing Ventures | WA | 39,243
Triumph Treatment Services | WA | 158,792
Yakima Neighborhood Health Services | WA | 48,188
Yakima Neighborhood Health Services | WA | 10,815
Central Washington Comprehensive Mental Health | WA | 69,191
Next Step Housing | WA | 46,835
Community Services NW | WA | 25,000
Share | WA | 61,267
Columbia River Mental Health Services | WA | 25,431
Community Services NW | WA | 89,396
Housing Authority of the City of Vancouver | WA | 33,166
Housing Authority of the City of Vancouver | WA | 81,419
Council for the Homeless | WA | 72,697
YW Housing | WA | 92,365
YW Housing | WA | 164,102
Columbia River Mental Health Services | WA | 96,983
Housing Partnership of the Fox Cities | WI | 51,513
West Central Wisconsin Community Action Agency, Inc | WI | 427,008
Hebron House of Hospitality, Inc | WI | 116,535
CAP Services, Inc | WI | 105,025
Family Services of Northeast Wisconsin | WI | 156,988
American Red Cross in Southeastern Wisconsin | WI | 163,901
ADVOCAP, Inc | WI | 108,768
Starting Points, Inc | WI | 499,864
Richard's Place, Inc | WI | 144,841
Starting Points, Inc | WI | 116,007
Couleecap, Inc | WI | 249,237
Richard's Place, Inc | WI | 112,555
Kenosha Human Development Services, Inc | WI | 137,832
Wisconsin Department of Commerce/Division of Housing and Community Development | WI | 230,748
Western Dairyland Economic Opportunity Council, Inc | WI | 264,926
ADVOCAP, Inc | WI | 197,658
North Central Community Action Program, Inc | WI | 82,526
North Central Community Action Program, Inc | WI | 32,461
North Central Community Action Program, Inc | WI | 60,247
Young Women's Christian Association of La Crosse, Wisconsin | WI | 72,643
Northwest Wisconsin Community Services Agency, Inc | WI | 52,605
Kenosha Human Development Services, Inc | WI | 123,879
Coomunity Action Inc. of Rock and Walworth Counties | WI | 508,552
Starting Points, Inc | WI | 179,374
Central Wisconsin Community Action Council, Inc | WI | 256,902
Lakeshore CAP, Inc | WI | 117,663
Wisconsin Department of Commerce/Division of Housing and Community Development | WI | 364,486
Legal Action of Wisconsin | WI | 111,300
ADVOCAP, Inc | WI | 158,583
Women and Children's Horizon's Inc | WI | 215,142
Coommunity Action Inc. of Rock and Walworth Counties | WI | 124,476
Forward Service Corporation | WI | 393,740
Northwest Wisconsin Community Services Agency, Inc | WI | 111,123
Housing Partnership of the Fox Cities | WI | 176,577
Couleecap, Inc | WI | 359,804
Northwest Wisconsin Community Services Agency, Inc | WI | 37,920
Community Action Coalition for South Central Wisconsin, Inc | WI | 161,644
Community Advocates, Inc | WI | 344,544
Health Care for the Homeless of Milwaukee | WI | 82,834
Center for Veterans Issues, Ltd | WI | 415,911
Walker's Point Youth and Family Center | WI | 20,273
Community Advocates, Inc | WI | 84,000
Hope House of Milwaukee, Inc | WI | 30,679
Community Advocates, Inc | WI | 120,514
Center for Veterans Issues, Ltd | WI | 132,021
YWCA of Greater Milwaukee | WI | 82,969
The Guest House of Milwaukee, Inc | WI | 180,454
Meta House, Inc | WI | 130,385
Meta House, Inc | WI | 328,031
Milwaukee County Behavioral Health Division | WI | 2,607,084
Community Development Partners, Inc | WI | 85,714
Matt Talbot Recovery Center, Inc | WI | 235,625
Community Development Partners, Inc | WI | 103,410
American Red Cross in Southern Wisconsin | WI | 301,446
Community Relations—Social Development Commission | WI | 441,341
Hope House of Milwaukee, Inc | WI | 579,715
Meta House, Inc | WI | 121,092
YWCA of Greater Milwaukee | WI | 33,580
St. Catherine Residence, Inc | WI | 144,379
The Guest House of Milwaukee, Inc | WI | 105,878
The Guest House of Milwaukee, Inc | WI | 137,266
Hope House of Milwaukee, Inc | WI | 41,964
The Guest House of Milwaukee, Inc | WI | 420,000
Community Relations—Social Development Commission | WI | 196,230
Mercy Housing Lakefront | WI | 1,104,840
Hope House of Milwaukee, Inc | WI | 47,104
Milwaukee County Behavioral Health Division | WI | 416,016
My Home Your Home, Inc | WI | 183,547
The Guest House of Milwaukee, Inc | WI | 573,626
Health Care for the Homeless of Milwaukee | WI | 49,000
Walker's Point Youth and Family Center | WI | 175,508
The Salvation Army | WI | 31,474
Homeless Assistance Leadership Organization, Inc | WI | 57,127
Legal Action of Wisconsin, Inc | WI | 80,536
Center for Veterans Issues, Ltd | WI | 38,118
Homeless Assistance Leadership Organization, Inc | WI | 241,717
Catherine Marian Housing, Inc | WI | 55,053
Center for Veterans Issues, Ltd | WI | 94,686
Project New Life, CDC | WI | 149,810
Racine Vocational Ministry | WI | 30,088
Transitional Living Services | WI | 132,450
Transitional Living Services | WI | 112,234
Women's Resource Center of Racine, Inc | WI | 18,466
Family Service of Racine | WI | 51,968
Women's Resource Center of Racine, Inc | WI | 16,963
Housing Initiatives, Inc | WI | 123,390
The Salvation Army | WI | 42,500
Porchlight, Inc | WI | 162,742
Interfaith Hospitality Network of the Madison Area | WI | 366,002
Community Action Coalition for South Central Wisconsin, Inc | WI | 222,075
YWCA of Madison | WI | 54,995
Porchlight, Inc | WI | 50,768
Housing Initiatives, Inc | WI | 715,008
Tellurian UCAN, Inc | WI | 151,605
Legal Action of Wisconsin Inc | WI | 16,000
Tellurian UCAN, Inc | WI | 64,575
The Salvation Army | WI | 38,193
Housing Initiatives, Inc | WI | 11,659
Tellurian UCAN, Inc | WI | 249,165
Tellurian UCAN, Inc | WI | 55,749
Porchlight, Inc | WI | 343,028
Porchlight, Inc | WI | 111,373
Greater Wheeling Coalition for the Homeless, Inc | WV | 135,796
Greater Wheeling Coalition for the Homeless, Inc | WV | 11,200
Greater Wheeling Coalition for the Homeless, Inc | WV | 26,536
The Huntington West Virginia Housing Authority | WV | 37,495
The Huntington West Virginia Housing Authority | WV | 505,440
Prestera Center for Mental Health Services, Inc | WV | 392,540
The Huntington West Virginia Housing Authority | WV | 38,274
The Huntington West Virginia Housing Authority | WV | 308,952
Roark Sullivan Lifeway Center | WV | 279,171
Young Women's Christian Association of Charleston, WV | WV | 174,126
Religious Coalition for Community Renewal | WV | 72,513
Young Women's Christian Association of Charleston, WV | WV | 62,697
Kanawha Valley Collective Inc | WV | 14,000
Stop Abusive Family Enviroments, Inc. (SAFE) | WV | 135,799
Worthington Mental Health Services, Inc | WV | 56,976
WV Governor's Office Economic Opportunity | WV | 32,500
Women's Self Help Ctr., Inc. dba Self Help Ctr., Inc | WY | 97,665
Housing Authority—City of Casper | WY | 66,666
Council of Community Services, Inc | WY | 61,016
Community Action Partnership of Natrona Cty | WY | 112,455
Total | 1,327,573,959

[FR Doc. E8-21945 Filed 9-23-08; 8:45 am]

BILLING CODE 4210-67-P